DEPARTMENT OF HOUSING AND URBAN DEVELOPMENT

[Docket No. FR-5500-FA-34]

Announcement of Funding Awards for the Continuum of Care Program for Fiscal Year (FY) 2011

AGENCY: Office of the Assistant Secretary for Community Planning and Development, HUD.

ACTION: Announcement of funding awards.

SUMMARY: In accordance with section 102(a)(4)(C) of the Department of Housing and Urban Development Reform Act of 1989, this announcement notifies the public of past funding decisions made by the Department in a competition for funding under the FY2011 Notice of Funding Availability (NOFAs) for the Homeless Assistance Grants program. This announcement contains the names of the awardees and the amounts of the awards made available by HUD in FY2011.

FOR FURTHER INFORMATION CONTACT: Ann M. Oliva, Director, Office of Special Needs Assistance Programs, Office of Community Planning and Development, 451 7th Street SW., Room 7262, Washington, DC 20410-7000; telephone number 202-708-4300 (this is not a toll-free number). Hearing- and speech-impaired persons may access this number via TTY by calling the Federal Relay Service toll-free at 800-877-8339. For general information on this and other HUD programs, visit the HUD Web site at www.hud.gov or www.hudhre.info.

SUPPLEMENTARY INFORMATION: HUD's Homeless Assistance Grants provide federal support to one of the nation's most vulnerable populations while working to reduce overall homelessness and end chronic homelessness. Competitive Homeless Assistance Grants include the Supportive Housing Program, Shelter Plus Care, and the Section 8 Moderate Rehabilitation Single Room Occupancy Program, which are distributed through a competitive process called the Continuum of Care (CoC) in which federal funding is driven by the local decisionmaking. The CoC system is a community-based process that provides a coordinated housing and service delivery system that enables communities to plan for and provide a comprehensive response to homeless individuals and families. It is an inclusive process that is coordinated with nonprofit organizations, state and local government agencies, service providers, private foundations, faith-based organizations, law enforcement, local businesses, and homeless or formerly homeless persons.

The FY2011 awards announced in this Notice were selected for funding in the posted at http://archives.hud.gov/funding/2011/grpcoc.cfm. Applications were scored and selected for funding based on the selection criteria in the General Section and the CoC program section.

HUD awarded 7,889 competitive Homeless Assistance Grants totaling $1,674,959,117 for FY2011.

In accordance with section 102(a)(4)(C) of the Department of Housing and Urban Development Reform Act of 1989 (42 U.S.C. 3545), the Department is publishing the details of these funding grant announcements in Appendix A.

Dated: November 6, 2012.
Mark Johnston,
Assistant Secretary (Acting) for Community Planning and Development.

Appendix A

Continuum of Care Program Grant Awards From FY2011 Notice of Funding Availability
Applicant name | State | Award amount
Alaska Housing Finance Corporation | AK | $90,792
Alaska Housing Finance Corporation | AK | 90,372
Alaska Housing Finance Corporation | AK | 51,264
Alaska Housing Finance Corporation | AK | 11,542
Alaska Housing Finance Corporation | AK | 102,576
Alaska Housing Finance Corporation | AK | 290,232
Alaska Housing Finance Corporation | AK | 48,180
Alaska Housing Finance Corporation | AK | 117,492
Alaska Housing Finance Corporation | AK | 18,460
Alaska Housing Finance Corporation | AK | 18,397
Alaska Housing Finance Corporation | AK | 56,432
Alaska Housing Finance Corporation | AK | 208,404
Alaskan AIDS Assistance Association | AK | 104,665
Anchorage Community Mental Health Services, Inc | AK | 646,563
Anchorage Community Mental Health Services, Inc | AK | 203,464
Anchorage Housing Initiatives, Inc | AK | 84,578
Catholic Social Services | AK | 64,495
Covenant House Alaska | AK | 245,629
Interior Alaska Center for Non-Violent Living | AK | 50,965
Interior Alaska Center for Non-Violent Living | AK | 32,824
Municipality of Anchorage | AK | 107,625
Municipality of Anchorage | AK | 189,089
Rural Alaska Community Action Program, Inc | AK | 502,241
St. Vincent de Paul Society Diocesan Council Southeast Alaska | AK | 26,350
The LeeShore Center | AK | 73,791
Tundra Women's Coalition | AK | 28,212
Valley Residential Services, Inc | AK | 115,669
AIDS Alabama | AL | 262,903
AIDS Alabama | AL | 149,300
AIDS Alabama | AL | 186,873
Alabama Coalition Against Domestic Violence | AL | 128,638
Aletheia House | AL | 108,857
Aletheia House | AL | 314,705
City of Gadsden | AL | 29,297
City of Tuscaloosa | AL | 42,000
East Alabama Mental Health-Mental Retardation Board, Inc | AL | 382,353
First Light, Inc | AL | 86,068
First Light, Inc | AL | 504,376
First Light, Inc | AL | 82,368
First Stop, Inc | AL | 81,009
First Stop, Inc | AL | 123,839
First Stop, Inc | AL | 67,754
Housing First, Inc | AL | 90,284
Housing First, Inc | AL | 279,920
Housing First, Inc | AL | 409,834
Housing First, Inc | AL | 105,000
Housing First, Inc | AL | 479,261
Housing First, Inc | AL | 94,756
Housing First, Inc | AL | 86,100
Housing First, Inc | AL | 148,732
Housing First, Inc | AL | 120,860
Housing First, Inc | AL | 123,088
Housing First, Inc | AL | 163,077
Housing First, Inc | AL | 146,187
Housing First, Inc | AL | 78,178
Housing First, Inc | AL | 371,402
Housing First, Inc | AL | 123,060
Housing First, Inc | AL | 175,061
Housing First, Inc | AL | 160,019
Housing First, Inc | AL | 103,751
Housing First, Inc | AL | 120,861
Huntsville Housing Authority | AL | 305,268
Huntsville Housing Authority | AL | 53,760
Huntsville/North Alabama Project Applicant | AL | 56,393
Huntsville/North Alabama Project Applicant | AL | 58,856
Independent Living Resources of Greater Birmingham, Inc | AL | 26,460
Jefferson County Housing Authority | AL | 3,962,088
Jefferson-Blount-St. Clair Mental Health/Mental Retardation Authority | AL | 238,439
Life Time Resolutions | AL | 137,690
Lighthouse Counseling Center, Inc | AL | 181,414
Lighthouse Counseling Center, Inc | AL | 293,602
Lighthouse Counseling Center, Inc | AL | 59,902
Lighthouse Counseling Center, Inc | AL | 63,625
Lighthouse Counseling Center, Inc | AL | 197,854
Mental Health Center of North Central Alabama, Inc | AL | 131,593
Metropolitan Birmingham Services for the Homeless | AL | 138,600
Montgomery Area Family Violence Program Inc | AL | 138,606
Montgomery Area Family Violence Program Inc | AL | 164,652
Montgomery Area Mental Health Authority Inc | AL | 770,680
Pathways Inc | AL | 185,130
Pathways Inc | AL | 128,181
Pathways Inc | AL | 168,453
Safeplace, Inc | AL | 520,531
Sheffield Housing Authority | AL | 48,474
State of Alabama | AL | 1,080,420
State of Alabama | AL | 249,084
The Alabama Rural Coalition for the Homeless, Inc | AL | 493,348
The Cooperative Downtown Ministries | AL | 47,835
The Cooperative Downtown Ministries | AL | 126,426
The Cooperative Downtown Ministries | AL | 245,385
The Cooperative Downtown Ministries | AL | 146,917
The Cooperative Downtown Ministries | AL | 219,089
The SafeHouse of Shelby County, Inc | AL | 54,752
The Salvation Army Birmingham Area Command | AL | 159,973
The Salvation Army, A Georgia Corporation | AL | 69,087
The Tuscaloosa Housing Authority | AL | 90,792
The Tuscaloosa Housing Authority | AL | 102,840
The Tuscaloosa Housing Authority | AL | 62,856
The Tuscaloosa Housing Authority | AL | 209,520
University of Alabama at Birmingham | AL | 492,515
University of Alabama at Birmingham | AL | 250,510
Volunteer & Information Center, Inc | AL | 70,327
YWCA CENTRAL ALABAMA | AL | 83,867
YWCA CENTRAL ALABAMA | AL | 184,285
Arkansas Department of Human Services | AR | 379,956
Arkansas Department of Human Services | AR | 383,184
Arkansas Department of Human Services | AR | 26,112
Arkansas Department of Human Services | AR | 899,724
Bethlehem House, Inc | AR | 21,600
Bethlehem House, Inc | AR | 200,000
Black Community Developers, Inc | AR | 110,125
Black Community Developers, Inc | AR | 40,306
City of Pine Bluff | AR | 237,426
Committee Against Spouse Abuse | AR | 31,307
Delta Hills Continuum of Care | AR | 133,596
Delta Hills Continuum of Care | AR | 170,224
East Arkansas Continuum of Care | AR | 31,824
Economic and Nonprofit Solutions, Inc | AR | 50,000
Hot Spring County | AR | 206,880
Housing Authority of the City of Fayetteville, Arkansas | AR | 96,912
Housing Authority of the City of Fayetteville, Arkansas | AR | 43,104
Little Rock Community Mental Health Center | AR | 562,993
Little Rock Community Mental Health Center | AR | 96,088
Little Rock Community Mental Health Center | AR | 45,896
Little Rock Community Mental Health Center | AR | 287,729
Little Rock Community Mental Health Center | AR | 198,900
Little Rock Community Mental Health Center | AR | 99,210
Little Rock Community Mental Health Center | AR | 36,311
Little Rock Housing Authority | AR | 37,920
Next Step Day Room, Inc | AR | 400,000
Our House, Inc | AR | 162,568
Our House, Inc | AR | 36,370
Paragould Housing Authority | AR | 174,960
River City Ministry | AR | 68,331
River City Ministry | AR | 142,010
Seven Hills Homeless Center | AR | 354,510
Seven Hills Homeless Center | AR | 68,310
Seven Hills Homeless Center | AR | 20,412
The Darnell Brown Community Development Corporation | AR | 284,515
Women & Children First | AR | 93,058
Youth Bridge | AR | 93,485
A New Leaf, Inc | AZ | 58,878
A New Leaf, Inc | AZ | 510,688
ACHIEVE Human Services | AZ | 133,487
Area Agency on Aging, Region One | AZ | 60,735
Area Agency on Aging, Region One | AZ | 126,575
Area Agency on Aging, Region One | AZ | 63,064
Arizona Behavioral Health Corporation | AZ | 373,993
Arizona Behavioral Health Corporation | AZ | 687,027
Arizona Behavioral Health Corporation | AZ | 1,801,534
Arizona Behavioral Health Corporation | AZ | 70,456
Arizona Behavioral Health Corporation | AZ | 685,755
Arizona Behavioral Health Corporation | AZ | 903,424
Arizona Behavioral Health Corporation | AZ | 1,114,795
Arizona Behavioral Health Corporation | AZ | 938,788
Arizona Behavioral Health Corporation | AZ | 435,418
Arizona Behavioral Health Corporation | AZ | 519,019
Arizona Behavioral Health Corporation | AZ | 693,793
Arizona Behavioral Health Corporation | AZ | 202,030
Arizona Behavioral Health Corporation | AZ | 20,775
Arizona Department of Housing | AZ | 206,340
Arizona Department of Housing | AZ | 30,332
Arizona Department of Housing | AZ | 93,186
Arizona Department of Housing | AZ | 99,805
Arizona Department of Housing | AZ | 43,873
Arizona Department of Housing | AZ | 164,877
Arizona Department of Housing | AZ | 78,195
Arizona Department of Housing | AZ | 1,462,368
Arizona Department of Housing | AZ | 94,222
Arizona Department of Housing | AZ | 925,560
Arizona Department of Housing | AZ | 1,844,796
Arizona Department of Housing | AZ | 68,358
Arizona Department of Housing | AZ | 200,892
Arizona Department of Housing | AZ | 102,033
Arizona Department of Housing | AZ | 80,660
Arizona Department of Housing | AZ | 157,500
Arizona Department of Housing | AZ | 230,544
Arizona Department of Housing | AZ | 2,847,324
Arizona Department of Housing | AZ | 195,943
Arizona Department of Housing | AZ | 108,701
Arizona Department of Housing | AZ | 125,647
Arizona Department of Housing | AZ | 347,504
Arizona Department of Housing | AZ | 124,664
Arizona Department of Housing | AZ | 129,225
Arizona Department of Housing | AZ | 131,686
Arizona Department of Housing | AZ | 76,685
Arizona Department of Housing | AZ | 34,604
Arizona Department of Housing | AZ | 102,534
Arizona Department of Housing | AZ | 47,363
Arizona Department of Housing | AZ | 129,747
Arizona Department of Housing | AZ | 78,175
Arizona Department of Housing | AZ | 34,187
Arizona Department of Housing | AZ | 48,937
Arizona Housing, Inc | AZ | 78,663
Arizona Housing, Inc | AZ | 58,025
Catholic Charities Community Services | AZ | 24,039
Chicanos Por La Causa, Inc | AZ | 101,737
Chrysalis Shelter for Victims of Domestic Violence, Inc | AZ | 24,269
City of Tucson—Housing and Community Development Department—Community Development Division | AZ | 741,272
City of Tucson—Housing and Community Development Department—Community Development Division | AZ | 842,328
City of Tucson—Housing and Community Development Department—Community Development Division | AZ | 91,037
City of Tucson—Housing and Community Development Department—Community Development Division | AZ | 334,680
City of Tucson—Housing and Community Development Department—Community Development Division | AZ | 60,385
City of Tucson—Housing and Community Development Department—Community Development Division | AZ | 327,000
CODAC Behavioral Health Services | AZ | 171,443
CODAC Behavioral Health Services | AZ | 221,118
Community Bridges, Inc | AZ | 344,610
Community Information & Referral | AZ | 176,752
Community Information & Referral | AZ | 400,921
Community Partnership of Southern Arizona | AZ | 461,084
Compass Healthcare, Inc | AZ | 156,274
COPE Community Services, Inc | AZ | 222,646
Homeward Bound | AZ | 26,250
Homeward Bound | AZ | 313,761
Human Services Campus | AZ | 576,504
La Frontera Center, Inc | AZ | 425,148
Labor's Community Service Agency | AZ | 279,594
Lifewell Behavioral Wellness, Inc | AZ | 99,105
Native American Connections, Inc | AZ | 91,043
Native American Connections, Inc | AZ | 478,800
Native American Connections, Inc | AZ | 163,178
Native American Connections, Inc | AZ | 333,370
Native American Connections, Inc | AZ | 35,000
Old Pueblo Community Foundation | AZ | 68,391
Old Pueblo Community Foundation | AZ | 221,516
Our Family Services, Inc | AZ | 60,789
Phoenix Shanti Group | AZ | 34,599
Pima County | AZ | 221,935
Pima County | AZ | 461,425
Pima County | AZ | 387,476
Pima County | AZ | 428,470
Pima County CDNC | AZ | 181,089
Pima County CDNC | AZ | 434,713
Recovery Innovations of Arizona, Inc | AZ | 990,010
Save the Family Foundation of Arizona | AZ | 420,100
Save the Family Foundation of Arizona | AZ | 215,406
Sojourner Center | AZ | 417,763
Southern Arizona AIDS Foundation | AZ | 86,499
Southern Arizona AIDS Foundation | AZ | 87,783
Southern Arizona AIDS Foundation | AZ | 28,373
Southwest Behavioral Health | AZ | 205,977
The Primavera Foundation, Inc | AZ | 103,306
The Primavera Foundation, Inc | AZ | 112,486
The Salvation Army | AZ | 45,360
The Salvation Army | AZ | 73,080
Tumbleweed Center for Youth Development | AZ | 318,729
Tumbleweed Center for Youth Development | AZ | 214,429
Tumbleweed Center for Youth Development | AZ | 439,700
U.S. Veterans Initiative | AZ | 152,948
U.S. Veterans Initiative | AZ | 496,557
United Methodist Outreach Ministries | AZ | 201,671
United Methodist Outreach Ministries | AZ | 187,584
United Methodist Outreach Ministries | AZ | 391,238
United Methodist Outreach Ministries | AZ | 80,126
Women In New Recovery | AZ | 46,862
1736 Family Crisis Center | CA | 521,823
A Community of Friends | CA | 52,250
A Community of Friends | CA | 175,000
A Community of Friends | CA | 213,003
Abode Services | CA | 529,612
Abode Services | CA | 133,333
Abode Services | CA | 852,468
Affordable Housing Associates | CA | 36,665
Alameda County Allied Housing Program | CA | 35,490
Alameda County Housing and Community Development Department | CA | 520,380
Alameda County Housing and Community Development Department | CA | 184,771
Alameda County Housing and Community Development Department | CA | 384,582
Alameda County Housing and Community Development Department | CA | 1,048,752
Alameda County Housing and Community Development Department | CA | 44,122
Alameda County Housing and Community Development Department | CA | 687,732
Alameda County Housing and Community Development Department | CA | 463,680
Alameda County Housing and Community Development Department | CA | 181,335
Alameda County Housing and Community Development Department | CA | 140,904
Alameda County Housing and Community Development Department | CA | 79,800
Alameda County Housing and Community Development Department | CA | 192,266
Alameda County Housing and Community Development Department | CA | 42,170
Alameda County Housing and Community Development Department | CA | 157,189
Alameda County Housing and Community Development Department | CA | 4,334,112
Alameda County Housing and Community Development Department | CA | 1,090,393
Alameda County Housing and Community Development Department | CA | 288,876
Alliance Against Family Violence and Sexual Assault | CA | 350,980
Alpha Project for the Homeless | CA | 159,345
Amador-Tuolumne Community Action Agency | CA | 31,343
Amador-Tuolumne Community Action Agency | CA | 39,900
American Family Housing | CA | 419,662
American Family Housing | CA | 286,276
American Family Housing | CA | 315,478
Anaheim Supportive Housing for Senior Adults, Inc | CA | 139,020
Angels of Grace, Inc | CA | 93,000
Anka Behavioral Health | CA | 102,046
Anka Behavioral Health | CA | 155,027
Anka Behavioral Health | CA | 117,079
Anka Behavioral Health | CA | 447,373
Antelope Valley Domestic Violence Council | CA | 143,911
Arcata House | CA | 234,726
Arcata House | CA | 55,069
Ark of Refuge, Inc | CA | 208,502
Asian Pacific Women's Center | CA | 149,813
Aspiranet | CA | 94,959
AspiraNet | CA | 140,000
Berkeley Food and Housing Project | CA | 253,627
Berkeley Food and Housing Project | CA | 242,217
Berkeley Food and Housing Project | CA | 141,019
Bethany Services dba Bakersfield Homeless Center | CA | 176,881
Bethany Services dba Bakersfield Homeless Center | CA | 269,408
Bethany Services dba Bakersfield Homeless Center | CA | 97,000
Beyond Shelter | CA | 141,910
Bill Wilson Center | CA | 548,476
Bill Wilson Center | CA | 237,230
Bill Wilson Center | CA | 303,562
Bonita House, Inc | CA | 33,080
Buckelew Programs | CA | 196,698
Buckelew Programs | CA | 66,659
Buckelew Programs | CA | 164,490
Buckelew Programs | CA | 53,436
Buckelew Programs | CA | 170,040
Buckelew Programs | CA | 27,476
Building Opportunities for Self-Sufficiency | CA | 736,155
Building Opportunities for Self-Sufficiency | CA | 114,997
Building Opportunities for Self-Sufficiency | CA | 164,038
Building Opportunities for Self-Sufficiency | CA | 274,259
Building Opportunities for Self-Sufficiency | CA | 74,500
Building Opportunities for Self-Sufficiency | CA | 185,727
Building Opportunities for Self-Sufficiency | CA | 96,147
Butte County Dept. of Behavioral Health | CA | 65,656
Butte County Dept. of Behavioral Health | CA | 26,835
California Council for Veterans Affairs, Inc | CA | 136,216
California Veterans Assistance Foundation, Inc | CA | 271,459
Caminar | CA | 60,725
Caminar | CA | 48,547
Caminar | CA | 25,000
Catholic Charities | CA | 33,333
Catholic Charities CYO | CA | 138,794
Catholic Charities of Santa Clara County | CA | 351,351
Catholic Charities of Santa Clara County | CA | 420,880
Catholic Charities of Santa Clara County | CA | 459,444
Catholic Charities of Santa Clara County | CA | 378,173
Catholic Charities of the Diocese of Santa Rosa | CA | 74,963
Catholic Charities of the Diocese of Santa Rosa | CA | 80,424
Center for Domestic Peace | CA | 64,540
Center for Domestic Peace | CA | 55,642
Center for Human Rights and Constitutional Law, Inc | CA | 134,943
Center for Human Services | CA | 77,500
Center for Human Services | CA | 42,879
Center for Human Services | CA | 90,682
Center Point, Inc | CA | 42,210
Center Point, Inc | CA | 479,316
Central California Family Crisis Center, Inc | CA | 94,373
Central City Lutheran Mission | CA | 75,046
Central Coast HIV/AIDS Services | CA | 129,312
Champions Recovery Alternative Programs, Inc | CA | 106,314
Children's Crisis Center of Stanislaus County, Inc | CA | 90,000
City and County of San Francisco | CA | 83,892
City and County of San Francisco | CA | 1,003,320
City and County of San Francisco | CA | 646,584
City and County of San Francisco | CA | 54,792
City and County of San Francisco | CA | 405,888
City and County of San Francisco | CA | 326,832
City and County of San Francisco | CA | 544,044
City and County of San Francisco | CA | 584,712
City and County of San Francisco | CA | 960,180
City and County of San Francisco | CA | 167,220
City and County of San Francisco | CA | 368,765
City and County of San Francisco | CA | 918,528
City and County of San Francisco | CA | 125,849
City and County of San Francisco | CA | 133,194
City and County of San Francisco | CA | 752,787
City and County of San Francisco | CA | 111,480
City and County of San Francisco | CA | 356,083
City and County of San Francisco | CA | 300,385
City and County of San Francisco | CA | 352,051
City and County of San Francisco | CA | 74,661
City and County of San Francisco | CA | 324,384
City and County of San Francisco | CA | 222,960
City and County of San Francisco | CA | 891,840
City and County of San Francisco | CA | 178,200
City and County of San Francisco | CA | 327,747
City and County of San Francisco | CA | 103,470
City and County of San Francisco | CA | 1,114,800
City and County of San Francisco | CA | 731,472
City and County of San Francisco | CA | 232,146
City and County of San Francisco | CA | 1,160,895
City and County of San Francisco | CA | 268,078
City and County of San Francisco | CA | 113,436
City and County of San Francisco | CA | 662,940
City and County of San Francisco | CA | 944,783
City and County of San Francisco | CA | 377,713
City and County of San Francisco | CA | 130,729
City and County of San Francisco | CA | 200,664
City and County of San Francisco | CA | 89,136
City and County of San Francisco | CA | 177,146
City and County of San Francisco | CA | 86,844
City and County of San Francisco | CA | 238,255
City and County of San Francisco, Department of Public Health | CA | 677,348
City and County of San Francisco, Department of Public Health | CA | 503,963
City of Berkeley | CA | 127,344
City of Berkeley | CA | 123,900
City of Berkeley | CA | 1,964,016
City of Berkeley | CA | 457,908
City of Davis | CA | 47,326
City of Davis | CA | 106,752
City of Fremont | CA | 269,790
City of Glendale/Glendale Housing Authority | CA | 21,420
City of Glendale/Glendale Housing Authority | CA | 93,000
City of Glendale/Glendale Housing Authority | CA | 295,524
City of Glendale/Glendale Housing Authority | CA | 181,966
City of Glendale/Glendale Housing Authority | CA | 41,724
City of Glendale/Glendale Housing Authority | CA | 333,581
City of Glendale/Glendale Housing Authority | CA | 217,292
City of Glendale/Glendale Housing Authority | CA | 74,624
City of Glendale/Glendale Housing Authority | CA | 152,904
City of Glendale/Glendale Housing Authority | CA | 753,330
City of Glendale/Glendale Housing Authority | CA | 153,802
City of Glendale/Glendale Housing Authority | CA | 161,340
City of Long Beach | CA | 102,363
City of Long Beach | CA | 132,884
City of Long Beach | CA | 650,823
City of Long Beach | CA | 285,838
City of Long Beach | CA | 244,998
City of Long Beach | CA | 105,870
City of Long Beach | CA | 311,881
City of Long Beach | CA | 222,721
City of Long Beach | CA | 102,327
City of Long Beach | CA | 378,202
City of Long Beach | CA | 46,998
City of Long Beach | CA | 241,279
City of Long Beach | CA | 351,508
City of Long Beach | CA | 165,122
City of Long Beach | CA | 446,880
City of Long Beach | CA | 347,700
City of Long Beach | CA | 143,696
City of Long Beach | CA | 50,017
City of Long Beach | CA | 196,623
City of Long Beach | CA | 284,097
City of Long Beach | CA | 350,396
City of Long Beach | CA | 343,145
City of Long Beach | CA | 256,340
City of Long Beach | CA | 102,379
City of Long Beach | CA | 369,024
City of Long Beach | CA | 218,639
City of Long Beach | CA | 103,788
City of Long Beach | CA | 182,128
City of Long Beach | CA | 45,178
City of Long Beach | CA | 52,209
City of Long Beach | CA | 50,085
City of Long Beach | CA | 220,638
City of Long Beach | CA | 166,896
City of Oakland | CA | 1,829,618
City of Oakland | CA | 259,824
City of Oakland | CA | 245,146
City of Oakland | CA | 699,770
City of Oceanside | CA | 146,702
City of Oxnard | CA | 55,384
City of Oxnard | CA | 129,515
City of Oxnard | CA | 13,490
City of Pomona | CA | 162,154
City of Pomona Housing Authority | CA | 965,052
City of Santa Monica Housing Authority | CA | 1,741,632
City of Santa Monica Housing Authority | CA | 491,791
City of Santa Monica Housing Authority | CA | 380,556
City of Santa Monica Housing Authority | CA | 77,868
City of Woodland | CA | 177,343
Clinica Sierra Vista, Inc | CA | 93,903
Coalition of Homeless Services Providers | CA | 70,875
Colette's Children's Home | CA | 163,898
Colette's Children's Home | CA | 163,898
Colette's Children's Home | CA | 137,882
Colette's Children's Home | CA | 127,309
Colette's Children's Home | CA | 157,278
Committee on the Shelterless | CA | 75,000
Committee on the Shelterless | CA | 29,744
Committee on the Shelterless | CA | 110,300
Committee on the Shelterless | CA | 16,000
Committee on the Shelterless | CA | 78,359
Community Action Agency of Butte County, Inc | CA | 53,946
Community Action Agency of Butte County, Inc | CA | 105,000
Community Action Agency of Butte County, Inc | CA | 45,880
Community Action of Napa Valley | CA | 27,531
Community Action Partnership of Madera Shunammite Place | CA | 175,107
Community Action Partnership of San Bernardino County | CA | 250,158
Community Action Partnership of Sonoma County | CA | 40,624
Community Action Partnership of Sonoma County | CA | 107,000
Community Awareness & Treatment Services, Inc | CA | 344,497
Community Development Commission of Mendocino County | CA | 46,608
Community Development Commission of Mendocino County | CA | 1,391,700
Community Housing and Shelter Services | CA | 95,313
Community Housing and Shelter Services | CA | 88,247
Community Housing and Shelter Services | CA | 68,341
Community Housing Partnership | CA | 155,836
Community HousingWorks | CA | 63,000
Community HousingWorks | CA | 104,559
Community HousingWorks | CA | 43,557
Community Human Services | CA | 128,133
Community Resource Center | CA | 55,000
Community Services & Employment Training, Inc | CA | 569,203
Community Support Network | CA | 40,842
Community Technology Alliance | CA | 151,926
Community Technology Alliance | CA | 89,985
Community Technology Alliance | CA | 303,716
Community Working Group | CA | 43,100
Compass Family Services | CA | 291,909
Contra Costa Health Services | CA | 138,517
Contra Costa Health Services | CA | 283,096
Contra Costa Health Services | CA | 501,273
Contra Costa Health Services | CA | 261,505
Contra Costa Health Services | CA | 173,377
Contra Costa Health Services | CA | 172,153
CORA | CA | 225,375
County of Los Angeles Department of Children and Family Services | CA | 197,621
County of Los Angeles Department of Children and Family Services | CA | 89,062
County of Los Angeles Department of Children and Family Services | CA | 384,676
County of Los Angeles Department of Children and Family Services | CA | 274,400
County of Los Angeles, Housing Authority | CA | 138,036
County of Los Angeles, Housing Authority | CA | 1,453,536
County of Los Angeles, Housing Authority | CA | 2,939,760
County of Los Angeles, Housing Authority | CA | 180,804
County of Los Angeles, Housing Authority | CA | 434,100
County of Los Angeles, Housing Authority | CA | 1,980,120
County of Los Angeles, Housing Authority | CA | 464,664
County of Los Angeles, Housing Authority | CA | 1,599,108
County of Los Angeles, Housing Authority | CA | 735,756
County of Los Angeles, Housing Authority | CA | 346,896
County of Los Angeles, Housing Authority | CA | 549,504
County of Los Angeles, Housing Authority | CA | 1,599,420
County of Los Angeles, Housing Authority | CA | 262,644
County of Los Angeles, Housing Authority | CA | 1,738,500
County of Los Angeles, Housing Authority | CA | 665,364
County of Los Angeles, Housing Authority | CA | 184,512
County of Los Angeles, Housing Authority | CA | 331,980
County of Los Angeles, Housing Authority | CA | 1,248,252
County of Los Angeles, Housing Authority | CA | 285,072
County of Los Angeles, Housing Authority | CA | 312,720
County of Los Angeles, Housing Authority | CA | 321,168
County of Napa | CA | 19,950
County of Napa | CA | 125,794
County of Napa | CA | 13,500
County of Nevada | CA | 109,244
County of Sacramento Housing Authority | CA | 4,096,320
County of Sacramento Housing Authority | CA | 158,976
County of San Diego | CA | 201,264
County of San Diego | CA | 146,256
County of San Diego | CA | 599,268
County of San Diego | CA | 159,768
County of San Luis Obispo | CA | 55,000
County of San Luis Obispo | CA | 110,263
County of San Luis Obispo | CA | 60,000
County of San Luis Obispo | CA | 211,395
County of San Luis Obispo | CA | 473,981
County of San Luis Obispo | CA | 48,091
County of Santa Cruz Health Services Agency | CA | 67,559
County of Santa Cruz Health Services Agency | CA | 361,339
County of Ventura Human Services Agency | CA | 49,085
County of Ventura Human Services Agency | CA | 163,795
County of Ventura Human Services Agency | CA | 217,276
County of Ventura Human Services Agency | CA | 31,214
Covenant House California | CA | 129,736
Crisis House, Inc | CA | 445,011
Crisis House, Inc | CA | 189,081
Department of Human Assistance | CA | 81,746
Department of Human Assistance | CA | 154,345
Department of Human Assistance | CA | 312,328
Department of Human Assistance | CA | 178,849
Department of Human Assistance | CA | 154,110
Department of Human Assistance | CA | 100,396
Department of Human Assistance | CA | 275,838
Department of Human Assistance | CA | 256,032
Department of Human Assistance | CA | 316,033
Department of Human Assistance | CA | 499,037
Department of Human Assistance | CA | 362,022
Department of Human Assistance | CA | 327,869
Department of Human Assistance | CA | 99,959
Department of Human Assistance | CA | 128,148
Department of Human Assistance | CA | 497,726
Department of Human Assistance | CA | 229,107
Department of Human Assistance | CA | 259,830
Department of Human Assistance | CA | 226,000
Department of Human Assistance | CA | 312,138
Department of Human Assistance | CA | 89,932
Department of Human Assistance | CA | 3,061,636
Department of Human Assistance | CA | 123,496
Department of Human Assistance | CA | 314,738
Department of Human Assistance | CA | 102,107
Department of Human Assistance | CA | 110,250
Department of Human Assistance | CA | 398,509
Department of Human Assistance | CA | 187,714
Domestic Violence Solutions for Santa Barbara County | CA | 76,219
Eden Investments, Inc | CA | 79,240
El Dorado County Human Services—Community Services Division | CA | 13,339
Eli Home Second Step | CA | 524,275
Emergency Housing Consortium of Santa Clara County | CA | 53,747
Emergency Housing Consortium of Santa Clara County | CA | 93,866
Emergency Housing Consortium of Santa Clara County | CA | 252,722
Episcopal Community Services | CA | 509,328
Episcopal Community Services | CA | 557,110
Fairfield Suisun Community Action Council | CA | 62,816
Fairfield Suisun Community Action Council | CA | 186,290
Faithworks Community Coalition | CA | 17,823
Families Forward | CA | 132,941
Families Forward | CA | 73,819
Families Forward | CA | 425,000
Families In Transition of Santa Cruz County, Inc | CA | 181,158
Families In Transition of Santa Cruz County, Inc | CA | 182,448
Family Assistance Ministries | CA | 122,388
Family Services of Tulare County | CA | 80,342
Family Supportive Housing, Inc | CA | 97,368
Family Supportive Housing, Inc | CA | 211,231
Family Supportive Housing, Inc | CA | 46,036
Family Supportive Housing, Inc | CA | 201,927
Filipino American Service Group, Inc | CA | 190,449
Flood Bakersfield Ministries, Inc | CA | 101,997
Ford Street Project | CA | 73,816
Frazee Community Center | CA | 26,250
Fred Finch Youth Center | CA | 651,460
Fresno County Economic Opportunities Commission | CA | 707,880
Fresno County Economic Opportunities Commission | CA | 288,978
Fresno County Economic Opportunities Commission | CA | 180,569
Fresno County Economic Opportunities Commission | CA | 585,863
Friendship Shelter, Inc | CA | 68,136
Fullerton Interfaith Emergency Service | CA | 252,000
Garden Park Apartments Community (GPAC) | CA | 219,516
Generate Hope | CA | 200,000
Global One Development Center | CA | 391,125
Goodwill One Stop | CA | 863,257
Gramercy Housing Group | CA | 210,960
Greater Bakersfield Legal Assistance, Inc | CA | 120,044
Greater Richmond Interfaith Program | CA | 95,372
Greater Richmond Interfaith Program | CA | 73,424
Harbor Interfaith Services, Inc | CA | 127,673
Homeless Services Center | CA | 142,591
Homes For Life Foundation | CA | 72,067
Homes For Life Foundation | CA | 337,589
Homeward Bound of Marin | CA | 326,216
Homeward Bound of Marin | CA | 197,531
Homeward Bound of Marin | CA | 50,148
Homeward Bound of Marin | CA | 31,153
Homeward Bound of Marin | CA | 15,394
House of Prayer Gospel Outreach Ministries, Inc | CA | 317,770
Housing Authority City of Fresno | CA | 135,000
Housing Authority City of Fresno | CA | 622,752
Housing Authority City of Fresno HMIS Expansion | CA | 75,000
Housing Authority City of Fresno Shelter Plus Care I | CA | 168,348
Housing Authority City of Fresno Shelter Plus Care III | CA | 302,232
Housing Authority of Contra Costa County | CA | 56,784
Housing Authority of Contra Costa County | CA | 428,508
Housing Authority of Contra Costa County | CA | 3,090,048
Housing Authority of Contra Costa County | CA | 218,196
Housing Authority of the City of Los Angeles | CA | 230,640
Housing Authority of the City of Los Angeles | CA | 467,868
Housing Authority of the City of Los Angeles | CA | 582,936
Housing Authority of the City of Los Angeles | CA | 328,392
Housing Authority of the City of Los Angeles | CA | 230,640
Housing Authority of the City of Los Angeles | CA | 161,448
Housing Authority of the City of Los Angeles | CA | 973,560
Housing Authority of the City of Los Angeles | CA | 2,257,728
Housing Authority of the City of Los Angeles | CA | 444,888
Housing Authority of the City of Los Angeles | CA | 150,612
Housing Authority of the City of Los Angeles | CA | 330,168
Housing Authority of the City of Los Angeles | CA | 1,886,136
Housing Authority of the City of Los Angeles | CA | 155,736
Housing Authority of the City of Los Angeles | CA | 1,753,176
Housing Authority of the City of Los Angeles | CA | 55,632
Housing Authority of the City of Los Angeles | CA | 334,428
Housing Authority of the City of Los Angeles | CA | 4,503,792
Housing Authority of the City of Los Angeles | CA | 2,379,300
Housing Authority of the City of Los Angeles | CA | 800,232
Housing Authority of the City of Los Angeles | CA | 1,808,040
Housing Authority of the City of Los Angeles | CA | 304,872
Housing Authority of the City of Los Angeles | CA | 542,004
Housing Authority of the City of Los Angeles | CA | 495,876
Housing Authority of the City of Los Angeles | CA | 359,352
Housing Authority of the City of Los Angeles | CA | 222,528
Housing Authority of the City of Los Angeles | CA | 388,380
Housing Authority of the City of Los Angeles | CA | 922,560
Housing Authority of the City of Los Angeles | CA | 1,441,500
Housing Authority of the City of Los Angeles | CA | 518,940
Housing Authority of the City of Los Angeles | CA | 283,980
Housing Authority of the City of Los Angeles | CA | 1,390,800
Housing Authority of the City of Los Angeles | CA | 667,584
Housing Authority of the City of Los Angeles | CA | 1,361,616
Housing Authority of the City of Los Angeles | CA | 1,326,180
Housing Authority of the City of Los Angeles | CA | 938,556
Housing Authority of the City of Napa | CA | 24,144
Housing Authority of the City of Napa | CA | 13,715
Housing Authority of the City of Napa | CA | 60,360
Housing Authority of the City of San Buenaventura | CA | 119,652
Housing Authority of the City of Santa Barbara | CA | 257,520
Housing Authority of the City of Santa Barbara | CA | 621,384
Housing Authority of the County of Butte | CA | 26,748
Housing Authority of the County of Butte | CA | 96,504
Housing Authority of the County of Kern | CA | 473,700
Housing Authority of the County of Kern | CA | 273,948
Housing Authority of the County of Kern | CA | 500,040
Housing Authority of the County of Kern | CA | 294,048
Housing Authority of the County of Kern | CA | 416,580
Housing Authority of the County of Kern | CA | 1,517,820
Housing Authority of the County of Marin | CA | 948,432
Housing Authority of the County of Marin | CA | 54,792
Housing Authority of the County of Merced | CA | 273,600
Housing Authority of the County of Monterey | CA | 367,867
Housing Authority of the County of Monterey | CA | 173,712
Housing Authority of the County of San Bernardino | CA | 364,740
Housing Authority of the County of San Bernardino | CA | 935,040
Housing Authority of the County of San Bernardino | CA | 1,928,520
Housing Authority of the County of San Mateo | CA | 54,792
Housing Authority of the County of San Mateo | CA | 163,416
Housing Authority of the County of San Mateo | CA | 1,606,284
Housing Authority of the County of San Mateo | CA | 54,792
Housing Authority of the County of San Mateo | CA | 1,085,472
Housing Authority of the County of San Mateo | CA | 763,433
Housing Authority of the County of Santa Clara | CA | 3,068,100
Housing Authority of the County of Santa Clara | CA | 268,740
Housing Authority of the County of Santa Cruz | CA | 417,504
Housing Authority of the County of Santa Cruz | CA | 13,848
Housing Authority of the County of Santa Cruz | CA | 56,000
Housing Authority of the County of Stanislaus | CA | 243,744
Housing Authority of the County of Stanislaus | CA | 592,620
Housing Authority of the County of Stanislaus | CA | 145,440
Housing Authority of the County of Stanislaus | CA | 174,160
Housing Authority of the County of Stanislaus | CA | 126,720
Human Options, Inc | CA | 30,793
Human Options, Inc | CA | 111,122
Humboldt County | CA | 82,353
Illumination Foundation | CA | 213,188
Immanuel Housing Inc | CA | 76,192
Inland Counties Legal Services, Inc | CA | 54,531
Inland Counties Legal Services, Inc | CA | 38,395
Inland Temporary Homes | CA | 424,835
Inland Temporary Homes | CA | 69,401
InnVision the Way Home | CA | 163,719
InnVision the Way Home | CA | 88,714
InnVision the Way Home | CA | 98,408
InnVision the Way Home | CA | 164,635
InnVision the Way Home | CA | 348,831
InnVision the Way Home | CA | 28,530
InnVision the Way Home | CA | 228,335
InnVision the Way Home | CA | 135,740
InnVision the Way Home | CA | 69,226
InnVision the Way Home | CA | 131,928
Intercommunity Child Guidance Center dba The Whole Child | CA | 165,207
Interfaith Shelter Network | CA | 44,536
Interfaith Shelter Network | CA | 24,780
Interfaith Shelter Network | CA | 61,134
Interim, Inc | CA | 97,407
Interim, Inc | CA | 138,168
Interval House | CA | 73,268
Jewish Family Service of Los Angeles | CA | 180,498
JWCH Institute, Inc | CA | 308,999
Kern County Mental Health | CA | 74,592
Kern County Mental Health | CA | 82,050
Kings United Way | CA | 101,920
L.A. Family Housing | CA | 355,664
L.A. Family Housing | CA | 363,659
Larkin Street Youth Services | CA | 109,463
Life Community Development | CA | 299,289
LifeLong Medical Care | CA | 539,398
Los Angeles Homeless Services Authority | CA | 570,870
Los Angeles Homeless Services Authority | CA | 168,843
Los Angeles Homeless Services Authority | CA | 223,929
Los Angeles Homeless Services Authority | CA | 200,258
Los Angeles Homeless Services Authority | CA | 282,429
Los Angeles Homeless Services Authority | CA | 157,436
Los Angeles Homeless Services Authority | CA | 199,999
Los Angeles Homeless Services Authority | CA | 287,114
Los Angeles Homeless Services Authority | CA | 59,052
Los Angeles Homeless Services Authority | CA | 201,506
Los Angeles Homeless Services Authority | CA | 140,466
Los Angeles Homeless Services Authority | CA | 364,882
Los Angeles Homeless Services Authority | CA | 381,940
Los Angeles Homeless Services Authority | CA | 151,802
Los Angeles Homeless Services Authority | CA | 169,419
Los Angeles Homeless Services Authority | CA | 149,706
Los Angeles Homeless Services Authority | CA | 385,943
Los Angeles Homeless Services Authority | CA | 220,461
Los Angeles Homeless Services Authority | CA | 149,846
Los Angeles Homeless Services Authority | CA | 362,250
Los Angeles Homeless Services Authority | CA | 110,824
Los Angeles Homeless Services Authority | CA | 223,552
Los Angeles Homeless Services Authority | CA | 196,350
Los Angeles Homeless Services Authority | CA | 177,929
Los Angeles Homeless Services Authority | CA | 182,955
Los Angeles Homeless Services Authority | CA | 246,780
Los Angeles Homeless Services Authority | CA | 24,331
Los Angeles Homeless Services Authority | CA | 400,000
Los Angeles Homeless Services Authority | CA | 63,687
Los Angeles Homeless Services Authority | CA | 157,706
Los Angeles Homeless Services Authority | CA | 573,405
Los Angeles Homeless Services Authority | CA | 258,248
Los Angeles Homeless Services Authority | CA | 94,295
Los Angeles Homeless Services Authority | CA | 198,507
Los Angeles Homeless Services Authority | CA | 140,300
Los Angeles Homeless Services Authority | CA | 134,592
Los Angeles Homeless Services Authority | CA | 344,504
Los Angeles Homeless Services Authority | CA | 156,635
Los Angeles Homeless Services Authority | CA | 147,972
Los Angeles Homeless Services Authority | CA | 263,401
Los Angeles Homeless Services Authority | CA | 71,796
Los Angeles Homeless Services Authority | CA | 248,942
Los Angeles Homeless Services Authority | CA | 206,461
Los Angeles Homeless Services Authority | CA | 96,975
Los Angeles Homeless Services Authority | CA | 143,432
Los Angeles Homeless Services Authority | CA | 259,701
Los Angeles Homeless Services Authority | CA | 106,479
Los Angeles Homeless Services Authority | CA | 112,450
Los Angeles Homeless Services Authority | CA | 210,433
Los Angeles Homeless Services Authority | CA | 83,913
Los Angeles Homeless Services Authority | CA | 193,880
Los Angeles Homeless Services Authority | CA | 137,485
Los Angeles Homeless Services Authority | CA | 70,031
Los Angeles Homeless Services Authority | CA | 50,225
Los Angeles Homeless Services Authority | CA | 154,997
Los Angeles Homeless Services Authority | CA | 161,539
Los Angeles Homeless Services Authority | CA | 385,943
Los Angeles Homeless Services Authority | CA | 97,677
Los Angeles Homeless Services Authority | CA | 93,310
Los Angeles Homeless Services Authority | CA | 178,238
Los Angeles Homeless Services Authority | CA | 337,805
Los Angeles Homeless Services Authority | CA | 262,085
Los Angeles Homeless Services Authority | CA | 162,775
Los Angeles Homeless Services Authority | CA | 118,346
Los Angeles Homeless Services Authority | CA | 34,999
Los Angeles Homeless Services Authority | CA | 119,280
Los Angeles Homeless Services Authority | CA | 244,623
Los Angeles Homeless Services Authority | CA | 629,647
Los Angeles Homeless Services Authority | CA | 209,799
Los Angeles Homeless Services Authority | CA | 286,999
Los Angeles Homeless Services Authority | CA | 51,771
Los Angeles Homeless Services Authority | CA | 489,638
Los Angeles Homeless Services Authority | CA | 125,824
Los Angeles Homeless Services Authority | CA | 225,355
Los Angeles Homeless Services Authority | CA | 89,094
Los Angeles Homeless Services Authority | CA | 241,135
Los Angeles Homeless Services Authority | CA | 387,581
Los Angeles Homeless Services Authority | CA | 256,710
Los Angeles Homeless Services Authority | CA | 92,217
Los Angeles Homeless Services Authority | CA | 131,286
Los Angeles Homeless Services Authority | CA | 121,874
Los Angeles Homeless Services Authority | CA | 331,546
Los Angeles Homeless Services Authority | CA | 282,734
Los Angeles Homeless Services Authority | CA | 267,828
Los Angeles Homeless Services Authority | CA | 189,000
Los Angeles Homeless Services Authority | CA | 476,401
Los Angeles Homeless Services Authority | CA | 249,999
Los Angeles Homeless Services Authority | CA | 54,498
Los Angeles Homeless Services Authority | CA | 120,164
Los Angeles Homeless Services Authority | CA | 76,059
Los Angeles Homeless Services Authority | CA | 249,361
Los Angeles Homeless Services Authority | CA | 366,345
Los Angeles Homeless Services Authority | CA | 159,179
Los Angeles Homeless Services Authority | CA | 130,971
Los Angeles Homeless Services Authority | CA | 402,558
Los Angeles Homeless Services Authority | CA | 113,971
Los Angeles Homeless Services Authority | CA | 66,685
Los Angeles Homeless Services Authority | CA | 253,423
Los Angeles Homeless Services Authority | CA | 63,655
Los Angeles Homeless Services Authority | CA | 349,666
Los Angeles Homeless Services Authority | CA | 198,095
Los Angeles Homeless Services Authority | CA | 259,875
Los Angeles Youth Network | CA | 40,528
Many Mansions a California Non Profit Corporation | CA | 61,600
Many Mansions a California Non Profit Corporation | CA | 59,911
Many Mansions a California Non Profit Corporation | CA | 60,952
Many Mansions a California Non Profit Corporation | CA | 39,998
Marjaree Mason Center, Inc | CA | 65,482
Marjaree Mason Center, Inc | CA | 287,840
Marjaree Mason Center, Inc | CA | 108,086
Mary Lind Recovery Centers | CA | 442,317
Mary Sheets | CA | 34,125
Mendocino County Health and Human Services Agency | CA | 200,412
Mendocino County Health and Human Services Agency | CA | 28,532
Mendocino County Health and Human Services Agency | CA | 130,736
Mental Health Association of San Mateo County | CA | 73,271
Mental Health Association of San Mateo County | CA | 39,530
Mental Health Systems Inc | CA | 287,042
Mental Health Systems Inc | CA | 74,843
Mental Health Systems Inc | CA | 273,283
Merced County Community Action Agency | CA | 81,163
Merced County Mental Health | CA | 128,063
Mercy House Living Centers | CA | 393,689
Mercy House Living Centers | CA | 90,240
Mercy House Living Centers | CA | 118,000
NAMI Tuolumne County | CA | 15,478
NAMI Tuolumne County | CA | 45,641
New Directions, Inc | CA | 574,640
New Economics for Women | CA | 155,254
New Hope Village, Inc | CA | 66,675
North Coast Substance Abuse Council, Inc | CA | 109,727
North County Interfaith Council, Inc | CA | 64,214
North County Interfaith Council, Inc | CA | 82,129
North County Interfaith Council, Inc | CA | 43,588
North County Interfaith Council, Inc | CA | 42,370
North County Interfaith Council, Inc | CA | 346,689
North County Interfaith Council, Inc | CA | 103,415
North County Solutions for Change | CA | 783,158
North County Solutions for Change | CA | 26,661
Northern Valley Catholic Social Service, Inc | CA | 91,096
Northern Valley Catholic Social Service, Inc | CA | 92,080
Northern Valley Catholic Social Service, Inc | CA | 129,868
OC Partnership | CA | 433,263
OC Partnership | CA | 57,043
Ocean Park Community Center (OPCC) | CA | 305,938
Operation Dignty, Inc | CA | 55,392
Orange Coast Interfaith Shelter | CA | 283,129
Orange County Housing Authority | CA | 426,648
Orange County Housing Authority | CA | 3,233,916
Orange County Housing Authority | CA | 524,424
Orange County Housing Authority | CA | 1,050,864
Orange County Housing Authority | CA | 996,480
Orange County Housing Authority | CA | 649,872
Orange County Housing Authority | CA | 281,280
Orange County Housing Authority | CA | 727,608
Orange County Housing Authority | CA | 571,176
Pacific Clinics | CA | 960,122
Pajaro Valley Shelter Services | CA | 13,623
PATH (People Assisting the Homeless) | CA | 100,275
PATH (People Assisting the Homeless) | CA | 610,000
PATH (People Assisting the Homeless) | CA | 114,529
PATH (People Assisting the Homeless) | CA | 209,161
PCDC-Applicant | CA | 137,754
PCDC-Applicant | CA | 163,700
PCDC-Applicant | CA | 106,095
PCDC-Applicant | CA | 122,097
PCDC-Applicant | CA | 724,944
PCDC-Applicant | CA | 115,320
PCDC-Applicant | CA | 121,404
PCDC-Applicant | CA | 53,256
PCDC-Applicant | CA | 155,416
PCDC-Applicant | CA | 55,632
PCDC-Applicant | CA | 43,724
PCDC-Applicant | CA | 235,695
Penny Lane Centers | CA | 174,969
Placer County HHS Adult System of Care | CA | 61,260
Placer County HHS Adult System of Care | CA | 290,412
Placer County HHS Adult System of Care | CA | 299,927
Placer Women's Center dba PEACE for Families | CA | 217,898
Poor and the Homeless (PATH)_Final 2011 | CA | 111,173
Poverello House | CA | 354,169
Project Home Again | CA | 367,063
Project Understanding | CA | 53,642
Rainbow Services, Ltd | CA | 255,012
Redwood Community Action Agency | CA | 118,074
Redwood Community Action Agency | CA | 38,359
Regional Task Force on the Homeless Inc | CA | 108,914
Regional Task Force on the Homeless Inc | CA | 134,000
Regional Task Force on the Homeless Inc | CA | 222,007
Regional Task Force on the Homeless Inc | CA | 89,798
Renaissance Christian Center | CA | 99,000
Resources for Community Development | CA | 70,187
Resources for Community Development | CA | 75,528
Resources for Independent Living | CA | 97,876
Reynaissance Family Center | CA | 41,650
Riverside City & County Proj Applicant | CA | 80,591
Riverside City & County Proj Applicant | CA | 218,484
Riverside City & County Proj Applicant | CA | 59,440
Riverside City & County Proj Applicant | CA | 325,277
Riverside City & County Proj Applicant | CA | 216,871
Riverside City & County Proj Applicant | CA | 233,015
Riverside City & County Proj Applicant | CA | 646,847
Riverside City & County Proj Applicant | CA | 24,134
Riverside City & County Proj Applicant | CA | 533,405
Riverside City & County Proj Applicant | CA | 275,000
Riverside City & County Proj Applicant | CA | 523,800
Riverside City & County Proj Applicant | CA | 408,234
Riverside City & County Proj Applicant | CA | 135,756
Riverside City & County Proj Applicant | CA | 72,654
Riverside City & County Proj Applicant | CA | 260,498
Riverside City & County Proj Applicant | CA | 200,277
Riverside City & County Proj Applicant | CA | 350,857
Riverside City & County Proj Applicant | CA | 218,000
Riverside City & County Proj Applicant | CA | 476,070
Riverside City & County Proj Applicant | CA | 42,192
Riverside City & County Proj Applicant | CA | 117,127
Riverside City & County Proj Applicant | CA | 136,166
Riverside City & County Proj Applicant | CA | 525,000
Riverside City & County Proj Applicant | CA | 89,373
Riverside City & County Proj Applicant | CA | 374,016
Riverside City & County Proj Applicant | CA | 119,486
Rubicon Programs Inc | CA | 191,195
Rubicon Programs Inc | CA | 654,229
Rubicon Programs Inc | CA | 44,013
Rubicon Programs Inc | CA | 1,018,766
Rubicon Programs Inc | CA | 94,500
Rubicon Programs Inc | CA | 204,120
Saint Vincent de Paul Society of San Francisco | CA | 131,153
Salvation Army | CA | 102,008
Samaritan House | CA | 105,000
San Benito, County of | CA | 207,966
San Diego Housing Commission | CA | 132,288
San Diego Housing Commission | CA | 1,006,224
San Diego Housing Commission | CA | 270,000
San Diego Housing Commission | CA | 212,400
San Diego Housing Commission | CA | 405,360
San Diego Housing Commission | CA | 357,912
San Diego Youth Services | CA | 87,571
San Francisco Network Ministries Housing Corporation | CA | 70,006
San Joaquin County CoC Exhibit 2 | CA | 1,549,848
San Joaquin County CoC Exhibit 2 | CA | 141,253
San Joaquin County CoC Exhibit 2 | CA | 255,328
San Joaquin County CoC Exhibit 2 | CA | 206,157
San Joaquin County CoC Exhibit 2 | CA | 490,911
San Joaquin County CoC Exhibit 2 | CA | 398,821
San Joaquin County CoC Exhibit 2 | CA | 410,664
San Joaquin County CoC Exhibit 2 | CA | 231,595
San Joaquin County CoC Exhibit 2 | CA | 354,644
San Joaquin County CoC Exhibit 2 | CA | 373,488
SANTA BARBARA COMMUNITY HOUSING CORP | CA | 99,444
Santa Barbara County—ADMHS | CA | 115,315
Santa Barbara County Housing and Community Development | CA | 125,189
Santa Barbara County Housing and Community Development | CA | 102,809
Santa Barbara County Housing and Community Development | CA | 160,585
Santa Barbara County Housing and Community Development | CA | 17,850
Santa Clara Unified School District | CA | 200,534
Santa Clara Valley Health & Hospital System—MHD | CA | 723,114
Santa Clara Valley Health & Hospital System—MHD | CA | 351,150
Santa Clara Valley Health & Hospital System—MHD | CA | 102,992
Santa Clara Valley Health & Hospital System—MHD | CA | 514,196
Santa Cruz Community Counseling Center | CA | 15,353
Santa Cruz Community Counseling Center | CA | 41,540
Serra Ancillary Care Corp dba The Serra Project | CA | 303,173
Serra Ancillary Care Corp dba The Serra Project | CA | 326,848
Service League of San Mateo County | CA | 44,996
Serving People in Need | CA | 403,208
Shelter Network of San Mateo County | CA | 52,500
Shelter Network of San Mateo County | CA | 494,788
Shelter Network of San Mateo County | CA | 215,000
Shelter Network of San Mateo County | CA | 381,471
Shelter Network of San Mateo County | CA | 131,250
Shelter Network of San Mateo County | CA | 104,895
Shelter Network of San Mateo County | CA | 74,078
Shelter Network of San Mateo County | CA | 225,750
Shelter Network of San Mateo County | CA | 131,250
Shelter Outreach Plus | CA | 166,599
Shelter Outreach Plus | CA | 115,999
Shelter Outreach Plus | CA | 121,832
Shelter, Inc of Contra Costa County | CA | 80,797
Shelter, Inc of Contra Costa County | CA | 272,508
Shelter, Inc of Contra Costa County | CA | 676,523
Shelter, Inc of Contra Costa County | CA | 393,705
Shields For Families | CA | 90,395
Sierra Saving Grace Homeless Project | CA | 76,953
Single Room Occupancy (SRO) Housing Corporation | CA | 92,610
Single Room Occupancy (SRO) Housing Corporation | CA | 369,601
Single Room Occupancy (SRO) Housing Corporation | CA | 279,510
Social Advocates for Youth | CA | 40,000
Solano County Health & Social Services | CA | 80,502
Solano County Health & Social Services | CA | 109,925
Solano County Health & Social Services | CA | 102,317
Solano County Health & Social Services | CA | 199,246
Sonoma County Community Development Commission | CA | 82,800
Sonoma County Community Development Commission | CA | 196,776
Sonoma County Community Development Commission | CA | 135,329
Sonoma County Community Development Commission | CA | 67,176
Sonoma County Community Development Commission | CA | 723,648
South Bay Community Services, Inc | CA | 96,832
South Bay Community Services, Inc | CA | 86,951
South Bay Community Services, Inc | CA | 96,843
South Central Health & Rehabilitation Program | CA | 225,479
South County Housing Corporation | CA | 91,011
South County Outreach | CA | 50,191
South County Outreach | CA | 175,959
Southern California Alcohol and Drug Programs, Inc | CA | 380,345
Southern California Alcohol and Drug Programs, Inc—Angel Step Too | CA | 355,942
St. Joseph Center | CA | 47,246
St. Joseph's Family Center | CA | 287,217
St. Joseph's Family Center | CA | 364,804
St. Vincent de Paul Village, Inc | CA | 513,712
St. Vincent de Paul Village, Inc | CA | 45,099
St. Vincent de Paul Village, Inc | CA | 402,182
St. Vincent de Paul Village, Inc | CA | 890,000
St. Vincent de Paul Village, Inc | CA | 619,024
St. Vincent de Paul Village, Inc | CA | 1,699,096
STAND! For Families Free of Violence | CA | 75,571
Stanislaus Community Assistance Project | CA | 190,017
Stanislaus Community Assistance Project | CA | 269,056
Stanislaus Community Assistance Project | CA | 156,929
Stanislaus Community Assistance Project | CA | 118,333
Step Up on Second Street, Inc | CA | 126,727
Su Casa ~ Ending Domestic Violence | CA | 52,463
Swords to Plowshares Veterans Rights Organization | CA | 230,181
Swords to Plowshares Veterans Rights Organization | CA | 251,665
Tarzana Treatment Centers, Inc | CA | 188,491
Testimonial Community Love Center | CA | 136,887
The Association For Community Housing Solutions (TACHS) | CA | 73,500
The Association For Community Housing Solutions (TACHS) | CA | 113,400
the john henry foundation | CA | 146,369
The Los Angeles Gay and Lesbian Community Services Center | CA | 367,493
The Resource Connection | CA | 78,948
The Salvation Army | CA | 426,301
The Salvation Army | CA | 158,521
The Salvation Army (Watsonville) | CA | 83,137
The Salvation Army SC Division Glendale Nancy Painter House | CA | 86,437
The Salvation Army SC Division Los Angeles | CA | 360,500
The Salvation Army SC Division Los Angeles | CA | 221,485
The Salvation Army SC Division Los Angeles | CA | 172,089
The Salvation Army SC Division Los Angeles | CA | 276,039
The Salvation Army SC Division Los Angeles | CA | 174,133
The Salvation Army SC Division Los Angeles | CA | 360,500
The Salvation Army SC Division Los Angeles | CA | 169,948
The Salvation Army SC Division Los Angeles | CA | 218,221
The Salvation Army SC Division Ventura TLC | CA | 204,637
The Salvation Army, Grass Valley Corps | CA | 40,000
The Salvation Army, Modesto | CA | 100,000
Time For Change Foundation | CA | 348,598
Toby's House | CA | 119,545
Transition House | CA | 61,763
Transition House | CA | 55,792
TRANSITIONAL HOMELESS FAMILY SHELTER | CA | 87,833
Transitional Living and Community Support, Inc | CA | 305,666
Transitional Living and Community Support, Inc | CA | 256,849
Transitional Living and Community Support, Inc | CA | 246,855
Transitional Living and Community Support, Inc | CA | 335,725
Transitional Living and Community Support, Inc | CA | 165,403
Transitional Living and Community Support, Inc | CA | 72,384
Tuolumne County Human Services Agency | CA | 29,617
Turning Point Community Programs | CA | 97,292
Turning Point Community Programs | CA | 114,165
Turning Point Foundation | CA | 249,999
Turning Point Foundation | CA | 31,361
Turning Point Foundation | CA | 26,075
Turning Point Foundation | CA | 35,410
Turning Point of Central California, Inc | CA | 424,116
Turning Point of Central California, Inc | CA | 524,585
Turning Point of Central California, Inc | CA | 74,602
Turning Point of Central California, Inc | CA | 117,277
Turning Point of Central California, Inc | CA | 174,276
Turning Point of Central California, Inc | CA | 173,564
United Christian Centers of The Greater Sacramento Area, Inc | CA | 46,527
United Friends of the Children | CA | 295,657
United States Veterans Initiative-Inglewood | CA | 289,795
United States Veterans Initiative-Inland Empire | CA | 1,031,955
United Way of Tulare County | CA | 91,545
United Way of Ventura County | CA | 44,541
United Way of Ventura County | CA | 44,541
Upward Bound House | CA | 281,424
Vallejo Lord's Fellowship A/G | CA | 42,600
Vallejo Lord's Fellowship A/G | CA | 33,112
Valley Teen Ranch | CA | 30,048
Venice Community Housing Corporation | CA | 81,170
Venice Family Clinic | CA | 284,842
Ventura County Behavioral Health Department | CA | 201,876
Ventura County Behavioral Health Department | CA | 40,644
Veterans First | CA | 213,187
Veterans First | CA | 159,700
Veterans First | CA | 254,804
Veterans First | CA | 211,664
Veterans Transition Center | CA | 81,010
Veterans Transition Center | CA | 194,525
Victor Valley Domestic Violence, Inc | CA | 283,537
Vietnam Veterans of California | CA | 83,107
Vietnam Veterans of San Diego | CA | 209,600
Vietnam Veterans of San Diego | CA | 202,850
Volunteers of America Southwest CA | CA | 301,164
Volunteers of America Southwest CA | CA | 298,453
We Care Program—Turlock | CA | 95,702
Weingart Center Association | CA | 314,478
Weingart Center Association | CA | 170,760
West Valley Community Services of Santa Clara County, Inc | CA | 82,533
WestCare California, Inc | CA | 663,583
Whiteside Manor, Inc | CA | 884,051
WISEPlace | CA | 100,593
WomanHaven, Inc | CA | 169,864
Women's Daytime Drop-In Center | CA | 68,975
Women's Transitional Living Center, Inc | CA | 74,559
Women's Transitional Living Center, Inc | CA | 42,083
YMCA of Metropolitan Los Angeles | CA | 177,486
YMCA of San Diego County | CA | 178,739
Yolo Community Care Continuum | CA | 84,423
YWCA of Central Orange County | CA | 93,880
YWCA of San Diego County | CA | 553,691
YWCA Sonoma County | CA | 52,500
Boulder Housing Partners | CO | 274,260
Boulder Housing Partners | CO | 29,903
Catholic Charities and Community Services of the Archdiocese of Denver | CO | 59,267
City of Colorado Springs | CO | 35,940
City of Colorado Springs | CO | 66,267
City of Colorado Springs | CO | 165,216
Colorado Coalition for the Homeless | CO | 619,334
Colorado Coalition for the Homeless | CO | 479,236
Colorado Coalition for the Homeless | CO | 137,292
Colorado Coalition for the Homeless | CO | 526,250
Colorado Coalition for the Homeless | CO | 78,500
Colorado Coalition for the Homeless | CO | 457,654
Colorado Coalition for the Homeless | CO | 132,768
Colorado Coalition for the Homeless | CO | 319,609
Colorado Coalition for the Homeless | CO | 437,248
Colorado Coalition for the Homeless | CO | 48,548
Colorado Coalition for the Homeless | CO | 289,760
Colorado Coalition for the Homeless | CO | 19,415
Colorado Coalition for the Homeless | CO | 413,642
Colorado Coalition for the Homeless | CO | 690,000
Colorado Coalition for the Homeless | CO | 19,151
Colorado Coalition for the Homeless | CO | 60,529
Colorado Coalition for the Homeless | CO | 507,627
Colorado Coalition for the Homeless | CO | 108,293
Colorado Coalition for the Homeless | CO | 85,521
Colorado Coalition for the Homeless | CO | 228,382
Colorado Coalition for the Homeless | CO | 40,320
Colorado Coalition for the Homeless | CO | 84,135
Colorado Coalition for the Homeless | CO | 114,994
Colorado Coalition for the Homeless | CO | 146,856
Colorado Coalition for the Homeless | CO | 341,335
Colorado Coalition for the Homeless | CO | 73,821
Colorado Coalition for the Homeless | CO | 117,967
Colorado Coalition for the Homeless | CO | 107,439
Colorado Coalition for the Homeless | CO | 109,944
Colorado Coalition for the Homeless | CO | 91,065
Colorado Coalition for the Homeless | CO | 276,339
Colorado Coalition for the Homeless | CO | 198,187
Colorado Coalition for the Homeless | CO | 182,725
Colorado Coalition for the Homeless | CO | 210,430
Colorado Coalition for the Homeless | CO | 132,363
Colorado Coalition for the Homeless | CO | 184,889
Colorado Division of Housing | CO | 2,530,164
Colorado Division of Housing | CO | 360,960
Colorado Division of Housing | CO | 464,856
Colorado Springs Housing Authority | CO | 93,444
Community Housing Services, Inc | CO | 970,595
Del Norte NDC | CO | 131,136
Denver Department of Human Services | CO | 101,520
Denver Department of Human Services | CO | 152,280
Denver Department of Human Services | CO | 259,920
Denver Department of Human Services | CO | 66,816
Denver Department of Human Services | CO | 134,496
Denver Department of Human Services | CO | 302,592
Denver Department of Human Services | CO | 346,860
Denver Department of Human Services | CO | 423,564
Denver Department of Human Services | CO | 101,520
Denver Department of Human Services | CO | 33,840
Denver Department of Human Services | CO | 169,200
Denver Department of Human Services | CO | 844,080
Denver Department of Human Services | CO | 120,708
Denver Options Inc | CO | 25,000
Denver Options Inc | CO | 154,936
Family Tree, Inc | CO | 397,061
Family Tree, Inc | CO | 80,085
Fort Collins Housing Authority | CO | 258,980
Grand Valley Catholic Outreach, Inc | CO | 99,477
Grand Valley Catholic Outreach, Inc | CO | 84,165
Grand Valley Catholic Outreach, Inc | CO | 97,151
Greccio Housing | CO | 64,315
Greeley Center for Independence, Inc | CO | 30,893
Housing Solutions for the Southwest | CO | 19,008
Larimer Center for Mental Health | CO | 54,827
North Range Behavioral Health | CO | 109,543
Partners In Housing | CO | 47,998
Partners In Housing | CO | 32,510
Partners In Housing | CO | 24,149
Partners In Housing | CO | 88,784
Partners In Housing | CO | 90,330
Partners In Housing | CO | 50,710
Partners In Housing | CO | 81,838
Pikes Peak United Way | CO | 196,776
Posada, Inc | CO | 249,900
St. Francis Center | CO | 146,666
The Salvation Army, a California corporation | CO | 107,000
The Salvation Army, a California corporation | CO | 59,333
The Salvation Army, a California corporation | CO | 19,050
Third Way Center | CO | 116,538
Urban Peak Denver | CO | 104,160
Volunteers of America Colorado Branch | CO | 298,484
Volunteers of America Colorado Branch | CO | 166,245
Volunteers of America Colorado Branch | CO | 514,783
Alliance for Living | CT | 75,678
Alliance for Living | CT | 34,311
Alliance for Living | CT | 34,083
Applied Behavioral Rehabilitation Institute, Inc | CT | 99,878
Association of Religious Communities | CT | 73,489
Bethsaida Community, Inc | CT | 86,984
Bethsaida Community, Inc | CT | 87,528
Birmingham Group Health Services | CT | 133,633
Birmingham Group Health Services | CT | 116,928
Catholic Charities of Fairfield County, Inc | CT | 202,514
Catholic Charities of Fairfield County, Inc | CT | 381,026
Christian Community Action, Inc | CT | 200,025
Chrysalis Center, Inc | CT | 211,747
Columbus House, Inc | CT | 195,521
Columbus House, Inc | CT | 111,132
Columbus House, Inc | CT | 133,000
Columbus House, Inc | CT | 30,902
Community Health Resources | CT | 140,018
Community Health Resources | CT | 107,184
Community Mental Health Affiliates | CT | 197,940
Community Renewal Team, Inc (CRT) | CT | 202,885
Community Renewal Team, Inc (CRT) | CT | 369,918
Community Renewal Team, Inc (CRT) | CT | 576,997
Community Renewal Team, Inc (CRT) | CT | 207,117
Community Renewal Team, Inc (CRT) | CT | 475,913
Connecticut Coalition to End Homelessness | CT | 33,089
Connecticut Coalition to End Homelessness | CT | 58,065
Connecticut Coalition to End Homelessness | CT | 49,999
Connecticut Coalition to End Homelessness | CT | 55,860
Connecticut Department of Mental Health and Addiction Services | CT | 195,216
Connecticut Department of Mental Health and Addiction Services | CT | 152,820
Connecticut Department of Mental Health and Addiction Services | CT | 114,080
Connecticut Department of Mental Health and Addiction Services | CT | 192,000
Connecticut Department of Mental Health and Addiction Services | CT | 75,600
Connecticut Department of Mental Health and Addiction Services | CT | 120,128
Connecticut Department of Mental Health and Addiction Services | CT | 129,324
Connecticut Department of Mental Health and Addiction Services | CT | 107,424
Connecticut Department of Mental Health and Addiction Services | CT | 300,300
Connecticut Department of Mental Health and Addiction Services | CT | 226,656
Connecticut Department of Mental Health and Addiction Services | CT | 177,828
Connecticut Department of Mental Health and Addiction Services | CT | 157,140
Connecticut Department of Mental Health and Addiction Services | CT | 1,382,916
Connecticut Department of Mental Health and Addiction Services | CT | 193,572
Connecticut Department of Mental Health and Addiction Services | CT | 213,379
Connecticut Department of Mental Health and Addiction Services | CT | 209,340
Connecticut Department of Mental Health and Addiction Services | CT | 270,939
Connecticut Department of Mental Health and Addiction Services | CT | 75,600
Connecticut Department of Mental Health and Addiction Services | CT | 343,032
Connecticut Department of Mental Health and Addiction Services | CT | 153,972
Connecticut Department of Mental Health and Addiction Services | CT | 170,160
Connecticut Department of Mental Health and Addiction Services | CT | 1,919,928
Connecticut Department of Mental Health and Addiction Services | CT | 430,920
Connecticut Department of Mental Health and Addiction Services | CT | 163,008
Connecticut Department of Mental Health and Addiction Services | CT | 14,292
Connecticut Department of Mental Health and Addiction Services | CT | 129,792
Connecticut Department of Mental Health and Addiction Services | CT | 89,532
Connecticut Department of Mental Health and Addiction Services | CT | 237,344
Connecticut Department of Mental Health and Addiction Services | CT | 128,520
Connecticut Department of Mental Health and Addiction Services | CT | 80,568
Connecticut Department of Mental Health and Addiction Services | CT | 51,048
Connecticut Department of Mental Health and Addiction Services | CT | 1,696,584
Connecticut Department of Mental Health and Addiction Services | CT | 100,887
Connecticut Department of Mental Health and Addiction Services | CT | 489,744
Connecticut Department of Mental Health and Addiction Services | CT | 216,468
Connecticut Department of Mental Health and Addiction Services | CT | 474,516
Connecticut Department of Mental Health and Addiction Services | CT | 181,272
Connecticut Department of Mental Health and Addiction Services | CT | 513,180
Connecticut Department of Mental Health and Addiction Services | CT | 140,880
Connecticut Department of Mental Health and Addiction Services | CT | 30,240
Connecticut Department of Mental Health and Addiction Services | CT | 80,568
Connecticut Department of Mental Health and Addiction Services | CT | 416,863
Connecticut Department of Mental Health and Addiction Services | CT | 201,912
Connecticut Department of Mental Health and Addiction Services | CT | 547,692
Connecticut Department of Mental Health and Addiction Services | CT | 61,128
CREDO Housing Development Corporation Inc | CT | 56,358
CT Women's Consortium, Inc | CT | 173,249
CTE Inc | CT | 132,882
Emerge, Inc | CT | 44,890
Family and Children's Agency | CT | 146,176
Friendship Service Center of New Britain, Inc | CT | 31,658
Friendship Service Center of New Britain, Inc | CT | 49,596
Friendship Service Center of New Britain, Inc | CT | 210,007
Friendship Service Center of New Britain, Inc | CT | 48,136
Friendship Service Center of New Britain, Inc | CT | 48,059
Friendship Service Center of New Britain, Inc | CT | 384,203
Friendship Service Center of New Britain, Inc | CT | 87,721
Hall-Brooke Behavioral Health Services | CT | 938,078
Hall-Brooke Behavioral Health Services | CT | 200,406
Hall-Brooke Behavioral Health Services | CT | 309,029
Harbor Health Services, Inc | CT | 62,084
Harbor Health Services, Inc | CT | 16,461
Holy Family Home and Shelter, Inc | CT | 125,631
Housing Authority of the City of Danbury | CT | 214,380
Housing Authority of the City of Danbury | CT | 142,920
Housing Authority of the City of Waterbury | CT | 277,356
Housing Authority of the City of Waterbury | CT | 190,344
Housing Authority of the City of Waterbury | CT | 92,664
Housing Authority of the City of Waterbury | CT | 242,760
Immaculate Conception Shelter & Housing Corporation | CT | 98,000
Immaculate Conception Shelter & Housing Corporation | CT | 602,466
InterCommunity Mental Health Group Inc | CT | 224,057
Interfaith Housing Association of Westport/Weston, Inc | CT | 51,288
KILLINGLY HOUSING AUTHORITY | CT | 49,740
Laurel House, Inc | CT | 109,405
Laurel House, Inc | CT | 40,278
Laurel House, Inc | CT | 19,703
Liberation Programs, Inc | CT | 179,626
Liberty Community Services, Inc | CT | 94,352
Liberty Community Services, Inc | CT | 292,500
Liberty Community Services, Inc | CT | 1,049,464
Mercy Housing and Shelter Corporation | CT | 241,190
Mercy Housing and Shelter Corporation | CT | 97,757
Micah Housing, Inc | CT | 147,410
Mid Fairfield AIDS Project, Inc | CT | 123,200
Mid Fairfield AIDS Project, Inc | CT | 24,700
Mid Fairfield AIDS Project, Inc | CT | 24,748
Mutual Housing Association of Southwestern Connecticut, Inc | CT | 165,900
My Sisters' Place, Inc | CT | 249,999
New London Homeless Hospitality Center, Inc | CT | 32,520
New Opportunities, Inc | CT | 39,285
New Opportunities, Inc | CT | 374,784
Norwalk Emergency Shelter, Inc | CT | 47,830
Norwalk Housing Authority | CT | 169,800
Operation Hope of Fairfield, Inc | CT | 95,855
Prudence Crandall Center, Inc | CT | 187,950
Prudence Crandall Center, Inc | CT | 184,999
Prudence Crandall Center, Inc | CT | 147,288
Putnam Housing Authority | CT | 59,688
Recovery Network of Programs, Inc | CT | 261,196
ReFocus Outreach Ministry, Inc | CT | 188,191
ReFocus Outreach Ministry, Inc | CT | 143,220
Shelter for the Homeless, Inc | CT | 19,835
Shelter for the Homeless, Inc | CT | 84,051
South Park Inn, Inc | CT | 284,288
St. Luke's Community Services, Inc | CT | 19,838
St. Luke's Community Services, Inc | CT | 398,715
St. Luke's Community Services, Inc | CT | 19,724
St. Philip House | CT | 165,569
St. Vincent DePaul Mission of Bristol, Inc | CT | 321,830
St. Vincent DePaul Mission of Bristol, Inc | CT | 27,018
St. Vincent DePaul Mission of Waterbury, Inc | CT | 293,325
St. Vincent DePaul Place, Middletown | CT | 11,879
St. Vincent DePaul Place, Middletown | CT | 112,303
St. Vincent DePaul Place, Middletown | CT | 11,894
Thames River Community Service Inc | CT | 195,983
The Connection, Inc | CT | 137,094
The Salvation Army, a New York Corporation | CT | 73,150
The Thames Valley Council for Community Action, Inc | CT | 673,047
Torrington Community Housing Corporation | CT | 95,735
Torrington Housing Authority | CT | 162,000
Torrington Housing Authority | CT | 75,600
United Way of Coastal Fairfield County | CT | 39,999
United Way of Coastal Fairfield County | CT | 113,654
Windham Regional Community Council | CT | 140,145
Windham Regional Community Council | CT | 279,758
Women's Center of Southeastern Connecticut, Inc | CT | 50,584
Youth Continuum | CT | 304,160
YWCA of the Hartford Region, Inc | CT | 166,666
Catholic Charities of the Archdiocese of Washington, DC | DC | 432,844
Coalition for the Homeless | DC | 171,453
Community Connections, Inc | DC | 98,751
Community Connections, Inc | DC | 106,863
Community Family Life Services | DC | 140,205
District of Columbia CoC | DC | 100,905
District of Columbia CoC | DC | 899,866
District of Columbia CoC | DC | 148,924
District of Columbia CoC | DC | 109,725
District of Columbia CoC | DC | 414,028
District of Columbia CoC | DC | 110,674
District of Columbia CoC | DC | 239,506
District of Columbia CoC | DC | 622,091
District of Columbia CoC | DC | 257,260
District of Columbia CoC | DC | 132,300
District of Columbia CoC | DC | 592,184
District of Columbia CoC | DC | 78,342
District of Columbia CoC | DC | 117,600
District of Columbia CoC | DC | 275,106
District of Columbia CoC | DC | 188,312
District of Columbia CoC | DC | 149,203
District of Columbia CoC | DC | 245,421
District of Columbia CoC | DC | 141,214
District of Columbia CoC | DC | 181,025
District of Columbia CoC | DC | 75,000
District of Columbia CoC | DC | 285,457
District of Columbia CoC | DC | 102,199
District of Columbia CoC | DC | 141,366
District of Columbia CoC | DC | 143,742
District of Columbia CoC | DC | 211,621
District of Columbia CoC | DC | 144,758
District of Columbia CoC | DC | 350,173
District of Columbia CoC | DC | 123,530
District of Columbia CoC | DC | 189,000
District of Columbia CoC | DC | 121,727
District of Columbia CoC | DC | 204,747
District of Columbia CoC | DC | 150,000
District of Columbia CoC | DC | 477,676
District of Columbia CoC | DC | 134,834
District of Columbia CoC | DC | 86,003
District of Columbia CoC | DC | 430,837
District of Columbia CoC | DC | 165,819
District of Columbia CoC | DC | 420,000
District of Columbia CoC | DC | 39,375
District of Columbia CoC | DC | 425,773
District of Columbia CoC | DC | 201,038
District of Columbia CoC | DC | 955,500
District of Columbia CoC | DC | 541,313
District of Columbia Department of Health HIV/AIDS Administration | DC | 337,752
District of Columbia Department of Health HIV/AIDS Administration | DC | 254,976
District of Columbia Department of Human Services | DC | 938,784
District of Columbia Department of Human Services | DC | 3,234,924
Families Forward, Inc | DC | 207,041
Families Forward, Inc | DC | 234,862
Hannah House | DC | 148,115
House of Ruth | DC | 321,806
House of Ruth | DC | 144,083
House of Ruth | DC | 114,586
House of Ruth | DC | 84,383
Pathways to Housing DC | DC | 514,025
Sasha Bruce Youthwork, Inc | DC | 129,593
Sasha Bruce Youthwork, Inc | DC | 189,057
Sasha Bruce Youthwork, Inc | DC | 67,628
SOME, Inc | DC | 323,673
SOME, Inc | DC | 513,940
SOME, Inc | DC | 101,333
The Harbor Light Center | DC | 475,935
Transitional Housing Corporation | DC | 127,720
Connections Community Support Programs Inc | DE | 212,970
Connections Community Support Programs Inc | DE | 145,572
Connections Community Support Programs Inc | DE | 152,421
Connections Community Support Programs Inc | DE | 539,231
Connections Community Support Programs Inc | DE | 149,429
Connections Community Support Programs Inc | DE | 399,128
Connections Community Support Programs Inc | DE | 228,512
Connections Community Support Programs Inc | DE | 298,324
Connections Community Support Programs Inc | DE | 145,580
Connections Community Support Programs Inc | DE | 300,557
Connections Community Support Programs Inc | DE | 249,240
DHSS/Div. Substance Abuse and Mental Health | DE | 128,049
DHSS/Div. Substance Abuse and Mental Health | DE | 26,596
Homeless Planning Council of Delaware | DE | 95,000
The Ministry of Caring Inc | DE | 374,174
The Ministry of Caring Inc | DE | 212,357
The Ministry of Caring Inc | DE | 200,408
The Ministry of Caring Inc | DE | 145,034
The Ministry of Caring Inc | DE | 129,874
The Ministry of Caring Inc | DE | 45,612
The Ministry of Caring Inc | DE | 66,467
The Ministry of Caring Inc | DE | 647,696
West End Neighborhood House | DE | 252,207
YWCA Delaware Inc | DE | 323,967
2-1-1 Brevard, Inc | FL | 76,751
211 palm beach/treasure coast | FL | 155,077
2-1-1 Tampa Bay Cares, Inc | FL | 100,452
2-1-1 Tampa Bay Cares, Inc | FL | 172,454
A.H. of Monroe County, Inc (AIDS Help) | FL | 23,900
Ace Opportunities, Inc | FL | 111,495
Adopt-A-Family of the Palm Beaches, Inc | FL | 207,038
Adopt-A-Family of the Palm Beaches, Inc | FL | 207,811
Agency for Community Treatment Services, Inc (ACTS) | FL | 403,035
Agency for Community Treatment Services, Inc (ACTS) | FL | 133,334
Agency for Community Treatment Services, Inc (ACTS) | FL | 171,597
Agency for Community Treatment Services, Inc (ACTS) | FL | 50,400
Agency for Community Treatment Services, Inc (ACTS) | FL | 114,483
Agency for Community Treatment Services, Inc (ACTS) | FL | 182,305
Agency for Community Treatment Services, Inc (ACTS) | FL | 246,327
Agency for Community Treatment Services, Inc (ACTS) | FL | 93,181
Agency for Community Treatment Services, Inc (ACTS) | FL | 168,190
Aid to Victims of Domestic Abuse, Inc | FL | 106,540
Alachua County Housing Authority | FL | 8,965
Alachua County Housing Authority | FL | 80,569
Alpha House of Pinellas County | FL | 69,888
Alpha House of Tampa, Inc | FL | 229,051
Another Way, Inc | FL | 23,689
Another Way, Inc | FL | 27,244
Boley Centers, Inc | FL | 133,928
Boley Centers, Inc | FL | 64,344
Boley Centers, Inc | FL | 77,362
Boley Centers, Inc | FL | 356,438
Boley Centers, Inc | FL | 253,778
Boley Centers, Inc | FL | 468,792
Boley Centers, Inc | FL | 147,459
Boley Centers, Inc | FL | 82,554
Boley Centers, Inc | FL | 142,143
Boley Centers, Inc | FL | 581,560
Boley Centers, Inc | FL | 183,840
Brookwood Florida-Central, Inc | FL | 98,430
Broward County Board of County Commissioners | FL | 964,262
Broward County Board of County Commissioners | FL | 1,161,180
Broward County Board of County Commissioners | FL | 413,424
Broward County Board of County Commissioners | FL | 877,344
Broward County Board of County Commissioners | FL | 252,132
Broward County Board of County Commissioners | FL | 272,688
Broward County Board of County Commissioners | FL | 245,237
Broward County Board of County Commissioners | FL | 288,229
Broward County Board of County Commissioners | FL | 948,025
Broward County Board of County Commissioners | FL | 421,488
Broward County Board of County Commissioners | FL | 284,042
Broward County Board of County Commissioners | FL | 346,049
Broward County Board of County Commissioners | FL | 246,891
Broward County Board of County Commissioners | FL | 388,548
Broward County Housing Authority | FL | 1,302,132
Capital City Youth Services, Inc | FL | 165,727
Carrfour Supportive Housing | FL | 409,479
CASA (Community Action Stops Abuse, Inc) | FL | 241,031
Catholic Charities Diocese of St. Petersburg, Inc | FL | 169,927
Catholic Charities Housing, Inc | FL | 300,895
Catholic Charities of the Archdiocese of Miami, Inc | FL | 172,516
Catholic Charities, Diocese of Venice, Inc | FL | 120,137
Catholic Charities, Diocese of Venice, Inc | FL | 79,166
Charlotte County Homeless Coalition, Inc | FL | 26,707
Charlotte County Homeless Coalition, Inc | FL | 40,333
Charlotte County Homeless Coalition, Inc | FL | 49,395
Children's Home Society of Florida | FL | 129,156
Citrus County Housing Services | FL | 130,560
City of Bradenton | FL | 150,876
Clara White Mission, Inc | FL | 132,038
Coalition for the Homeless of Pasco County, Inc | FL | 33,806
Coalition for the Homeless of Pasco County, Inc | FL | 20,000
Coalition for the Hungry and Homeless of Brevard County, Inc | FL | 4,810
Coalition for the Hungry and Homeless of Brevard County, Inc | FL | 171,054
Coalition for the Hungry and Homeless of Brevard County, Inc | FL | 137,327
Coalition for the Hungry and Homeless of Brevard County, Inc | FL | 151,788
Coalition for the Hungry and Homeless of Brevard County, Inc | FL | 230,453
Columbia, Hamilton, Lafayette, Suwannee Counties CoC | FL | 32,146
Community Connections of Jacksonville, Inc | FL | 228,950
Community Connections of Jacksonville, Inc | FL | 162,380
Community Connections of Jacksonville, Inc | FL | 532,794
Covenant House Florida | FL | 185,329
Crosswinds Youth Services, Inc | FL | 88,088
Directions for Mental Health, Inc | FL | 137,761
Domestic Abuse Council, Inc | FL | 62,815
Domestic Abuse Council, Inc | FL | 125,488
Domestic Abuse Council, Inc | FL | 70,498
Emergency Services and Homeless Coalition of Jacksonville, Inc | FL | 64,374
Emergency Services and Homeless Coalition of Jacksonville, Inc | FL | 75,042
Emergency Services and Homeless Coalition of Jacksonville, Inc | FL | 463,275
Escarosa Coalition on the Homeless, Inc | FL | 108,273
Escarosa Coalition on the Homeless, Inc | FL | 18,892
Escarosa Coalition on the Homeless, Inc | FL | 31,342
ESHC of St. Johns County | FL | 62,790
ESHC of St. Johns County | FL | 55,864
ESHC of St. Johns County | FL | 89,610
Family Renew Community, Inc | FL | 19,045
Family Renew Community, Inc | FL | 52,980
FL-504 Project | FL | 54,566
FL-504 Project | FL | 85,286
Flagler Ecumenical Social Service Center, Inc dba Family Life Center | FL | 73,167
Florida Keys Outreach Coalition | FL | 175,879
Florida Keys Outreach Coalition | FL | 28,071
Fort Walton Beach, Okaloosa Walton Counties Continuum of Care | FL | 197,249
Fort Walton Beach, Okaloosa Walton Counties Continuum of Care | FL | 61,853
Fort Walton Beach, Okaloosa Walton Counties Continuum of Care | FL | 34,146
Fort Walton Beach, Okaloosa Walton Counties Continuum of Care | FL | 327,898
Ft Myers/Cape Coral/Lee County CoC | FL | 119,722
Ft Myers/Cape Coral/Lee County CoC | FL | 13,125
Ft Myers/Cape Coral/Lee County CoC | FL | 74,292
Ft Myers/Cape Coral/Lee County CoC | FL | 1,286,206
Ft Myers/Cape Coral/Lee County CoC | FL | 122,604
Ft Myers/Cape Coral/Lee County CoC | FL | 180,510
Ft Myers/Cape Coral/Lee County CoC | FL | 68,748
Ft Myers/Cape Coral/Lee County CoC | FL | 89,668
Ft Myers/Cape Coral/Lee County CoC | FL | 32,777
Ft Myers/Cape Coral/Lee County CoC | FL | 52,978
Ft Myers/Cape Coral/Lee County CoC | FL | 89,733
Ft Myers/Cape Coral/Lee County CoC | FL | 100,404
Gainesville Housing Authority | FL | 143,220
Gainesville Housing Authority | FL | 87,912
Gateway Community Services, Inc | FL | 54,727
Gateway Community Services, Inc | FL | 61,705
Goodwill of North Florida | FL | 284,588
Gulfstream Goodwill Industries, Inc | FL | 134,036
Gulfstream Goodwill Industries, Inc | FL | 410,548
Gulfstream Goodwill Industries, Inc | FL | 990,218
Haven Recovery Center, Inc | FL | 60,249
Haven Recovery Center, Inc | FL | 171,920
Haven Recovery Center, Inc | FL | 191,250
Haven Recovery Center, Inc | FL | 129,273
Haven Recovery Center, Inc | FL | 23,012
Haven Recovery Center, Inc | FL | 45,858
Highlands County Coalition for the Homeless, Inc | FL | 33,344
Homeless Coalition of Hillsborough County, Inc | FL | 278,843
Homeless Coalition of Hillsborough County, Inc | FL | 44,191
Homeless Coalition of Hillsborough County, Inc | FL | 513,702
Homeless Coalition of Polk County, Inc | FL | 116,531
Homeless Emergency Project, Inc | FL | 60,850
Homeless Emergency Project, Inc | FL | 71,000
Homeless Emergency Project, Inc | FL | 33,101
Homeless Services Network of Central Florida | FL | 283,455
Homeless Services Network of Central Florida | FL | 118,324
Homeless Services Network of Central Florida | FL | 92,809
Homeless Services Network of Central Florida | FL | 123,134
Homeless Services Network of Central Florida | FL | 136,832
Homeless Services Network of Central Florida | FL | 94,852
Homeless Services Network of Central Florida | FL | 123,553
Homeless Services Network of Central Florida | FL | 78,352
Homeless Services Network of Central Florida | FL | 363,480
Homeless Services Network of Central Florida | FL | 121,949
Homeless Services Network of Central Florida | FL | 48,999
Homeless Services Network of Central Florida | FL | 168,345
Homeless Services Network of Central Florida | FL | 52,500
Homeless Services Network of Central Florida | FL | 210,000
Homeless Services Network of Central Florida | FL | 81,885
Homeless Services Network of Central Florida | FL | 42,105
Homeless Services Network of Central Florida | FL | 118,542
Homeless Services Network of Central Florida | FL | 175,988
Homeless Services Network of Central Florida | FL | 98,043
Homeless Services Network of Central Florida | FL | 37,203
Homeless Services Network of Central Florida | FL | 96,448
Homeless Services Network of Central Florida | FL | 120,298
Homeless Services Network of Central Florida | FL | 172,647
Homeless Services Network of Central Florida | FL | 61,950
Homeless Services Network of Central Florida | FL | 181,989
Homeless Services Network of Central Florida | FL | 185,600
Homeless Services Network of Central Florida | FL | 51,747
Homeless Services Network of Central Florida | FL | 124,388
Homeless Services Network of Central Florida | FL | 156,661
Homeless Services Network of Central Florida | FL | 269,745
Homeless Services Network of Central Florida | FL | 147,787
Homeless Services Network of Central Florida | FL | 92,302
Homeless Services Network of Central Florida | FL | 127,839
Homeless Services Network of Central Florida | FL | 84,630
HOPE Family Services, Inc | FL | 25,862
HOPE Family Services, Inc | FL | 67,680
Housing Authority of the City of Tampa | FL | 175,056
Housing Authority of the City of Tampa | FL | 168,360
Housing Authority of the City of Tampa | FL | 183,840
Housing Partnership, Inc | FL | 62,587
I.M. Sulzbacher Center for the Homeless, Inc | FL | 237,169
I.M. Sulzbacher Center for the Homeless, Inc | FL | 157,460
Indian River County Board of Commissioners | FL | 153,444
Indian River County Board of Commissioners | FL | 25,856
Indian River County Board of Commissioners | FL | 104,988
Indian River County Board of Commissioners | FL | 58,000
Indian River County Board of Commissioners | FL | 36,177
Indian River County Board of Commissioners | FL | 69,048
Indian River County Board of Commissioners | FL | 88,836
Indian River County Board of Commissioners | FL | 70,063
Interfaith Ministries | FL | 146,632
Jackie Richardson | FL | 98,849
Jackie Richardson | FL | 105,199
Jacksonville Housing Authority | FL | 354,600
Jacksonville Housing Authority | FL | 189,024
Jerome Golden Center for Behavioral Health, Inc | FL | 137,615
Jerome Golden Center for Behavioral Health, Inc | FL | 386,104
Jerome Golden Center for Behavioral Health, Inc | FL | 132,255
Lakeview Center Incorporated | FL | 307,887
Lakeview Center Incorporated | FL | 105,777
Lakeview Center Incorporated | FL | 158,701
LifeStream Behavioral Center | FL | 62,160
Loaves & Fishes Soup Kitchen, Inc | FL | 248,672
Martin County Board of Commissioners | FL | 104,640
Martin County Board of Commissioners | FL | 97,548
Martin County Board of Commissioners | FL | 107,004
Mental Health Care, Inc | FL | 199,500
Mental Health Care, Inc | FL | 295,333
Mental Health Care, Inc | FL | 839,791
Mental Health Care, Inc | FL | 241,377
Mental Health Resource Center, Inc | FL | 252,317
Meridian Behavioral Healthcare, Inc | FL | 80,569
Meridian Behavioral Healthcare, Inc | FL | 63,359
Miami-Dade County | FL | 118,393
Miami-Dade County | FL | 321,509
Miami-Dade County | FL | 151,582
Miami-Dade County | FL | 923,833
Miami-Dade County | FL | 363,478
Miami-Dade County | FL | 34,188
Miami-Dade County | FL | 425,391
Miami-Dade County | FL | 216,216
Miami-Dade County | FL | 79,479
Miami-Dade County | FL | 389,996
Miami-Dade County | FL | 174,998
Miami-Dade County | FL | 737,089
Miami-Dade County | FL | 289,224
Miami-Dade County | FL | 292,660
Miami-Dade County | FL | 339,721
Miami-Dade County | FL | 712,327
Miami-Dade County | FL | 63,993
Miami-Dade County | FL | 528,062
Miami-Dade County | FL | 108,612
Miami-Dade County | FL | 714,079
Miami-Dade County | FL | 189,300
Miami-Dade County | FL | 347,128
Miami-Dade County | FL | 219,942
Miami-Dade County | FL | 534,832
Miami-Dade County | FL | 138,789
Miami-Dade County | FL | 256,812
Miami-Dade County | FL | 296,020
Miami-Dade County | FL | 85,677
Miami-Dade County | FL | 411,588
Miami-Dade County | FL | 154,980
Miami-Dade County | FL | 273,807
Miami-Dade County | FL | 177,066
Miami-Dade County | FL | 313,121
Miami-Dade County | FL | 221,184
Miami-Dade County | FL | 336,002
Miami-Dade County | FL | 12,075
Miami-Dade County | FL | 394,999
Miami-Dade County | FL | 192,664
Miami-Dade County | FL | 348,233
Miami-Dade County | FL | 278,100
Miami-Dade County | FL | 113,661
Miami-Dade County | FL | 178,171
Miami-Dade County | FL | 1,770,156
Miami-Dade County | FL | 106,992
Miami-Dade County | FL | 756,756
Miami-Dade County | FL | 162,929
Miami-Dade County | FL | 124,621
Miami-Dade County | FL | 111,240
Miami-Dade County | FL | 434,726
Miami-Dade County | FL | 46,964
Miami-Dade County | FL | 125,000
Miami-Dade County | FL | 852,655
Miami-Dade County | FL | 251,071
Miami-Dade County | FL | 33,957
Miami-Dade County | FL | 892,989
Miami-Dade County | FL | 421,296
Miami-Dade County | FL | 338,376
Miami-Dade County | FL | 150,685
Miami-Dade County | FL | 540,540
Miami-Dade County | FL | 639,348
Miami-Dade County | FL | 158,095
Miami-Dade County | FL | 129,138
Miami-Dade County | FL | 265,248
Miami-Dade County | FL | 158,448
Miami-Dade County | FL | 53,112
Miami-Dade County | FL | 348,014
Miami-Dade County | FL | 215,001
Miami-Dade County | FL | 149,891
Miami-Dade County | FL | 84,000
Miami-Dade County | FL | 40,533
Miami-Dade County | FL | 687,505
Miami-Dade County | FL | 357,790
Miami-Dade County | FL | 445,464
Miami-Dade County | FL | 469,380
Miami-Dade County | FL | 311,678
Miami-Dade County | FL | 376,666
Miami-Dade County | FL | 333,720
Miami-Dade County | FL | 124,996
Miami-Dade County | FL | 879,311
Miami-Dade County | FL | 222,480
Miami-Dade County | FL | 262,174
Miami-Dade County | FL | 1,231,524
Miami-Dade County | FL | 57,668
Miami-Dade County | FL | 580,020
Miami-Dade County | FL | 169,798
Mid-Florida Homeless Coalition, Inc | FL | 78,143
Monroe Association for Retarded Citizens, Inc | FL | 102,268
Naples/Collier County CoC | FL | 104,645
Ocala/Marion County CoC | FL | 21,646
Ocala/Marion County CoC | FL | 62,160
Ocala/Marion County CoC | FL | 58,999
Orange County Government | FL | 127,764
Orange County Government | FL | 245,700
Orange County Government | FL | 245,700
Osceola County Government | FL | 400,140
Palm Beach County Board of County Commissioners | FL | 370,176
Palm Beach County Board of County Commissioners | FL | 442,158
Panama City/Bay, Jackson Counties Projects | FL | 45,222
Pasco County Housing Authority | FL | 294,960
Peace River Center for Personal Development, Inc | FL | 184,688
Peace River Center for Personal Development, Inc | FL | 99,574
Peaceful Paths Domestic Abuse Network, Inc | FL | 46,500
Peaceful Paths Domestic Abuse Network, Inc | FL | 84,974
Project Return, Inc | FL | 153,956
Punta Gorda Housing Authority | FL | 104,208
Religious Community Services | FL | 110,054
River Region Human Services | FL | 258,775
River Region Human Services | FL | 140,025
Sarasota/Bradenton/Sarasota, Manatee Counties CoC | FL | 75,691
SAWCC, Inc | FL | 113,000
Seminole County Government | FL | 235,872
SMA Behavioral Health Services, Inc | FL | 45,198
St. Francis House, Inc | FL | 79,800
St. Lucie County Board of County Commissioners | FL | 141,888
St. Lucie County Board of County Commissioners | FL | 289,680
St. Lucie County Board of County Commissioners | FL | 142,452
St. Matthew's House, Inc | FL | 113,116
Talbot House Ministries of Lakeland, Inc | FL | 255,925
Talbot House Ministries of Lakeland, Inc | FL | 47,374
Tallahassee/Leon County CoC | FL | 345,538
Tallahassee/Leon County CoC | FL | 71,379
Tallahassee/Leon County CoC | FL | 311,104
Tallahassee/Leon County CoC | FL | 76,231
Tallahassee/Leon County CoC | FL | 73,215
The Center for Independent Living of North Florida, Inc, dba Ability1st | FL | 156,078
The House of Israel, Inc | FL | 118,939
The Lord's Place, Inc | FL | 131,171
The Lord's Place, Inc | FL | 182,984
The Lord's Place, Inc | FL | 283,023
The Neighborhood Center of West Volusia | FL | 100,000
The Salvation Army, a Georgia Corporation, for The Salvation Army of Sarasota | FL | 170,432
The Salvation Army, a Georgia Corporation, for The Salvation Army, Tampa, FL | FL | 244,745
The Salvation Army, a Georgia Corporation, for The Salvation Army, Tampa, FL | FL | 144,467
The Salvation Army, a Georgia Corporation for The Salvation Army of Palm Beach County | FL | 233,735
The Salvation Army, a Georgia Corporation, for The Salvation Army of Daytona Beach, FL | FL | 71,045
The Salvation Army, a Georgia Corporation, for The Salvation Army of Lakeland, FL | FL | 127,780
The Salvation Army, a Georgia Corporation, for The Salvation Army of Ocala, FL | FL | 107,625
The Salvation Army, Fort Lauderdale | FL | 603,641
The Spring of Tampa Bay, Inc | FL | 177,557
Three Rivers Legal Services, Inc | FL | 21,000
Tri-County Human Services, Inc | FL | 76,052
Tri-County Human Services, Inc | FL | 76,199
Volunteers of America of Florida, Inc | FL | 344,110
Volunteers of America of Florida, Inc | FL | 354,510
Volunteers of America of Florida, Inc | FL | 698,113
Volunteers of America of Florida, Inc | FL | 382,628
Volunteers of America of Florida, Inc | FL | 125,789
Volunteers of America of Florida, Inc | FL | 358,313
Volunteers of America of Florida, Inc | FL | 217,549
WestCare GulfCoast-Florida, Inc | FL | 273,000
Wilson House | FL | 96,337
Young Women's Christian Association of Tampa Bay, Inc | FL | 176,237
YWCA of Palm Beach County | FL | 229,547
ACC Dept. of Human and Economic Development | GA | 28,752
ACC Dept. of Human and Economic Development | GA | 77,068
ACC Dept. of Human and Economic Development | GA | 26,712
ACC Dept. of Human and Economic Development | GA | 105,991
ACC Dept. of Human and Economic Development | GA | 55,008
ACC Dept. of Human and Economic Development | GA | 56,834
Action Ministries, Inc | GA | 308,908
Action Ministries, Inc | GA | 486,342
Action Ministries, Inc | GA | 70,000
Action Ministries, Inc | GA | 75,651
Advantage Behavioral Health Systems | GA | 167,095
Asian American Resource Center | GA | 157,408
Atlanta Center for Self Sufficiency, Inc | GA | 60,344
Augusta Coc | GA | 181,027
Buckhead Christian Ministry | GA | 82,800
Calvary Refuge Center, Inc | GA | 203,326
CaringWorks, Inc | GA | 377,210
Chatham-Savannah Authority for the Homeless | GA | 402,917
Citizens Against Violence, Inc | GA | 265,464
City of Albany | GA | 116,217
City of Augusta, Georgia | GA | 34,545
City of Hinesville | GA | 64,929
City of Savannah, Georgia | GA | 574,560
Cobb Community Collaborative, Inc | GA | 30,000
Colquitt County Serenity House Project, Inc | GA | 198,902
Community Advanced Practice Nurses, Inc | GA | 46,423
Community Advanced Practice Nurses, Inc | GA | 18,517
Community Advanced Practice Nurses, Inc | GA | 39,039
CSRA Economic Opportunity Authority, Inc | GA | 122,198
Dalton-Whitfield Community Development Corporation | GA | 31,058
DeKalb CSB | GA | 193,732
Douglas County Community Services Board | GA | 105,639
Economic Opportunity Authority for Savannah-Chatham County Area, Inc | GA | 220,500
Families First, Inc | GA | 172,492
Fulton County Board of Commissioners | GA | 211,368
Fulton County Board of Commissioners | GA | 373,951
Fulton County Board of Commissioners | GA | 405,000
Fulton County Board of Commissioners | GA | 300,000
Fulton County Board of Commissioners | GA | 686,487
Furniture Bank of Metro Atlanta, Inc | GA | 70,009
Gateway Center | GA | 157,728
Gateway Community Service Board | GA | 282,000
Gateway Community Service Board | GA | 340,247
Genesis Shelter, Inc | GA | 136,500
Georgia Law Center on Homelessness & Poverty, Inc | GA | 295,200
Georgia Coalition Against Domestic Violence | GA | 91,072
Georgia Coalition Against Domestic Violence | GA | 342,584
Georgia Housing & Finance Authority | GA | 426,228
Georgia Housing & Finance Authority | GA | 419,628
Georgia Housing & Finance Authority | GA | 202,080
Georgia Housing & Finance Authority | GA | 171,672
Georgia Housing & Finance Authority | GA | 651,000
Georgia Housing & Finance Authority | GA | 262,788
Georgia Housing & Finance Authority | GA | 168,648
Georgia Housing & Finance Authority | GA | 277,560
Georgia Housing & Finance Authority | GA | 224,040
Georgia Housing & Finance Authority | GA | 159,528
Georgia Housing & Finance Authority | GA | 179,016
Georgia Housing & Finance Authority | GA | 234,864
Georgia Housing & Finance Authority | GA | 684,000
Georgia Housing & Finance Authority | GA | 206,472
Georgia Housing & Finance Authority | GA | 454,200
Georgia Housing & Finance Authority | GA | 89,916
Georgia Housing & Finance Authority | GA | 167,688
Georgia Housing & Finance Authority | GA | 167,760
Georgia Housing & Finance Authority | GA | 32,160
Georgia Housing & Finance Authority | GA | 161,436
Georgia Housing & Finance Authority | GA | 231,792
Georgia Housing & Finance Authority | GA | 182,748
Georgia Housing & Finance Authority | GA | 314,400
Georgia Housing & Finance Authority | GA | 126,780
Georgia Housing & Finance Authority | GA | 167,832
Georgia Housing & Finance Authority | GA | 548,136
Georgia Housing & Finance Authority | GA | 148,224
Georgia Housing & Finance Authority | GA | 74,556
Georgia Housing & Finance Authority | GA | 137,520
Georgia Housing & Finance Authority | GA | 74,484
Georgia Housing & Finance Authority | GA | 347,088
Georgia Housing & Finance Authority | GA | 113,184
Georgia Housing & Finance Authority | GA | 315,948
Georgia Housing & Finance Authority | GA | 119,856
Georgia Housing & Finance Authority | GA | 87,000
Georgia Housing & Finance Authority | GA | 72,924
Georgia Housing & Finance Authority | GA | 94,944
Georgia Housing & Finance Authority | GA | 198,480
Georgia Housing & Finance Authority | GA | 1,103,040
Georgia Housing & Finance Authority | GA | 94,764
Georgia Housing & Finance Authority | GA | 209,556
Georgia Housing & Finance Authority | GA | 295,788
Georgia Housing & Finance Authority | GA | 331,068
Georgia Housing & Finance Authority | GA | 162,540
Georgia Housing & Finance Authority | GA | 434,472
Georgia Housing & Finance Authority | GA | 441,960
Georgia Housing & Finance Authority | GA | 785,400
Georgia Housing & Finance Authority | GA | 264,756
Georgia Housing & Finance Authority | GA | 110,208
Goodwill Industries of Middle Georgia, Inc | GA | 89,761
Goodwill Industries of Middle Georgia, Inc | GA | 148,066
Goodwill Industries of Middle Georgia, Inc | GA | 110,310
Greenbriar Children's Center, Inc | GA | 398,424
Gwinnett Housing Resource Partnership, Inc dba: The IMPACT! Group | GA | 183,928
Gwinnett Housing Resource Partnership, Inc dba: The IMPACT! Group | GA | 73,447
Gwinnett Housing Resource Partnership, Inc dba: The IMPACT! Group | GA | 146,895
Hodac, Inc | GA | 42,891
Hope House, Inc | GA | 58,842
Housing Authority of Savannah | GA | 1,140,504
Housing Initiative of North Fulton | GA | 23,632
Initiative for Affordable Housing, Inc | GA | 321,418
Jerusalem House, Inc | GA | 193,704
Loaves & Fishes Ministry of Macon, Inc | GA | 97,429
Lowndes Associated Ministries to People, Inc | GA | 145,917
Lowndes Associated Ministries to People, Inc | GA | 140,571
Macon-Bibb Economic Opportunity Council, Inc | GA | 94,500
Macon-Bibb Economic Opportunity Council, Inc | GA | 99,750
Maranatha Outreach | GA | 60,178
Marietta Housing Authority | GA | 116,304
Marietta Housing Authority | GA | 218,016
Mary Hall Freedom House, Inc | GA | 292,265
Mary Hall Freedom House, Inc | GA | 424,000
Mary Hall Freedom House, Inc | GA | 287,254
MUST Ministries | GA | 35,000
MUST Ministries | GA | 133,900
MUST Ministries | GA | 70,560
MUST Ministries | GA | 35,280
New Horizons Community Service Board | GA | 45,122
Open Door Community House, Inc | GA | 267,745
Our House, Inc | GA | 47,235
Progressive Redevelopment, Inc | GA | 563,245
Rainbow Village, Inc | GA | 226,295
S.H.A.R.E. House, Inc | GA | 128,396
Saint Joseph's Mercy Care Services, Inc | GA | 36,823
South Georgia Coalition to End Homelessness | GA | 71,034
South Georgia Coalition to End Homelessness | GA | 248,500
St. Jude's Recovery Center | GA | 278,342
St. Jude's Recovery Center | GA | 449,604
Stewart Community Home, Inc | GA | 285,619
Supportive Housing Program | GA | 35,000
The Center for Family Resources | GA | 96,700
The Center for Family Resources | GA | 450,489
The Center for Family Resources | GA | 194,061
The Center for Family Resources | GA | 85,323
The Extension, Inc | GA | 104,654
The House of TIME | GA | 106,756
The House of TIME | GA | 347,079
The Quilt Youth Transitional Service, Inc | GA | 417,933
Travelers Aid of Metropolitan Atlanta, Inc | GA | 56,556
Travelers Aid of Metropolitan Atlanta, Inc | GA | 156,541
Travelers Aid of Metropolitan Atlanta, Inc | GA | 56,378
Travelers Aid of Metropolitan Atlanta, Inc | GA | 367,317
Trinity Community Ministries | GA | 195,968
Union Mission, Inc | GA | 218,875
Union Mission, Inc | GA | 169,381
Union Mission, Inc | GA | 166,436
YWCA of Northwest Georgia | GA | 173,053
Zion Hill Community Development Corporation | GA | 233,210
Zion Keepers, Inc | GA | 171,332
Zion Keepers, Inc | GA | 50,693
Government of Guam/Guam Housing & Urban Renewal Authority | GU | 123,000
Government of Guam/Guam Housing & Urban Renewal Authority | GU | 28,224
Government of Guam/Guam Housing & Urban Renewal Authority | GU | 123,100
Government of Guam/Guam Housing & Urban Renewal Authority | GU | 171,852
Government of Guam/Guam Housing & Urban Renewal Authority | GU | 313,363
Government of Guam/Guam Housing & Urban Renewal Authority | GU | 125,415
Government of Guam/Guam Housing & Urban Renewal Authority | GU | 161,448
Government of Guam/Guam Housing & Urban Renewal Authority | GU | 79,082
Alternative Structures International | HI | 147,175
Child and Family Service | HI | 84,488
Gregory House Programs | HI | 363,080
Hale Kipa, Inc | HI | 136,000
Hawaii Department of Human Services | HI | 61,440
Hawaii Department of Human Services | HI | 41,160
Hawaii Department of Human Services | HI | 77,536
Hawaii Department of Human Services | HI | 90,180
Hawaii Department of Human Services | HI | 605,124
Hawaii Department of Human Services | HI | 31,131
Hawaii Department of Human Services | HI | 489,048
Hawaii Department of Human Services | HI | 496,404
Hawaii Department of Human Services | HI | 140,388
Hawaii Department of Human Services | HI | 147,540
Hawaii Department of Human Services | HI | 115,628
Hawaii Department of Human Services | HI | 74,304
Honolulu CoC—Applicant | HI | 133,607
Honolulu CoC—Applicant | HI | 68,000
Honolulu CoC—Applicant | HI | 1,646,868
Honolulu CoC—Applicant | HI | 2,055,900
Honolulu CoC—Applicant | HI | 1,306,512
Honolulu CoC—Applicant | HI | 185,147
Honolulu CoC—Applicant | HI | 518,700
Honolulu CoC—Applicant | HI | 23,072
Housing Solutions, Inc | HI | 55,132
Ka Hale A Ke Ola Homeless Resource Centers, Inc | HI | 91,717
Ka Hale A Ke Ola Homeless Resource Centers, Inc | HI | 46,245
Legal Aid Society of Hawaii | HI | 64,669
Mental Health Kokua | HI | 876,273
Parents and Children Together Ohia Shelter | HI | 29,015
Steadfast Housing Development Corporation | HI | 36,384
Steadfast Housing Development Corporation | HI | 207,198
Steadfast Housing Development Corporation | HI | 36,960
Steadfast Housing Development Corporation | HI | 27,874
Steadfast Housing Development Corporation | HI | 33,384
Steadfast Housing Development Corporation | HI | 32,924
Steadfast Housing Development Corporation | HI | 29,653
Steadfast Housing Development Corporation | HI | 31,598
The Salvation Army ATS | HI | 289,302
The Salvation Army Family Treatment Services | HI | 183,498
United States Veterans Initiative | HI | 341,263
United States Veterans Initiative | HI | 142,282
Area Substance Abuse Council, dba. New Directions | IA | 104,223
Cedar Valley Friends of the Family | IA | 256,767
Center for Siouxland | IA | 128,168
Center for Siouxland | IA | 107,362
City of Des Moines | IA | 289,732
City of Des Moines | IA | 240,960
City of Des Moines | IA | 288,266
City of Des Moines | IA | 256,108
City of Des Moines | IA | 99,390
City of Des Moines | IA | 110,250
City of Des Moines | IA | 76,136
City of Des Moines | IA | 227,468
City of Des Moines | IA | 251,580
City of Des Moines | IA | 30,265
City of Des Moines | IA | 818,676
City of Des Moines | IA | 85,000
City of Des Moines | IA | 176,516
City of Dubuque | IA | 93,528
City of Sioux City | IA | 113,452
Community Action Agency of Siouxland | IA | 137,239
Community Corrections Improvement Association | IA | 72,187
Community Housing Initiatives, Inc | IA | 136,201
Community Housing Initiatives, Inc | IA | 380,865
Crisis Intervention & Advocacy Center | IA | 158,918
Crisis Intervention Services | IA | 36,166
Crittenton Center | IA | 184,527
Family Resources, Inc | IA | 38,946
Family Resources, Inc | IA | 39,525
Hawkeye Area Community Action Program, Inc | IA | 26,749
Hawkeye Area Community Action Program, Inc | IA | 213,827
Hawkeye Area Community Action Program, Inc | IA | 466,174
Hillcrest Family Services | IA | 71,538
Humility of Mary Housing, Inc | IA | 37,549
Humility of Mary Shelter, Inc | IA | 220,000
Humility of Mary Shelter, Inc | IA | 492,000
Humility of Mary Shelter, Inc | IA | 155,000
Humility of Mary Shelter, Inc | IA | 68,880
Iowa Institute for Community Alliances | IA | 12,600
Iowa Institute for Community Alliances | IA | 252,979
Iowa Institute for Community Alliances | IA | 87,150
Iowa Institute for Community Alliances | IA | 29,749
Manasseh House | IA | 78,828
Mason City Housing Authority | IA | 107,364
Northern Lights Alliance for the Homeless, Inc | IA | 38,713
Opening Doors | IA | 42,221
Project Concern | IA | 31,570
Shelter House Community Shelter and Transition Services | IA | 448,318
The Salvation Army | IA | 148,666
The Salvation Army | IA | 110,210
Youth and Shelter Services | IA | 191,096
Youth and Shelter Services | IA | 129,733
YWCA Clinton | IA | 49,232
Ada County Housing Authority | ID | 541,169
Ada County Housing Authority | ID | 177,192
Boise City Housing Authority | ID | 18,410
Boise City Housing Authority | ID | 7,696
Boise City Housing Authority | ID | 64,514
IHFA Project | ID | 64,795
IHFA Project | ID | 60,924
IHFA Project | ID | 111,395
IHFA Project | ID | 72,183
IHFA Project | ID | 72,715
IHFA Project | ID | 47,700
IHFA Project | ID | 42,315
IHFA Project | ID | 23,390
IHFA Project | ID | 81,450
IHFA Project | ID | 78,236
IHFA Project | ID | 63,559
IHFA Project | ID | 98,524
IHFA Project | ID | 47,370
IHFA Project | ID | 69,050
IHFA Project | ID | 39,797
IHFA Project | ID | 28,844
IHFA Project | ID | 92,180
IHFA Project | ID | 86,997
IHFA Project | ID | 111,260
IHFA Project | ID | 70,446
IHFA Project | ID | 106,988
IHFA Project | ID | 78,049
IHFA Project | ID | 147,743
IHFA Project | ID | 44,602
IHFA Project | ID | 302,244
IHFA Project | ID | 77,950
IHFA Project | ID | 71,208
IHFA Project | ID | 125,632
IHFA Project | ID | 76,135
IHFA Project | ID | 179,886
IHFA Project | ID | 54,854
IHFA Project | ID | 29,141
IHFA Project | ID | 109,740
IHFA Project | ID | 53,450
Supportive Housing and Innovative Partnerships | ID | 19,572
Women's and Children's Alliance | ID | 113,450
A Safe Haven Foundation | IL | 87,284
A Safe Haven Foundation | IL | 329,711
A Safe Haven Foundation | IL | 344,365
A Safe Haven Foundation | IL | 52,447
A Safe Haven Foundation | IL | 212,378
Abundant Faith Ministry | IL | 20,090
Abundant Faith Ministry | IL | 13,738
Affordable Housing Preservation Foundation 51st Street Y | IL | 77,553
AIDS Foundation of Chicago | IL | 994,996
AIDS Foundation of Chicago | IL | 336,539
AIDS Foundation of Chicago | IL | 2,140,276
Alexian Brothers Bonaventure House | IL | 160,847
Alliance to End Homelessness in Suburban Cook County | IL | 227,684
Ambassadors for Christ | IL | 38,616
Anna Bixby Women's Center | IL | 114,539
Anna Bixby Women's Center | IL | 77,105
Apna Ghar, Inc | IL | 123,087
B.C.M.W. Community Services | IL | 19,597
B.C.M.W. Community Services | IL | 147,871
Beacon Therapeutic Diagnostic and Treatment Center | IL | 983,922
Bethany for Children & Families | IL | 375,018
Bethany Place | IL | 187,012
Bethany Place | IL | 48,641
Bethany Place | IL | 51,955
Bethel Human Resources Corp | IL | 184,231
Breakthrough Urban Ministries, Inc | IL | 139,650
Breakthrough Urban Ministries, Inc | IL | 151,775
Breakthrough Urban Ministries, Inc | IL | 45,360
Bridge Communities, Inc | IL | 111,376
C.E.F.S. Economic Opportunity Corporation | IL | 133,350
C.E.F.S. Economic Opportunity Corporation | IL | 199,675
C.E.F.S. Economic Opportunity Corporation | IL | 96,721
Call for Help | IL | 527,382
Casa Central | IL | 434,437
Casa Central | IL | 383,904
Cathedral Shelter of Chicago | IL | 53,122
Cathedral Shelter of Chicago | IL | 35,332
Catholic Charities | IL | 468,552
Catholic Charities | IL | 195,753
Catholic Charities | IL | 1,693,872
Catholic Charities | IL | 140,000
Catholic Charities | IL | 187,128
Catholic Charities | IL | 107,100
Catholic Charities | IL | 36,313
Catholic Charities | IL | 731,105
Catholic Charities | IL | 89,379
Catholic Charities | IL | 194,713
Catholic Charities, Diocese of Joliet | IL | 754,500
Catholic Charities, Diocese of Joliet | IL | 70,000
Catholic Charities, Diocese of Joliet | IL | 122,586
Catholic Charities, Diocese of Joliet | IL | 417,484
Catholic Charities, Diocese of Joliet | IL | 53,138
Catholic Charities, Diocese of Joliet | IL | 216,230
Catholic Charities, Diocese of Joliet | IL | 842,965
CDBG Operations Corporation | IL | 86,486
CDBG Operations Corporation | IL | 96,687
CDBG Operations Corporation | IL | 344,907
CEDA Bloom-Rich | IL | 231,678
CEDA Northwest Self-Help Center, Inc | IL | 144,873
CEDA Northwest Self-Help Center, Inc | IL | 162,947
Center for Housing and Health | IL | 1,962,434
Champaign County—Champaign County Regional Planning Commission | IL | 380,256
Champaign County—Champaign County Regional Planning Commission | IL | 40,920
Champaign County—Champaign County Regional Planning Commission | IL | 6,231
Chestnut Health Systems | IL | 133,052
Chestnut Health Systems, Inc | IL | 575,674
Chestnut Health Systems, Inc | IL | 107,896
Chestnut Health Systems, Inc | IL | 269,203
Chestnut Health Systems, Inc | IL | 283,300
Chicago Department of Family & Support Services | IL | 328,296
Chicago Department of Family & Support Services | IL | 134,100
Chicago Department of Family & Support Services | IL | 402,480
Chicago Department of Family & Support Services | IL | 106,140
Chicago Department of Family & Support Services | IL | 265,836
Chicago Department of Family & Support Services | IL | 446,844
Chicago Department of Family & Support Services | IL | 318,498
Chicago Department of Family & Support Services | IL | 287,628
Chicago Department of Family & Support Services | IL | 235,392
Chicago Department of Family & Support Services | IL | 245,868
Chicago Department of Family & Support Services | IL | 102,360
Chicago Department of Family & Support Services | IL | 587,484
Chicago Department of Family & Support Services | IL | 474,540
Chicago Department of Family & Support Services | IL | 255,564
Chicago Department of Family & Support Services | IL | 268,200
Chicago Department of Family & Support Services | IL | 504,312
Chicago Department of Family & Support Services | IL | 261,960
Chicago Department of Family & Support Services | IL | 268,200
Chicago Department of Family & Support Services | IL | 447,000
Chicago Department of Family & Support Services | IL | 312,900
Chicago Department of Family & Support Services | IL | 44,700
Chicago Department of Family & Support Services | IL | 395,088
Chicago Department of Family & Support Services | IL | 42,156
Chicago Department of Family & Support Services | IL | 191,244
Chicago Department of Family & Support Services | IL | 164,844
Chicago Department of Family & Support Services | IL | 652,620
Chicago Department of Family & Support Services | IL | 591,840
Chicago Department of Family & Support Services | IL | 341,796
Chicago Department of Family & Support Services | IL | 201,240
Chicago Department of Family & Support Services | IL | 358,260
Chicago Department of Family & Support Services | IL | 391,488
Chicago Department of Family & Support Services | IL | 268,200
Chicago Department of Family & Support Services | IL | 42,156
Chicago Department of Family & Support Services | IL | 429,120
Chicago Department of Family & Support Services | IL | 647,532
Chicago Department of Family & Support Services | IL | 268,200
Chicago Department of Family & Support Services | IL | 727,284
Chicago Department of Family & Support Services | IL | 259,392
Chicago House and Social Service Agency | IL | 40,639
Chicago House and Social Service Agency | IL | 243,653
Chicago Low-Income Housing Trust Fund | IL | 178,145
Children's Home + Aid | IL | 38,650
Christian Care | IL | 78,750
Christian Community Health Center | IL | 191,489
Christian Community Health Center | IL | 2,127,900
Christian Family Ministries, The Lamb's Fold Center for Women and Children | IL | 33,250
City of Bloomington | IL | 23,700
City of Bloomington | IL | 23,082
City of Bloomington | IL | 5,217
City of Bloomington | IL | 139,046
City of Bloomington | IL | 19,367
City of Bloomington | IL | 130,914
City of Urbana | IL | 196,879
Community and Economic Development Association of Cook County, Inc | IL | 265,875
Community Crisis Center | IL | 30,135
Community Crisis Center | IL | 66,500
Community Mental Health Council, Inc | IL | 128,453
Community Mental Health Council, Inc | IL | 97,391
Community Mental Health Council, Inc | IL | 66,007
Community Mental Health Council, Inc | IL | 123,736
Community Mental Health Council, Inc | IL | 73,013
Community Supportive Living Systems, Inc | IL | 201,120
Connections for Abused Women and Their Children | IL | 23,695
Connections for the Homeless, Inc | IL | 112,560
Connections for the Homeless, Inc | IL | 71,526
Connections for the Homeless, Inc | IL | 106,975
Connections for the Homeless, Inc | IL | 187,847
Connections for the Homeless, Inc | IL | 22,869
Connections for the Homeless, Inc | IL | 117,197
Connections for the Homeless, Inc | IL | 94,535
Connections for the Homeless, Inc | IL | 43,682
Connections for the Homeless, Inc | IL | 60,000
Cornerstone Community Outreach | IL | 79,017
Cornerstone Community Outreach | IL | 44,037
Cornerstone Community Outreach | IL | 132,224
Cornerstone Services, Inc | IL | 1,702,441
Cornerstone Services, Inc | IL | 115,071
Cornerstone Services, Inc | IL | 24,948
Cornerstone Services, Inc | IL | 25,476
County of Morgan dba Morgan County MCS Community Services | IL | 75,994
Crosspoint Human Services | IL | 137,789
Deborah's Place | IL | 417,076
Deborah's Place | IL | 188,064
Deborah's Place | IL | 330,293
Deborah's Place | IL | 150,144
Decatur Housing Authority | IL | 132,924
Decatur Housing Authority | IL | 16,711
Decatur Housing Authority | IL | 45,696
DeLaCerda House, Inc | IL | 56,429
Delta Center | IL | 19,338
Dove, Inc | IL | 34,536
Dove, Inc | IL | 329,047
Dove, Inc | IL | 156,326
Dove, Inc | IL | 74,828
Dove, Inc | IL | 16,941
Dove, Inc | IL | 35,747
Dove, Inc | IL | 17,103
DuPage County Community Services | IL | 151,667
DuPage County Community Services | IL | 35,550
DuPage County Health Department | IL | 573,994
DuPage County Health Department | IL | 51,920
DuPage County Health Department | IL | 249,444
DuPage P.A.D.S., Inc | IL | 401,348
DuPage P.A.D.S., Inc | IL | 123,472
DuPage P.A.D.S., Inc | IL | 201,957
DuPage P.A.D.S., Inc | IL | 26,950
East St. Louis Housing Authority | IL | 342,096
Ecker Center for Mental Health | IL | 164,930
Ecker Center for Mental Health | IL | 173,302
EdgeAlliance | IL | 366,108
Embarras River Basin Agency, Inc | IL | 252,920
Embarras River Basin Agency, Inc | IL | 154,722
Exhibit 2 Project CoC | IL | 164,108
Exhibit 2 Project CoC | IL | 573,552
Exhibit 2 Project CoC | IL | 122,904
Exhibit 2 Project CoC | IL | 116,440
Exhibit 2 Project CoC | IL | 93,079
Exhibit 2 Project CoC | IL | 27,312
Exhibit 2 Project CoC | IL | 39,947
Exhibit 2 Project CoC | IL | 102,993
Exhibit 2 Project CoC | IL | 33,764
Exhibit 2 Project CoC | IL | 148,126
Facing Forward to End Homelessness | IL | 286,841
Facing Forward to End Homelessness | IL | 240,091
Family Rescue | IL | 58,165
Family Rescue | IL | 571,732
FEATHERFIST | IL | 129,817
FEATHERFIST | IL | 141,395
FEATHERFIST | IL | 300,843
FEATHERFIST | IL | 517,459
FEATHERFIST | IL | 259,219
FEATHERFIST | IL | 221,315
FEATHERFIST | IL | 112,483
FEATHERFIST | IL | 264,173
FEATHERFIST | IL | 114,300
FEATHERFIST | IL | 298,232
Fifth Street Renaissance | IL | 36,191
Fifth Street Renaissance | IL | 24,150
Fifth Street Renaissance | IL | 17,464
Fifth Street Renaissance | IL | 17,466
Freedom House | IL | 62,000
Freeport Area Church Cooperative | IL | 178,563
Freeport Area Church Cooperative | IL | 57,109
Good Samaritan House of Granite City, Inc | IL | 154,355
Good Samaritan Ministries-A Project of the Carbondale Interfaith Council | IL | 74,212
Goodwill Home for Veterans | IL | 167,696
Healthcare Alternative Systems, Inc | IL | 197,711
Heartland Health Outreach, Inc | IL | 126,332
Heartland Health Outreach, Inc | IL | 320,269
Heartland Health Outreach, Inc | IL | 169,845
Heartland Health Outreach, Inc | IL | 270,101
Heartland Health Outreach, Inc | IL | 100,629
Heartland Health Outreach, Inc | IL | 357,170
Heartland Health Outreach, Inc | IL | 484,722
Heartland Health Outreach, Inc | IL | 948,721
Heartland Human Care Services, Inc | IL | 41,668
Heartland Human Care Services, Inc | IL | 254,948
Heartland Human Care Services, Inc | IL | 1,534,722
Heartland Human Care Services, Inc | IL | 1,162,457
Heartland Human Care Services, Inc | IL | 316,829
Heartland Human Care Services, Inc | IL | 507,826
Helping Hands of Springfield Inc | IL | 17,466
Helping Hands of Springfield Inc | IL | 116,964
Home of the Sparrow, Inc | IL | 27,064
Home of the Sparrow, Inc | IL | 54,600
Hope Haven of DeKalb County, Inc | IL | 98,374
Hope Haven of DeKalb County, Inc | IL | 95,268
HOPE of East Central Illinois | IL | 77,552
Housing Authority of the County of Cook | IL | 157,320
Housing Authority of the County of Cook | IL | 363,132
Housing Authority of the County of DeKalb | IL | 388,776
Housing Authority of the County of DeKalb | IL | 13,704
Housing Opportunities for Women, Inc | IL | 167,813
Housing Opportunities for Women, Inc | IL | 286,520
Housing Opportunities for Women, Inc | IL | 190,181
Housing Opportunities for Women, Inc | IL | 464,308
Housing Opportunities for Women, Inc | IL | 64,920
Housing Opportunity Development Corporation | IL | 17,750
Housing Opportunity Development Corporation | IL | 47,391
Housing Options for the Mentally Ill | IL | 83,560
Housing Options for the Mentally Ill | IL | 112,962
Housing Options for the Mentally Ill | IL | 120,413
Hull House Association/Emerge Program | IL | 378,229
Human Resources Development Institute, Inc (HRDI) | IL | 427,768
Human Service Center | IL | 131,597
Human Service Center | IL | 75,668
Illinois Department of Veterans Affairs | IL | 115,588
Illinois Valley Economic Development Corporation | IL | 103,084
Inspiration Corporation | IL | 199,224
Inspiration Corporation | IL | 40,258
Inspiration Corporation | IL | 85,667
Inspiration Corporation | IL | 323,235
Inspiration Corporation | IL | 83,462
Inspiration Corporation | IL | 111,182
Interdependent Living Solutions Center | IL | 156,964
Interfaith House | IL | 364,719
I-PLUS | IL | 22,069
I-PLUS | IL | 12,805
Iroquois-Kankakee Regional Office of Education #32 | IL | 53,550
Jeannie Shelton | IL | 104,141
Kane County, Illinois | IL | 109,853
La Casa Norte | IL | 295,292
La Casa Norte | IL | 90,982
Lake County | IL | 95,648
Lake County | IL | 46,274
Lake County | IL | 42,290
Lake County | IL | 51,180
Lake County | IL | 184,940
Lake County | IL | 137,331
Lake County | IL | 45,507
Lake County | IL | 58,184
Lake County | IL | 82,766
Lake County | IL | 110,250
Lake County | IL | 314,556
Latin United Community Housing Association | IL | 32,130
Lazarus House | IL | 31,997
Lazarus House | IL | 63,927
Lazarus House | IL | 31,996
Lazarus House | IL | 54,331
Light The Way, Inc | IL | 173,387
Lincoln Park Community Shelter | IL | 212,111
M.E.R.C.Y. Communities, Inc | IL | 83,190
M.E.R.C.Y. Communities, Inc | IL | 169,614
Madison County | IL | 197,568
Madison County | IL | 308,320
Madison County | IL | 28,224
Madison County HMIS | IL | 41,362
Matthew House Inc | IL | 316,768
Matthew House Inc | IL | 204,750
Matthew House Inc | IL | 223,993
Matthew House Inc | IL | 123,866
McDermott Center | IL | 58,026
Mental Health Center of Champaign County, Inc | IL | 43,043
Mental Health Center of Champaign County, Inc | IL | 185,543
Mercy Housing Lakefront | IL | 259,631
Mercy Housing Lakefront | IL | 125,546
Mercy Housing Lakefront | IL | 368,430
Mercy Housing Lakefront | IL | 61,950
Mercy Housing Lakefront | IL | 187,833
Mid Central Community Action, Inc | IL | 32,917
Ministers United Against Human Suffering | IL | 50,000
NCO YOUTH & FAMILY SERVICES | IL | 202,584
Near West Side Community Development Corporation | IL | 97,781
New Foundation Center, Inc. (formerly WilPower, Inc.) | IL | 277,596
New Foundation Center, Inc. (formerly WilPower, Inc.) | IL | 170,245
New Moms Inc | IL | 245,039
North Side Housing and Supportive Services, Inc | IL | 76,381
North Side Housing and Supportive Services, Inc | IL | 61,271
North Side Housing and Supportive Services, Inc | IL | 105,900
North Side Housing and Supportive Services, Inc | IL | 112,120
Northwestern Memorial Hospital | IL | 301,910
Northwestern Memorial Hospital | IL | 217,518
Northwestern Memorial Hospital | IL | 153,844
PADS Lake County, Inc | IL | 226,376
PADS to HOPE, Inc | IL | 183,665
Peoria Housing Authority | IL | 168,480
Peoria Opportunities Foundation | IL | 246,505
Pillars Community Services | IL | 521,332
Pillars Community Services | IL | 477,060
Pillars Community Services | IL | 24,115
Pillars Community Services | IL | 110,000
Pillars Community Services | IL | 31,177
Pioneer Center for Human Services | IL | 105,000
Pioneer Center for Human Services | IL | 231,548
Pioneer Center for Human Services | IL | 261,821
Polish American Association | IL | 50,904
Prairie State Legal Services, Inc | IL | 68,780
Prairie State Legal Services, Inc | IL | 50,000
Project NOW, Inc | IL | 127,942
Project NOW, Inc | IL | 58,712
Project NOW, Inc | IL | 119,444
Public Action to Deliver Shelter, Inc | IL | 234,302
Public Action to Deliver Shelter, Inc | IL | 96,090
Renaissance Social Services, Inc | IL | 133,970
Renaissance Social Services, Inc | IL | 372,982
Rock Island Housing Authority | IL | 50,016
Sarah's Circle | IL | 103,563
Sarah's Circle | IL | 66,463
Shields Township | IL | 153,540
Shields Township | IL | 92,124
Single Room Housing Assistance Corp | IL | 488,047
Single Room Housing Assistance Corp | IL | 421,988
Single Room Housing Assistance Corp | IL | 365,000
South Side Office of Concern | IL | 14,962
South Side Office of Concern | IL | 52,977
South Suburban Family Shelter | IL | 281,957
South Suburban PADS | IL | 284,574
Southern Illinois Coalition for the Homeless | IL | 84,702
Southern Illinois Coalition for the Homeless | IL | 50,878
Southern Illinois Coalition for the Homeless | IL | 60,511
Springfield Housing Authority | IL | 50,388
St Leonards | IL | 42,525
St. Clair County | IL | 50,000
St. Clair County | IL | 169,439
St. Clair County | IL | 176,448
St. Clair County | IL | 38,280
St. Clair County | IL | 296,496
Stopping Woman Abuse Now | IL | 71,640
Stopping Woman Abuse Now | IL | 71,828
Stopping Woman Abuse Now | IL | 53,788
Supportive Services Development Corporation | IL | 124,000
Teen Living Programs | IL | 189,334
Teen Living Programs | IL | 128,373
The Center for Prevention of Abuse | IL | 172,759
The Center for Women in Transition | IL | 8,963
The Center of Concern | IL | 130,534
The Eagle's Nest of St. Clair County | IL | 54,465
The Inner Voice, Inc | IL | 298,237
The Inner Voice, Inc | IL | 362,611
The Inner Voice, Inc | IL | 331,601
The Inner Voice, Inc | IL | 76,484
The Inner Voice, Inc | IL | 196,062
The Interfaith Housing Development Corporation of Chicago | IL | 189,000
The Interfaith Housing Development Corporation of Chicago | IL | 77,301
The Larkin Center | IL | 300,575
The Night Ministry | IL | 74,260
The Night Ministry | IL | 144,391
The Renaissance Collaborative | IL | 166,006
The Salvation Army of Kankakee County | IL | 109,927
The Women's Center | IL | 29,308
The Women's Center | IL | 21,300
Thresholds Inc | IL | 78,489
Thresholds Inc | IL | 162,687
Thresholds Inc | IL | 351,158
Thresholds Inc | IL | 243,889
Thresholds Inc | IL | 199,489
Thresholds Inc | IL | 403,605
Thresholds Inc | IL | 152,825
Thresholds Inc | IL | 78,489
Thresholds Inc | IL | 403,199
Together We Cope | IL | 124,837
Together We Cope | IL | 190,517
Transitional Living Services | IL | 47,245
Transitional Living Services | IL | 25,762
Tri-County Opportunities Council | IL | 62,150
Trilogy Inc | IL | 237,109
Trinity Services, Inc | IL | 253,317
Unity Parenting & Counseling Inc | IL | 420,453
Unity Parenting & Counseling Inc | IL | 121,688
Unity Parenting & Counseling Inc | IL | 497,620
Unity Parenting & Counseling Inc | IL | 175,025
Urban Family & Community Centers d/b/a Primo Center for Women and Children | IL | 255,302
WellSpring Resources | IL | 281,693
West Suburban PADS | IL | 844,532
Western Illinois Regional Council—Community Action Agency | IL | 54,906
WINGS PROGRAM, INC | IL | 44,693
WINGS PROGRAM, INC | IL | 84,968
WINGS PROGRAM, INC | IL | 100,120
WINGS PROGRAM, INC | IL | 43,402
WINGS PROGRAM, INC | IL | 124,554
WINGS PROGRAM, INC | IL | 89,874
Young Men's Christian Association | IL | 231,259
Young Men's Christian Association | IL | 59,645
Young Men's Christian Association of Chicago/YMCA Network | IL | 225,546
Your Family Resource Connection | IL | 137,743
Youth Service Bureau | IL | 91,899
Youth Services Network | IL | 250,469
YWCA of Quincy | IL | 56,795
YWCA of Quincy | IL | 331,349
YWCA of Quincy | IL | 26,000
YWCA of Quincy | IL | 135,631
YWCA Peoria IL | IL | 92,912
YWCA Peoria IL | IL | 214,530
YWCA Peoria IL | IL | 196,215
A Better Way Services, Inc | IN | 149,617
AIDS Ministries/AIDS Assist of North Indiana, Inc | IN | 100,703
AIDS Ministries/AIDS Assist of North Indiana, Inc | IN | 35,558
Alternatives Incorporated of Madison County | IN | 102,317
Amethyst House, Inc | IN | 87,054
Aurora, Inc | IN | 191,835
Aurora, Inc | IN | 1,161,655
Blue River Services, Inc | IN | 44,778
Blue River Services, Inc | IN | 51,135
Bridges Community Services, Inc | IN | 171,652
Bridges Community Services, Inc | IN | 218,556
Cedars HOPE Inc I | IN | 35,700
Cedars HOPE Inc I | IN | 86,380
Center for the Homeless | IN | 33,272
Center for the Homeless | IN | 77,778
Center for the Homeless | IN | 25,902
Center for the Homeless | IN | 122,445
Center for the Homeless | IN | 135,662
Center for the Homeless | IN | 89,636
Center for the Homeless | IN | 192,593
Centerstone of Indiana | IN | 41,063
Centerstone of Indiana | IN | 253,931
Centerstone of Indiana | IN | 37,968
City of Bloomington, Indiana | IN | 65,292
City of Indianapolis | IN | 267,300
City of Indianapolis | IN | 121,132
City of Indianapolis | IN | 317,016
City of Indianapolis | IN | 120,768
City of Indianapolis | IN | 160,200
City of Indianapolis | IN | 150,960
City of Indianapolis | IN | 150,859
City of Indianapolis | IN | 71,352
City of Indianapolis | IN | 66,192
City of Indianapolis | IN | 75,480
City of Indianapolis | IN | 100,461
City of Indianapolis | IN | 149,868
City of Indianapolis | IN | 105,409
City of Indianapolis | IN | 121,233
City of Indianapolis | IN | 114,752
City of Indianapolis | IN | 140,292
City of Indianapolis | IN | 122,160
City of Indianapolis | IN | 1,427,100
City of Indianapolis | IN | 75,480
City of Indianapolis | IN | 159,925
City of Indianapolis | IN | 377,400
City of Indianapolis | IN | 188,700
City of Indianapolis | IN | 84,199
City of South Bend, Indiana | IN | 272,448
Community Mental Health Center, Inc | IN | 57,052
Community Mental Health Center, Inc | IN | 83,084
Community Mental Health Center, Inc | IN | 107,425
Community Mental Health Center, Inc | IN | 156,767
Community Mental Health Center, Inc | IN | 302,374
Community Mental Health Center, Inc | IN | 167,505
Council on Domestic Abuse, Inc | IN | 87,743
CRWorks, Inc | IN | 140,836
ECHO Housing Corporation | IN | 97,001
ECHO Housing Corporation | IN | 231,495
Edgewater Systems For Balanced Living | IN | 119,022
Evansville Goodwill Industries, Inc | IN | 220,133
Family Crisis Shelter | IN | 60,558
Family Service Association of Howard County, Inc | IN | 110,858
Family Services of Elkhart County, Inc | IN | 46,856
Fort Wayne Women's Bureau, Inc | IN | 89,775
Gary Commission for Women | IN | 138,066
Genesis Outreach, Inc | IN | 42,000
Hope House, Inc | IN | 133,678
Hope House, Inc | IN | 64,890
Housing Opportunities Inc | IN | 82,601
Housing Opportunities Inc | IN | 84,484
Housing Opportunities Inc | IN | 49,450
Housing Opportunities Inc | IN | 83,167
Housing Opportunities Inc | IN | 82,734
Human Services, Inc | IN | 36,588
Human Services, Inc | IN | 108,084
Indiana Housing and Community Development Authority | IN | 608,400
Indiana Housing and Community Development Authority | IN | 182,208
Indiana Housing and Community Development Authority | IN | 53,664
Indiana Housing and Community Development Authority | IN | 98,880
Indiana Housing and Community Development Authority | IN | 121,680
Indiana Housing and Community Development Authority | IN | 306,600
Indiana Housing and Community Development Authority | IN | 69,600
Indiana Housing and Community Development Authority | IN | 75,318
Indiana Housing and Community Development Authority | IN | 363,998
Indiana Housing and Community Development Authority | IN | 111,204
Indiana Housing and Community Development Authority | IN | 290,760
Indiana Housing and Community Development Authority | IN | 284,160
Indiana Housing and Community Development Authority | IN | 98,352
Indiana Housing and Community Development Authority | IN | 44,088
Indiana Housing and Community Development Authority | IN | 610,860
Indiana Housing and Community Development Authority | IN | 473,052
Indiana Housing and Community Development Authority | IN | 273,300
Indiana Housing and Community Development Authority | IN | 420,240
Interfaith Mission, Inc d/b/a The Lighthouse | IN | 45,500
Kosciusko County Shelter for Abuse | IN | 37,556
Lafayette Transitional Housing Center, Inc | IN | 104,186
Lafayette Transitional Housing Center, Inc | IN | 75,337
Lafayette Transitional Housing Center, Inc | IN | 73,893
Life Treatment Centers | IN | 70,293
Life Treatment Centers | IN | 323,429
LifeSpring, Inc | IN | 235,570
Martha's House, Inc | IN | 133,793
Mental Health Association in Vigo County | IN | 69,475
Middle Way House, Incorporated | IN | 171,093
Oaklawn Psychiatric Center, Inc | IN | 57,148
Oaklawn Psychiatric Center, Inc | IN | 112,000
Pathfinder Services, Inc | IN | 144,478
Salvation Army | IN | 279,594
Shalom Community Center, Inc | IN | 1,002,552
St. Elizabeth Catholic Charities | IN | 187,231
Stepping Stones, Inc | IN | 78,748
The Center for Women and Families | IN | 223,144
The Stepping Stone Shelter For Women, Incorporated | IN | 183,456
United Caring Shelters, Inc | IN | 60,424
Vincent Village, Inc | IN | 52,944
Vincent Village, Inc | IN | 48,451
Vincent Village, Inc | IN | 89,788
YWCA North Central Indiana | IN | 65,000
YWCA North Central Indiana | IN | 55,130
YWCA of Evansville, IN Inc | IN | 86,865
Catholic Charities of Northeast Kansas, Inc | KS | 29,524
Catholic Charities of Northeast Kansas, Inc | KS | 100,971
Catholic Social Service | KS | 188,987
CLASS LTD | KS | 179,015
Community Action, Inc | KS | 171,550
County of Sedgwick | KS | 279,523
County of Sedgwick | KS | 41,946
Cowley County Safe Homes, Inc | KS | 133,332
Cowley County Safe Homes, Inc | KS | 245,335
Hillcrest Transitional Housing of Wyandotte County | KS | 99,919
Homeless Task Force CoC | KS | 1,359,216
Inter-Faith Ministries Wichita, Inc | KS | 56,420
Inter-Faith Ministries Wichita, Inc | KS | 43,050
Inter-Faith Ministries Wichita, Inc | KS | 106,656
Inter-Faith Ministries Wichita, Inc | KS | 138,198
Johnson County Human Services | KS | 32,700
Johnson County Human Services | KS | 7,884
Johnson County Mental Health Center | KS | 94,608
Kansas Housing Resources Corporation | KS | 133,000
Kansas Legal Services | KS | 190,607
Lawrence-Douglas County Housing Authority | KS | 87,729
Manhattan Emergency Shelter, Inc | KS | 204,656
Manhattan Emergency Shelter, Inc | KS | 151,639
Mental Health America of the Heartland | KS | 104,045
Mental Health America of the Heartland | KS | 95,587
Mid America Assistance Coalition | KS | 18,666
Mid Kansas CAP Inc | KS | 58,259
Mid Kansas CAP Inc | KS | 157,500
My Father's House Community Services, Inc | KS | 215,670
NEK-CAP, INC | KS | 160,360
New Beginnings, Inc | KS | 125,716
Plumb Place | KS | 80,007
Prairie View Inc | KS | 136,090
SAFEHOME, Inc | KS | 57,568
Salina Housing Authority | KS | 81,900
Sedgwick County Housing Department | KS | 29,340
Sedgwick County Housing Department | KS | 704,604
The Kansas City Metropolitan Lutheran Ministry | KS | 132,978
The Kansas City Metropolitan Lutheran Ministry | KS | 150,000
The Salvation Army | KS | 333,333
The Salvation Army | KS | 61,866
The Salvation Army | KS | 61,460
The Salvation Army | KS | 133,628
The Salvation Army | KS | 48,877
The Salvation Army | KS | 131,176
Topeka/Shawnee County CoC | KS | 87,200
Unified Government of Wyandotte County/KCK | KS | 55,235
Unified Government of Wyandotte County/KCK | KS | 89,945
Unified Government of Wyandotte County/KCK | KS | 53,961
Unified Government of Wyandotte County/KCK | KS | 29,565
United Methodist Open Door, Inc | KS | 80,804
United Methodist Open Door, Inc | KS | 84,377
United Methodist Open Door, Inc | KS | 56,238
United Way of the Plains | KS | 86,663
United Way of the Plains | KS | 49,498
USD 500 Kansas City Kansas Public Schools | KS | 22,660
Valeo Behavioral Health Care, Inc | KS | 109,491
Wichita Children's Home | KS | 102,566
Wichita Children's Home | KS | 166,028
Wyandot Center for Community Behavioral Healthcare | KS | 63,551
Bellewood Presbyterian Home for Children | KY | 88,327
Bellewood Presbyterian Home for Children | KY | 143,478
Bluegrass Regional Mental Health-Mental Retardation Board, Inc | KY | 165,268
Center for Independent Living Options, Inc | KY | 128,999
Choices, Inc | KY | 70,497
Chrysalis House, Inc | KY | 219,154
Chrysalis House, Inc | KY | 85,595
Chrysalis House, Inc | KY | 52,931
Coalition for the Homeless, Inc | KY | 5,332
Coalition for the Homeless, Inc | KY | 122,311
Community Action Council for Lexington-Fayette, Bourbon, Harrison, and Nicholas Counties | KY | 65,129
Daniel Pitino Shelter, Inc | KY | 266,039
Family Health Centers, Inc | KY | 255,146
Father Maloney's Boys' Haven, Inc | KY | 169,846
Home of the Innocents | KY | 88,844
Hope Center, Inc | KY | 269,334
Hope Center, Inc | KY | 166,667
House of Ruth, Inc | KY | 152,709
House of Ruth, Inc | KY | 137,694
Jefferson Street Baptist Center, Inc | KY | 69,983
Kentucky Housing Corporation | KY | 278,472
Kentucky Housing Corporation | KY | 249,804
Kentucky Housing Corporation | KY | 52,920
Kentucky Housing Corporation | KY | 10,414
Kentucky Housing Corporation | KY | 166,039
Kentucky Housing Corporation | KY | 83,363
Kentucky Housing Corporation | KY | 88,664
Kentucky Housing Corporation | KY | 150,359
Kentucky Housing Corporation | KY | 196,860
Kentucky Housing Corporation | KY | 277,702
Kentucky Housing Corporation | KY | 30,169
Kentucky Housing Corporation | KY | 80,646
Kentucky Housing Corporation | KY | 101,510
Kentucky Housing Corporation | KY | 247,800
Kentucky Housing Corporation | KY | 35,694
Kentucky Housing Corporation | KY | 78,641
Kentucky Housing Corporation | KY | 190,000
Kentucky Housing Corporation | KY | 126,055
Kentucky Housing Corporation | KY | 277,614
Kentucky Housing Corporation | KY | 176,760
Kentucky Housing Corporation | KY | 279,095
Kentucky Housing Corporation | KY | 171,615
Kentucky Housing Corporation | KY | 77,312
Kentucky Housing Corporation | KY | 93,688
Kentucky Housing Corporation | KY | 194,216
Kentucky Housing Corporation | KY | 23,568
Kentucky Housing Corporation | KY | 163,800
Kentucky Housing Corporation | KY | 50,392
Kentucky Housing Corporation | KY | 163,560
Kentucky Housing Corporation | KY | 40,341
Kentucky Housing Corporation | KY | 189,262
Kentucky Housing Corporation | KY | 94,234
Kentucky Housing Corporation | KY | 479,860
Kentucky Housing Corporation | KY | 629,293
Kentucky Housing Corporation | KY | 455,593
Kentucky Housing Corporation | KY | 222,440
Kentucky Housing Corporation | KY | 61,404
Kentucky Housing Corporation | KY | 161,946
Kentucky Housing Corporation | KY | 333,323
Kentucky Housing Corporation | KY | 63,580
Kentucky Housing Corporation | KY | 29,485
Kentucky Housing Corporation | KY | 113,724
Kentucky Housing Corporation | KY | 539,471
Kentucky Housing Corporation | KY | 105,184
Kentucky Housing Corporation | KY | 200,108
Kentucky Housing Corporation | KY | 618,877
Kentucky Housing Corporation | KY | 66,500
Kentucky Housing Corporation | KY | 168,191
Kentucky Housing Corporation | KY | 225,438
Kentucky Housing Corporation | KY | 25,727
Kentucky Housing Corporation | KY | 85,303
Lexington-Fayette Urban County Housing Authority | KY | 196,320
Louisville/Jefferson County Metro Government | KY | 38,249
Louisville/Jefferson County Metro Government | KY | 1,713,732
Louisville/Jefferson County Metro Government | KY | 36,672
Louisville/Jefferson County Metro Government | KY | 28,224
Louisville/Jefferson County Metro Government | KY | 83,760
Louisville/Jefferson County Metro Government | KY | 32,088
Louisville/Jefferson County Metro Government | KY | 66,012
New Beginnings Bluegrass Inc | KY | 53,492
New Directions Housing Corporation | KY | 58,245
Owensboro Area Shelter, Information & Services, Inc (OASIS, Inc) | KY | 515,225
Schizophrenia Foundation, KY. | KY | 28,054
Schizophrenia Foundation, KY. | KY | 211,649
Schizophrenia Foundation, KY. | KY | 21,000
Seven Counties Services, Inc | KY | 93,060
Society of St. Vincent de Paul | KY | 115,516
Society of St. Vincent de Paul | KY | 137,938
Society of St. Vincent de Paul | KY | 420,699
Society of St. Vincent de Paul | KY | 427,747
The Center for Women and Families | KY | 33,581
The Center for Women and Families | KY | 49,875
The Salvation Army Southern Territory Headquarters | KY | 119,999
Transitions, Inc | KY | 82,545
Transitions, Inc | KY | 8,767
Transitions, Inc | KY | 79,363
Transitions, Inc | KY | 236,770
Transitions, Inc | KY | 162,503
Volunteers of America of Kentucky, Inc | KY | 164,045
Volunteers of America of Kentucky, Inc | KY | 128,390
Volunteers of America of Kentucky, Inc | KY | 371,611
Volunteers of America of Kentucky, Inc | KY | 246,682
Wayside Christian Mission | KY | 81,902
Wayside Christian Mission | KY | 25,575
Wayside Christian Mission | KY | 103,369
Welcome House of No. KY, Inc | KY | 469,348
Acadiana C.A.R.E.S., Inc | LA | 102,837
Acadiana C.A.R.E.S., Inc | LA | 233,216
Acadiana C.A.R.E.S., Inc | LA | 146,178
Acadiana C.A.R.E.S., Inc | LA | 215,017
Acadiana C.A.R.E.S., Inc | LA | 59,583
Acadiana C.A.R.E.S., Inc | LA | 21,000
Acadiana Outreach Center, Inc | LA | 136,941
Acadiana Outreach Center, Inc | LA | 129,868
Acadiana Outreach Center, Inc | LA | 49,290
ASSIST Agency | LA | 97,520
Bridge House Corporation | LA | 197,189
Caddo Parish School Board | LA | 85,073
Calcasieu Parish Police Jury Housing Department | LA | 58,284
Capital Area Alliance for the Homeless | LA | 58,692
Catholic Charities Archdiocese of New Orleans | LA | 126,524
Catholic Charities Archdiocese of New Orleans | LA | 93,595
Catholic Charities Archdiocese of New Orleans | LA | 101,734
Cenla Chemical Dependency Council, Inc | LA | 208,278
Central La. Homeless Coalition Ex. 2 Applicant | LA | 58,244
Church United for Community Development | LA | 24,698
Church United for Community Development | LA | 105,305
City of Baton Rouge & Parish of East Baton Rouge | LA | 83,727
City of Baton Rouge & Parish of East Baton Rouge | LA | 46,292
City of Baton Rouge & Parish of East Baton Rouge | LA | 20,458
City of Baton Rouge & Parish of East Baton Rouge | LA | 97,334
City of Baton Rouge & Parish of East Baton Rouge | LA | 144,868
City of Baton Rouge & Parish of East Baton Rouge | LA | 177,563
City of Baton Rouge & Parish of East Baton Rouge | LA | 85,599
City of Baton Rouge & Parish of East Baton Rouge | LA | 197,204
City of Baton Rouge & Parish of East Baton Rouge | LA | 86,461
City of Baton Rouge & Parish of East Baton Rouge | LA | 63,418
City of Baton Rouge & Parish of East Baton Rouge | LA | 39,900
City of Baton Rouge & Parish of East Baton Rouge | LA | 63,661
City of Baton Rouge & Parish of East Baton Rouge | LA | 93,164
City of New Orleans—Office of Planning & Development | LA | 585,972
Community Directions, Inc | LA | 72,905
Community Directions, Inc | LA | 66,940
Community Support Programs, Inc | LA | 263,208
Community Support Programs, Inc | LA | 291,418
Community Support Programs, Inc | LA | 301,902
COUNCIL ALCOHOLISM/DRUG ABUSE OF NW LA | LA | 252,159
Covenant House | LA | 144,622
Covenant House | LA | 79,735
Elisha Ministries | LA | 85,123
Elisha Ministries | LA | 102,695
Faith House, Inc | LA | 67,998
First Evangelist Housing and Community Development Corporation | LA | 150,000
Gulf Coast Teaching Family Services | LA | 135,657
Gulf Coast Teaching Family Services, Inc | LA | 199,932
Gulf Coast Teaching Family Services, Inc | LA | 134,360
Gulf Coast Teaching Family Services, Inc | LA | 170,722
Gulf Coast Teaching Family Services, Inc | LA | 100,153
Hammond Housing Authority | LA | 180,870
Holy Cross Episcopal Church | LA | 33,944
Hope House of Central Louisiana, Inc | LA | 129,084
Housing Authority of the City of Bossier City, Louisiana | LA | 213,908
Housing Authority of the City of Bossier City, Louisiana | LA | 381,888
Housing Authority of the City of Bossier City, Louisiana | LA | 58,752
Housing Authority of the City of Sulphur | LA | 144,336
Iberia Homeless Shelter Inc | LA | 33,040
Inner City Revitalization Corp | LA | 33,333
Jefferson Parish Department of Community Development | LA | 350,880
Jefferson Parish Human Services Authority | LA | 281,336
LAEHCY | LA | 62,092
Lafayette Catholic Service Centers, Inc | LA | 30,975
Lafayette Catholic Service Centers, Inc | LA | 336,712
Lafayette Catholic Service Centers, Inc | LA | 35,401
Lafayette Catholic Service Centers, Inc | LA | 35,087
Lafayette Catholic Service Centers, Inc | LA | 100,533
Lake Charles Housing Authority | LA | 92,400
Metropolitan Center for Women and Children, Inc | LA | 113,344
Metropolitan Human Services District | LA | 1,195,188
Monroe Housing Authority | LA | 145,824
NAMI New Orleans | LA | 157,093
Our House, Inc | LA | 57,447
Philadelphia Center | LA | 176,400
Providence House | LA | 91,535
Providence House | LA | 161,481
Rays of Sonshine | LA | 149,737
Responsibility House, Inc | LA | 136,221
Responsibility House, Inc | LA | 208,528
Shreveport SRO, Inc dba Centerpoint Community Services | LA | 62,133
Shreveport SRO, Inc dba Centerpoint Community Services | LA | 125,200
Southeast Louisiana State Hospital | LA | 166,497
Southeast Louisiana State Hospital | LA | 80,134
Southeast Louisiana State Hospital | LA | 68,431
Southeast Louisiana State Hospital | LA | 163,257
Southeast Spouse Abuse Program | LA | 147,993
Southeast Spouse Abuse Program | LA | 87,978
Southeastern Louisiana University | LA | 148,109
St. Martin, Iberia, Lafayette Community Action Agency (SMILE) | LA | 31,911
St. Mary Community Action Committee Association | LA | 64,496
St. Mary Community Action Committee Association | LA | 73,420
St. Tammany Parish Government | LA | 94,405
START Corporation | LA | 224,584
START Corporation | LA | 162,787
START Corporation | LA | 161,192
START Corporation | LA | 111,860
The Wellspring Alliance for Families, Inc | LA | 80,209
The Wellspring Alliance for Families, Inc | LA | 260,685
The Wellspring Alliance for Families, Inc | LA | 91,725
The Wellspring Alliance for Families, Inc | LA | 160,032
The Wellspring Alliance for Families, Inc | LA | 72,858
UNITY of Greater New Orleans | LA | 479,078
UNITY of Greater New Orleans | LA | 78,893
UNITY of Greater New Orleans | LA | 217,498
UNITY of Greater New Orleans | LA | 906,748
UNITY of Greater New Orleans | LA | 570,084
UNITY of Greater New Orleans | LA | 99,238
UNITY of Greater New Orleans | LA | 109,842
UNITY of Greater New Orleans | LA | 86,297
UNITY of Greater New Orleans | LA | 203,776
UNITY of Greater New Orleans | LA | 306,647
UNITY of Greater New Orleans | LA | 160,537
UNITY of Greater New Orleans | LA | 134,683
UNITY of Greater New Orleans | LA | 557,632
UNITY of Greater New Orleans | LA | 210,151
UNITY of Greater New Orleans | LA | 489,656
UNITY of Greater New Orleans | LA | 34,125
UNITY of Greater New Orleans | LA | 380,884
UNITY of Greater New Orleans | LA | 490,057
UNITY of Greater New Orleans | LA | 208,645
UNITY of Greater New Orleans | LA | 148,711
UNITY of Greater New Orleans | LA | 166,902
UNITY of Greater New Orleans | LA | 50,999
UNITY of Greater New Orleans | LA | 515,262
UNITY of Greater New Orleans | LA | 128,907
UNITY of Greater New Orleans | LA | 173,250
UNITY of Greater New Orleans | LA | 312,105
UNITY of Greater New Orleans | LA | 502,142
UNITY of Greater New Orleans | LA | 480,201
UNITY of Greater New Orleans | LA | 121,819
UNITY of Greater New Orleans | LA | 162,469
UNITY of Greater New Orleans | LA | 460,580
UNITY of Greater New Orleans | LA | 666,584
Vernon Community Action Council, Inc | LA | 70,092
VOA Cenla | LA | 71,671
VOA Rapides | LA | 78,720
VOA Rural | LA | 63,521
Volunteer Center Southwest Inc | LA | 116,483
Volunteers of America—Greater Baton Rouge | LA | 122,794
Volunteers of America—Greater Baton Rouge | LA | 180,507
Volunteers of America North LA | LA | 324,101
Volunteers of America North LA | LA | 144,795
Volunteers of America North LA | LA | 112,074
Volunteers of America North LA | LA | 197,400
Volunteers of America North LA | LA | 102,187
Volunteers of America of Greater New Orleans | LA | 481,497
Volunteers of America of Greater New Orleans | LA | 50,000
Volunteers of America of Greater New Orleans | LA | 161,320
Volunteers of America of Greater New Orleans | LA | 111,884
Volunteers of America of Greater New Orleans | LA | 44,343
Volunteers of America of Greater New Orleans | LA | 85,226
Volunteers of America of Greater New Orleans | LA | 538,656
Volunteers of America of Greater New Orleans | LA | 321,948
Volunteers of America of Greater New Orleans | LA | 196,288
Volunteers of America of North Louisiana | LA | 96,206
Volunteers of America, Greater Baton Rouge, Inc | LA | 173,105
Volunteers of America, Greater Baton Rouge, Inc | LA | 59,860
Women Outreaching Women | LA | 43,864
Women Outreaching Women | LA | 43,327
Action Inc | MA | 114,400
Advocates, Inc | MA | 168,022
Advocates, Inc | MA | 33,438
Advocates, Inc | MA | 83,860
Advocates, Inc | MA | 169,781
Advocates, Inc | MA | 83,860
Advocates, Inc | MA | 117,213
Barnstable Housing Authority | MA | 61,524
Barnstable Housing Authority | MA | 35,940
Barnstable Housing Authority | MA | 392,280
Berkshire Community Action Council | MA | 26,700
Berkshire Community Action Council | MA | 34,988
Berkshire Community Action Council | MA | 12,000
Berkshire Community Action Council | MA | 133,190
Brookline Community Mental Health Center | MA | 70,797
Brookline Community Mental Health Center | MA | 120,771
Brookline Housing Authority | MA | 39,552
Cambridge Housing Authority | MA | 296,640
CASPAR, Inc | MA | 114,450
CASPAR, Inc | MA | 39,138
CASPAR, Inc | MA | 150,793
CASPAR, Inc | MA | 81,498
Catholic Charitable Bureau of the Archdiocese of Boston, Inc | MA | 50,972
Catholic Social Services of Fall River, Inc | MA | 31,708
Catholic Social Services of Fall River, Inc | MA | 119,469
Catholic Social Services of Fall River, Inc | MA | 25,811
Central Massachusetts Housing Alliance, Inc | MA | 655,822
Central Massachusetts Housing Alliance, Inc | MA | 181,250
Central Massachusetts Housing Alliance, Inc | MA | 183,708
Central Massachusetts Housing Alliance, Inc | MA | 146,490
Central Massachusetts Housing Alliance, Inc | MA | 262,500
Central Massachusetts Housing Alliance, Inc | MA | 219,247
Central Massachusetts Housing Alliance, Inc | MA | 98,786
Central Massachusetts Housing Alliance, Inc | MA | 139,119
Central Massachusetts Housing Alliance, Inc | MA | 38,850
Central Massachusetts Housing Alliance, Inc | MA | 181,325
Central Massachusetts Housing Alliance, Inc | MA | 45,734
Central Massachusetts Housing Alliance, Inc | MA | 117,667
Central Massachusetts Housing Alliance, Inc | MA | 187,189
Central Massachusetts Housing Alliance, Inc | MA | 78,601
Central Massachusetts Housing Alliance, Inc | MA | 104,999
Central Massachusetts Housing Alliance, Inc | MA | 133,416
Central Massachusetts Housing Alliance, Inc | MA | 259,536
Central Massachusetts Housing Alliance, Inc | MA | 49,700
Central Massachusetts Housing Alliance, Inc | MA | 181,431
Citizens for Affordable Housing in Newton Development Organization, Inc | MA | 12,616
City of Boston Acting by and through its Public Facilities Commission by DND | MA | 32,586
City of Boston Acting by and through its Public Facilities Commission by DND | MA | 187,532
City of Boston Acting by and through its Public Facilities Commission by DND | MA | 79,869
City of Boston Acting by and through its Public Facilities Commission by DND | MA | 530,164
City of Boston Acting by and through its Public Facilities Commission by DND | MA | 199,892
City of Boston Acting by and through its Public Facilities Commission by DND | MA | 311,311
City of Boston Acting by and through its Public Facilities Commission by DND | MA | 44,100
City of Boston Acting by and through its Public Facilities Commission by DND | MA | 158,632
City of Boston Acting by and through its Public Facilities Commission by DND | MA | 217,233
City of Boston Acting by and through its Public Facilities Commission by DND | MA | 1,082,575
City of Boston Acting by and through its Public Facilities Commission by DND | MA | 435,278
City of Boston Acting by and through its Public Facilities Commission by DND | MA | 197,760
City of Boston Acting by and through its Public Facilities Commission by DND | MA | 188,161
City of Boston Acting by and through its Public Facilities Commission by DND | MA | 244,529
City of Boston Acting by and through its Public Facilities Commission by DND | MA | 1,382,236
City of Boston Acting by and through its Public Facilities Commission by DND | MA | 355,968
City of Boston Acting by and through its Public Facilities Commission by DND | MA | 118,768
City of Boston Acting by and through its Public Facilities Commission by DND | MA | 146,664
City of Boston Acting by and through its Public Facilities Commission by DND | MA | 189,034
City of Boston Acting by and through its Public Facilities Commission by DND | MA | 632,195
City of Boston Acting by and through its Public Facilities Commission by DND | MA | 187,872
City of Boston Acting by and through its Public Facilities Commission by DND | MA | 245,814
City of Boston Acting by and through its Public Facilities Commission by DND | MA | 317,808
City of Boston Acting by and through its Public Facilities Commission by DND | MA | 289,305
City of Boston Acting by and through its Public Facilities Commission by DND | MA | 310,453
City of Boston Acting by and through its Public Facilities Commission by DND | MA | 67,618
City of Boston Acting by and through its Public Facilities Commission by DND | MA | 201,048
City of Boston Acting by and through its Public Facilities Commission by DND | MA | 221,669
City of Boston Acting by and through its Public Facilities Commission by DND | MA | 37,010
City of Boston Acting by and through its Public Facilities Commission by DND | MA | 176,010
City of Boston Acting by and through its Public Facilities Commission by DND | MA | 307,434
City of Boston Acting by and through its Public Facilities Commission by DND | MA | 43,176
City of Boston Acting by and through its Public Facilities Commission by DND | MA | 237,312
City of Boston Acting by and through its Public Facilities Commission by DND | MA | 394,476
City of Boston Acting by and through its Public Facilities Commission by DND | MA | 474,531
City of Boston Acting by and through its Public Facilities Commission by DND | MA | 49,392
City of Boston Acting by and through its Public Facilities Commission by DND | MA | 197,842
City of Boston Acting by and through its Public Facilities Commission by DND | MA | 345,636
City of Boston Acting by and through its Public Facilities Commission by DND | MA | 234,780
City of Boston Acting by and through its Public Facilities Commission by DND | MA | 510,118
City of Boston Acting by and through its Public Facilities Commission by DND | MA | 470,976
City of Boston Acting by and through its Public Facilities Commission by DND | MA | 411,215
City of Boston Acting by and through its Public Facilities Commission by DND | MA | 56,889
City of Boston Acting by and through its Public Facilities Commission by DND | MA | 108,244
City of Boston Acting by and through its Public Facilities Commission by DND | MA | 28,350
City of Boston Acting by and through its Public Facilities Commission by DND | MA | 310,701
City of Boston Acting by and through its Public Facilities Commission by DND | MA | 39,552
City of Boston Acting by and through its Public Facilities Commission by DND | MA | 338,088
City of Boston Acting by and through its Public Facilities Commission by DND | MA | 131,880
City of Boston Acting by and through its Public Facilities Commission by DND | MA | 746,316
City of Boston Acting by and through its Public Facilities Commission by DND | MA | 117,331
City of Boston Acting by and through its Public Facilities Commission by DND | MA | 227,028
City of Boston Acting by and through its Public Facilities Commission by DND | MA | 295,645
City of Boston Acting by and through its Public Facilities Commission by DND | MA | 288,363
City of Boston Acting by and through its Public Facilities Commission by DND | MA | 230,830
City of Boston Acting by and through its Public Facilities Commission by DND | MA | 1,110,192
City of Boston Acting by and through its Public Facilities Commission by DND | MA | 1,749,408
City of Boston Acting by and through its Public Facilities Commission by DND | MA | 511,402
City of Boston Acting by and through its Public Facilities Commission by DND | MA | 775,812
City of Boston Acting by and through its Public Facilities Commission by DND | MA | 90,185
City of Boston Acting by and through its Public Facilities Commission by DND | MA | 565,500
City of Boston Acting by and through its Public Facilities Commission by DND | MA | 206,315
City of Boston Acting by and through its Public Facilities Commission by DND | MA | 34,617
City of Boston Acting by and through its Public Facilities Commission by DND | MA | 144,288
City of Boston Acting by and through its Public Facilities Commission by DND | MA | 231,708
City of Boston Acting by and through its Public Facilities Commission by DND | MA | 104,843
City of Boston Acting by and through its Public Facilities Commission by DND | MA | 133,369
City of Boston Acting by and through its Public Facilities Commission by DND | MA | 56,883
City of Boston Acting by and through its Public Facilities Commission by DND | MA | 387,528
City of Boston Acting by and through its Public Facilities Commission by DND | MA | 48,442
City of Boston Acting by and through its Public Facilities Commission by DND | MA | 55,777
City of Cambridge, Massachusetts | MA | 56,541
City of Cambridge, Massachusetts | MA | 18,480
City of Cambridge, Massachusetts | MA | 81,632
City of Cambridge, Massachusetts | MA | 171,142
City of Cambridge, Massachusetts | MA | 121,428
City of Cambridge, Massachusetts | MA | 125,928
City of Cambridge, Massachusetts | MA | 9,916
City of Cambridge, Massachusetts | MA | 14,386
City of Cambridge, Massachusetts | MA | 32,497
City of Cambridge, Massachusetts | MA | 52,605
City of Cambridge, Massachusetts | MA | 20,790
City of Cambridge, Massachusetts | MA | 33,600
City of Cambridge, Massachusetts | MA | 169,649
City of Cambridge, Massachusetts | MA | 51,042
City of Cambridge, Massachusetts | MA | 60,986
City of Cambridge, Massachusetts | MA | 17,724
City of Cambridge, Massachusetts | MA | 45,479
City of Cambridge, Massachusetts | MA | 438,573
City of Cambridge, Massachusetts | MA | 32,640
City of Cambridge, Massachusetts | MA | 72,198
City of Cambridge, Massachusetts | MA | 81,118
City of Cambridge, Massachusetts | MA | 19,527
City of Cambridge, Massachusetts | MA | 225,717
City of Cambridge, Massachusetts | MA | 81,118
City of Cambridge, Massachusetts | MA | 707,545
City of Cambridge, Massachusetts | MA | 57,750
City of Cambridge, Massachusetts | MA | 165,068
City of Cambridge, Massachusetts | MA | 52,295
City of Cambridge, Massachusetts | MA | 137,815
City of Cambridge, Massachusetts | MA | 58,530
City of Cambridge, Massachusetts | MA | 28,946
City of Lawrence | MA | 12,416
City of Lawrence | MA | 20,895
City of Lawrence | MA | 53,345
City of Lawrence | MA | 14,962
City of Lowell | MA | 40,325
City of Lowell | MA | 189,283
City of Lowell | MA | 67,350
City of Lowell | MA | 91,567
City of Lowell | MA | 400,894
City of Lowell | MA | 79,742
City of New Bedford | MA | 96,819
City of New Bedford | MA | 159,371
City of New Bedford | MA | 29,524
City of New Bedford | MA | 298,069
City of New Bedford | MA | 272,490
City of New Bedford | MA | 245,064
City of New Bedford | MA | 187,933
City of New Bedford | MA | 97,884
City of New Bedford | MA | 265,079
City of New Bedford | MA | 198,609
City of Northampton | MA | 72,450
City of Northampton | MA | 68,079
City of Northampton | MA | 80,351
City of Northampton | MA | 104,991
City of Northampton | MA | 55,493
City of Northampton | MA | 177,672
City of Northampton | MA | 106,022
City of Northampton | MA | 200,529
City of Northampton | MA | 100,527
City of Northampton | MA | 111,348
City of Northampton | MA | 22,312
City of Northampton | MA | 51,675
City of Northampton | MA | 242,300
City of Northampton | MA | 94,500
City of Northampton | MA | 80,760
City of Northampton | MA | 42,018
City of Quincy, MA | MA | 80,390
City of Quincy, MA | MA | 195,888
City of Quincy, MA | MA | 69,547
City of Quincy, MA | MA | 51,345
City of Quincy, MA | MA | 350,401
City of Quincy, MA | MA | 96,891
City of Quincy, MA | MA | 119,952
City of Quincy, MA | MA | 946,584
City of Quincy, MA | MA | 55,742
City of Quincy, MA | MA | 72,588
City of Quincy, MA | MA | 506,052
City of Quincy, MA | MA | 451,420
City of Quincy, MA | MA | 86,509
City of Quincy, MA | MA | 101,112
City of Springfield | MA | 524,940
City of Springfield | MA | 22,255
City of Springfield | MA | 217,908
City of Springfield | MA | 29,732
City of Springfield | MA | 96,694
City of Springfield | MA | 80,760
City of Springfield | MA | 118,831
City of Springfield | MA | 35,419
City of Springfield | MA | 152,428
City of Springfield | MA | 129,216
City of Springfield | MA | 96,912
City of Springfield | MA | 195,574
City of Springfield | MA | 201,900
City of Worcester, MA | MA | 181,582
City of Worcester, MA | MA | 647,328
City of Worcester, MA | MA | 264,960
City of Worcester, MA | MA | 353,375
City of Worcester, MA | MA | 468,226
Commonwealth of Massachusetts | MA | 689,736
Commonwealth of Massachusetts | MA | 70,000
Commonwealth of Massachusetts | MA | 47,364
Commonwealth of Massachusetts | MA | 560,676
Commonwealth of Massachusetts | MA | 126,000
Commonwealth of Massachusetts | MA | 509,284
Commonwealth of Massachusetts | MA | 31,500
Commonwealth of Massachusetts | MA | 209,880
Commonwealth of Massachusetts | MA | 668,185
Commonwealth of Massachusetts | MA | 199,137
Commonwealth of Massachusetts | MA | 63,689
Commonwealth of Massachusetts | MA | 918,583
Commonwealth of Massachusetts | MA | 193,752
Commonwealth of Massachusetts | MA | 148,380
Commonwealth of Massachusetts | MA | 195,236
Commonwealth of Massachusetts | MA | 137,976
Commonwealth of Massachusetts | MA | 193,624
Commonwealth of Massachusetts | MA | 82,656
Commonwealth of Massachusetts | MA | 714,605
Commonwealth of Massachusetts | MA | 297,312
Commonwealth of Massachusetts | MA | 290,616
Commonwealth of Massachusetts | MA | 411,336
Commonwealth of Massachusetts | MA | 84,000
Commonwealth of Massachusetts | MA | 258,788
Commonwealth of Massachusetts | MA | 840,720
Commonwealth of Massachusetts | MA | 486,803
Commonwealth of Massachusetts | MA | 43,020
Community Counseling of Bristol County, Inc | MA | 41,269
Community Counseling of Bristol County, Inc | MA | 284,094
Community Counseling of Bristol County, Inc | MA | 169,022
Community Counseling of Bristol County, Inc | MA | 64,821
Community Healthlink, Inc | MA | 363,930
Community Healthlink, Inc | MA | 246,979
Construct | MA | 41,200
Construct | MA | 23,971
Duffy Health Center, Inc | MA | 32,886
Duffy Health Center, Inc | MA | 45,849
Emmaus Inc | MA | 250,725
Emmaus Inc | MA | 102,100
Emmaus Inc | MA | 67,542
Fall River CoC | MA | 347,784
Fall River CoC | MA | 75,871
Fall River CoC | MA | 159,413
Fall River CoC | MA | 37,800
Fall River CoC | MA | 63,960
Fall River CoC | MA | 163,497
Fall River CoC | MA | 76,724
Fall River CoC | MA | 70,906
Fall River CoC | MA | 407,856
Fall River CoC | MA | 32,052
Fall River CoC | MA | 329,091
Fall River CoC | MA | 103,240
Family Life Support Center, Inc | MA | 55,300
Family Life Support Center, Inc | MA | 136,491
Family Life Support Center, Inc | MA | 26,833
Father Bills & MainSpring | MA | 102,152
Father Bills & MainSpring | MA | 38,329
Father Bills & MainSpring | MA | 41,346
Father Bills & MainSpring | MA | 162,122
Father Bills & MainSpring | MA | 182,895
Father Bills & MainSpring | MA | 119,712
Haverhill Housing Authority | MA | 65,304
Haverhill Housing Authority | MA | 130,608
Heading Home | MA | 216,409
Heading Home | MA | 131,525
Heading Home | MA | 69,869
Heading Home | MA | 67,662
Heading Home | MA | 71,678
Heading Home | MA | 69,399
Heading Home | MA | 474,503
Heading Home | MA | 69,512
Housing Assistance Corporation | MA | 66,431
Housing Assistance Corporation | MA | 76,840
Housing Assistance Corporation | MA | 76,550
Housing Assistance Corporation | MA | 48,206
Housing Families Inc | MA | 127,234
Housing For All Corporation | MA | 44,200
Just-A-Start | MA | 23,100
Lynn Housing Authority & Neighborhood Development | MA | 134,291
Lynn Housing Authority & Neighborhood Development | MA | 86,853
Lynn Housing Authority & Neighborhood Development | MA | 257,544
Lynn Housing Authority & Neighborhood Development | MA | 714,060
Lynn Housing Authority & Neighborhood Development | MA | 283,250
Lynn Housing Authority & Neighborhood Development | MA | 12,561
Lynn Housing Authority & Neighborhood Development | MA | 41,300
Lynn Housing Authority & Neighborhood Development | MA | 26,012
Lynn Housing Authority & Neighborhood Development | MA | 206,256
Lynn Housing Authority & Neighborhood Development | MA | 29,383
Lynn Housing Authority & Neighborhood Development | MA | 44,887
Lynn Housing Authority & Neighborhood Development | MA | 239,507
lynn shelter | MA | 211,146
Malden Housing Authority | MA | 139,920
Mass Department of Mental Health | MA | 224,160
Merrimack Valley Young Men's Christian Association Inc | MA | 80,665
MetroWest Legal Services | MA | 48,506
New Hope Inc | MA | 92,235
North Shore Community Action Programs, Inc (NSCAP) | MA | 31,448
North Shore Community Action Programs, Inc (NSCAP) | MA | 142,310
Old Colony Y | MA | 86,751
Old Colony Y | MA | 90,896
Pine Street Inn, Inc | MA | 28,000
Pine Street Inn, Inc | MA | 193,132
provincetown housing authority | MA | 71,880
Seeds of Hope | MA | 88,620
SMOC | MA | 116,150
SMOC | MA | 102,670
SMOC | MA | 79,128
Somerville Community Corporation | MA | 9,275
Somerville Community Corporation | MA | 176,740
Somerville Community Corporation | MA | 16,769
Somerville Homeless Coalition, Inc | MA | 163,827
Somerville Homeless Coalition, Inc | MA | 40,011
Somerville Homeless Coalition, Inc | MA | 407,396
Somerville Homeless Coalition, Inc | MA | 230,889
Somerville Homeless Coalition, Inc | MA | 131,450
Somerville Homeless Coalition, Inc | MA | 194,608
Somerville Housing Authority | MA | 130,548
South Coastal Counties Legal Services, Inc | MA | 24,937
South Shore Housing Development Corporation | MA | 42,000
The Psychological Center | MA | 138,734
The Second Step. Inc | MA | 65,810
The Second Step. Inc | MA | 94,045
The Second Step. Inc | MA | 216,473
The Second Step. Inc | MA | 63,344
Transition House Inc | MA | 14,073
Tri-City Community Action Program | MA | 84,205
Tri-City Community Action Program | MA | 143,454
Tri-City Community Action Program | MA | 175,964
Tri-City Community Action Program | MA | 183,961
Turning Point, Inc | MA | 218,649
Twin Cities Community Development Corporation | MA | 91,018
Veterans Northeast Outreach Center | MA | 135,487
Veterans Northeast Outreach Center | MA | 163,359
Vinfen Corporation | MA | 21,912
Vinfen Corporation | MA | 28,954
Vinfen Corporation | MA | 43,536
Wayside Youth and Family Support Network, Inc | MA | 235,821
YWCA of Greater Lawrence, Inc | MA | 187,950
Advocates for Homeless Families, Inc | MD | 24,008
AIDS Interfaith Residential Services, Inc | MD | 38,800
AIDS Interfaith Residential Services, Inc | MD | 147,340
AIDS Interfaith Residential Services, Inc | MD | 231,315
AIDS Interfaith Residential Services, Inc | MD | 185,039
AIDS Interfaith Residential Services, Inc | MD | 107,610
Allegany County Human Resources Development Commission, Inc | MD | 32,739
Allegany County Human Resources Development Commission, Inc | MD | 68,460
Allegany County Human Resources Development Commission, Inc | MD | 66,044
Allegany County Human Resources Development Commission, Inc | MD | 14,137
Anne Arundel County, Maryland | MD | 56,784
Anne Arundel County, Maryland | MD | 171,056
Anne Arundel County, Maryland | MD | 116,613
Anne Arundel County, Maryland | MD | 41,597
Anne Arundel County, Maryland | MD | 329,983
Anne Arundel County, Maryland | MD | 57,225
Anne Arundel County, Maryland | MD | 57,107
Anne Arundel County, Maryland | MD | 129,499
Anne Arundel County, Maryland | MD | 56,658
Anne Arundel County, Maryland | MD | 252,273
Anne Arundel County, Maryland | MD | 70,786
Anne Arundel County, Maryland | MD | 315,679
Anne Arundel County, Maryland | MD | 54,548
Associated Catholic Charities, Inc | MD | 219,231
Associated Catholic Charities, Inc | MD | 79,198
Baltimore County Department of Social Services | MD | 15,750
Baltimore County Department of Social Services | MD | 80,138
Baltimore County, Maryland Project Applicant | MD | 168,914
Baltimore Mental Health Systems, Inc | MD | 369,600
Baltimore Mental Health Systems, Inc | MD | 159,600
Baltimore Mental Health Systems, Inc | MD | 392,200
Baltimore Mental Health Systems, Inc | MD | 227,566
Baltimore Mental Health Systems, Inc | MD | 252,874
Baltimore Mental Health Systems, Inc | MD | 342,117
Baltimore Mental Health Systems, Inc | MD | 247,453
Board of County Commissioners of Calvert County, Maryland | MD | 18,252
Catholic Charities of the Archdiocese of Washington DC | MD | 86,391
Catholic Charities of the Archdiocese of Washington DC | MD | 24,245
Catholic Charities of the Archdiocese of Washington DC | MD | 76,684
Cecil County Department of Social Services | MD | 37,996
City of Frederick | MD | 135,536
City of Frederick | MD | 65,895
City of Gaithersburg-Wells/Robertson House | MD | 128,247
Community Assistance Network | MD | 174,593
Community Coalition for Affordable Housing | MD | 5,665
Community Coalition for Affordable Housing | MD | 5,665
Crossroads Community, Inc | MD | 39,019
Crossroads Community, Inc | MD | 13,456
Crossroads Community, Inc | MD | 13,584
Crossroads Community, Inc | MD | 192,763
Cumberland YMCA | MD | 70,350
Cumberland YMCA | MD | 369,536
Friends for Neighborhood Progress, Inc | MD | 47,715
Friends for Neighborhood Progress, Inc | MD | 22,418
Garrett County Community Action Committee, Inc (GCCAC) | MD | 9,843
Garrett County Community Action Committee, Inc (GCCAC) | MD | 5,720
Garrett County Community Action Committee, Inc (GCCAC) | MD | 153,305
Garrett County Community Action Committee, Inc (GCCAC) | MD | 52,473
Garrett County Community Action Committee, Inc (GCCAC) | MD | 12,974
Hagerstown/Washington County CoC | MD | 45,839
Harford County, Maryland | MD | 10,185
Harford County, Maryland | MD | 71,263
Harford County, Maryland | MD | 83,944
Harford County, Maryland | MD | 48,358
Harford County, Maryland | MD | 56,047
Harford County, Maryland | MD | 83,975
Harford County, Maryland | MD | 9,273
Harford County, Maryland | MD | 20,504
Harford County, Maryland | MD | 10,585
Harford County, Maryland | MD | 89,770
Harford County, Maryland | MD | 10,244
Heartly House, Inc | MD | 35,074
Housing Authority of St. Mary's County, MD | MD | 35,864
Housing Authority of St. Mary's County, MD | MD | 174,554
Housing Authority of St. Mary's County, MD | MD | 70,633
Housing Authority of St. Mary's County, MD | MD | 40,630
Housing Authority of St. Mary's County, MD | MD | 17,479
Housing Authority of St. Mary's County, MD | MD | 110,360
Housing Authority of St. Mary's County, MD | MD | 17,449
Housing Authority of St. Mary's County, MD | MD | 11,471
Housing Authority of St. Mary's County, MD | MD | 10,574
Housing Authority of St. Mary's County, MD | MD | 42,451
Housing Opportunities Commission | MD | 79,533
Housing Opportunities Commission | MD | 270,912
Housing Opportunities Commission | MD | 673,584
Housing Opportunities Commission | MD | 2,307,775
Housing Opportunities Commission | MD | 217,406
Howard County Government | MD | 52,363
Howard County Government | MD | 22,773
Howard County Government | MD | 130,335
Howard County Government | MD | 70,504
Howard County Government | MD | 236,433
Howard County Mental Health Authority | MD | 166,788
Human Services Developmental Corporation, Inc | MD | 73,776
Human Services Programs of Carroll County, Inc | MD | 7,668
Human Services Programs of Carroll County, Inc | MD | 42,792
Human Services Programs of Carroll County, Inc | MD | 65,402
Human Services Programs of Carroll County, Inc | MD | 15,682
Human Services Programs of Carroll County, Inc | MD | 44,000
Human Services Programs of Carroll County, Inc | MD | 86,135
Human Services Programs of Carroll County, Inc | MD | 7,668
INNterim Permanent Housing | MD | 248,745
Interfaith Works | MD | 279,825
Interfaith Works | MD | 235,903
JHP, Inc | MD | 228,186
JHP, Inc | MD | 136,761
Laurel Advocacy and Referral Services, Inc | MD | 185,770
Laurel Advocacy and Referral Services, Inc | MD | 158,815
Laurel Advocacy and Referral Services, Inc | MD | 47,265
Maryland Department of Health and Mental Hygiene | MD | 141,504
Maryland Department of Health and Mental Hygiene | MD | 173,988
Maryland Department of Health and Mental Hygiene | MD | 107,268
Maryland Department of Health and Mental Hygiene | MD | 46,044
Maryland Department of Health and Mental Hygiene | MD | 63,156
Maryland Department of Health and Mental Hygiene | MD | 224,580
Maryland Department of Health and Mental Hygiene | MD | 1,208,916
Maryland Department of Health and Mental Hygiene | MD | 161,496
Maryland Department of Health and Mental Hygiene | MD | 374,664
Maryland Department of Health and Mental Hygiene | MD | 47,808
Maryland Department of Health and Mental Hygiene | MD | 119,844
Maryland Department of Health and Mental Hygiene | MD | 122,136
Maryland Department of Health and Mental Hygiene | MD | 64,200
Maryland Department of Health and Mental Hygiene | MD | 279,228
Maryland Department of Health and Mental Hygiene | MD | 281,376
Maryland Department of Health and Mental Hygiene | MD | 86,844
Maryland Department of Health and Mental Hygiene | MD | 599,616
Maryland Department of Health and Mental Hygiene | MD | 240,060
Maryland Department of Health and Mental Hygiene | MD | 267,864
Mid-Shore Mental Health Systems, Inc | MD | 59,306
Mid-Shore Mental Health Systems, Inc | MD | 183,792
Montgomery Avenue Womens Center | MD | 138,183
Montgomery County Coalition for the Homeless | MD | 131,260
Montgomery County Coalition for the Homeless | MD | 511,058
Montgomery County Coalition for the Homeless | MD | 135,434
Montgomery County Coalition for the Homeless | MD | 134,433
Montgomery County Coalition for the Homeless | MD | 359,232
Montgomery County Coalition for the Homeless | MD | 135,435
Montgomery County Coalition for the Homeless | MD | 826,569
National Center for Children and Families | MD | 640,658
Nehemiah House, Inc | MD | 57,295
People Encouraging People, Inc | MD | 157,474
Prince George's County Department of Social Services | MD | 382,783
Prince George's County Department of Social Services | MD | 116,193
Prince George's County Department of Social Services | MD | 1,289,000
Projects—City of Baltimore | MD | 307,500
Projects—City of Baltimore | MD | 109,032
Projects—City of Baltimore | MD | 74,001
Projects—City of Baltimore | MD | 1,429,572
Projects—City of Baltimore | MD | 1,138,320
Projects—City of Baltimore | MD | 55,860
Projects—City of Baltimore | MD | 488,651
Projects—City of Baltimore | MD | 114,805
Projects—City of Baltimore | MD | 251,744
Projects—City of Baltimore | MD | 363,849
Projects—City of Baltimore | MD | 67,554
Projects—City of Baltimore | MD | 235,900
Projects—City of Baltimore | MD | 341,496
Projects—City of Baltimore | MD | 59,088
Projects—City of Baltimore | MD | 571,680
Projects—City of Baltimore | MD | 175,124
Projects—City of Baltimore | MD | 1,846,680
Projects—City of Baltimore | MD | 31,137
Projects—City of Baltimore | MD | 1,421,238
Projects—City of Baltimore | MD | 63,125
Projects—City of Baltimore | MD | 173,250
Projects—City of Baltimore | MD | 107,116
Projects—City of Baltimore | MD | 307,500
Projects—City of Baltimore | MD | 704,886
Projects—City of Baltimore | MD | 308,504
Projects—City of Baltimore | MD | 165,152
Projects—City of Baltimore | MD | 356,030
Projects—City of Baltimore | MD | 611,913
Projects—City of Baltimore | MD | 55,347
Projects—City of Baltimore | MD | 297,461
Projects—City of Baltimore | MD | 113,832
Projects—City of Baltimore | MD | 225,528
Projects—City of Baltimore | MD | 155,548
Projects—City of Baltimore | MD | 1,490,580
Projects—City of Baltimore | MD | 32,983
Projects—City of Baltimore | MD | 46,235
Projects—City of Baltimore | MD | 102,062
Projects—City of Baltimore | MD | 291,244
Projects—City of Baltimore | MD | 853,740
Projects—City of Baltimore | MD | 132,948
Projects—City of Baltimore | MD | 98,780
Projects—City of Baltimore | MD | 41,149
Projects—City of Baltimore | MD | 584,306
Projects—City of Baltimore | MD | 397,793
Projects—City of Baltimore | MD | 45,378
Projects—City of Baltimore | MD | 214,025
Projects—City of Baltimore | MD | 110,700
Projects—City of Baltimore | MD | 132,144
Projects—City of Baltimore | MD | 38,127
Projects—City of Baltimore | MD | 118,176
Projects—City of Baltimore | MD | 23,520
Projects—City of Baltimore | MD | 204,000
Projects—City of Baltimore | MD | 246,000
Projects—City of Baltimore | MD | 49,200
Projects—City of Baltimore | MD | 335,087
Projects—City of Baltimore | MD | 113,461
Projects—City of Baltimore | MD | 97,356
Projects—City of Baltimore | MD | 58,776
Projects—City of Baltimore | MD | 976,056
Projects—City of Baltimore | MD | 43,579
Projects—City of Baltimore | MD | 73,069
Projects—City of Baltimore | MD | 34,341
Projects—City of Baltimore | MD | 69,258
Projects—City of Baltimore | MD | 35,343
Projects—City of Baltimore | MD | 100,044
Projects—City of Baltimore | MD | 100,247
Projects—City of Baltimore | MD | 205,926
Projects—City of Baltimore | MD | 50,022
Projects—City of Baltimore | MD | 166,656
Projects—City of Baltimore | MD | 78,750
Prologue, Inc | MD | 431,727
Prologue, Inc | MD | 105,000
Rehabilitation Systems, Inc | MD | 132,958
Rehabilitation Systems, Inc | MD | 368,004
Rehabilitation Systems, Inc | MD | 234,720
Somerset County Health Department | MD | 221,433
Somerset County Health Department | MD | 27,622
Somerset County Health Department | MD | 14,076
Somerset County Health Department | MD | 13,468
Somerset County Health Department | MD | 13,866
Somerset County Health Department | MD | 13,447
Somerset County Health Department | MD | 421,857
United Communities Against Poverty | MD | 161,403
United Communities Against Poverty | MD | 194,852
United Communities Against Poverty | MD | 158,919
Volunteers of America Chesapeake, Inc | MD | 321,121
Washington County Community Action Council, Inc | MD | 198,729
Washington County Community Action Council, Inc | MD | 56,367
Avesta Housing Development Corporation | ME | 304,266
Bread of Life Ministries, Inc | ME | 73,500
Bread of Life Ministries, Inc | ME | 12,600
CHCS HUD TPC | ME | 18,599
City of Bangor | ME | 74,496
City of Bangor | ME | 329,292
City of Bangor | ME | 36,480
City of Bangor | ME | 36,480
City of Bangor | ME | 282,156
City of Portland | ME | 15,443
City of Portland | ME | 70,016
City of Portland | ME | 158,125
Community Housing of Maine, Inc | ME | 19,635
Counseling Services, Inc | ME | 64,410
Hope and Justice Project, Inc | ME | 27,251
Hope House/PCHC | ME | 9,975
Kennebec Behavioral Health | ME | 32,838
LearningWorks | ME | 70,652
Maine State Housing Authority | ME | 27,969
Maine State Housing Authority | ME | 154,959
Maine State Housing Authority | ME | 16,758
Maine State Housing Authority | ME | 22,715
Maine State Housing Authority | ME | 66,431
Maine State Housing Authority | ME | 163,800
MAPS/StepUP! | ME | 71,355
New Beginnings, Inc | ME | 167,116
OHI | ME | 27,900
Shaw House | ME | 95,550
Shaw House | ME | 109,068
State of Maine, Department of Health and Human Services | ME | 223,080
State of Maine, Department of Health and Human Services | ME | 86,400
State of Maine, Department of Health and Human Services | ME | 380,940
State of Maine, Department of Health and Human Services | ME | 78,432
State of Maine, Department of Health and Human Services | ME | 110,268
State of Maine, Department of Health and Human Services | ME | 1,681,032
State of Maine, Department of Health and Human Services | ME | 1,540,476
State of Maine, Department of Health and Human Services | ME | 222,660
State of Maine, Department of Health and Human Services | ME | 392,508
State of Maine, Department of Health and Human Services | ME | 1,988,208
State of Maine, Department of Health and Human Services | ME | 183,528
Tedford Housing | ME | 6,825
Tedford Housing | ME | 16,519
Washington County Association for Retarded Citizens | ME | 28,927
York County Shelter Programs, Inc | ME | 99,174
York County Shelter Programs, Inc | ME | 292,038
York County Shelter Programs, Inc | ME | 111,127
York County Shelter Programs, Inc | ME | 33,238
Youth Alternatives Ingraham, Inc | ME | 126,936
Youth Alternatives Ingraham, Inc | ME | 307,099
Youth Alternatives Ingraham, Inc | ME | 82,356
Alger Marquette Community Action Board | MI | 52,207
Alternative Community Living, Inc d/b/a New Passages Behavioral Health & Rehabilitation Services | MI | 33,469
Alternative Community Living, Inc d/b/a New Passages Behavioral Health & Rehabilitation Services | MI | 36,211
Alternatives For Girls | MI | 111,726
Ann Arbor Housing Commission | MI | 275,712
Ann Arbor Housing Commission | MI | 51,696
Ann Arbor Housing Commission | MI | 199,776
Ann Arbor Housing Commission | MI | 216,276
Ann Arbor Housing Commission | MI | 66,252
Avalon Housing, Inc | MI | 83,334
Avalon Housing, Inc | MI | 86,534
Bay Area Women's Center | MI | 60,483
Bay Area Women's Center | MI | 106,488
Branch County Coalition Against Domestic Violence | MI | 14,422
Branch County Coalition Against Domestic Violence | MI | 20,700
Capital Area Community Services, Inc | MI | 93,809
Capital Area Community Services, Inc | MI | 106,791
Cass Community Social Services, Inc | MI | 257,272
Cass Community Social Services, Inc | MI | 188,724
Cass Community Social Services, Inc | MI | 420,000
Catholic Family Services | MI | 104,240
Catholic Social Services of Wayne County | MI | 181,417
Catholic Social Services of Wayne County | MI | 355,618
Center for Women in Transition | MI | 81,736
Center for Women in Transition | MI | 38,614
Center for Women in Transition | MI | 85,795
Center for Women in Transition | MI | 23,220
Central Territorial of the Salvation Army | MI | 228,488
Central Territorial of the Salvation Army | MI | 249,854
Central Territorial of the Salvation Army | MI | 231,583
CHARTER COUNTY OF WAYNE | MI | 401,246
CHARTER COUNTY OF WAYNE | MI | 211,488
CHARTER COUNTY OF WAYNE | MI | 293,160
CHARTER COUNTY OF WAYNE | MI | 127,813
CHARTER COUNTY OF WAYNE | MI | 40,020
CHARTER COUNTY OF WAYNE | MI | 112,665
CHARTER COUNTY OF WAYNE | MI | 283,980
CHARTER COUNTY OF WAYNE | MI | 453,143
City of Lansing Project Applicant | MI | 62,842
City of Lansing Project Applicant | MI | 385,826
City of Lansing Project Applicant | MI | 97,081
City of Lansing Project Applicant | MI | 46,115
City of Lansing Project Applicant | MI | 24,000
City of Lansing Project Applicant | MI | 62,842
City of Lansing Project Applicant | MI | 585,090
City of Lansing Project Applicant | MI | 39,334
City of Lansing Project Applicant | MI | 172,900
City of Lansing Project Applicant | MI | 149,999
City of Melvindale | MI | 251,124
CMHS of Muskegon County | MI | 102,888
CMHS of Muskegon County | MI | 21,168
CMHS of Muskegon County | MI | 16,598
CMHS of Muskegon County | MI | 21,024
Coalition On Temporary Shelter | MI | 68,259
Coalition On Temporary Shelter | MI | 84,979
Coalition On Temporary Shelter | MI | 660,686
Coalition On Temporary Shelter | MI | 135,338
Coalition On Temporary Shelter | MI | 308,083
Coalition On Temporary Shelter | MI | 105,546
Common Ground | MI | 132,999
Common Ground | MI | 84,546
Common Ground | MI | 105,000
Common Ground | MI | 82,761
Community & Home Supports, Inc | MI | 680,524
Community Action Agency | MI | 269,267
Community Action Agency | MI | 54,932
Community Action Agency | MI | 56,131
Community Action Agency | MI | 190,243
Community Care Services | MI | 143,119
Community Housing Network, Inc | MI | 71,554
Community Housing Network, Inc | MI | 267,996
Community Housing Network, Inc | MI | 326,432
Community Housing Network, Inc | MI | 149,689
Community Housing Network, Inc | MI | 144,435
Community Housing Network, Inc | MI | 301,080
Community Housing Network, Inc | MI | 319,414
Community Housing Network, Inc | MI | 161,124
Community Housing Network, Inc | MI | 158,908
Community Housing Network, Inc | MI | 122,665
Community Housing Network, Inc | MI | 212,524
Community Housing Network, Inc | MI | 69,737
Community Housing Network, Inc | MI | 50,199
Community Housing Network, Inc | MI | 49,400
Community Housing Network, Inc | MI | 75,441
Community Housing Network, Inc | MI | 102,331
Community Housing Network, Inc | MI | 206,398
Community Housing Network, Inc | MI | 58,180
Community Housing Network, Inc | MI | 209,365
Community Housing Network, Inc | MI | 168,253
Community Rebuilders | MI | 256,080
Community Rebuilders | MI | 607,695
Community Rebuilders | MI | 260,310
Community Rebuilders | MI | 116,603
Comprehensive Youth Services | MI | 29,820
CORY PLACE, INC | MI | 136,666
County of Kent | MI | 390,984
County of Kent | MI | 794,616
County of Kent | MI | 141,120
Covenant House Michigan | MI | 400,233
Cynthia Haberman | MI | 76,987
Cynthia Haberman | MI | 12,223
Detroit Central City CMH, Inc | MI | 1,009,997
Detroit Rescue Mission Ministries | MI | 426,160
Detroit Rescue Mission Ministries | MI | 759,593
Detroit Rescue Mission Ministries | MI | 406,740
Detroit Rescue Mission Ministries | MI | 448,436
Detroit Rescue Mission Ministries | MI | 622,667
Detroit Rescue Mission Ministries | MI | 220,333
Detroit Rescue Mission Ministries | MI | 1,057,721
Detroit Rescue Mission Ministries | MI | 394,917
Detroit Rescue Mission Ministries | MI | 543,532
Dwelling Place of Grand Rapids, Inc | MI | 100,935
Eastern Upper Peninsula Veterans Foundation | MI | 115,166
First Step: Western Wayne County Project on Domestic Assault | MI | 47,580
First Step: Western Wayne County Project on Domestic Assault | MI | 41,657
Foundation for Mental Health—Grand Traverse/Leelanau | MI | 42,105
Foundation for Mental Health—Grand Traverse/Leelanau | MI | 12,588
Foundation for Mental Health—Grand Traverse/Leelanau | MI | 31,500
Foundation for Mental Health—Grand Traverse/Leelanau | MI | 60,170
Foundation for Mental Health—Grand Traverse/Leelanau | MI | 58,708
Freedom House | MI | 383,543
Genesee County Community Action Resource Department | MI | 176,616
Genesis Non-Profit Housing Corporation | MI | 36,750
Genesis Non-Profit Housing Corporation | MI | 32,550
Genesis Non-Profit Housing Corporation | MI | 26,250
Good Samaritan Ministries | MI | 402,066
Goodwill Industries of Northern Michigan, Inc | MI | 51,923
Goodwill Industries of Northern Michigan, Inc—HMIS | MI | 25,620
Grand Rapids Housing Commission | MI | 226,900
Grand Rapids Housing Commission | MI | 118,009
Grand Rapids Housing Commission | MI | 120,086
Grand Rapids Housing Commission | MI | 121,577
Haven of Rest Ministries | MI | 175,166
Haven of Rest Ministries | MI | 86,758
Heartside Nonprofit Housing Corporation | MI | 63,000
Heartside Nonprofit Housing Corporation | MI | 253,687
Heartside Nonprofit Housing Corporation | MI | 116,667
Homeless Action Network of Detroit | MI | 288,463
Homeless Action Network of Detroit | MI | 190,273
Housing Resource Center | MI | 84,800
Housing Resources, Inc of Kalamazoo County | MI | 65,030
Housing Resources, Inc of Kalamazoo County | MI | 120,390
Housing Resources, Inc of Kalamazoo County | MI | 317,960
Housing Resources, Inc of Kalamazoo County | MI | 77,439
Housing Services for Eaton County | MI | 197,007
Housing Services for Eaton County | MI | 49,875
Housing Services for Eaton County | MI | 14,351
Human Development Commission | MI | 244,603
Inner City Christian Federation | MI | 38,810
Jewish Vocational Service | MI | 653,153
Kalamazoo Community Mental Health & Substance Abuse Services | MI | 258,648
Kalamazoo Community Mental Health & Substance Abuse Services | MI | 109,113
Kalamazoo Community Mental Health & Substance Abuse Services | MI | 51,972
Kalamazoo Community Mental Health & Substance Abuse Services | MI | 58,052
Kalamazoo Community Mental Health & Substance Abuse Services | MI | 58,079
Kalamazoo Community Mental Health & Substance Abuse Services | MI | 38,149
Kalamazoo Community Mental Health & Substance Abuse Services | MI | 299,401
Kalamazoo Community Mental Health & Substance Abuse Services | MI | 38,803
Kalamazoo County Public Housing Commission | MI | 38,136
Lansing Housing Commission Shelter Plus Care Program | MI | 258,336
Lenawee Emergency and Affordable Housing Corporation | MI | 86,511
Lenawee Emergency and Affordable Housing Corporation | MI | 32,780
Lighthouse of Oakland County, Inc | MI | 100,762
Lighthouse of Oakland County, Inc | MI | 171,337
Lighthouse of Oakland County, Inc | MI | 76,650
Lighthouse of Oakland County, Inc | MI | 203,741
Lighthouse of Oakland County, Inc | MI | 103,106
Lighthouse of Oakland County, Inc | MI | 107,716
Livingston County Community Mental Health Authority | MI | 67,553
Livingston County Community Mental Health Authority | MI | 66,666
Lutheran Social Services of Wisconsin and Upper Michigan, Inc | MI | 104,307
Lutheran Social Services of Wisconsin and Upper Michigan, Inc | MI | 89,209
Macomb County Community Mental Health | MI | 22,816
Macomb Homeless Coalition | MI | 29,919
Macomb Homeless Coalition | MI | 28,890
Mariners Inn | MI | 289,004
Mariners Inn | MI | 105,788
Mariners Inn | MI | 243,585
Metro Community Development | MI | 21,305
Metro Community Development | MI | 89,577
Metro Community Development | MI | 205,542
Metro Community Development | MI | 62,160
Metro Community Development | MI | 50,269
Metro Community Development | MI | 124,287
Metro Community Development | MI | 28,251
Metro Community Development | MI | 24,749
Metro Community Development | MI | 76,683
Metro Community Development | MI | 322,871
Metro Community Development | MI | 247,570
Metro Community Development | MI | 105,213
Metro Community Development | MI | 66,247
Metro Community Development | MI | 60,664
Metro Community Development | MI | 61,518
Metro Community Development | MI | 230,956
Metro Community Development | MI | 342,695
Michigan Ability Partners | MI | 41,316
Michigan Ability Partners | MI | 51,100
Michigan Ability Partners | MI | 403,071
Michigan Department of Community Health | MI | 337,344
Michigan Department of Community Health | MI | 248,724
Michigan Department of Community Health | MI | 464,232
Michigan Department of Community Health | MI | 1,000,500
Michigan Department of Community Health | MI | 164,532
Michigan Department of Community Health | MI | 362,827
Michigan Department of Community Health | MI | 177,672
Michigan Department of Community Health | MI | 238,820
Michigan Department of Community Health | MI | 179,220
Michigan Department of Community Health | MI | 2,113,536
Michigan Department of Community Health | MI | 214,855
Michigan Department of Community Health | MI | 703,649
Michigan Department of Community Health | MI | 175,632
Michigan Department of Community Health | MI | 681,420
Michigan Department of Community Health | MI | 134,208
Michigan Department of Community Health | MI | 156,870
Michigan Department of Community Health | MI | 334,428
Michigan Department of Human Services | MI | 520,814
Michigan Department of Human Services | MI | 117,454
Michigan Department of Human Services | MI | 952,558
Michigan Department of Human Services | MI | 322,507
Michigan Department of Human Services | MI | 870,274
Michigan State Housing Development Authority | MI | 640,500
Michigan Veterans Foundation | MI | 709,836
Monroe County Opportunity Program | MI | 102,863
Neighborhood Legal Services Michigan | MI | 468,316
Neighborhood Legal Services Michigan | MI | 161,116
Neighborhood Legal Services Michigan | MI | 335,863
Neighborhood Legal Services Michigan | MI | 768,090
Oakland Livingston Human Service Agency | MI | 16,080
Oakland Livingston Human Service Agency | MI | 11,162
Oakland Livingston Human Service Agency | MI | 25,083
Oakland Livingston Human Service Agency | MI | 17,158
Oakland Livingston Human Service Agency | MI | 8,364
Oakland Livingston Human Service Agency | MI | 8,364
Ottawa County Community Mental Health | MI | 17,585
Ottawa County Community Mental Health | MI | 31,775
Ottawa County Community Mental Health | MI | 15,786
Ottawa County Community Mental Health | MI | 96,996
Ottawa County Community Mental Health | MI | 218,943
Ozone House, Inc | MI | 42,201
Ozone House, Inc | MI | 112,157
Peckham, Inc | MI | 146,877
Perfecting Community Development Corporation | MI | 50,818
Positive Images | MI | 700,009
POWER Inc | MI | 168,871
Relief After Violent Encounter—Ionia/Montcalm Inc | MI | 57,833
S.A.F.E. Place | MI | 85,000
Sacred Heart Rehabilitation Center, Inc | MI | 194,214
Safe Horizons | MI | 214,539
Saginaw County Community Mental Health Authority | MI | 201,456
Saginaw County Community Mental Health Authority | MI | 67,980
Saginaw County Community Mental Health Authority | MI | 117,888
Saginaw County Youth Protection Council | MI | 26,998
Saginaw County Youth Protection Council | MI | 58,263
Saginaw County Youth Protection Council | MI | 81,382
Saginaw County Youth Protection Council | MI | 39,892
Saginaw County Youth Protection Council | MI | 96,304
Saginaw Housing Commission | MI | 75,000
Saginaw Housing Commission | MI | 54,512
Saginaw Housing Commission | MI | 152,832
Saginaw Housing Commission | MI | 46,656
Saginaw Housing Commission | MI | 30,900
Saginaw Housing Commission | MI | 30,900
Saginaw Housing Commission | MI | 30,900
Sault Ste Marie Housing Commission | MI | 168,000
Shelter, Inc | MI | 44,241
Simon House | MI | 88,674
SIREN/Eaton Shelter, Inc | MI | 278,739
SOS Community Services | MI | 433,994
SOS Community Services | MI | 252,455
SOS Community Services | MI | 1,182,579
SOS Community Services | MI | 395,974
South Oakland Shelter | MI | 338,699
Southwest Counseling Solutions, Inc | MI | 941,892
Southwest Housing Solutions | MI | 202,978
Southwest Housing Solutions | MI | 129,539
St. Vincent Catholic Charities | MI | 145,149
Staircase Youth Services, Inc | MI | 101,963
Summit Pointe | MI | 67,936
The Salvation Army Eastern Michigan Division Harbor Light Special Services | MI | 466,464
Training and Treatment Innovations | MI | 115,054
Training and Treatment Innovations | MI | 109,192
Training and Treatment Innovations | MI | 150,051
Training and Treatment Innovations | MI | 151,532
Training and Treatment Innovations, Inc | MI | 118,144
Training and Treatment Innovations, Inc | MI | 112,876
Travelers Aid Society of Metropolitan Detroit | MI | 222,828
Travelers Aid Society of Metropolitan Detroit | MI | 80,655
Travelers Aid Society of Metropolitan Detroit | MI | 213,300
Travelers Aid Society of Metropolitan Detroit | MI | 867,982
Travelers Aid Society of Metropolitan Detroit | MI | 938,985
Underground Railroad, Inc | MI | 152,786
Underground Railroad, Inc | MI | 82,663
Underground Railroad, Inc | MI | 124,683
Underground Railroad, Inc | MI | 115,746
United Community Housing Coalition | MI | 569,351
United Way of Saginaw County | MI | 70,509
Wayne Metropolitan Community Action Agency | MI | 369,538
Wayne Metropolitan Community Action Agency | MI | 180,530
Wayne Metropolitan Community Action Agency | MI | 280,181
Wayne Metropolitan Community Action Agency | MI | 119,279
Wayne Metropolitan Community Action Agency | MI | 69,468
Wayne Metropolitan Community Action Agency | MI | 191,987
Wayne Metropolitan Community Action Agency | MI | 81,354
Wayne Metropolitan Community Action Agency | MI | 224,256
Wayne Metropolitan Community Action Agency | MI | 89,949
Wayne Metropolitan Community Action Agency | MI | 102,224
Wayne, Charter County of | MI | 175,143
West Michigan Therapy | MI | 45,735
West Michigan Therapy | MI | 62,000
West Michigan Therapy | MI | 234,168
West Michigan Therapy | MI | 13,333
Women Empowering Women | MI | 59,219
Women's Resource Center for the Grand Traverse Area | MI | 26,496
Women's Resource Center for the Grand Traverse Area | MI | 133,875
Women's Resource Center for the Grand Traverse Area | MI | 29,517
YWCA West Central Michigan | MI | 391,898
Advocates Against Domestic Abuse | MN | 12,420
Aeon | MN | 236,803
Aeon | MN | 77,003
Alliance Housing Inc | MN | 206,557
American Indian Community Development Corporation | MN | 81,111
American Indian Community Housing Organization | MN | 25,481
American Indian Community Housing Organization | MN | 12,434
American Indian Community Housing Organization | MN | 39,157
American Indian Community Housing Organization | MN | 35,022
American Indian Community Housing Organization | MN | 20,483
Amherst H. Wilder Foundation | MN | 105,410
Amherst H. Wilder Foundation | MN | 18,000
Amherst H. Wilder Foundation | MN | 25,000
Amherst H. Wilder Foundation | MN | 10,000
Amherst H. Wilder Foundation | MN | 49,994
Amherst H. Wilder Foundation | MN | 5,756
Amherst H. Wilder Foundation | MN | 954,260
Amherst H. Wilder Foundation | MN | 32,510
Amherst H. Wilder Foundation | MN | 28,000
Amherst H. Wilder Foundation | MN | 19,999
Amherst H. Wilder Foundation | MN | 5,829
Amherst H. Wilder Foundation | MN | 20,554
Amherst H. Wilder Foundation | MN | 42,649
Amherst H. Wilder Foundation | MN | 6,000
Arrowhead Economic Opportunity Agency | MN | 20,600
Arrowhead Economic Opportunity Agency | MN | 53,552
Arrowhead Economic Opportunity Agency | MN | 51,143
Arrowhead Economic Opportunity Agency | MN | 26,276
Bi-County Community Action Programs, Inc | MN | 19,511
Bi-County Community Action Programs, Inc | MN | 65,848
Bi-County Community Action Programs, Inc | MN | 16,800
Bi-County Community Action Programs, Inc | MN | 78,128
Bi-County Community Action Programs, Inc | MN | 33,880
Blue Earth County | MN | 129,768
Bluff Country Family Resources | MN | 35,332
Breaking Free | MN | 93,600
Breaking Free | MN | 183,676
Cabrini Partnership | MN | 183,077
Carver County CDA | MN | 98,472
Catholic Charities of the Archdiocese of St. Paul and Minneapolis | MN | 514,133
Catholic Charities St. Paul Minneapolis | MN | 309,857
center city housing | MN | 39,921
center city housing | MN | 143,000
center city housing | MN | 41,532
center city housing | MN | 78,122
center city housing | MN | 61,733
CommonBond Communities | MN | 25,000
Community Involvement Programs | MN | 25,479
Crookston Housing and Economic Development Authority | MN | 48,480
Dakota County | MN | 410,844
Dakota County CDA | MN | 228,048
East Metro Women's Council | MN | 67,814
Elim Transitional Housing, Inc | MN | 152,325
Elim Transitional Housing, Inc | MN | 30,319
Elim Transitional Housing, Inc | MN | 13,983
Elim Transitional Housing, Inc | MN | 33,101
Emerge Community Development | MN | 573,312
emma norton services | MN | 136,212
emma norton services | MN | 71,251
Evergreen House, Inc | MN | 43,905
Face to Face Health and Counseling Service, Inc | MN | 43,308
Freeport West, Inc | MN | 242,886
Freeport West, Inc | MN | 412,619
Grant County | MN | 109,536
Guild Incorporated | MN | 257,611
Heartland Community Action Agency, Inc | MN | 58,052
Heartland Community Action Agency, Inc | MN | 139,560
Hennepin County | MN | 503,868
Hennepin County | MN | 347,548
Hennepin County | MN | 196,680
Hennepin County HRA | MN | 530,880
Homeless Youth Outreach Program | MN | 38,638
Housing & Redevelopment Authority of Bemidji | MN | 40,872
Housing & Redevelopment Authority of Clay County | MN | 200,432
Housing & Redevelopment Authority of Clay County | MN | 56,666
Housing & Redevelopment Authority of Clay County | MN | 58,872
Housing and Redevelopment Authority In and For the City of Willmar MN | MN | 63,744
Housing and Redevelopment Authority In and For the City of Willmar MN | MN | 23,705
Housing and Redevelopment Authority In and For the City of Willmar MN | MN | 16,920
Housing and Redevelopment Authority of Duluth, MN | MN | 108,048
Housing and Redevelopment Authority of Duluth, MN | MN | 208,512
Housing and Redevelopment Authority of St. Cloud | MN | 196,608
Housing and Redevelopment Authority of St. Cloud | MN | 26,688
Housing and Redevelopment Authority of St. Cloud | MN | 109,200
Housing Authority of St. Louis Park | MN | 117,420
Housing Authority of St. Louis Park | MN | 105,288
Housing Authority of St. Louis Park | MN | 30,336
Housing Authority of St. Louis Park | MN | 62,568
Housing Authority of St. Louis Park | MN | 30,336
Hubbard HRA | MN | 34,150
HUMAN DEVELOPMENT CENTER | MN | 16,417
HUMAN DEVELOPMENT CENTER | MN | 74,263
HUMAN DEVELOPMENT CENTER | MN | 73,416
Human Services, Inc, in Washington County Minnesota | MN | 52,701
Human Services, Inc, in Washington County Minnesota | MN | 41,874
Itasca County HRA | MN | 58,356
Kootasca Community Action Inc | MN | 32,019
Lakes & Prairies Community Action Partnership, Inc | MN | 21,376
Lakes & Prairies Community Action Partnership, Inc | MN | 21,358
Lakes & Prairies Community Action Partnership, Inc | MN | 21,358
Lakes & Prairies Community Action Partnership, Inc | MN | 47,697
Lakes and Pines Community Action Council, Inc | MN | 121,294
Life House, Inc | MN | 19,011
LivingWorks Ventures | MN | 55,999
Lutheran Social Service of Minnesota | MN | 166,023
Lutheran Social Service of Minnesota | MN | 119,464
Lutheran Social Service of Minnesota | MN | 47,184
Mental Health Resources, Inc | MN | 173,315
Mental Health Resources, Inc | MN | 26,402
Mental Health Resources, Inc | MN | 359,042
Metropolitan Council, Minnesota | MN | 1,881,024
Metropolitan Council, Minnesota | MN | 788,808
Metropolitan Council, Minnesota | MN | 223,092
Minnesota Assistance Council for Veterans | MN | 152,250
Minnesota Assistance Council for Veterans | MN | 49,260
Minnesota Assistance Council for Veterans | MN | 58,889
Minnesota Assistance Council for Veterans | MN | 26,602
Model Cities of St. Paul, Inc | MN | 216,857
New Foundations, Inc | MN | 298,090
New Pathways, Inc | MN | 89,292
New Pathways, Inc | MN | 105,265
Northwestern Mental Health Center, Inc | MN | 47,400
Northwestern Mental Health Center, Inc | MN | 40,046
Olmsted County Community Services | MN | 117,816
Olmsted County Housing & Redevelopment Authority | MN | 98,880
Olmsted County Housing and Redevelopment Authority | MN | 24,720
Otter Tail Wadena Community Action Council, Inc | MN | 43,738
Our Saviour's Outreach Ministries | MN | 69,905
Partners for Affordable Housing | MN | 11,522
People Incorporated | MN | 45,641
People Incorporated | MN | 64,426
Perspectives, Inc | MN | 171,173
Perspectives, Inc | MN | 171,499
Plymouth Church Neighborhood Foundation | MN | 267,946
Project for Pride in Living, Inc | MN | 128,625
Ramsey County | MN | 888,624
Range Mental Health Center | MN | 41,312
Range Transitional Housing, Inc | MN | 70,500
Range Transitional Housing, Inc | MN | 133,317
Range Transitional Housing, Inc | MN | 236,828
Range Transitional Housing, Inc | MN | 91,432
Red Wing Housing and Redevelopment Authority | MN | 86,040
RESOURCE,Inc | MN | 583,903
Rice County Housing and Redevelopment Authority | MN | 64,620
RS Eden | MN | 45,486
RS Eden | MN | 149,100
Rum River Health Services, Inc | MN | 50,250
Ruths House of Hope Inc | MN | 102,494
Ruths House of Hope Inc | MN | 17,178
Safe Haven for Youth | MN | 26,889
Scott County Human Services | MN | 182,748
Scott-Carver-Dakota CAP Agency | MN | 119,961
Scott-Carver-Dakota CAP Agency | MN | 24,253
Scott-Carver-Dakota CAP Agency | MN | 28,419
Scott-Carver-Dakota CAP Agency | MN | 23,230
Simpson Housing Services, Inc | MN | 143,091
Simpson Housing Services, Inc | MN | 74,275
South Metro Human Services | MN | 48,297
Southwestern Minnesota Adult Mental Health Consortium | MN | 48,000
St. Louis County | MN | 215,280
Steele County Transitional Housing | MN | 23,751
Supportive Housing and Managed Care Pilot, aka Hearth Connection | MN | 69,204
Supportive Housing and Managed Care Pilot, aka Hearth Connection | MN | 185,976
Supportive Housing and Managed Care Pilot, aka Hearth Connection | MN | 26,724
The Link | MN | 50,075
The Salvation Army | MN | 333,577
The Salvation Army | MN | 45,108
The Salvation Army | MN | 88,098
The Salvation Army | MN | 31,081
The Salvation Army | MN | 121,817
The Salvation Army | MN | 85,575
The Salvation Army | MN | 246,784
The Salvation Army | MN | 145,166
The Salvation Army | MN | 145,149
Theresa Living Center | MN | 54,912
Theresa Living Center | MN | 84,650
Three Rivers Community Action | MN | 175,915
Three Rivers Community Action | MN | 149,665
Tubman | MN | 97,085
Violence Intervention Project | MN | 21,249
Virginia HRA | MN | 110,664
Virginia HRA | MN | 257,220
Volunteers of America of Minnesota | MN | 103,477
Washington County HRA | MN | 231,444
Western Community Action | MN | 62,354
Wings Family Supportive Services, Inc | MN | 56,961
Young Women's Christian Association | MN | 16,275
Young Women's Christian Association of St Paul MN | MN | 80,585
Young Women's Christian Association of St Paul MN | MN | 20,000
Zion Originated Outreach Ministry | MN | 75,185
Benilde Hall | MO | 51,350
Benilde Hall | MO | 100,380
Catholic Charities of Kansas City-St. Joseph, Inc | MO | 268,143
Catholic Charities of Kansas City-St. Joseph, Inc | MO | 191,100
Catholic Charities of Kansas City-St. Joseph, Inc | MO | 136,591
Catholic Charities of Kansas City-St. Joseph, Inc | MO | 216,262
Catholic Charities of Kansas City-St. Joseph, Inc | MO | 175,133
Catholic Charities of Kansas City-St. Joseph, Inc | MO | 69,338
Catholic Family Services | MO | 57,790
Church Army Inc | MO | 68,906
City of Kansas City, Missouri | MO | 313,824
City of Kansas City, Missouri | MO | 48,300
City of Kansas City, Missouri | MO | 24,856
City of Kansas City, Missouri | MO | 36,131
City of Kansas City, Missouri | MO | 125,890
City of Kansas City, Missouri | MO | 114,450
City of Kansas City, Missouri | MO | 199,399
City of Kansas City, Missouri | MO | 32,935
City of Kansas City, Missouri | MO | 133,891
City of St. Joseph | MO | 44,924
City of St. Louis | MO | 752,684
City of St. Louis | MO | 241,010
City of St. Louis | MO | 101,991
Columbia Housing Authority | MO | 325,380
Community Caring Council | MO | 186,389
Community Council of St. Charles County | MO | 67,678
Community LINC | MO | 110,058
Community Missions Corporation | MO | 83,278
Community Missions Corporation | MO | 187,278
Community Services League | MO | 126,500
Covenant House Missouri | MO | 261,450
Crider Health Center | MO | 153,153
Crider Health Center 2 | MO | 35,112
Delta Area Economic Opportunity Corporation | MO | 149,719
Delta Area Economic Opportunity Corporation | MO | 116,657
Don Bosco Community Center | MO | 81,505
Economic Security Corporation of Southwest Area | MO | 37,426
Economic Security Corporation of Southwest Area | MO | 64,088
Economic Security Corporation of Southwest Area | MO | 68,603
Economic Security Corporation of Southwest Area | MO | 38,376
Employment Connection | MO | 176,705
Employment Connection | MO | 350,457
F.A.I.T.H., Inc | MO | 43,647
Family Counseling Center, Inc | MO | 137,627
Family Counseling Center, Inc | MO | 135,780
Family Counseling Center, Inc | MO | 120,003
Family Self Help Center Inc dba Lafayette House | MO | 63,000
High Hope Employment Services, Inc | MO | 42,179
High Hope Employment Services, Inc | MO | 74,033
Housing Authority of Kansas City Missouri | MO | 110,376
Housing Authority of Kansas City Missouri | MO | 118,260
Housing Authority of Springfield | MO | 118,188
Humanitri | MO | 200,586
Humanitri | MO | 158,811
Humanitri | MO | 326,479
Jasper County Public Housing Agency | MO | 56,400
Mental Health America of the Heartland | MO | 64,099
Mid America Assistance Coalition | MO | 43,358
Missouri Association for Social Welfare | MO | 110,794
Missouri Department of Mental Health | MO | 373,488
Missouri Department of Mental Health | MO | 235,440
Missouri Department of Mental Health | MO | 115,044
Missouri Department of Mental Health | MO | 147,492
Missouri Department of Mental Health | MO | 687,048
Missouri Department of Mental Health | MO | 74,448
Missouri Department of Mental Health | MO | 417,024
Missouri Department of Mental Health | MO | 477,348
Missouri Department of Mental Health | MO | 327,420
Missouri Department of Mental Health | MO | 124,356
Missouri Department of Mental Health | MO | 372,240
Missouri Department of Mental Health | MO | 106,968
Missouri Department of Mental Health | MO | 128,532
Missouri Department of Mental Health | MO | 213,972
Missouri Department of Mental Health | MO | 139,356
Missouri Department of Mental Health | MO | 91,332
Missouri Department of Mental Health | MO | 164,244
Missouri Department of Mental Health | MO | 178,368
Missouri Department of Mental Health | MO | 917,496
Missouri Department of Mental Health | MO | 275,940
Missouri Department of Mental Health | MO | 340,800
Missouri Department of Mental Health | MO | 144,696
Missouri Department of Mental Health | MO | 1,462,560
Missouri Department of Mental Health | MO | 1,522,500
Missouri Department of Mental Health | MO | 237,240
Missouri Department of Mental Health | MO | 931,200
Missouri Department of Mental Health | MO | 126,960
Peter & Paul Community Services, Inc | MO | 298,832
Pettis County Community Partnership | MO | 118,207
Phoenix Programs, Inc | MO | 71,122
Phoenix Programs, Inc | MO | 74,113
Places for People | MO | 211,332
Preferred Family Healthcare | MO | 105,663
Queen of Peace Center | MO | 599,564
reStart, Inc | MO | 206,817
reStart, Inc | MO | 124,915
reStart, Inc | MO | 226,306
Ripley County Family Resource Center | MO | 53,570
Ripley County Family Resource Center | MO | 109,360
Rose Brooks Center, Inc | MO | 207,967
SAVE, Inc | MO | 299,483
SAVE, Inc | MO | 201,153
SEMO Christian Restoration Center | MO | 108,389
SEMO Christian Restoration Center | MO | 70,756
Shalom House | MO | 239,053
Sheffield Place | MO | 163,079
Sigma House of Springfield, Inc | MO | 82,760
Society of St. Vincent de Paul Archdiocesan Council of St. Louis | MO | 288,582
Society of St. Vincent de Paul Archdiocesan Council of St. Louis | MO | 403,154
St. Louis Office for Developmental Disability Resources | MO | 198,278
St. Louis Office for Developmental Disability Resources | MO | 179,467
St. Louis Transitional Hope House, Inc | MO | 766,669
St. Patrick Center | MO | 304,722
St. Patrick Center | MO | 528,764
St. Patrick Center | MO | 435,301
Swope Health Services | MO | 185,281
Synergy Services Inc | MO | 275,000
The Kansas City Metropolitan Lutheran Ministry | MO | 213,515
The Kitchen, Inc | MO | 393,750
The Salvation Army | MO | 236,698
The Salvation Army—Midland Division | MO | 355,681
The Salvation Army—Midland Division | MO | 26,655
The Salvation Army—Midland Division | MO | 37,450
The Salvation Army—Midland Division | MO | 148,882
The Salvation Army—Midland Division | MO | 107,887
The Salvation Army—Midland Division | MO | 80,000
The Salvation Army—Midland Division | MO | 47,452
Truman Medical Center, Inc | MO | 518,157
Young Women's Christian Associaltion of St. Joseph, Missouri | MO | 57,391
YWCA Metro St. Louis | MO | 76,597
AIDS Services Coalition | MS | 132,605
Back Bay Mission | MS | 92,160
Back Bay Mission | MS | 66,735
Back Bay Mission | MS | 38,175
Bolivar County Community Action Agency, Inc | MS | 473,286
Bolivar County Community Action Agency, Inc | MS | 176,201
Catholic Charities | MS | 169,691
Catholic Charities Inc | MS | 337,923
Forrest General Hospital | MS | 262,500
Forrest General Hospital | MS | 250,000
Grace House Inc | MS | 108,712
Gulf Coast Women's Center for Nonviolence | MS | 48,796
Gulf Coast Women's Center for Nonviolence | MS | 38,788
HIS Foundation | MS | 197,000
Jackson/Rankin, Madison Counties CoC | MS | 118,650
Jackson/Rankin, Madison Counties CoC | MS | 99,850
Lizzies House | MS | 125,793
Mental Health Association of Mississippi | MS | 27,328
Mental Health Association of Mississippi | MS | 88,166
Mental Health Association of Mississippi | MS | 61,997
Mental Health Association of Mississippi | MS | 15,544
MS United to End Homelessness | MS | 100,878
MS United to End Homelessness | MS | 155,120
MS United to End Homelessness | MS | 305,153
MS United to End Homelessness | MS | 163,518
Multi-County Community Service Agency, Inc | MS | 353,839
New Dimensions Development Foundation, Inc | MS | 159,238
New Life for Women, Inc | MS | 203,019
Open Doors Homeless Coalition | MS | 45,648
Open Doors Homeless Coalition | MS | 23,210
Recovery House, Inc | MS | 110,321
Recovery House, Inc | MS | 213,960
South Mississippi AIDS Task Force, Inc | MS | 129,046
Stewpot Community Services, Inc | MS | 49,392
The Salvation Army | MS | 199,999
The University of Southern Mississippi Institute for Disability Studies | MS | 336,000
The University of Southern Mississippi Institute for Disability Studies | MS | 182,082
District 7 Human Resources Development Council | MT | 63,868
Florence Crittenton Home and Services | MT | 124,546
God's Love, Inc | MT | 143,305
Helena Housing Authority | MT | 173,376
Housing Authority of Billings | MT | 99,180
Human Resource Development Council of District IX, Inc | MT | 20,000
Human Resources Council, District XII | MT | 90,958
Missoula County | MT | 100,201
Missoula County | MT | 147,498
Missoula Housing Authority | MT | 169,140
Missoula Housing Authority | MT | 792,936
Montana Department of Commerce | MT | 234,708
Mountain Home Montana, Inc | MT | 76,798
Northwest Montana Human Resources, Inc | MT | 35,769
Poverello Center Inc | MT | 69,467
Public Housing Authority of Butte | MT | 80,904
SAFE Harbor | MT | 67,519
Samaritan House, Inc | MT | 63,000
State of Montana | MT | 23,053
State of Montana | MT | 66,980
Supporters of Abuse Free Environments (SAFE), Inc | MT | 34,000
The YWCA of Helena, Montana | MT | 38,947
Tumbleweed Runaway Program Inc | MT | 28,489
Alamance-Caswell Area Mental Health/Developmental Disabilites/Substance Abuse Authority | NC | 213,648
Alcohol and Drug Services of Guilford, Inc | NC | 34,996
As One Ministries, Inc | NC | 56,322
As One Ministries, Inc | NC | 63,840
As One Ministries, Inc | NC | 70,427
Brunswick Family Assistance Agency, Inc | NC | 42,356
Burlington Development Corporation | NC | 74,639
Burlington Development Corporation | NC | 74,215
Cape Fear Housing for Independent Living, Inc | NC | 95,381
CenterPoint Human Services | NC | 56,889
CenterPoint Human Services | NC | 51,373
CenterPoint Human Services | NC | 209,232
CenterPoint Human Services | NC | 106,140
Christians United Outreach Center | NC | 82,284
City of High Point | NC | 77,352
City of Winston-Salem | NC | 18,355
City of Winston-Salem | NC | 26,413
City of Winston-Salem | NC | 170,472
City of Winston-Salem | NC | 56,889
City of Winston-Salem | NC | 70,206
City of Winston-Salem | NC | 17,670
City of Winston-Salem | NC | 63,960
City of Winston-Salem | NC | 43,975
City of Winston-Salem | NC | 49,614
City of Winston-Salem | NC | 172,140
City of Winston-Salem | NC | 98,122
City of Winston-Salem | NC | 47,545
City of Winston-Salem | NC | 22,575
City of Winston-Salem | NC | 14,663
City of Winston-Salem | NC | 46,475
City of Winston-Salem | NC | 38,376
City of Winston-Salem | NC | 90,511
City of Winston-Salem | NC | 118,188
City of Winston-Salem | NC | 25,000
City of Winston-Salem | NC | 56,829
Cleveland County Abuse Prevention Council | NC | 69,204
Cleveland County Abuse Prevention Council | NC | 7,152
Cleveland County Abuse Prevention Council | NC | 37,158
Coastal Horizons Center, Inc | NC | 80,619
Community Alternatives for Supportive Abodes | NC | 217,113
Community Alternatives for Supportive Abodes | NC | 50,176
Community Alternatives for Supportive Abodes | NC | 21,677
Community Alternatives for Supportive Abodes | NC | 118,600
Community Alternatives for Supportive Abodes | NC | 188,248
Community Alternatives for Supportive Abodes | NC | 85,575
Community Link, Programs of Travelers Aid | NC | 343,686
Community Link, Programs of Travelers Aid | NC | 268,346
Community Link, Programs of Travelers Aid | NC | 459,665
Crossroads Behavioral Healthcare | NC | 38,468
Cumberland County, NC | NC | 84,134
Cumberland County, NC | NC | 49,231
Cumberland IHN | NC | 120,588
Cumberland IHN | NC | 262,736
Development Ventures Incorporated | NC | 368,073
East Carolina Behavioral Health | NC | 366,324
Eastpointe Human Services | NC | 1,006,920
Family Service of the Piedmont, Inc | NC | 70,218
First Fruit Ministries | NC | 120,716
five county mental health authority | NC | 130,884
five county mental health authority | NC | 31,320
five county mental health authority | NC | 70,392
five county mental health authority | NC | 303,420
five county mental health authority | NC | 231,672
Gaston County Interfaith Hospitality Network, Inc | NC | 38,850
Gaston,Lincoln,Cleveland MH/DD/SA | NC | 436,812
Genesis Home | NC | 174,999
Genesis Home | NC | 55,346
Good Shepherd Ministries of Wilmington, Inc | NC | 45,482
Good Shepherd Ministries of Wilmington, Inc | NC | 56,073
Graham Housing Authority | NC | 55,872
Greensboro Housing Authority | NC | 43,730
Greensboro Housing Authority | NC | 427,536
Greensboro Housing Authority | NC | 477,369
Greensboro Urban Ministry | NC | 59,850
Haven House Inc | NC | 52,330
Homeward Bound of Asheville, Inc | NC | 45,629
Homeward Bound of Asheville, Inc | NC | 22,339
Homeward Bound of Asheville, Inc | NC | 147,886
Homeward Bound of Asheville, Inc | NC | 22,251
Homeward Bound of Asheville, Inc | NC | 35,000
Hope Haven Inc | NC | 53,980
Hope Haven Inc | NC | 383,500
Hope Haven Inc | NC | 63,000
Hope Haven Inc | NC | 52,867
Hospitality House of the Boone Area, Inc | NC | 29,179
Hospitality House of the Boone Area, Inc | NC | 31,181
Hospitality House of the Boone Area, Inc | NC | 31,928
Housing Authority of the City of Asheville | NC | 169,932
Housing Authority of the City of Asheville | NC | 81,372
Housing Authority of the City of Greenville | NC | 825,540
Housing Authority of the City of Wilmington/Hopewood | NC | 134,928
Housing for New Hope, Inc | NC | 21,761
Housing for New Hope, Inc | NC | 24,150
Housing for New Hope, Inc | NC | 106,001
Mary's House, Inc | NC | 135,982
Mecklenburg County | NC | 145,136
Mecklenburg County | NC | 1,360,392
Mecklenburg County | NC | 284,352
Mecklenburg County | NC | 119,784
Mecklenburg County Area MH, DD, & SA Authority | NC | 361,127
New River Service Authority | NC | 69,517
Next Step Ministries, Inc | NC | 37,800
North Carolina Housing Coalition | NC | 75,249
North Carolina Housing Coalition | NC | 588,668
Northwestern Housing Enterprises, Incorporated | NC | 33,018
OASIS, Inc (Opposing Abuse with Service, Information and Shelter) | NC | 29,294
OPC Mental Health, Developmental Disabilities and Substance Abuse Area Authority | NC | 250,980
OPC Mental Health, Developmental Disabilities and Substance Abuse Area Authority | NC | 8,340
OPC Mental Health, Developmental Disabilities and Substance Abuse Area Authority | NC | 109,202
OPC Mental Health, Developmental Disabilities and Substance Abuse Area Authority | NC | 33,360
OPC Mental Health, Developmental Disabilities and Substance Abuse Area Authority | NC | 17,688
Open Door Ministries of High Point, Inc | NC | 13,750
Open Door Ministries of High Point, Inc | NC | 62,159
Open Door Ministries of High Point, Inc | NC | 48,919
Passage Home, Inc | NC | 205,752
Passage Home, Inc | NC | 192,134
Piedmont Behavioral Healthcare (PBH) | NC | 783,360
Piedmont Behavioral Healthcare (PBH) | NC | 174,624
Rockingham County Help For Homeless, Inc | NC | 187,624
Salvation Army | NC | 87,499
Salvation Army | NC | 226,646
Sandhills Community Action Program, Inc | NC | 6,312
Sandhills Community Action Program, Inc | NC | 240,792
Sanford Hosuing Authority S+C 2011 | NC | 72,264
Smoky Mountain Center LME | NC | 713,580
St. Peter's Homes, Inc | NC | 262,311
St. Peter's Homes, Inc | NC | 33,333
Surry Homeless and Affordable Housing Coalition | NC | 60,091
The Arc of North Carolina Supportive Housing | NC | 33,214
The Beacon Center | NC | 189,360
The Greenville Community Shelters, Inc | NC | 113,618
The Greenville Community Shelters, Inc | NC | 72,177
The Housing Authority of The City of Durham | NC | 88,236
The New Reidsville Housing Authority | NC | 32,856
The New Reidsville Housing Authority | NC | 78,420
The Salvation Army High Point | NC | 19,274
The Salvation Army, a Georgia Corporation | NC | 148,015
The Salvation Army, a Georgia Corporation | NC | 80,057
The Salvation Army, a Georgia Corporation | NC | 35,470
The Servant Center | NC | 47,586
United Community Ministries | NC | 88,200
United Community Ministries | NC | 87,570
University of North Carolina at Chapel Hill | NC | 36,225
University of North Carolina at Chapel Hill | NC | 18,900
Urban Ministries of Durham | NC | 62,345
Wake County Human Services | NC | 23,904
Wake County Human Services | NC | 1,142,904
Wake County Human Services | NC | 220,238
Wake County Human Services | NC | 209,220
WAMY Community Action, Inc | NC | 35,567
Western Highlands, A Local Management Entity | NC | 269,220
Western North Carolina Community Health Services, Inc | NC | 260,360
Wilmington Housing Finance and Development/Driftwood | NC | 62,333
Wilmington Interfaith Hospitality Network | NC | 86,997
With Friends, Inc | NC | 66,457
With Friends, Inc | NC | 22,545
Youth Focus, Inc | NC | 51,700
Abused Adult Resource Center | ND | 78,819
Burleigh County Housing Authority | ND | 168,168
Community Violence Intervention Center | ND | 95,845
Fargo Housing and Redevelopment Authority | ND | 85,800
Fargo Housing and Redevelopment Authority | ND | 60,322
Fargo Housing and Redevelopment Authority | ND | 212,496
Fargo Housing and Redevelopment Authority | ND | 67,848
Fargo Housing and Redevelopment Authority | ND | 150,000
Fraser, Ltd | ND | 123,000
Grand Lodge of North Dakota, I.O.O.F. | ND | 46,675
North Dakota Association for the Disabled | ND | 34,184
North Dakota Coalition for Homeless People, Inc | ND | 74,072
North Dakota Dept. of Commerce | ND | 232,272
Prairie Harvest Mental Health | ND | 84,999
Red River Valley Community Action | ND | 45,202
Ruth Meiers Hospitality House | ND | 39,999
Society of St. Vincent de Paul | ND | 15,277
Women's Alliance, Inc DBA: Domestic Violence and Rape Crisis Center | ND | 37,600
Young Women's Christian Association Minot ND | ND | 36,103
YWCA Cass Clay | ND | 80,504
YWCA Cass Clay | ND | 75,948
YWCA Cass Clay | ND | 134,277
Blue Valley Community Action, Inc | NE | 200,502
Care Corps | NE | 92,370
Care Corps | NE | 122,067
Catholic Social Services | NE | 115,148
Catholic Social Services | NE | 95,658
CEDARS Youth Services | NE | 130,707
CenterPointe | NE | 191,642
CenterPointe | NE | 93,145
CenterPointe | NE | 191,797
CenterPointe | NE | 446,251
Central Nebraska Community Services | NE | 197,437
Central Nebraska Community Services | NE | 150,000
Central Nebraska Community Services | NE | 115,707
Cirrus House, Inc | NE | 46,433
City of Omaha | NE | 158,928
Community Action Partnership of Lancaster and Saunders Counties | NE | 460,862
Community Action Partnership of Mid-Nebraska | NE | 90,717
Community Action Partnership of Western Nebraska | NE | 31,880
Community Action Partnership of Western Nebraska | NE | 94,071
Heartland Family Service | NE | 93,606
Heartland Family Service | NE | 157,125
Heartland Family Service | NE | 265,713
Heartland Family Service | NE | 584,982
Heartland Family Service | NE | 150,088
Hope of Glory Ministries, Inc | NE | 76,822
Iowa Institute for Community Alliances | NE | 121,537
Region V Systems | NE | 214,537
St. Monica's | NE | 140,456
The Christian Worship Center | NE | 95,673
The Salvation Army | NE | 130,453
The Salvation Army | NE | 302,941
The Salvation Army | NE | 58,020
The Salvation Army | NE | 138,897
The Salvation Army | NE | 146,694
University of Nebraska-Lincoln | NE | 95,120
University of Nebraska-Lincoln | NE | 75,437
Behavioral Health & Developmental Services of Strafford County, Inc | NH | 85,865
Child and Family Services | NH | 111,529
Community Council of Nashua, NH | NH | 26,784
Families in Transition | NH | 122,500
Families in Transition | NH | 67,183
Families in Transition | NH | 50,340
Families in Transition | NH | 111,300
Families in Transition | NH | 44,000
Families in Transition | NH | 47,137
Families in Transition | NH | 47,752
Greater Nashua Council on Alcoholism | NH | 60,083
Harbor Homes, Inc | NH | 13,121
Harbor Homes, Inc | NH | 56,141
Harbor Homes, Inc | NH | 50,000
Harbor Homes, Inc | NH | 59,545
Harbor Homes, Inc | NH | 873,170
Harbor Homes, Inc | NH | 13,466
Harbor Homes, Inc | NH | 171,308
Harbor Homes, Inc | NH | 70,885
Harbor Homes, Inc | NH | 104,440
Harbor Homes, Inc | NH | 13,118
Helping Hands Outreach Center | NH | 33,705
Marguerites Place Inc | NH | 58,480
My Friend's Place | NH | 54,239
Nashua Housing Authority | NH | 31,752
Northern Human Services | NH | 132,011
Southern New Hampshire Services, Inc | NH | 32,191
Southern New Hampshire Services, Inc | NH | 36,039
State of New Hampshire | NH | 88,497
State of New Hampshire | NH | 96,078
State of New Hampshire | NH | 99,632
State of New Hampshire | NH | 71,766
State of New Hampshire | NH | 247,279
State of New Hampshire | NH | 236,866
State of New Hampshire | NH | 42,097
State of New Hampshire | NH | 37,496
State of New Hampshire | NH | 112,951
State of New Hampshire | NH | 80,640
State of New Hampshire | NH | 245,328
State of New Hampshire | NH | 14,154
State of New Hampshire | NH | 52,838
State of New Hampshire | NH | 116,524
State of New Hampshire | NH | 68,092
State of New Hampshire | NH | 72,590
State of New Hampshire | NH | 94,500
State of New Hampshire | NH | 272,100
State of New Hampshire | NH | 357,354
State of New Hampshire | NH | 193,418
State of New Hampshire | NH | 79,047
State of New Hampshire | NH | 196,762
State of New Hampshire | NH | 12,778
The Housing Partnership | NH | 143,815
The Way Home | NH | 47,734
The Way Home | NH | 63,000
The Way Home | NH | 100,757
The Way Home | NH | 45,025
Tri County CAP, Inc | NH | 188,568
180 Turning Lives Around, Inc | NJ | 122,805
180 Turning Lives Around, Inc | NJ | 142,530
A Major Step | NJ | 138,365
A Major Step | NJ | 250,474
AAH of Bergen County, Inc | NJ | 98,437
AAH of Bergen County, Inc | NJ | 78,925
AAH of Bergen County, Inc | NJ | 88,322
Advance Housing, Inc | NJ | 78,536
Advance Housing, Inc | NJ | 330,750
Advance Housing, Inc | NJ | 167,735
Advance Housing, Inc | NJ | 358,255
Affordable Housing Alliance | NJ | 43,923
Alternatives, Inc | NJ | 63,170
Alternatives, Inc | NJ | 98,478
Alternatives, Inc | NJ | 15,557
Alternatives, Inc | NJ | 101,278
Bergen County Community Action Partnership, Inc | NJ | 93,712
Bergen County Community Action Partnership, Inc | NJ | 63,702
Bergen County Community Action Partnership, Inc | NJ | 92,748
Bergen County Housing Authority | NJ | 111,384
Burlington County Community Action Program | NJ | 14,172
Burlington County Community Action Program | NJ | 10,667
Camden County Council On Economic Opportunity, Inc | NJ | 173,389
Camden County Council On Economic Opportunity, Inc | NJ | 124,926
Camden County Council On Economic Opportunity, Inc | NJ | 134,043
Cape Counseling Services | NJ | 182,311
Cape Counseling Services | NJ | 27,738
Career Opportunity Development | NJ | 51,442
Catholic Charities Diocese of Metuchen | NJ | 233,047
Catholic Charities of the Archdiocese of Newark | NJ | 248,664
Catholic Charities of the Archdiocese of Newark | NJ | 160,000
Catholic Charities, Diocese of Trenton | NJ | 24,860
Catholic Charities, Diocese of Trenton | NJ | 69,218
Center For Family Services, Inc | NJ | 65,214
Center For Family Services, Inc | NJ | 35,437
Center For Family Services, Inc | NJ | 18,130
Center For Family Services, Inc | NJ | 33,864
Center For Family Services, Inc | NJ | 30,935
Center For Family Services, Inc | NJ | 67,217
Center For Family Services, Inc | NJ | 31,250
City of East Orange | NJ | 406,080
City of East Orange | NJ | 190,740
City of Trenton Department of Human Services | NJ | 798,377
City of Trenton Department of Human Services | NJ | 115,928
City of Trenton Department of Human Services | NJ | 14,815
City of Trenton Department of Human Services | NJ | 94,368
City of Trenton Department of Human Services | NJ | 49,464
City of Trenton Department of Human Services | NJ | 181,368
City of Trenton Department of Human Services | NJ | 9,720
City of Trenton Department of Human Services | NJ | 67,174
City of Trenton Department of Human Services | NJ | 128,268
City of Trenton Department of Human Services | NJ | 129,073
City of Trenton Department of Human Services | NJ | 303,552
City of Trenton Department of Human Services | NJ | 115,096
City of Trenton Department of Human Services | NJ | 240,312
City of Trenton Department of Human Services | NJ | 54,960
City of Trenton Department of Human Services | NJ | 164,424
City of Trenton Department of Human Services | NJ | 69,862
City of Trenton Department of Human Services | NJ | 25,296
City of Trenton Department of Human Services | NJ | 7,613
Collaborative Support Programs of New Jersey PHA NJ880 | NJ | 69,888
Collaborative Support Programs of New Jersey PHA NJ880 | NJ | 97,524
Collaborative Support Programs of New Jersey PHA NJ880 | NJ | 27,864
Collaborative Support Programs of New Jersey PHA NJ880 | NJ | 676,800
Community Hope, Inc | NJ | 60,236
Community Hope, Inc | NJ | 244,981
Community Hope, Inc | NJ | 44,667
Community Planning and Advocacy Council | NJ | 526,455
Community Planning and Advocacy Council | NJ | 9,372
Community Planning and Advocacy Council | NJ | 162,000
Community Planning and Advocacy Council | NJ | 131,356
Comprehensive Behavioral Healthcare Inc | NJ | 110,376
County of Bergen Department of Human Services | NJ | 93,068
County of Bergen Department of Human Services | NJ | 85,900
County of Monmouth | NJ | 195,048
County of Monmouth | NJ | 51,012
County of Monmouth | NJ | 226,939
County of Monmouth | NJ | 382,176
County of Monmouth | NJ | 183,000
County of Monmouth | NJ | 271,284
County of Monmouth | NJ | 301,500
County of Monmouth | NJ | 86,664
Covenant House New Jersey | NJ | 173,891
Covenant House New Jersey | NJ | 94,500
Covenant House New Jersey | NJ | 144,717
dackksgroup | NJ | 41,335
Dooley House Inc | NJ | 205,979
East Orange General Hosiptal | NJ | 245,600
EASTER SEAL SOCIETY OF NEW JERSEY INC, THE | NJ | 43,207
EASTER SEAL SOCIETY OF NEW JERSEY INC, THE | NJ | 46,664
EASTER SEAL SOCIETY OF NEW JERSEY INC, THE | NJ | 151,981
EASTER SEAL SOCIETY OF NEW JERSEY INC, THE | NJ | 7,464
Edison Housing Authority | NJ | 135,000
Edison Housing Authority | NJ | 79,440
Elizabeth/Union County Continuum of Care | NJ | 352,224
Elizabeth/Union County Continuum of Care | NJ | 16,665
Elizabeth/Union County Continuum of Care | NJ | 99,342
Elizabeth/Union County Continuum of Care | NJ | 94,427
Elizabeth/Union County Continuum of Care | NJ | 652,260
Elizabeth/Union County Continuum of Care | NJ | 24,312
Elizabeth/Union County Continuum of Care | NJ | 61,872
Elizabeth/Union County Continuum of Care | NJ | 270,720
Elizabeth/Union County Continuum of Care | NJ | 58,008
Elizabeth/Union County Continuum of Care | NJ | 493,441
Elizabeth/Union County Continuum of Care | NJ | 25,836
Elizabeth/Union County Continuum of Care | NJ | 18,654
Elizabeth/Union County Continuum of Care | NJ | 146,952
Elizabeth/Union County Continuum of Care | NJ | 49,020
Elizabeth/Union County Continuum of Care | NJ | 217,714
Elizabeth/Union County Continuum of Care | NJ | 204,972
Elizabeth/Union County Continuum of Care | NJ | 160,478
Elizabeth/Union County Continuum of Care | NJ | 26,917
Elizabeth/Union County Continuum of Care | NJ | 13,300
Elizabeth/Union County Continuum of Care | NJ | 36,120
Elizabeth/Union County Continuum of Care | NJ | 80,656
Elizabeth/Union County Continuum of Care | NJ | 491,448
Elizabeth/Union County Continuum of Care | NJ | 284,206
Essex County Division of Community Action | NJ | 270,720
Family Service | NJ | 42,000
HABcore, Inc | NJ | 78,899
HABcore, Inc | NJ | 172,473
Harmony House | NJ | 142,354
Harmony House | NJ | 142,919
HISPANIC MULTI PURPOSE SERVICE CENTER | NJ | 41,902
Homeless Solutions Inc | NJ | 396,965
Homeless Solutions Inc | NJ | 64,299
Homeless Solutions Inc | NJ | 219,397
Housing Authority of the City of Vineland | NJ | 230,400
HOUSING AUTHORITY OF THE TOWNSHIP OF BERKELEY | NJ | 120,600
HOUSING AUTHORITY OF THE TOWNSHIP OF BERKELEY | NJ | 99,804
HOUSING AUTHORITY OF THE TOWNSHIP OF BERKELEY | NJ | 89,031
Integrity Inc | NJ | 400,000
Interfaith Homeless Outreach Council | NJ | 7,366
isaiah house | NJ | 44,491
isaiah house | NJ | 42,845
isaiah house | NJ | 249,495
Jersey Battered Women's Service, Inc | NJ | 198,137
Jersey City Episcopal Community Development Corporation (JCECDC) | NJ | 391,797
Jersey City Episcopal Community Development Corporation (JCECDC) | NJ | 420,000
Jersey City Episcopal Community Development Corporation (JCECDC) | NJ | 222,581
Lakewood Housing Authority | NJ | 12,915
Lets Celebrate Inc | NJ | 83,794
Making It Possible to end Homelessness (MIPH) | NJ | 35,000
Mental Health Association of Morris County, Inc | NJ | 60,060
Middlesex County | NJ | 169,039
Middlesex County | NJ | 185,748
Middlesex County | NJ | 397,328
New Jersey AIDS Services, Inc | NJ | 77,688
Newark YMCA | NJ | 821,100
NJ DEPARTMENT OF COMMUNITY AFFAIRS | NJ | 34,200
NJ DEPARTMENT OF COMMUNITY AFFAIRS | NJ | 200,220
NJ DEPARTMENT OF COMMUNITY AFFAIRS | NJ | 94,560
NJ DEPARTMENT OF COMMUNITY AFFAIRS | NJ | 155,664
NJ DEPARTMENT OF COMMUNITY AFFAIRS | NJ | 40,368
NJ DEPARTMENT OF COMMUNITY AFFAIRS | NJ | 40,608
NJ DEPARTMENT OF COMMUNITY AFFAIRS | NJ | 57,000
NJ DEPARTMENT OF COMMUNITY AFFAIRS | NJ | 274,152
NJ DEPARTMENT OF COMMUNITY AFFAIRS | NJ | 150,612
NJ DEPARTMENT OF COMMUNITY AFFAIRS | NJ | 135,360
NJ DEPARTMENT OF COMMUNITY AFFAIRS | NJ | 80,736
NJ DEPARTMENT OF COMMUNITY AFFAIRS | NJ | 267,144
NJ DEPARTMENT OF COMMUNITY AFFAIRS | NJ | 812,160
NJ DEPARTMENT OF COMMUNITY AFFAIRS | NJ | 175,968
NJ DEPARTMENT OF COMMUNITY AFFAIRS | NJ | 1,036,260
NJ DEPARTMENT OF COMMUNITY AFFAIRS | NJ | 146,484
NJ DEPARTMENT OF COMMUNITY AFFAIRS | NJ | 69,451
NJ DEPARTMENT OF COMMUNITY AFFAIRS | NJ | 86,304
NJ DEPARTMENT OF COMMUNITY AFFAIRS | NJ | 30,888
NJ DEPARTMENT OF COMMUNITY AFFAIRS | NJ | 175,968
NJ DEPARTMENT OF COMMUNITY AFFAIRS | NJ | 284,016
NJ HMFA | NJ | 3,000
NJ HMFA | NJ | 1,998
NJ HMFA | NJ | 17,000
NJ HMFA | NJ | 3,000
NJ HMFA | NJ | 2,000
NJ HMFA | NJ | 2,560
NJ HMFA | NJ | 2,457
NJ HMFA | NJ | 22,667
NJ HMFA | NJ | 25,000
NJ HMFA | NJ | 2,001
NJ HMFA | NJ | 40,655
NJ HMFA | NJ | 2,667
NJ HMFA | NJ | 85,667
NJ HMFA | NJ | 69,000
NJ HMFA | NJ | 56,727
NJ HMFA | NJ | 45,028
NJ HMFA | NJ | 19,970
NJ HMFA | NJ | 149,999
NJ HMFA | NJ | 25,000
North Hudson Community Action Corporation | NJ | 404,148
ocean community economic action now, inc | NJ | 40,718
ocean community economic action now, inc | NJ | 41,697
ocean community economic action now, inc | NJ | 38,500
ocean community economic action now, inc | NJ | 305,373
ocean community economic action now, inc | NJ | 81,957
Ocean's Harbor House | NJ | 19,372
Passaic County Department of Human Services | NJ | 47,736
Passaic County Department of Human Services | NJ | 47,736
Passaic County Department of Human Services | NJ | 121,824
Passaic County Department of Human Services | NJ | 221,424
Passaic County Department of Human Services | NJ | 1,192,497
Paterson Housing Authority | NJ | 129,096
Paterson Housing Authority | NJ | 132,504
Positive Health care, Inc | NJ | 176,283
Project H.O.P.E | NJ | 55,795
Project Live, Inc | NJ | 275,534
Saint Joseph's Home | NJ | 558,534
Salem County Inter Agency Council of Human Services | NJ | 140,560
Shelter Our Sisters | NJ | 23,833
Shelter Our Sisters | NJ | 16,382
Somerset Home for Temporarily Displaced Children | NJ | 31,015
South Jersey Behavioral Health Resources, Inc | NJ | 21,873
St. Philip's Ministry UMC | NJ | 63,461
Strengthen Our Sisters | NJ | 130,652
The Center in Asbury Park, Inc | NJ | 184,819
The House of Faith, Inc | NJ | 245,266
The Lester A. Drenk Behavioral Health Center Inc | NJ | 264,023
The New Jersey Department of Veteran and Military Affairs | NJ | 164,243
The Salvation Army, a New York Corporation | NJ | 134,510
Transitional Housing Services, Inc | NJ | 97,093
Triple C Housing | NJ | 54,425
United Way of Hudson County | NJ | 393,006
United Way of Hudson County | NJ | 680,212
United Way of Hudson County | NJ | 688,608
Vantage Health System, Inc | NJ | 217,402
Vantage Health System, Inc | NJ | 90,896
Vantage Health System, Inc | NJ | 1,599,416
Vantage Health System, Inc | NJ | 548,402
Vetgroup Inc | NJ | 20,664
Volunteers of America Delaware Valley Inc | NJ | 96,026
Volunteers of America Delaware Valley Inc | NJ | 117,344
Volunteers of America Delaware Valley Inc | NJ | 88,970
Volunteers of America Delaware Valley Inc | NJ | 109,874
Volunteers of America Delaware Valley Inc | NJ | 129,665
Volunteers of America Delaware Valley Inc | NJ | 86,458
WomenRising | NJ | 644,268
Albuquerque HealthCare for the Homeless, Inc | NM | 135,267
Barrett Foundation, Inc | NM | 23,780
Barrett Foundation, Inc | NM | 97,447
Bernalillo County | NM | 92,329
Casa Milagro | NM | 82,250
Catholic Charities | NM | 193,858
Catholic Charities | NM | 241,153
Catholic Charities | NM | 202,692
Catholic Charities | NM | 51,371
Catholic Charities | NM | 223,055
Catholic Charities of Gallup | NM | 26,727
City of Albuquerque | NM | 317,220
City of Albuquerque | NM | 895,822
City of Albuquerque | NM | 223,709
City of Albuquerque | NM | 1,000,680
City of Las Cruces, New Mexico | NM | 96,804
City of Las Cruces, New Mexico | NM | 103,784
City of Santa Fe | NM | 202,944
City of Santa Fe | NM | 212,304
City of Santa Fe | NM | 144,132
City of Santa Fe | NM | 173,520
City of Santa Fe/Santa Fe Community Housing Trust | NM | 565,140
City of Santa Fe/Santa Fe Community Housing Trust | NM | 121,440
County of Sandoval | NM | 197,592
Crossroads for Women | NM | 191,940
Crossroads for Women | NM | 112,834
Curry County | NM | 129,864
DreamTree Project, Inc | NM | 78,136
El Refugio, Inc | NM | 66,150
Esperanza Shelter for Battered Families, Inc | NM | 94,500
Goodwill Industries of New Mexico | NM | 114,866
Haven House, Inc | NM | 50,000
NewLife Homes, Inc | NM | 233,049
S.A.F.E. House | NM | 42,096
Samaritan House Inc | NM | 96,164
San Juan County Partnership | NM | 66,713
Santa Fe Civic Housing Authority | NM | 366,360
Santa Fe Community Services, Inc | NM | 54,747
Socorro County Housing Authority | NM | 99,936
St. Elizabeth Shelter | NM | 72,713
St. Elizabeth Shelter | NM | 63,199
St. Martin's Hospitality Center | NM | 115,500
Supportive Housing Coalition of New Mexico | NM | 171,226
Supportive Housing Coalition of New Mexico | NM | 26,775
Supportive Housing Coalition of New Mexico | NM | 55,975
Transitional Living Services, Inc | NM | 276,300
Transitional Living Services, Inc | NM | 105,000
Valencia Shelter Services for Victims of Domestic Violence | NM | 106,666
Village of Los Lunas, New Mexico | NM | 158,496
Youth Shelters and Family Services | NM | 141,725
Carson City Health & Human Services | NV | 22,764
Churchill Council on Alcohol and Other Drugs | NV | 16,726
Churchill County Social Services | NV | 46,666
City of Reno, Nevada | NV | 69,400
City of Reno, Nevada | NV | 110,292
Douglas County | NV | 133,449
Family Promise of Las Vegas | NV | 282,989
Frontier Community Action Agency | NV | 51,056
HELP Las Vegas Housing Corporation | NV | 195,230
HELP of Southern Nevada | NV | 338,743
HELP of Southern Nevada | NV | 206,159
HopeLink | NV | 162,056
HopeLink | NV | 105,328
Las Vegas/Clark County project applicant | NV | 495,000
Lutheran Social Services of Nevada | NV | 104,556
Nevada Partnership for Homeless Youth | NV | 221,854
Northern Nevada Adult Mental Health Services | NV | 445,032
Northern Nevada Adult Mental Health Services | NV | 75,600
Northern Nevada Community Housing Resource Board | NV | 51,955
ReStart | NV | 812,489
ReStart | NV | 131,373
Rural Clinics Community Mental Health Centers | NV | 226,488
Southern Nevada Children First | NV | 237,546
Southern Nevada Mental Health Services | NV | 412,553
Southern Nevada Mental Health Services | NV | 1,547,748
St. Vincent HELP Inc | NV | 257,702
The Salvation Army | NV | 429,949
The Salvation Army Safe Haven | NV | 323,451
United States Veterans Initiative | NV | 662,933
United States Veterans Initiative | NV | 164,509
United States Veterans Initiative | NV | 116,015
United States Veterans Initiative | NV | 120,556
Vitality Center | NV | 84,164
Washoe County | NV | 60,480
Washoe County | NV | 60,480
Womens Development Center | NV | 126,073
Womens Development Center | NV | 119,285
Adirondack Vets House, Inc | NY | 75,417
Albany Housing Authority | NY | 209,112
Albany Housing Authority | NY | 108,324
Albany Housing Authority | NY | 42,780
Albany Housing Authority | NY | 236,844
Albany Housing Authority | NY | 227,424
Albany Housing Authority | NY | 51,336
Albany Housing Authority | NY | 270,384
Albany Housing Authority | NY | 51,336
Albany Housing Authority | NY | 147,852
Albany Housing Coalition, Inc | NY | 63,502
Albany Housing Coalition, Inc | NY | 43,155
Albany Housing Coalition, Inc | NY | 29,970
Albany Housing Coalition, Inc | NY | 21,000
Albany Housing Coalition, Inc | NY | 38,251
Alcohol and Drug Dependency Services, Inc | NY | 760,889
Altamont Program, Inc | NY | 31,150
ANCHOR HOUSE, INC | NY | 240,648
Argus Community, Inc | NY | 430,101
Argus Community, Inc | NY | 371,322
Argus Community, Inc | NY | 370,278
Association to Benefit Children | NY | 115,706
Auburn Housing Authority | NY | 35,820
Bailey House Inc | NY | 629,300
Bailey House Inc | NY | 166,666
Banana Kelly Community Improvement Assoc Inc | NY | 386,525
Basics, Inc | NY | 353,208
Bethesda House of Schenectady, Inc | NY | 110,250
Bethesda House of Schenectady, Inc | NY | 152,738
Bethesda House of Schenectady, Inc | NY | 22,300
Bethesda House of Schenectady, Inc | NY | 35,871
Bethesda House of Schenectady, Inc | NY | 111,647
Bethesda House of Schenectady, Inc | NY | 47,666
Bethesda House of Schenectady, Inc | NY | 135,503
Binghamton Housing Authority | NY | 141,600
Bowery Residents' Committee, Inc | NY | 497,954
Bowery Residents' Committee, Inc | NY | 511,358
Bowery Residents' Committee, Inc | NY | 355,001
Bowery Residents' Committee, Inc | NY | 368,496
Bowery Residents' Committee, Inc | NY | 364,883
Bowery Residents' Committee, Inc | NY | 318,891
Bowery Residents' Committee, Inc | NY | 360,106
BronxWorks | NY | 105,000
BronxWorks | NY | 77,030
BronxWorks | NY | 1,200,000
Brooklyn Bureau of Community Service | NY | 474,924
Brooklyn Bureau of Community Service | NY | 249,674
Capital Area Peer Services | NY | 96,017
Catholic Charities Diocese of Rockville Centre | NY | 155,595
Catholic Charities Diocese of Rockville Centre | NY | 190,664
Catholic Charities Diocese of Rockville Centre | NY | 174,584
Catholic Charities Diocese of Rockville Centre | NY | 222,584
Catholic Charities Housing Office | NY | 87,937
Catholic Charities of Chemung/Schuyler | NY | 47,202
Catholic Charities of Chemung/Schuyler | NY | 108,130
Catholic Charities of Chemung/Schuyler | NY | 103,356
Catholic Charities of Chemung/Schuyler | NY | 152,231
Catholic Charities of Chemung/Schuyler | NY | 93,534
Catholic Charities of the Roman Catholic Diocese of Syracuse | NY | 107,988
Catholic Charities of the Roman Catholic Diocese of Syracuse | NY | 595,808
Catholic Charities of the Roman Catholic Diocese of Syracuse | NY | 171,198
Catholic Charities of the Roman Catholic Diocese of Syracuse | NY | 451,589
Catholic Charities of the Roman Catholic Diocese of Syracuse | NY | 215,720
Catholic Charities of the Roman Catholic Diocese of Syracuse | NY | 50,263
Catholic Charities of the Roman Catholic Diocese of Syracuse | NY | 215,977
Catholic Charities of the Roman Catholic Diocese of Syracuse | NY | 67,050
Catholic Family Center | NY | 133,879
Catholic Family Center | NY | 246,941
Cattaraugus Community Action, Inc | NY | 94,314
Cayuga/Seneca Community Action Agency, Inc | NY | 59,869
Cayuga/Seneca Community Action Agency, Inc | NY | 35,289
Cayuga/Seneca Community Action Agency, Inc | NY | 34,639
Cazenovia Recovery Systems | NY | 210,980
CDCLI Housing Development Fund Corporation | NY | 28,503
Central Nassau Guidance and Counseling Services, Inc | NY | 257,300
Central Nassau Guidance and Counseling Services, Inc | NY | 166,135
Central Nassau Guidance and Counseling Services, Inc | NY | 214,894
Central Nassau Guidance and Counseling Services, Inc | NY | 252,559
Central Nassau Guidance and Counseling Services, Inc | NY | 154,730
Central Nassau Guidance and Counseling Services, Inc | NY | 103,869
Central New York Services, Inc | NY | 159,362
Central New York Services, Inc | NY | 100,000
Central New York Services, Inc | NY | 100,000
Central New York Services, Inc | NY | 175,085
Central New York Services, Inc | NY | 196,518
Central New York Services, Inc | NY | 142,543
Central New York Services, Inc | NY | 185,034
Central New York Services, Inc | NY | 87,500
Central New York Services, Inc | NY | 290,154
Chadwick Residence, Inc | NY | 31,957
Chadwick Residence, Inc | NY | 247,640
Chances and Changes, Inc | NY | 119,461
Chautauqua Opportunities, Inc | NY | 21,667
Circulo de la Hispanidad | NY | 133,024
Circulo de la Hispanidad | NY | 165,175
City of Mount Vernon | NY | 143,031
City of Mount Vernon | NY | 178,338
City of Mount Vernon | NY | 71,736
City of Mount Vernon | NY | 61,488
City of Mount Vernon | NY | 94,104
City of Mount Vernon | NY | 171,675
City of Mount Vernon | NY | 114,156
City of Mount Vernon | NY | 33,273
City of Mount Vernon | NY | 37,800
City of Mount Vernon | NY | 97,848
City of Mount Vernon | NY | 30,450
City of Mount Vernon | NY | 114,156
City of Mount Vernon | NY | 49,749
City of Mount Vernon | NY | 43,260
City of New York Acting by and through its Department of Housing Preservation and Development | NY | 709,800
City of New York Acting by and through its Department of Housing Preservation and Development | NY | 2,129,400
City of New York Acting by and through its Department of Housing Preservation and Development | NY | 567,840
City of New York Acting by and through its Department of Housing Preservation and Development | NY | 1,064,700
City of New York Acting by and through its Department of Housing Preservation and Development | NY | 589,500
City of New York Acting by and through its Department of Housing Preservation and Development | NY | 610,428
City of New York Acting by and through its Department of Housing Preservation and Development | NY | 993,720
City of New York Acting by and through its Department of Housing Preservation and Development | NY | 283,920
City of New York Acting by and through its Department of Housing Preservation and Development | NY | 383,292
City of New York Acting by and through its Department of Housing Preservation and Development | NY | 911,808
City of New York Acting by and through its Department of Housing Preservation and Development | NY | 567,840
City of New York Acting by and through its Department of Housing Preservation and Development | NY | 653,016
City of New York Acting by and through its Department of Housing Preservation and Development | NY | 752,388
City of New York Acting by and through its Department of Housing Preservation and Development | NY | 326,508
City of New York Acting by and through its Department of Housing Preservation and Development | NY | 794,976
City of New York Acting by and through its Department of Housing Preservation and Development | NY | 511,056
City of New York Acting by and through its Department of Housing Preservation and Development | NY | 610,428
City of New York Acting by and through its Department of Housing Preservation and Development | NY | 482,664
City of New York Acting by and through its Department of Housing Preservation and Development | NY | 454,272
City of New York Acting by and through its Department of Housing Preservation and Development | NY | 567,840
City of New York Acting by and through its Department of Housing Preservation and Development | NY | 822,240
City of New York Acting by and through its Department of Housing Preservation and Development | NY | 624,624
City of New York Acting by and through its Department of Housing Preservation and Development | NY | 482,664
City of New York Acting by and through its Department of Housing Preservation and Development | NY | 1,419,600
City of New York Acting by and through its Department of Housing Preservation and Development | NY | 610,428
City of New York Acting by and through its Department of Housing Preservation and Development | NY | 323,880
City of New York Acting by and through its Department of Housing Preservation and Development | NY | 1,788,696
City of New York Acting by and through its Department of Housing Preservation and Development | NY | 851,760
City of New York Acting by and through its Department of Housing Preservation and Development | NY | 354,900
City of New York Acting by and through its Department of Housing Preservation and Development | NY | 476,160
City of New York Acting by and through its Department of Housing Preservation and Development | NY | 482,664
City of New York Acting by and through its Department of Housing Preservation and Development | NY | 66,624
City of New York Acting by and through its Department of Housing Preservation and Development | NY | 610,428
City of New York Acting by and through its Department of Housing Preservation and Development | NY | 454,272
City of New York Acting by and through its Department of Housing Preservation and Development | NY | 567,840
City of New York Acting by and through its Department of Housing Preservation and Development | NY | 3,938,280
City of New York Acting by and through its Department of Housing Preservation and Development | NY | 1,022,112
City of New York Acting by and through its Department of Housing Preservation and Development | NY | 1,206,660
City of New York Acting by and through its Department of Housing Preservation and Development | NY | 610,428
City of New York Acting by and through its Department of Housing Preservation and Development | NY | 642,240
City of New York Acting by and through its Department of Housing Preservation and Development | NY | 709,800
City of New York Acting by and through its Department of Housing Preservation and Development | NY | 212,940
City of New York Acting by and through its Department of Housing Preservation and Development | NY | 482,664
City of New York Acting by and through its Department of Housing Preservation and Development | NY | 411,684
City of New York Acting by and through its Department of Housing Preservation and Development | NY | 454,272
City of New York Acting by and through its Department of Housing Preservation and Development | NY | 709,800
City of New York Acting by and through its Department of Housing Preservation and Development | NY | 267,828
City of New York Acting by and through its Department of Housing Preservation and Development | NY | 383,184
City of Saratoga Springs | NY | 246,732
City of Schenectady | NY | 123,600
City of Schenectady | NY | 61,800
Coalition for the Homeless | NY | 375,786
COLUMBA KAVANAGH HOUSE, INC | NY | 388,163
COLUMBIA OPPORTUNITIES INCORPORATED | NY | 2,145
COLUMBIA OPPORTUNITIES INCORPORATED | NY | 9,697
COLUMBIA OPPORTUNITIES INCORPORATED | NY | 14,967
Common Ground Community IV HDFC | NY | 359,100
Common Ground Community IV HDFC | NY | 141,382
Common Ground Community IV HDFC | NY | 416,468
Community Access, Inc | NY | 404,974
Community Access, Inc | NY | 240,318
Community Access, Inc | NY | 224,210
Community Action For Human Services, Inc | NY | 129,207
Community Action of Greene County,Inc | NY | 14,897
Community Housing Innovations, Inc | NY | 166,684
Community Housing Innovations, Inc | NY | 52,968
Community Housing Innovations, Inc | NY | 100,575
Community Housing Innovations, Inc | NY | 52,148
Community Housing Innovations, Inc | NY | 130,121
Community Housing Innovations, Inc | NY | 86,110
Community Housing Innovations, Inc | NY | 47,373
Community Housing Innovations, Inc | NY | 168,638
Community Housing Innovations, Inc | NY | 48,093
Community Housing Innovations, Inc | NY | 69,328
Community Services for the Developmentally Disabled, Inc | NY | 269,042
Community, Counseling, & Mediation | NY | 232,181
Community, Counseling, & Mediation | NY | 238,951
COMMUNITY_ACTION_FOR_HUMAN_SERVICES_INC._CROTONA_PARK_WEST_PAIGE_APARTMENTS | NY | 436,241
Comunilife, Inc | NY | 663,215
Comunilife, Inc | NY | 635,623
Concern for Independent Living, Inc | NY | 216,420
Corporation for AIDS Research, Education and Services, Inc | NY | 25,000
Corporation for AIDS Research, Education and Services, Inc | NY | 5,000
Corporation for AIDS Research, Education and Services, Inc | NY | 26,250
Corporation for AIDS Research, Education and Services, Inc | NY | 34,666
Corporation for AIDS Research, Education and Services, Inc | NY | 16,666
Corporation for AIDS Research, Education and Services, Inc | NY | 33,333
County of Dutchess | NY | 132,828
County of Dutchess | NY | 174,780
County of Dutchess | NY | 86,796
County of Dutchess | NY | 72,528
County of Dutchess | NY | 84,216
County of Dutchess | NY | 55,068
Covenant House New York/Under 21, Inc | NY | 177,978
Covenant House New York/Under 21, Inc | NY | 504,647
Covenant House New York/Under 21, Inc | NY | 594,542
Covenant House New York/Under 21, Inc | NY | 129,654
Covenant House New York/Under 21, Inc | NY | 419,148
Covenant House New York/Under 21, Inc | NY | 166,948
Covenant House New York/Under 21, Inc | NY | 376,444
Crystal Run Village, Inc | NY | 133,349
CUCS | NY | 199,999
CUCS | NY | 226,800
CUCS | NY | 298,736
CUCS | NY | 1,302,539
CUCS | NY | 103,950
CUCS | NY | 238,140
Damon House New York, Inc | NY | 262,479
DePaul Community Services | NY | 73,115
Domestic Violence and Rape Crisis Services of Saratoga County | NY | 114,536
Domestic Violence and Rape Crisis Services of Saratoga County | NY | 36,547
Domestic Violence and Rape Crisis Services of Saratoga County | NY | 36,607
Domestic Violence and Rape Crisis Services of Saratoga County | NY | 30,208
Dunkirk Housing Authority | NY | 122,628
EAC | NY | 107,139
East New York Urban Youth Corps | NY | 96,756
Ecclesia Ministries of Newburgh, Inc | NY | 62,954
El Regreso Foundation | NY | 253,855
Emergency Housing Group, Inc | NY | 186,148
Emergency Housing Group, Inc | NY | 60,315
Equinox, Inc | NY | 98,210
Equinox, Inc | NY | 82,363
Equinox, Inc | NY | 84,955
Equinox, Inc | NY | 63,675
Erie County Department of Mental Health | NY | 303,120
Erie County Department of Mental Health | NY | 577,015
Erie County Department of Mental Health | NY | 288,888
Erie County Department of Mental Health | NY | 114,318
Erie County Department of Mental Health | NY | 870,984
Erie County Department of Mental Health | NY | 701,304
Erie County Department of Mental Health | NY | 208,456
Erie County Department of Mental Health | NY | 216,425
Erie County Department of Mental Health | NY | 500,771
Erie County Department of Mental Health | NY | 153,000
Erie County Department of Mental Health | NY | 154,523
Erie County Department of Mental Health | NY | 243,625
ETC Housing Corp | NY | 12,733
FACES NY | NY | 184,553
FACES NY | NY | 133,913
FACES NY 2011 | NY | 152,092
Family Nurturing Center of Central New York Inc | NY | 19,250
Family Nurturing Center of Central New York Inc | NY | 105,810
Family of Woodstock, Inc | NY | 91,667
Family of Woodstock, Inc | NY | 69,530
Family of Woodstock, Inc | NY | 60,766
Family Residences and Essential Enterprises, Inc | NY | 104,022
Family Residences and Essential Enterprises, Inc | NY | 63,775
Family Service League, Inc | NY | 92,344
Family Service League, Inc | NY | 345,079
Federation Employment and Guidance Service, Inc | NY | 558,906
Federation Employment and Guidance Service, Inc | NY | 238,319
Federation Employment and Guidance Service, Inc | NY | 582,961
Federation Employment and Guidance Service, Inc | NY | 595,000
Federation Employment and Guidance Service, Inc | NY | 676,767
Federation of Organizations for the New York State Mentally Disabled, Inc | NY | 46,235
Federation of Organizations for the New York State Mentally Disabled, Inc | NY | 45,268
Federation of Organizations for the New York State Mentally Disabled, Inc | NY | 100,849
Foundation for Research on Sexually Transmitted Diseases | NY | 871,533
Fountain House, Inc | NY | 639,295
Franklin County Coc | NY | 52,505
Gateway Community Industries, Inc | NY | 91,069
Gateway Community Industries, Inc | NY | 41,020
Gateway Community Industries, Inc | NY | 70,350
Gateway Community Industries, Inc | NY | 65,809
Gateway Community Industries, Inc | NY | 45,120
Gateway Community Industries, Inc | NY | 41,307
Geneva Housing Authority | NY | 62,040
Geneva Housing Authority | NY | 104,011
Geneva Housing Authority | NY | 240,660
Gerard Place Housing Development Fund Company, Inc | NY | 177,909
Glens Falls Housing Authority | NY | 80,040
Glens Falls Housing Authority | NY | 32,016
Glens Falls Housing Authority | NY | 116,184
Goddard Riverside Community Center | NY | 153,696
Goddard Riverside Community Center | NY | 96,657
Goddard Riverside Community Center | NY | 169,644
Goddard Riverside Community Center | NY | 280,889
Good Shepherd Services—Chelsea Foyer | NY | 414,000
Grace Church Community Center, Inc | NY | 127,949
Grace Smith House, Inc | NY | 18,385
Grace Smith House, Inc | NY | 11,209
Greyston Health Services, Inc | NY | 251,111
H.E.L.P. Equity Homes, Inc | NY | 132,720
H.E.L.P. Equity Homes, Inc | NY | 165,914
H.O.M.E.E. CLINIC, INC | NY | 131,936
Hands Across Long Island, Inc | NY | 56,800
Harlem United Community AIDS Center, Inc | NY | 364,817
Harlem United Community AIDS Center, Inc | NY | 227,834
HELP Social Service Corporation | NY | 1,008,349
HELP Social Service Corporation | NY | 791,172
HELP Suffolk Inc | NY | 127,897
Heritage Health and Housing, Inc | NY | 110,528
Heritage Health and Housing, Inc | NY | 330,486
Heritage Health and Housing, Inc | NY | 159,935
Heritage Health and Housing, Inc | NY | 249,494
Hispanics United of Buffalo Inc | NY | 246,661
Homeless Action Committee, Inc | NY | 69,974
Homeless Action Committee, Inc | NY | 79,747
Homeless Alliance of Western New York | NY | 156,450
Homeless and Travelers Aid Society of the Capital District, Inc | NY | 149,000
Homeless and Travelers Aid Society of the Capital District, Inc | NY | 113,701
Homeless and Travelers Aid Society of the Capital District, Inc | NY | 80,523
Homeless and Travelers Aid Society of the Capital District, Inc | NY | 186,957
Homeless and Travelers Aid Society of the Capital District, Inc | NY | 111,104
HOPE Community Services, Inc | NY | 233,799
Housing Plus | NY | 231,676
Housing Plus | NY | 156,549
Housing Plus | NY | 313,584
Housing Council in the Monroe County Area Inc | NY | 167,250
Housing Options Made Easy, Inc | NY | 227,772
Housing Options Made Easy, Inc | NY | 165,318
Housing Works, Inc | NY | 469,535
Housing Works, Inc | NY | 371,276
Housing Works, Inc | NY | 333,635
Housing Works, Inc | NY | 286,535
Hudson River Housing | NY | 48,852
Hudson River Housing | NY | 133,663
Hudson River Housing | NY | 138,842
Hudson River Housing | NY | 40,274
Hudson River Housing | NY | 34,913
Human Services Coalition of Cayuga County Inc | NY | 15,460
Independent Living, Inc | NY | 129,885
INSTITUTE FOR COMMUNITY LIVING, INC | NY | 240,060
INSTITUTE FOR COMMUNITY LIVING, INC | NY | 126,395
INSTITUTE FOR COMMUNITY LIVING, INC | NY | 377,444
INSTITUTE FOR COMMUNITY LIVING, INC | NY | 109,319
INSTITUTE FOR COMMUNITY LIVING, INC | NY | 141,627
INSTITUTE FOR COMMUNITY LIVING, INC | NY | 230,945
INSTITUTE FOR COMMUNITY LIVING, INC | NY | 26,496
INSTITUTE FOR COMMUNITY LIVING, INC | NY | 126,394
INSTITUTE FOR COMMUNITY LIVING, INC | NY | 315,787
INSTITUTE FOR COMMUNITY LIVING, INC | NY | 179,281
INSTITUTE FOR COMMUNITY LIVING, INC | NY | 672,657
Interfaith Nutrition Network | NY | 34,959
Interfaith Partnership for the Homeless | NY | 80,000
Interfaith Partnership for the Homeless | NY | 111,105
Interfaith Partnership for the Homeless | NY | 53,683
Jefferson County Department of Social Services | NY | 284,376
Jefferson County Department of Social Services | NY | 25,092
Jefferson County Department of Social Services | NY | 250,920
Jefferson County Department of Social Services | NY | 50,184
Jericho Project | NY | 49,671
Jewish Board of Family and Children's Services, Inc | NY | 415,395
Jewish Board of Family and Children's Services, Inc | NY | 283,500
John Bosco House, Inc | NY | 20,000
Joseph's House & Shelter, Inc | NY | 129,500
Joseph's House & Shelter, Inc | NY | 61,493
Joseph's House & Shelter, Inc | NY | 55,491
Joseph's House & Shelter, Inc | NY | 116,666
Joseph's House & Shelter, Inc | NY | 70,000
Kenmore HDFC | NY | 390,576
Lake Shore Behavioral Health | NY | 573,225
Lakeview Mental Health | NY | 84,091
Lantern Community Services | NY | 630,000
Legal Aid Society of Northeastern New York, Inc | NY | 33,183
Legal Aid Society of Northeastern New York, Inc | NY | 35,595
Legal Aid Society of Northeastern New York, Inc | NY | 30,120
Legal Assistance of Western New York, Inc | NY | 33,600
Legal Assistance of Western New York, Inc | NY | 47,250
Lenox Hill Neighborhood House | NY | 285,998
Liberty Resources, Inc | NY | 63,355
Long Island Coalition for the Homeless | NY | 79,573
Long Island Coalition for the Homeless | NY | 70,000
Long Island Coalition for the Homeless | NY | 21,000
Long Island Coalition for the Homeless | NY | 134,400
Lower Eastside Service Center, Inc | NY | 492,100
Lower Eastside Service Center, Inc | NY | 300,000
Lt. Col. Matt Urban Human Services Ctr of WNY | NY | 1,677,863
Lutheran Social Services of New York | NY | 210,000
Lutheran Social Services of New York | NY | 397,950
Mental Health America of Dutchess County | NY | 54,250
Mental Health Association in Jefferson County Inc | NY | 76,600
Mental Health Association in Orange County, Inc | NY | 244,472
Mental Health Association in Ulster County Inc | NY | 58,209
Mental Health Association of Nassau County | NY | 205,475
Mental Health Association of Nassau County | NY | 94,500
Mental Health Association of New York City, Inc | NY | 584,272
Mental Health Association of New York City, Inc | NY | 291,244
Mercy Haven Inc | NY | 10,194
Metropolitan Council on Jewish Poverty | NY | 99,942
Mohawk Opportunities, Inc | NY | 125,347
Mohawk Opportunities, Inc | NY | 72,612
Mohawk Opportunities, Inc | NY | 56,355
MOMMAS Inc | NY | 57,135
Monroe County | NY | 51,030
Nassau County Coalition Against Domestic Violence | NY | 105,202
Nassau County Coalition Against Domestic Violence | NY | 122,356
Nassau County Coalition Against Domestic Violence | NY | 170,957
Nassau County Coalition Against Domestic Violence | NY | 136,603
Nassau County Housing & Homeless Services | NY | 339,260
Nassau/Suffolk Law Services Committee, Inc | NY | 69,616
Neighborhood Coalition for Shelter | NY | 243,070
New York State Office of Alcoholism and Substance Abuse Sevices | NY | 770,760
New York State Office of Alcoholism and Substance Abuse Sevices | NY | 244,704
New York State Office of Alcoholism and Substance Abuse Sevices | NY | 153,600
New York State Office of Alcoholism and Substance Abuse Sevices | NY | 140,508
New York State Office of Alcoholism and Substance Abuse Sevices | NY | 464,628
New York State Office of Alcoholism and Substance Abuse Sevices | NY | 232,656
New York State Office of Alcoholism and Substance Abuse Sevices | NY | 231,192
New York State Office of Alcoholism and Substance Abuse Sevices | NY | 776,064
New York State Office of Alcoholism and Substance Abuse Sevices | NY | 201,228
New York State Office of Alcoholism and Substance Abuse Sevices | NY | 136,704
New York State Office of Alcoholism and Substance Abuse Sevices | NY | 523,596
New York State Office of Alcoholism and Substance Abuse Sevices | NY | 307,200
New York State Office of Alcoholism and Substance Abuse Sevices | NY | 418,356
New York State Office of Alcoholism and Substance Abuse Sevices | NY | 137,076
New York State Office of Alcoholism and Substance Abuse Sevices | NY | 227,040
New York State Office of Alcoholism and Substance Abuse Sevices | NY | 109,524
New York State Office of Alcoholism and Substance Abuse Sevices | NY | 742,248
New York State Office of Alcoholism and Substance Abuse Sevices | NY | 142,740
New York State Office of Alcoholism and Substance Abuse Sevices | NY | 146,880
New York State Office of Alcoholism and Substance Abuse Sevices | NY | 946,176
New York State Office of Alcoholism and Substance Abuse Sevices | NY | 363,072
New York State Office of Alcoholism and Substance Abuse Sevices | NY | 123,552
New York State Office of Alcoholism and Substance Abuse Sevices | NY | 164,448
New York State Office of Alcoholism and Substance Abuse Sevices | NY | 219,624
New York State Office of Alcoholism and Substance Abuse Sevices | NY | 199,680
New York State Office of Alcoholism and Substance Abuse Sevices | NY | 206,016
New York State Office of Alcoholism and Substance Abuse Sevices | NY | 198,432
New York State Office of Alcoholism and Substance Abuse Sevices | NY | 80,088
New York State Office of Alcoholism and Substance Abuse Sevices | NY | 218,496
New York State Office of Alcoholism and Substance Abuse Sevices | NY | 98,976
New York State Office of Alcoholism and Substance Abuse Sevices | NY | 198,012
New York State Office of Alcoholism and Substance Abuse Sevices | NY | 203,136
New York State Office of Alcoholism and Substance Abuse Sevices | NY | 310,080
New York State Office of Alcoholism and Substance Abuse Sevices | NY | 131,520
New York State Office of Alcoholism and Substance Abuse Sevices | NY | 109,248
New York State Office of Alcoholism and Substance Abuse Sevices | NY | 337,920
New York State Office of Alcoholism and Substance Abuse Sevices | NY | 211,344
New York State Office of Alcoholism and Substance Abuse Sevices | NY | 279,360
New York State Office of Alcoholism and Substance Abuse Sevices | NY | 175,668
New York State Office of Alcoholism and Substance Abuse Sevices | NY | 616,500
New York State Office of Alcoholism and Substance Abuse Sevices | NY | 372,516
Newburgh Interfaith Emergency Housing Inc | NY | 102,234
Niagara Fall/Niagara County Continuum of Care | NY | 68,676
NY-511 Binghamton/Union Town/Broome, Otsego, Chenango Counties CoC | NY | 82,000
NY-511 Binghamton/Union Town/Broome, Otsego, Chenango Counties CoC | NY | 91,000
NY-511 Binghamton/Union Town/Broome, Otsego, Chenango Counties CoC | NY | 143,732
NY-511 Binghamton/Union Town/Broome, Otsego, Chenango Counties CoC | NY | 16,178
NY-600 CoC Registration 2009 | NY | 545,459
NY-600 CoC Registration 2009 | NY | 728,535
NYS Office of Mental Health | NY | 401,280
NYS Office of Mental Health | NY | 372,540
NYS Office of Mental Health | NY | 345,324
NYS Office of Mental Health | NY | 107,952
NYS Office of Mental Health | NY | 91,668
NYS Office of Mental Health | NY | 162,372
NYS Office of Mental Health | NY | 376,356
NYS Office of Mental Health | NY | 256,500
NYS Office of Mental Health | NY | 40,368
NYS Office of Mental Health | NY | 463,404
NYS Office of Mental Health | NY | 306,036
NYS Office of Mental Health | NY | 181,992
NYS Office of Mental Health | NY | 517,776
NYS Office of Mental Health | NY | 177,168
NYS Office of Mental Health | NY | 310,884
NYS Office of Mental Health | NY | 127,764
NYS Office of Mental Health | NY | 102,600
NYS Office of Mental Health | NY | 205,200
NYS Office of Mental Health | NY | 114,120
NYS Office of Mental Health | NY | 357,576
NYS Office of Mental Health | NY | 184,536
NYS Office of Mental Health | NY | 613,200
NYS Office of Mental Health | NY | 158,388
NYS Office of Mental Health | NY | 214,008
NYS Office of Mental Health | NY | 98,520
Oneida County Department of Mental Health | NY | 104,900
Oneida County Department of Mental Health | NY | 14,927
Oneida County Department of Mental Health | NY | 37,483
Oneida County Workforce Development | NY | 39,900
Onondaga Case Management Services, Inc | NY | 234,486
Options for Community Living, Inc | NY | 86,706
Options for Community Living, Inc | NY | 48,622
Options for Community Living, Inc | NY | 49,804
Options for Community Living, Inc | NY | 85,870
Options for Community Living, Inc | NY | 80,563
Options for Community Living, Inc | NY | 119,592
Options for Independence | NY | 79,540
Options for Independence | NY | 73,960
Orange County Department of Mental Health | NY | 69,912
Orange County Department of Mental Health | NY | 69,912
Orange County Department of Mental Health | NY | 186,876
Palladia, Inc | NY | 282,790
Palladia, Inc | NY | 704,884
Palladia, Inc | NY | 492,830
Palladia, Inc | NY | 158,957
Palladia, Inc | NY | 830,975
Palladia, Inc | NY | 458,882
Palladia, Inc | NY | 265,060
Palladia, Inc | NY | 556,583
Palladia, Inc | NY | 265,599
Palladia, Inc | NY | 137,536
PathStone Corporation | NY | 16,687
PathStone Corporation | NY | 65,450
Pathways to Housing Inc | NY | 274,156
Pathways to Housing Inc | NY | 154,015
Pathways to Housing Inc | NY | 584,268
Pathways to Housing Inc | NY | 426,777
Pathways to Housing Inc | NY | 527,647
PEOPLe, Inc | NY | 82,152
Phase Piggy Back Inc | NY | 305,947
Phase Piggy Back Inc | NY | 137,838
Pibly Residential Programs, Inc | NY | 463,234
Plattsburgh Housing Authority | NY | 55,188
Plattsburgh Housing Authority | NY | 110,376
POSTGRADUATE CENTER FOR MENTAL HEALTH | NY | 472,677
Praxis Housing Initiatives | NY | 800,633
Project Hospitality 385 Housing Development Fund Corporation | NY | 477,034
Project Hospitality, Inc | NY | 371,843
Project Renewal, Inc | NY | 670,770
Project Renewal, Inc | NY | 532,669
Project Renewal, Inc | NY | 322,845
Project Renewal, Inc | NY | 328,300
Project Renewal, Inc | NY | 409,798
Project Renewal, Inc | NY | 428,982
Project Renewal, Inc | NY | 135,568
Recovery Houses of Rochester, Inc | NY | 44,452
Regional Economic Community Action Program, Inc | NY | 72,495
Rehabilitation Support Services | NY | 60,119
Rehabilitation Support Services | NY | 66,381
Rehabilitation Support Services | NY | 104,372
Rehabilitation Support Services, Inc | NY | 69,865
Restoration Society, Inc | NY | 200,281
Retreat, Inc | NY | 95,592
Rochester Housing Authority | NY | 149,400
Rochester Housing Authority | NY | 470,880
Rochester Housing Authority | NY | 721,284
Rochester Housing Authority | NY | 185,700
Rochester Housing Authority | NY | 2,254,272
Rochester Housing Authority | NY | 445,824
Rochester Housing Authority | NY | 89,808
Rochester Housing Authority | NY | 207,540
Rochester Housing Authority | NY | 875,172
Rockland County, New York | NY | 215,610
Rockland County, New York | NY | 110,310
Rockland County, New York | NY | 445,796
Rockland County, New York | NY | 74,000
Safe Harbors of the Hudson, Inc | NY | 157,500
SAFE Inc of Schenectady | NY | 48,267
Safe Space | NY | 225,610
Samaritan Village, Inc | NY | 342,709
Samaritan Village, Inc | NY | 183,750
Saratoga County Rural Preservation Company | NY | 43,417
Schenectady Community Action Program, Inc | NY | 149,780
Schenectady Community Action Program, Inc | NY | 165,905
Schenectady Community Action Program, Inc | NY | 273,436
Schenectady Municipal Housing Authority | NY | 451,788
Services for the UnderServed | NY | 404,203
Services for the UnderServed | NY | 74,812
Services for the UnderServed | NY | 345,362
Services for the UnderServed | NY | 588,490
Services for the UnderServed | NY | 536,347
Services for the UnderServed | NY | 210,728
Services for the UnderServed | NY | 141,516
Sojourner House at PathStone, Inc | NY | 135,640
Sojourner House at PathStone, Inc | NY | 89,273
South Shore Association For Independent Living, Inc | NY | 225,038
South Shore Association For Independent Living, Inc | NY | 92,922
South Shore Association For Independent Living, Inc | NY | 148,713
Southern Tier Environments for Living, Inc | NY | 56,516
Spanish Action League of Onondaga County, Inc | NY | 33,247
Spiritus Christi Prison Outreach, Inc | NY | 80,000
Spiritus Christi Prison Outreach, Inc | NY | 94,500
Spiritus Christi Prison Outreach, Inc | NY | 46,444
Steuben Churchpeople Against Poverty, Inc | NY | 68,137
Steuben Churchpeople Against Poverty, Inc | NY | 136,945
Steuben County | NY | 413,448
Suburban Housing F&H | NY | 55,836
Suburban Housing H&P | NY | 123,680
Suburban Housing P&W | NY | 42,000
Suburban Housing W&H | NY | 38,451
Suffolk County Department of Social Services | NY | 175,104
Suffolk County United Veterans | NY | 69,908
Sullivan County Continuum of Care | NY | 13,079
Sullivan County Continuum of Care | NY | 147,123
Sullivan County Continuum of Care | NY | 39,896
Support Ministries, Inc | NY | 91,705
Support Ministries, Inc | NY | 112,137
Syracuse Brick House Inc | NY | 187,426
Syracuse Brick House Inc | NY | 95,899
Syracuse Brick House Inc | NY | 221,092
Syracuse Brick House Inc | NY | 83,988
Syracuse Brick House Inc | NY | 111,286
Syracuse Brick House Inc | NY | 272,450
Syracuse Brick House Inc | NY | 95,252
Syracuse Brick House Inc | NY | 182,292
Syracuse Brick House Inc | NY | 105,256
Syracuse Housing Authority | NY | 743,844
Syracuse Housing Authority | NY | 1,806,360
Tempro Development Co. Inc | NY | 142,215
Tempro Development Co. Inc | NY | 81,774
Tempro Development Co. Inc | NY | 126,622
The Ali Forney Center | NY | 527,857
The Ali Forney Center | NY | 438,598
The Bridge, Inc | NY | 115,431
The Bridge, Inc | NY | 112,163
The Bridge, Inc | NY | 224,339
The Bridge, Inc | NY | 366,262
The Bridge, Inc | NY | 304,581
The Bridge, Inc | NY | 101,909
The Center For Youth Services, Inc | NY | 126,871
The Center For Youth Services, Inc | NY | 33,251
The Doe Fund, Inc | NY | 1,951,512
The Doe Fund, Inc | NY | 1,062,269
The Doe Fund, Inc | NY | 348,447
The Fortune Society, Inc | NY | 448,157
The Mental Health Association of Columbia-Greene Counties, Inc | NY | 20,483
The Mental Health Association of Columbia-Greene Counties, Inc | NY | 64,690
The Mental Health Association of Columbia-Greene Counties, Inc | NY | 78,210
The Mental Health Association of Columbia-Greene Counties, Inc | NY | 30,768
The Municipal Housing Authority for the City of Yonkers | NY | 105,000
The Municipal Housing Authority for the City of Yonkers | NY | 32,333
The Municipal Housing Authority for the City of Yonkers | NY | 530,244
The Municipal Housing Authority for the City of Yonkers | NY | 326,685
The Municipal Housing Authority for the City of Yonkers | NY | 20,496
The Municipal Housing Authority for the City of Yonkers | NY | 48,729
The Municipal Housing Authority for the City of Yonkers | NY | 236,659
The Municipal Housing Authority for the City of Yonkers | NY | 73,049
The Municipal Housing Authority for the City of Yonkers | NY | 46,034
The Municipal Housing Authority for the City of Yonkers | NY | 180,713
The Municipal Housing Authority for the City of Yonkers | NY | 20,496
The Municipal Housing Authority for the City of Yonkers | NY | 102,274
The Rescue Mission Alliance of Syracuse, NY | NY | 100,000
The Salvation Army, a New York Corporation | NY | 99,999
The Salvation Army, a New York Corporation | NY | 115,448
The Salvation Army, a New York Corporation | NY | 293,290
The Salvation Army, a New York Corporation | NY | 249,270
The Salvation Army, a New York Corporation | NY | 221,056
The Salvation Army, a New York Corporation | NY | 51,427
The Salvation Army, a New York Corporation | NY | 236,697
The Salvation Army, a New York Corporation | NY | 163,244
The Salvation Army, a New York Corporation | NY | 83,702
The Salvation Army, a New York Corporation | NY | 52,789
The Unity Hospital of Rochester | NY | 311,196
Tompkins Community Action | NY | 84,713
Tompkins Community Action | NY | 60,126
Transitional Living Services | NY | 397,801
Transitional Services Association, Inc | NY | 34,721
Transitional Services of New York for Long Island, Inc | NY | 57,456
Troy Housing Authority | NY | 86,520
Troy Housing Authority | NY | 25,668
Troy Housing Authority | NY | 98,928
Troy Housing Authority | NY | 525,192
Troy Housing Authority | NY | 55,620
Ulster County Department of Social Services | NY | 202,716
Ulster County Department of Social Services | NY | 358,116
United Bronx Parents, Inc | NY | 419,528
United Veterans Beacon House, Inc | NY | 136,099
Unity House of Troy, Inc | NY | 183,170
Unity House of Troy, Inc | NY | 61,454
Unity House of Troy, Inc | NY | 812,961
University Consultation and Treatment Center, Inc | NY | 244,998
Urban Justice Center | NY | 109,686
Urban Justice Center | NY | 142,711
Urban Pathways | NY | 357,451
Urban Pathways | NY | 160,886
Urban Pathways | NY | 149,030
Urban Pathways | NY | 174,673
Urban Resource Institute | NY | 250,294
Veritas Therapeutic Community, Inc | NY | 273,347
Veritas Therapeutic Community, Inc | NY | 102,678
Veterans Outreach Center | NY | 76,127
VIP Supportive Housing for Social Change | NY | 324,920
Vocational Instruction Project Community Services, Inc | NY | 278,854
Vocational Instruction Project Community Services, Inc | NY | 90,016
Vocational Instruction Project Community Services, Inc | NY | 227,666
Volunteers of America of Western New York, Inc | NY | 205,000
WAIT House | NY | 91,643
Warren Washington Association for Mental Health | NY | 39,099
Warren Washington Association for Mental Health | NY | 38,608
Warren Washington Association for Mental Health | NY | 16,065
Wayne County Action Program, Inc | NY | 22,256
Wayne County Action Program, Inc | NY | 50,826
West Side Federation for Senior and Supportive Housing, Inc | NY | 155,715
West Side Federation for Senior and Supportive Housing, Inc | NY | 362,197
West Side Federation for Senior and Supportive Housing, Inc | NY | 110,205
Westchester County Department of Community Mental Health | NY | 473,952
Westchester County Department of Community Mental Health | NY | 447,000
Westchester County Department of Community Mental Health | NY | 983,508
Westchester County Department of Community Mental Health | NY | 1,166,412
Westchester County Department of Community Mental Health | NY | 572,124
Westchester County Department of Community Mental Health | NY | 962,328
Westchester County Department of Community Mental Health | NY | 679,680
Westchester County Department of Community Mental Health | NY | 160,440
Westchester County Department of Community Mental Health | NY | 448,092
Westchester County Department of Community Mental Health | NY | 212,004
Westchester County Department of Community Mental Health | NY | 229,860
Westchester County Department of Community Mental Health | NY | 1,240,860
Westchester County Department of Social Services | NY | 345,652
Westchester County Department of Social Services | NY | 30,000
Westchester County Department of Social Services | NY | 121,776
Westchester County Department of Social Services | NY | 105,000
Westchester County Department of Social Services | NY | 323,748
Westchester County Department of Social Services | NY | 655,593
Westchester County Department of Social Services | NY | 525,185
Westchester County Department of Social Services | NY | 100,000
Westchester County Department of Social Services | NY | 113,330
Westchester County Department of Social Services | NY | 48,530
Westchester County Department of Social Services | NY | 205,485
Weston United Community Renewal, Inc | NY | 224,900
Wilson Commencement Park | NY | 139,025
Women In Need, Inc | NY | 327,681
Women In Need, Inc | NY | 405,062
Women In Need, Inc | NY | 325,270
Women In Need, Inc | NY | 326,070
Women In Need, Inc | NY | 363,711
Women In Need, Inc | NY | 446,787
Women In Need, Inc | NY | 265,059
Y.W.C.A. of the Mohawk Valley | NY | 354,107
Y.W.C.A. of the Mohawk Valley | NY | 161,836
YMCA of Greater New York | NY | 570,504
ywca of binghamton/broome county | NY | 99,074
ywca of binghamton/broome county | NY | 107,081
ywca of binghamton/broome county | NY | 152,077
YWCA of Rochester and monroe County | NY | 123,781
YWCA of Schenectady | NY | 211,271
YWCA of Syracuse & Onondaga County, Inc | NY | 165,768
YWCA of the Tonawandas and Niagara Frontier, Inc | NY | 31,271
YWCA of Troy-Cohoes Inc | NY | 26,250
YWCA of Troy-Cohoes Inc | NY | 76,958
YWCA of Western New York | NY | 70,367
YWCA of Western New York | NY | 166,700
300 Beds, Inc/Harbor House | OH | 117,551
ACCESS, Inc | OH | 118,711
AIDS Taskforce of Greater Cleveland | OH | 75,655
AIDS Taskforce of Greater Cleveland | OH | 111,330
Akron Metropolitan Housing Authority | OH | 246,840
Akron Metropolitan Housing Authority | OH | 73,488
Akron Metropolitan Housing Authority | OH | 440,424
Akron Metropolitan Housing Authority | OH | 200,064
Alcohol, Drug Addiction & Mental Health Services Board of Tuscarawas and Carroll Counties | OH | 125,952
Allen Metropolitan Housing Authority | OH | 182,520
Alliance for Children & Families | OH | 126,786
Amethyst, Inc | OH | 163,120
Appleseed Community Mental Health Center, Inc | OH | 67,549
Ashtabula County Mental Health and Recovery Services Board | OH | 297,024
Athens Metropolitan Housing Authority | OH | 235,332
Athens Metropolitan Housing Authority | OH | 34,740
Aurora Project, Inc | OH | 103,772
Battered Women's Shelter | OH | 111,147
Battered Women's Shelter | OH | 140,711
Beatitude House | OH | 71,250
Beatitude House | OH | 207,028
Beatitude House | OH | 141,334
Beatitude House | OH | 134,435
Bethany House Services, Inc | OH | 316,538
Bethany House Services, Inc | OH | 26,174
Caracole, Inc | OH | 159,999
Catholic Charities Diocese of Toledo Inc | OH | 217,505
Catholic Charities Diocese of Toledo Inc | OH | 86,552
Catholic Charities Regional Agency | OH | 17,850
Catholic Charities Regional Agency | OH | 51,888
Center for Independent Living Options, Inc | OH | 301,748
Center for Independent Living Options, Inc | OH | 854,432
Center for Respite Care, Inc | OH | 159,420
Cincinnati/Hamilton County CoC | OH | 95,645
Cincinnati/Hamilton County CoC | OH | 285,701
CincySmiles Foundation | OH | 179,765
City of Cincinnati | OH | 113,040
City of Cincinnati | OH | 4,889,160
City of Cincinnati | OH | 265,752
City of Dayton | OH | 93,504
City of Dayton | OH | 1,961,424
City of Dayton | OH | 425,568
City of Springfield, Ohio | OH | 31,296
City of Youngstown | OH | 239,760
Cleveland Tenants Organization | OH | 52,500
Cogswell Hall, Inc | OH | 97,735
Coleman Professional Services | OH | 31,521
Coleman Professional Services | OH | 70,000
Coleman Professional Services | OH | 70,927
Coleman Professional Services | OH | 89,462
Columbiana County Mental Health Clinic dba The Counseling Center | OH | 36,667
Columbiana Metropolitan Housing Authority | OH | 29,040
Columbiana Metropolitan Housing Authority | OH | 29,040
Columbiana Metropolitan Housing Authority | OH | 215,088
Columbus Metropolitan Housing Authority | OH | 1,331,892
Columbus Metropolitan Housing Authority | OH | 120,900
Columbus Metropolitan Housing Authority | OH | 697,608
Columbus Metropolitan Housing Authority | OH | 1,231,980
Columbus Metropolitan Housing Authority | OH | 746,040
Columbus Metropolitan Housing Authority | OH | 94,800
Community Action Agency of Columbiana County, Inc | OH | 95,730
Community Action Commission of Fayette County | OH | 64,914
Community Action Partnership of the Greater Dayton Area | OH | 56,371
Community AIDS Network | OH | 65,799
Community Health Center | OH | 135,108
Community Health Center | OH | 73,165
Community Health Center | OH | 116,475
Community Health Center | OH | 119,713
Community Health Center | OH | 29,049
Community Health Center | OH | 175,711
Community Housing Network, Inc | OH | 87,316
Community Housing Network, Inc | OH | 236,416
Community Housing Network, Inc | OH | 184,834
Community Housing Network, Inc | OH | 656,422
Community Housing Network, Inc | OH | 298,939
Community Housing Network, Inc | OH | 83,283
Community Housing Network, Inc | OH | 436,813
Community Housing Network, Inc | OH | 245,103
Community Housing Network, Inc | OH | 226,315
Community Housing Network, Inc | OH | 97,293
Community Housing Network, Inc | OH | 59,060
Community Housing Network, Inc | OH | 35,233
Community Housing Network, Inc | OH | 260,673
Community Services of Stark County, Inc | OH | 133,333
Community Shelter Board | OH | 166,413
Community Support Services Inc | OH | 162,385
Continue Life Inc | OH | 212,973
Crisis Intervention and Recovery Center, Inc | OH | 62,132
Cuyahoga County | OH | 270,705
Cuyahoga County | OH | 537,741
Cuyahoga County | OH | 1,047,732
Cuyahoga County | OH | 77,167
Cuyahoga County | OH | 10,116,156
Cuyahoga County | OH | 317,109
Cuyahoga County | OH | 174,731
Cuyahoga County | OH | 416,820
Cuyahoga Metropolitan Housing Authority | OH | 386,373
Daybreak, Inc | OH | 410,868
Daybreak, Inc | OH | 191,774
emerald development & economic network | OH | 572,959
emerald development & economic network | OH | 703,431
emerald development & economic network | OH | 27,276
emerald development & economic network | OH | 806,702
emerald development & economic network | OH | 555,615
emerald development & economic network | OH | 468,367
Family & Community Services, Inc | OH | 118,356
Family & Community Services, Inc | OH | 184,701
Family & Community Services, Inc | OH | 45,933
Family Abuse Shelter of Miami County, Inc | OH | 42,000
Family Abuse Shelter of Miami County, Inc | OH | 16,000
Family Outreach Community United Services | OH | 271,820
Family Outreach Community United Services | OH | 404,981
Family Outreach Community United Services | OH | 308,076
Family Outreach Community United Services | OH | 119,220
Family Recovery Center | OH | 70,606
Family Violence Prevention Center of Greene County, Inc | OH | 56,293
Family Violence Prevention Center of Greene County, Inc | OH | 66,761
Freestore Foodbank Permanent Housing | OH | 170,449
Freestore/Foodbank, Inc | OH | 72,886
Freestore/Foodbank, Inc | OH | 739,858
Geauga County Board of Mental Health & Recovery Services | OH | 89,808
Greene Metropolitan Housing Authority | OH | 141,660
H. M. Life Opportunity Services | OH | 68,077
H. M. Life Opportunity Services | OH | 179,584
H. M. Life Opportunity Services | OH | 169,140
H. M. Life Opportunity Services | OH | 48,218
Hitchcock Center For Women, Inc | OH | 275,403
Hitchcock Center For Women, Inc | OH | 236,841
Hocking Metropolitan Housing Authority | OH | 210,816
Homefull | OH | 174,394
Homefull | OH | 254,000
Huckleberry House, Inc | OH | 235,406
Humility of Mary | OH | 76,624
Humility of Mary | OH | 32,322
ICAN Inc | OH | 48,134
ICAN Inc | OH | 46,856
ICAN Inc | OH | 190,357
ICAN Inc | OH | 86,692
ICAN Inc | OH | 77,350
Info Line, Inc | OH | 159,796
Info Line, Inc | OH | 95,778
Interfaith Hospitality Network of Springfield | OH | 212,719
Ironton Lawrence County Area CAO, Inc | OH | 104,200
Jefferson County Community Action Council | OH | 138,432
Jefferson County Prevention and Recovery Board | OH | 354,632
Jefferson County Prevention and Recovery Board | OH | 229,764
JOSEPH HOUSE, INC | OH | 107,660
JOSEPH HOUSE, INC | OH | 77,049
Joseph's Home | OH | 273,056
Knox Metropolitan Housing Authority | OH | 133,500
Lake County Alcohol, Drug Addiction and Mental Health Services Board | OH | 218,568
Lakewood Christian Service Center | OH | 41,398
Legacy III, Inc | OH | 75,920
Legacy III, Inc | OH | 139,099
Legacy III, Inc | OH | 134,904
Licking County Coalition for Housing | OH | 588,371
Licking Metropolitan Housing Authority | OH | 312,936
Lighthouse Youth Services, Inc | OH | 147,025
Lighthouse Youth Services, Inc | OH | 409,122
Lighthouse Youth Services, Inc | OH | 100,601
Lorain Metropolitan Housing Authority | OH | 513,852
LUCAS METROPOLITAN HOUSING AUTHORITY | OH | 151,380
Lutheran Metropolitan Ministry | OH | 50,157
Maryhaven | OH | 137,936
Maryhaven | OH | 48,015
McKinley Hall, Inc | OH | 40,615
Medina County Alcohol, Drug Addiction and Mental Health Board | OH | 199,207
Medina Metropolitan Housing Authority | OH | 348,600
Mental Health & Recovery Board of Union County | OH | 60,580
Mental Health & Recovery Board of Union County | OH | 73,361
Mental Health & Recovery Services Board of Lucas County | OH | 241,752
Mental Health & Recovery Services Board of Lucas County | OH | 393,486
Mental Health & Recovery Services Board of Lucas County | OH | 96,660
Mental Health & Recovery Services Board of Lucas County | OH | 96,660
Mental Health and Recovery Services Board of Stark County | OH | 47,957
Mental Health and Recovery Services Board of Stark County | OH | 105,437
Mental Health Services for Homeless Persons, Inc | OH | 456,968
Mental Health Services for Homeless Persons, Inc | OH | 264,099
Mental Health Services for Homeless Persons, Inc | OH | 469,586
Mental Health Services for Homeless Persons, Inc | OH | 39,032
Mental Health Services for Homeless Persons, Inc | OH | 206,741
Mental Health Services for Homeless Persons, Inc | OH | 1,634,897
Mental Health Services for Homeless Persons, Inc | OH | 969,577
Mental Health Services for Homeless Persons, Inc | OH | 446,546
Mental Health Services for Homeless Persons, Inc | OH | 229,897
Mercy Manor | OH | 101,718
Meridian Services, Inc | OH | 124,640
Meridian Services, Inc | OH | 35,945
Meridian Services, Inc | OH | 80,876
Meridian Services, Inc | OH | 136,786
Meridian Services, Inc | OH | 113,300
Miami Valley Housing Opportunities, Inc | OH | 50,364
Miami Valley Housing Opportunities, Inc | OH | 127,105
Miami Valley Housing Opportunities, Inc | OH | 116,914
Montgomery County Board of Commissioners | OH | 137,898
National Church Residences | OH | 415,400
National Church Residences | OH | 42,292
National Church Residences | OH | 250,092
Neighborhood Health Association, Inc | OH | 52,979
Neighborhood Properties, Inc | OH | 90,649
Neighborhood Properties, Inc | OH | 180,088
Neighborhood Properties, Inc | OH | 73,975
Neighborhood Properties, Inc | OH | 108,889
Neighborhood Properties, Inc | OH | 229,249
Neighborhood Properties, Inc | OH | 239,499
Neighborhood Properties, Inc | OH | 77,675
New Housing Ohio, Inc | OH | 69,621
New Life Community | OH | 55,643
New Sunrise Properties, Inc | OH | 28,137
North Coast Community Homes, Inc | OH | 33,468
North Coast Community Homes, Inc | OH | 38,911
Ohio Department of Development | OH | 212,536
Ohio Department of Development | OH | 245,000
Ohio Multi-County Development Corporation | OH | 408,893
Ohio Multi-County Development Corporation | OH | 126,029
Ohio Multi-County Development Corporation | OH | 78,185
Ohio Valley Goodwill Industries Rehabilitation Center, Inc | OH | 172,001
Ohio Valley Goodwill Industries Rehabilitation Center, Inc | OH | 285,595
Oriana House, Inc | OH | 15,225
Over the Rhine Community Housing | OH | 56,037
Pickaway County Community Action Organization, Inc | OH | 123,145
PLACES Incorporated | OH | 490,117
PLACES Incorporated | OH | 325,372
PLACES Incorporated | OH | 481,220
PLACES Incorporated | OH | 71,081
PLACES Incorporated | OH | 214,781
Portage Metropolitan Housing Authority | OH | 183,720
Portage Metropolitan Housing Authority | OH | 870,000
Preble County Mental Health & Recovery Board | OH | 171,240
Preparation for Adult Living (PAL) Mission | OH | 66,666
Preparation for Adult Living (PAL) Mission | OH | 109,301
Project Woman of Springfield and Clark County | OH | 35,679
Project Woman of Springfield and Clark County | OH | 236,911
Prospect House, Inc | OH | 126,000
Residential Administrators, Inc | OH | 102,721
Residential Administrators, Inc | OH | 95,962
Shelterhouse Volunteer Group | OH | 93,000
Shelterhouse Volunteer Group | OH | 247,062
Shelterhouse Volunteer Group | OH | 88,750
Southeast, Inc | OH | 211,158
Southeast, Inc | OH | 260,680
Springfield District Council of the St. Vincent de Paul Society | OH | 23,040
Springfield Metropolitan Housing Authority | OH | 106,188
St. Paul's Community Center | OH | 183,816
St. Vincent de Paul Social Services, Inc | OH | 109,410
St. Vincent de Paul Social Services, Inc | OH | 106,910
St. Vincent de Paul Social Services, Inc | OH | 181,200
Stark Metropolitan Housing Authority | OH | 210,780
Stark Metropolitan Housing Authority | OH | 423,660
Stark Metropolitan Housing Authority | OH | 171,696
Summit County Children Services | OH | 115,643
Talbert House | OH | 165,000
TASC of Northwest Ohio, Inc | OH | 92,830
TASC of Northwest Ohio, Inc | OH | 212,595
Tender Mercies, Inc | OH | 299,491
Tender Mercies, Inc | OH | 58,630
The Center for Individual and Family Services | OH | 56,066
The Mental Health, Drug and Alcohol Services Board | OH | 40,348
The Salvation Army, a New York Corporation | OH | 178,615
The Salvation Army, a New York Corporation | OH | 666,627
The Salvation Army, a New York Corporation | OH | 29,644
The Salvation Army, a New York Corporation | OH | 526,797
Toledo Lucas HMIS | OH | 88,915
Tom Geiger Guest House, Inc | OH | 52,500
Transitional Housing, Inc | OH | 122,528
Tri-County Board of Recovery & Mental Health Services | OH | 34,908
Trumbull County Mental Health and Recovery Board | OH | 97,767
Trumbull County Mental Health and Recovery Board | OH | 221,556
Volunteers of America | OH | 79,155
Volunteers of America | OH | 246,967
Volunteers of America Northwest Ohio, Inc | OH | 286,661
Volunteers of America Northwest Ohio, Inc | OH | 291,955
Volunteers of America of Greater Ohio | OH | 262,500
Volunteers of America of Greater Ohio | OH | 357,325
Warren Metropolitan Housing Authority | OH | 390,159
Warren Metropolitan Housing Authority | OH | 234,360
Warren Metropolitan Housing Authority | OH | 184,574
West Side Catholic Center | OH | 120,901
West Side Catholic Center | OH | 19,339
West Side Catholic Center | OH | 127,829
West Side Catholic Center | OH | 97,182
WSOS Community Action Commission, Inc | OH | 592,775
WSOS Community Action Commission, Inc | OH | 53,774
WSOS Community Action Commission, Inc | OH | 293,822
WSOS Community Action Commission, Inc | OH | 435,196
YMCA of Greater Cleveland | OH | 905,203
YMCA of Greater Cleveland | OH | 187,351
Young Women's Christian Association of Youngstown, Ohio | OH | 55,728
Young Women's Christian Association of Youngstown, Ohio | OH | 136,595
Young Women's Christian Association of Youngstown, Ohio | OH | 89,353
Young Women's Christian Association of Youngstown, Ohio | OH | 132,141
Young Women's Christian Association of Youngstown, Ohio | OH | 105,248
Youngstown Area Goodwill Industries, Inc | OH | 72,063
Youngstown City Health District | OH | 52,083
Youngstown State University | OH | 50,308
YWCA | OH | 162,559
YWCA | OH | 99,015
YWCA Dayton | OH | 405,799
YWCA Dayton | OH | 860,470
YWCA of Canton | OH | 47,951
YWCA of Canton | OH | 208,227
YWCA of Canton | OH | 32,888
YWCA of Elyria | OH | 120,932
YWCA of Elyria | OH | 116,706
YWCA of Greater Cincinnati | OH | 146,067
YWCA of Hamilton Ohio Inc | OH | 119,320
Zanesville Metropolitan Housing Authority | OH | 46,560
Central Oklahoma Community Action Agency | OK | 34,075
Central Oklahoma Community Action Agency | OK | 113,719
Central Oklahoma Community Action Agency | OK | 34,571
Central Oklahoma Community Action Agency | OK | 67,882
City of Oklahoma City | OK | 240,815
City of Oklahoma City | OK | 66,424
City of Oklahoma City | OK | 73,001
City of Oklahoma City | OK | 236,714
City of Oklahoma City | OK | 185,762
City of Oklahoma City | OK | 358,654
City of Oklahoma City | OK | 89,872
City of Oklahoma City | OK | 299,999
City of Oklahoma City | OK | 33,456
City of Oklahoma City | OK | 51,710
City of Oklahoma City | OK | 16,728
City of Oklahoma City | OK | 94,564
City of Oklahoma City | OK | 124,999
City of Oklahoma City | OK | 172,200
City of Oklahoma City | OK | 162,500
City of Oklahoma City | OK | 134,647
City of Oklahoma City | OK | 183,563
Community Action Resource & Development, Inc | OK | 13,718
Community Crisis Center, Inc | OK | 50,129
Community Service Council—Projects | OK | 123,113
Domestic Violence Intervention Services, Inc | OK | 149,369
Domestic Violence Program of North Central Oklahoma, Inc | OK | 70,613
East Main Place, Inc | OK | 43,895
Food and Shelter for Friends | OK | 51,337
Food and Shelter for Friends | OK | 25,315
Freedom From Addiction Through Christ | OK | 43,632
Housing Authority of the City of Lawton | OK | 22,050
Housing Authority of the City of Lawton | OK | 47,147
Housing Authority of the City of Norman | OK | 80,640
Legal Aid Services of Oklahoma, Inc | OK | 111,919
Mental Health Association in Tulsa, Inc | OK | 252,008
Mental Health Association in Tulsa, Inc | OK | 121,046
Mental Health Association in Tulsa, Inc | OK | 310,633
Mental Health Association in Tulsa, Inc | OK | 88,456
Mental Health Association in Tulsa, Inc | OK | 222,768
Mental Health Association in Tulsa, Inc | OK | 23,625
Norman Housing Authority | OK | 68,880
Northeast Oklahoma COC | OK | 253,995
Northeast Oklahoma Community Action Agency, Inc | OK | 31,370
Northeast Oklahoma Community Action Agency, Inc | OK | 26,708
northwest domestic crisis services 04 | OK | 118,544
Oklahoma Mental Health Council d/b/a Red Rock | OK | 162,451
Progressive Independence, Inc | OK | 37,392
Southern Territorial Headquarters of The Salvation Army, The | OK | 110,431
Southern Territorial Headquarters of The Salvation Army, The | OK | 336,679
State of Oklahoma | OK | 179,016
State of Oklahoma | OK | 48,216
Tulsa Day Center for the Homeless, Inc | OK | 213,112
United Way of Ponca City, Inc | OK | 44,765
Volunteers of America of Oklahoma, Inc | OK | 103,663
Volunteers of America of Oklahoma, Inc | OK | 125,481
Volunteers of America of Oklahoma, Inc | OK | 211,941
Volunteers of America of Oklahoma, Inc | OK | 77,914
Waynoka Mental Health Authority | OK | 224,439
ACCESS, Inc | OR | 10,901
Bradley-Angle House | OR | 73,987
Cascadia BHC | OR | 125,582
Cascadia BHC | OR | 15,384
Cascadia BHC | OR | 271,872
Cascadia BHC | OR | 698,336
Central City Concern | OR | 104,772
Central City Concern | OR | 200,083
Central City Concern | OR | 223,014
Central City Concern | OR | 236,968
Central City Concern | OR | 160,602
Central Oregon Veterans Outreach | OR | 25,506
City of Portland | OR | 271,986
City of Portland | OR | 241,074
Clackamas County Department of Health, Housing and Human Services | OR | 29,977
Clackamas County Department of Health, Housing and Human Services | OR | 64,057
Clackamas County Department of Health, Housing and Human Services | OR | 36,193
Clackamas County Department of Health, Housing and Human Services | OR | 184,229
Clackamas County Department of Health, Housing and Human Services | OR | 114,200
Clackamas Women's Services | OR | 81,290
Clatsop Community Action | OR | 64,691
Clatsop Community Action | OR | 17,951
Communities in Action | OR | 116,951
Communities in Action | OR | 41,820
Community Action Organization | OR | 165,218
Community Action Program of East Central Oregon | OR | 33,588
Community Action Program of East Central Oregon | OR | 72,574
Community Action Team, Inc | OR | 28,996
Community Action Team, Inc | OR | 26,767
Community Action Team, Inc | OR | 99,110
Community Action Team, Inc | OR | 67,594
Community Connection of Northeast Oregon, Inc | OR | 94,406
Community Outreach, Inc | OR | 26,739
Community Services Consortium | OR | 76,122
Community Works | OR | 116,015
Eastern Oregon Alcoholism Foundation | OR | 35,467
Give Them Wings, Inc | OR | 49,259
Housing and Community Services Agency of Lane County | OR | 424,956
Housing Authority of Clackamas County | OR | 71,886
Housing Authority of Clackamas County | OR | 327,528
Housing Authority of Portland | OR | 1,914,768
Housing Authority of Portland | OR | 476,244
Housing Authority of Portland | OR | 263,952
Housing Authority of Portland | OR | 463,944
Housing Authority of Portland | OR | 503,388
Housing Authority of Portland | OR | 408,420
Human Solutions, Inc | OR | 51,905
Human Solutions, Inc | OR | 372,973
Human Solutions, Inc | OR | 361,691
Human Solutions, Inc | OR | 104,928
JOIN | OR | 179,800
Lane County | OR | 174,549
Lane County | OR | 96,260
Lane County | OR | 131,705
Lane County | OR | 323,346
Lane County | OR | 30,835
Lane County | OR | 527,903
Lincoln County Council on Alcohol and Drug Abuse, Inc | OR | 43,311
Linn-Benton Housing Authority | OR | 53,654
Linn-Benton Housing Authority | OR | 66,578
Luke-Dorf, Inc | OR | 166,293
Mid-Columbia Community Action Council Inc | OR | 11,605
Mid-Columbia Community Action Council Inc | OR | 58,248
Mid-Willamette Valley Community Action Agency | OR | 83,572
Mid-Willamette Valley Community Action Agency | OR | 306,901
Mid-Willamette Valley Community Action Agency | OR | 30,394
Multnomah County | OR | 12,635
Multnomah County | OR | 278,736
Multnomah County | OR | 142,142
Multnomah County | OR | 45,801
Multnomah County | OR | 462,083
Multnomah County | OR | 1,150,995
Neighborhood House | OR | 276,770
NeighborImpact Transitional Housing Program | OR | 302,996
New Avenues for Youth | OR | 71,190
Northwest Human Services, Inc | OR | 235,025
Northwest Pilot Project, Inc | OR | 122,879
Open Door Counseling Center | OR | 38,095
Oregon Coast Community Action | OR | 97,387
Oregon Coast Community Action | OR | 26,463
Oregon Coast Community Action | OR | 82,535
Oregon Coast Community Action | OR | 7,647
Oregon Coast Community Action | OR | 14,580
Oregon Coast Community Action | OR | 14,910
Oregon Coast Community Action | OR | 22,025
Oregon Coast Community Action | OR | 14,314
Oregon Department of Human Services | OR | 17,496
Oregon Department of Human Services | OR | 11,718
Oregon Housing and Community Services | OR | 32,081
Portland Impact, Inc | OR | 115,737
Rogue Valley Council of Governments | OR | 132,297
Shangri-La Corporation | OR | 33,323
Shangri-La Corporation | OR | 37,800
Shangri-La Corporation | OR | 153,860
St. Vincent de Paul Society of Lane County, Inc | OR | 28,511
St. Vincent de Paul Society of Lane County, Inc | OR | 88,470
St. Vincent de Paul Society of Lane County, Inc | OR | 222,219
St. Vincent de Paul Society of Lane County, Inc | OR | 249,736
St. Vincent de Paul Society of Lane County, Inc | OR | 58,404
The Inn-Home for Boys | OR | 244,192
The Inn-Home for Boys | OR | 33,870
The Salvation Army | OR | 39,375
The Salvation Army | OR | 125,769
Tillamook Co. Community Action Resource Enterprises, Inc | OR | 25,061
Transition Projects | OR | 116,302
Transition Projects | OR | 277,367
Transition Projects | OR | 243,041
TSA Medford | OR | 50,000
United Community Action Network | OR | 42,525
United Community Action Network | OR | 35,555
United Community Action Network | OR | 35,487
United Community Action Network | OR | 59,368
United Community Action Network | OR | 80,425
Washington County Dept of Housing Services | OR | 83,868
Washington County Dept of Housing Services | OR | 14,496
Washington County Dept of Housing Services | OR | 39,000
Washington County Dept of Housing Services | OR | 31,027
Washington County Dept of Housing Services | OR | 136,523
Washington County Dept of Housing Services | OR | 119,465
Washington County Dept of Housing Services | OR | 126,060
Washington County Dept of Housing Services | OR | 1,058,256
Washington County Dept of Housing Services | OR | 291,867
YCAP | OR | 41,046
1260 Housing Development Corporation | PA | 144,900
1260 Housing Development Corporation | PA | 528,524
1260 Housing Development Corporation | PA | 67,686
1260 Housing Development Corporation | PA | 260,604
1260 Housing Development Corporation | PA | 201,685
ACHIEVEability | PA | 210,000
ACHIEVEability | PA | 161,700
ACHIEVEability | PA | 42,000
ActionAIDS | PA | 178,750
ActionAIDS | PA | 249,417
Adams County Housing Authority | PA | 39,745
AIDS Care Group | PA | 374,858
Allegheny County Department of Human Services | PA | 127,844
Allegheny County Department of Human Services | PA | 285,704
Allegheny County Department of Human Services | PA | 284,525
Allegheny County Department of Human Services | PA | 138,548
Allegheny County Department of Human Services | PA | 152,566
Allegheny County Department of Human Services | PA | 1,596,672
Allegheny County Department of Human Services | PA | 149,370
Allegheny County Department of Human Services | PA | 68,404
Allegheny County Department of Human Services | PA | 304,500
Allegheny County Department of Human Services | PA | 119,700
Allegheny County Department of Human Services | PA | 606,630
Allegheny County Department of Human Services | PA | 224,833
Allegheny County Department of Human Services | PA | 228,989
Allegheny County Department of Human Services | PA | 173,157
Allegheny County Department of Human Services | PA | 193,696
Allegheny County Department of Human Services | PA | 391,755
Allegheny County Department of Human Services | PA | 11,147
Allegheny County Department of Human Services | PA | 175,455
Allegheny County Department of Human Services | PA | 64,702
Allegheny County Department of Human Services | PA | 196,461
Allegheny County Department of Human Services | PA | 92,009
Allegheny County Department of Human Services | PA | 39,454
Allegheny County Department of Human Services | PA | 78,507
Allegheny County Department of Human Services | PA | 112,356
Allegheny County Department of Human Services | PA | 135,003
Allegheny County Department of Human Services | PA | 99,378
Allegheny County Department of Human Services | PA | 242,611
Allegheny County Department of Human Services | PA | 133,992
Allegheny County Department of Human Services | PA | 213,309
Allegheny County Department of Human Services | PA | 164,146
Allegheny County Department of Human Services | PA | 163,223
Allegheny County Department of Human Services | PA | 208,827
Allegheny County Department of Human Services | PA | 350,870
Allegheny County Department of Human Services | PA | 113,814
Allegheny County Department of Human Services | PA | 308,209
Allegheny County Department of Human Services | PA | 105,875
Allegheny County Department of Human Services | PA | 174,237
Allegheny County Department of Human Services | PA | 87,995
Allegheny County Department of Human Services | PA | 91,862
Allegheny County Department of Human Services | PA | 171,552
Allegheny County Department of Human Services | PA | 106,050
Allegheny County Department of Human Services | PA | 155,429
Allegheny County Department of Human Services | PA | 138,960
Allegheny County Department of Human Services | PA | 122,165
Allegheny County Department of Human Services | PA | 120,750
Allegheny County Department of Human Services | PA | 311,949
Allegheny County Department of Human Services | PA | 73,980
Allegheny County Department of Human Services | PA | 315,837
Allegheny County Department of Human Services | PA | 195,223
Allegheny County Department of Human Services | PA | 107,841
Allegheny County Department of Human Services | PA | 27,384
Allegheny County Department of Human Services | PA | 215,526
Allegheny County Department of Human Services | PA | 251,286
Allegheny County Department of Human Services | PA | 1,398,600
Allegheny County Department of Human Services | PA | 362,820
Allegheny County Department of Human Services | PA | 230,186
Allegheny County Department of Human Services | PA | 166,280
Allegheny County Department of Human Services | PA | 251,514
Allegheny County Department of Human Services | PA | 68,355
Allegheny County Department of Human Services | PA | 55,556
Allegheny County Department of Human Services | PA | 73,143
Allegheny County Department of Human Services | PA | 64,315
Allegheny County Department of Human Services | PA | 305,550
Allegheny County Department of Human Services | PA | 145,873
Allegheny County Department of Human Services | PA | 64,890
American Red Cross, The | PA | 80,905
American Rescue Workers Inc | PA | 116,793
Armstrong County Community Action Agency | PA | 126,728
Armstrong County Community Action Agency | PA | 121,082
Armstrong County Community Action Agency | PA | 112,874
Asociacion Puertorriquenos en Marcha | PA | 129,778
Asociacion Puertorriquenos en Marcha | PA | 149,711
Bell Socialization Services | PA | 354,632
Bell Socialization Services | PA | 34,824
Berks Counseling Center, Inc | PA | 306,180
Berks Counseling Center, Inc | PA | 79,135
Berks Counseling Center, Inc | PA | 39,660
Berks Counseling Center, Inc | PA | 170,019
Berks Counseling Center, Inc | PA | 133,745
Berks Counseling Center, Inc | PA | 70,570
Berks Counseling Center, Inc | PA | 99,960
Berks County Women in Crisis | PA | 28,000
Bethesda Project | PA | 160,900
Bethesda Project | PA | 223,761
Blair County Community Action Program | PA | 357,374
Blair County Community Action Program | PA | 104,630
Borough of State College | PA | 10,920
Bradford County Human Service Agency—County Office of Mental Health | PA | 97,472
Bucks County Housing Group, Inc | PA | 160,407
Calcutta House, Inc | PA | 115,943
Calcutta House, Inc | PA | 75,455
Cameron and Elk Counties MH/MR Program | PA | 67,732
CAPSEA, Inc | PA | 93,581
Carson Valley Children's Aid | PA | 353,396
Catherine McAuley Center | PA | 113,700
Catherine McAuley Center | PA | 138,399
Catholic Social Services | PA | 88,200
Catholic Social Services | PA | 120,749
Catholic Social Services | PA | 87,780
Catholic Social Services | PA | 60,245
Catholic Social Services | PA | 160,101
Catholic Social Services | PA | 102,229
Catholic Social Services | PA | 202,085
Catholic Social Services of the Diocese of Scranton, Inc | PA | 125,401
Catholic Social Services of the Diocese of Scranton, Inc | PA | 125,924
Catholic Social Services of the Diocese of Scranton, Inc | PA | 141,825
Catholic Social Services of the Diocese of Scranton, Inc | PA | 104,499
Catholic Social Services of the Diocese of Scranton, Inc | PA | 39,871
Catholic Youth Center | PA | 318,101
Centre County Youth Service Bureau | PA | 52,870
Chester County CoC | PA | 100,000
Chester County CoC | PA | 112,907
Chester County CoC | PA | 17,304
Chester County CoC | PA | 118,440
Chester County CoC | PA | 106,380
Chester County CoC | PA | 83,868
Chester County CoC | PA | 305,220
Chester County CoC | PA | 105,000
Chester County CoC | PA | 56,736
Christian Churches United of the TriCounty Area | PA | 311,280
City Mission—Living Stones, Inc | PA | 133,417
City Mission—Living Stones, Inc | PA | 108,581
City of Philadelphia Office of Supportive Housing | PA | 706,512
City of Philadelphia Office of Supportive Housing | PA | 116,328
City of Philadelphia Office of Supportive Housing | PA | 73,799
City of Philadelphia Office of Supportive Housing | PA | 811,320
City of Philadelphia Office of Supportive Housing | PA | 99,272
City of Philadelphia Office of Supportive Housing | PA | 485,150
City of Philadelphia Office of Supportive Housing | PA | 106,380
City of Philadelphia Office of Supportive Housing | PA | 377,580
City of Philadelphia Office of Supportive Housing | PA | 430,200
City of Philadelphia Office of Supportive Housing | PA | 315,094
City of Philadelphia Office of Supportive Housing | PA | 129,192
City of Philadelphia Office of Supportive Housing | PA | 133,224
City of Philadelphia Office of Supportive Housing | PA | 81,146
City of Philadelphia Office of Supportive Housing | PA | 78,604
City of Philadelphia Office of Supportive Housing | PA | 316,980
City of Philadelphia Office of Supportive Housing | PA | 166,812
City of Philadelphia Office of Supportive Housing | PA | 147,924
City of Philadelphia Office of Supportive Housing | PA | 182,136
City of Philadelphia Office of Supportive Housing | PA | 295,740
City of Philadelphia Office of Supportive Housing | PA | 14,184
City of Philadelphia Office of Supportive Housing | PA | 215,760
City of Philadelphia Office of Supportive Housing | PA | 189,120
City of Philadelphia Office of Supportive Housing | PA | 63,828
City of Philadelphia Office of Supportive Housing | PA | 85,104
City of Philadelphia Office of Supportive Housing | PA | 953,940
City of Philadelphia Office of Supportive Housing | PA | 431,520
City of Philadelphia Office of Supportive Housing | PA | 221,550
City of Philadelphia Office of Supportive Housing | PA | 872,400
City of Philadelphia Office of Supportive Housing | PA | 107,880
City of Philadelphia Office of Supportive Housing | PA | 28,368
City of Philadelphia Office of Supportive Housing | PA | 451,500
City of Philadelphia Office of Supportive Housing | PA | 448,968
City of Philadelphia Office of Supportive Housing | PA | 736,651
City of Philadelphia Office of Supportive Housing | PA | 380,604
City of Philadelphia Office of Supportive Housing | PA | 70,920
City of Philadelphia Office of Supportive Housing | PA | 312,936
Clearfield-Jefferson MH/MR Program | PA | 88,237
Clinton County Housing Coalition, Inc | PA | 168,048
COMHAR | PA | 285,805
COMHAR | PA | 509,646
Commission on Economic Opportunity | PA | 203,236
Commission on Economic Opportunity | PA | 164,485
Commission on Economic Opportunity | PA | 110,224
Commission on Economic Opportunity | PA | 222,632
Commission on Economic Opportunity | PA | 260,818
Commission on Economic Opportunity | PA | 171,124
Commission on Economic Opportunity | PA | 187,682
Commission on Economic Opportunity | PA | 80,255
Commission on Economic Opportunity | PA | 179,869
Committee For Dignity and Fairness For the Homeless Housing Development, Inc | PA | 30,569
Committee For Dignity and Fairness For the Homeless Housing Development, Inc | PA | 212,306
Committee For Dignity and Fairness For the Homeless Housing Development, Inc | PA | 122,253
Commonwealth of PA | PA | 234,949
Community Action Agency of Delaware County, Inc | PA | 438,961
Community Action Agency of Delaware County, Inc | PA | 150,903
Community Action Agency of Delaware County, Inc | PA | 340,865
Community Action Committee of the Lehigh Valley | PA | 69,999
Community Action Partnership of Mercer County | PA | 60,257
Community Action Partnership of Mercer County | PA | 51,498
Community Action Program | PA | 80,905
Community Action Southwest | PA | 36,228
Community Action, Inc | PA | 86,567
Community Action, Inc | PA | 67,165
Community Alliance and Reinvestment Endeavor, Inc | PA | 37,262
Community Basics, Inc | PA | 116,443
Community Basics, Inc | PA | 175,879
Community Housing Services | PA | 116,539
Community Housing Services | PA | 44,982
Community Housing Services | PA | 113,761
Community Housing Services | PA | 92,209
Community Services of Venango County, Inc | PA | 54,268
Community, Youth and Women's Alliance, Inc (CYWA) | PA | 44,593
Connect, Inc | PA | 259,346
Connect, Inc | PA | 121,579
Council on Chemical Abuse | PA | 82,869
Council on Chemical Abuse | PA | 106,824
Council on Chemical Abuse | PA | 54,602
County of Bucks | PA | 107,880
County of Bucks | PA | 108,796
County of Butler | PA | 83,975
County of Butler | PA | 165,376
County of Cambria | PA | 363,720
County of Franklin | PA | 94,588
County of Franklin | PA | 95,345
County of Montgomery, PA | PA | 136,639
County of Washington | PA | 145,812
County of Washington | PA | 202,210
County of Washington | PA | 169,128
County of Washington | PA | 61,765
County of Washington | PA | 93,816
County of Washington | PA | 206,562
County of Washington | PA | 165,950
County of Washington | PA | 88,452
County of Washington | PA | 225,654
County of York | PA | 122,062
County of York | PA | 74,712
Crawford County Coalition on Housing Needs, Inc | PA | 40,759
Crawford County Commissioners | PA | 160,680
Crawford County Mental Health Awareness Program, Inc | PA | 91,783
Crawford County Mental Health Awareness Program, Inc | PA | 25,216
Crawford County Mental Health Awareness Program, Inc | PA | 37,648
Crawford County Mental Health Awareness Program, Inc | PA | 121,800
Crisis Shelter of Lawrence County | PA | 83,121
Dauphin County | PA | 47,750
Dauphin County | PA | 120,834
Delaware County Dept. of Human Services | PA | 205,800
Delaware County Dept. of Human Services | PA | 125,460
Delaware County Dept. of Human Services | PA | 117,336
Delaware County Housing Authority | PA | 212,388
Delaware County Housing Authority | PA | 137,485
Delaware County Housing Authority | PA | 159,444
Delaware County Housing Authority | PA | 136,133
Delaware County Housing Authority | PA | 149,460
Delaware County Housing Authority | PA | 131,004
Delaware County Housing Authority | PA | 450,588
Domestic Violence Center of Chester County | PA | 89,302
Domestic Violence Intervention of Lebanon County, Inc | PA | 290,090
Domestic Violence Service Center, Inc | PA | 57,015
Drueding Center | PA | 1,081,414
DuBois Housing Authority | PA | 333,588
Easy Does It, Inc | PA | 31,040
Easy Does It, Inc | PA | 338,270
Easy Does It, Inc | PA | 65,333
EMDB dba New Bethany Ministries | PA | 114,853
Episcopal Community Services | PA | 647,203
Erie City & Erie County Project | PA | 492,317
Erie City & Erie County Project | PA | 341,712
Erie City & Erie County Project | PA | 254,457
Erie City & Erie County Project | PA | 177,297
Erie City & Erie County Project | PA | 138,192
Erie City & Erie County Project | PA | 365,400
Erie City & Erie County Project | PA | 143,940
Erie City & Erie County Project | PA | 196,200
Erie City & Erie County Project | PA | 219,297
Family and Community Service of Delaware County | PA | 108,069
Family Planning Council, Inc./Circle of Care | PA | 127,661
Family Services of Montgomery County | PA | 188,614
Fayette County Community Action Agency, Inc | PA | 62,982
Fayette County Community Action Agency, Inc | PA | 24,072
Fayette County Community Action Agency, Inc | PA | 65,695
Fitzmaurice Community Services, Inc | PA | 130,807
Fitzmaurice Community Services, Inc | PA | 143,000
Futures Community Support Services | PA | 35,882
Gaudenzia Concord Place | PA | 138,601
Gaudenzia Foundation Inc | PA | 55,385
Gaudenzia Inc | PA | 65,953
Gaudenzia Inc | PA | 233,175
Gaudenzia Inc | PA | 68,040
Greene County Human Services | PA | 134,315
Harbor Point Housing, Inc | PA | 82,564
Hedwig House, Inc | PA | 186,490
HELP Development Corporation | PA | 487,622
Holcomb Associates, Inc | PA | 116,999
Home Nursing AgencyCommunity Services | PA | 210,216
Home Nursing AgencyCommunity Services | PA | 17,090
HORIZON HOUSE REHABILITATION SERVICES INC | PA | 347,215
HORIZON HOUSE REHABILITATION SERVICES INC | PA | 801,713
HORIZON HOUSE REHABILITATION SERVICES INC | PA | 351,217
HORIZON HOUSE REHABILITATION SERVICES INC | PA | 96,201
HORIZON HOUSE REHABILITATION SERVICES INC | PA | 644,582
HORIZON HOUSE REHABILITATION SERVICES INC | PA | 228,199
HORIZON HOUSE REHABILITATION SERVICES INC | PA | 226,223
Housing Authority of Centre County | PA | 182,508
Housing Authority of Centre County | PA | 68,736
Housing Authority of Monroe County | PA | 155,100
Housing Authority of the City of Lancaster | PA | 140,352
Housing Authority of the County of Butler | PA | 141,750
Housing Authority of the County of Butler | PA | 62,651
Housing Authority of the County of Butler | PA | 52,447
Housing Authority of the County of Cumberland | PA | 27,667
Housing Authority of the County of Cumberland | PA | 63,555
Housing Authority of the County of Dauphin | PA | 230,904
Housing Authority of the County of Dauphin | PA | 107,640
Housing Authority of the County of Lebanon | PA | 117,470
Housing Development Corporation of NEPA | PA | 167,910
Housing Development Corporation of NEPA | PA | 136,087
Housing Development Corporation of NEPA | PA | 221,543
Housing Development Corporation of NEPA | PA | 99,128
Housing Development Corporation of NEPA | PA | 169,223
Housing Development Corporation of NEPA | PA | 181,642
Housing Transitions, Inc | PA | 71,098
Human Services Center | PA | 60,195
Huntingdon House Transitional Housing Program | PA | 80,214
Impact Services Corporation | PA | 624,728
Impact Services Corporation | PA | 268,304
Indiana County Community Action Program, Inc | PA | 82,842
Indiana County Community Action Program, Inc | PA | 45,266
Keystone Opportunity Center | PA | 44,989
Keystone Opportunity Center | PA | 29,410
Lancaster County Mental Health, Mental Retardation and Early Intervention | PA | 102,560
Lancaster County Mental Health, Mental Retardation and Early Intervention | PA | 272,235
Lawrence County Social Services, Inc | PA | 88,928
Lawrence County Social Services, Inc | PA | 65,888
Lawrence County Social Services, Inc | PA | 126,936
Lawrence County Social Services, Inc | PA | 76,650
Lawrence County Social Services, Inc | PA | 42,593
Lawrence County Social Services, Inc | PA | 202,543
Lebanon County Community Action Partnership | PA | 26,234
Lehigh County Conference of Churches | PA | 203,542
Lehigh County Conference of Churches | PA | 269,604
Lehigh County Conference of Churches | PA | 168,716
Lehigh County Housing Authority | PA | 217,920
Luzerne Intermediate Unit 18 | PA | 63,210
Maranatha | PA | 261,796
Maranatha | PA | 105,138
Maranatha | PA | 177,234
Mechling-Shakley Veterans Center | PA | 28,551
Mental Health Association of Southeastern Pennsylvania | PA | 186,634
Mental Health Association of Southeastern Pennsylvania | PA | 140,034
Mental Health Association of Southeastern Pennsylvania | PA | 174,351
MERCER COUNTY HOUSING AUTHORITY | PA | 81,780
Methodist Family Services of Philadelphia | PA | 498,729
Methodist Family Services of Philadelphia | PA | 250,354
Methodist Family Services of Philadelphia | PA | 181,227
MidPenn Legal Services | PA | 39,999
Montgomery County Community Action Development Commission (CADCOM) | PA | 59,216
Montgomery County, PA, Dept. of BH/DD | PA | 196,791
Montgomery County, PA, Dept. of BH/DD | PA | 123,025
Montgomery County, PA, Dept. of BH/DD | PA | 97,092
Montgomery County, PA, Dept. of BH/DD | PA | 215,760
Montgomery County, PA, Dept. of BH/DD | PA | 271,341
Neighborhood Services of Lancaster, inc | PA | 360,689
Neighborhood Services of Lancaster, inc | PA | 42,880
NHS Human Services of PA | PA | 67,543
Northampton County Housing Authority | PA | 105,408
Northern Cambria Community Development Corporation | PA | 51,209
Northern Cambria Community Development Corporation | PA | 63,414
Northern Cambria Community Development Corporation | PA | 482,639
Northern Cambria Community Development Corporation | PA | 131,843
Northern Cambria Community Development Corporation | PA | 69,232
Northumberland County MH/MR | PA | 78,131
Opportunity House | PA | 42,827
Opportunity House | PA | 84,000
Opportunity House | PA | 30,654
Opportunity House | PA | 58,997
Opportunity House | PA | 102,504
overington house | PA | 225,959
Penn Foundation, Inc | PA | 66,272
Penndel Mental Health Center, Inc | PA | 83,239
Penndel Mental Health Center, Inc | PA | 72,904
People's Emergency Center | PA | 78,995
People's Emergency Center | PA | 496,362
People's Emergency Center | PA | 241,082
People's Emergency Center | PA | 34,815
People's Emergency Center | PA | 14,584
People's Emergency Center | PA | 103,670
People's Emergency Center | PA | 369,810
People's Emergency Center | PA | 53,384
People's Emergency Center | PA | 98,188
Philadelphia Housing Authority | PA | 70,920
Philadelphia Housing Authority | PA | 255,312
Philadelphia Housing Authority | PA | 42,552
Prince of Peace Center | PA | 103,612
Project H.O.M.E | PA | 773,964
Project H.O.M.E | PA | 124,922
Redevelopment Authority of the County of Lancaster | PA | 68,977
Redevelopment Authority of the County of Lancaster | PA | 50,307
Redevelopment Authority of the County of Lancaster | PA | 116,154
Resources for Human Development, Inc | PA | 486,335
Resources for Human Development, Inc | PA | 225,435
Resources for Human Development, Inc | PA | 166,378
Resources for Human Development, Inc | PA | 326,308
Resources for Human Development, Inc | PA | 257,887
Schuylkill Women in Crisis | PA | 52,810
Schuylkill Women in Crisis | PA | 33,328
Scranton Primary Health Care Center, Inc | PA | 55,125
Shalom House | PA | 78,938
St. Joseph's Center Mother Infant Program | PA | 107,075
Supportive Services, Inc | PA | 164,430
Supportive Services, Inc | PA | 391,422
Supportive Services, Inc | PA | 175,561
Tableland Services, Inc | PA | 136,714
Tabor Community Services INC | PA | 115,972
Tabor Community Services INC | PA | 85,116
Tabor Community Services INC | PA | 43,157
The Community Intervention Center of Lackawanna County | PA | 101,500
The Community Intervention Center of Lackawanna County | PA | 137,733
The Community Intervention Center of Lackawanna County | PA | 154,166
THE DELTA COMMUNITY, INC | PA | 84,067
The Housing Authority of the County of Beaver | PA | 37,879
The Housing Authority of the County of Beaver | PA | 204,822
The Lighthouse Foundation | PA | 64,195
The Lighthouse Foundation | PA | 39,274
The Lodge, Inc. of Pennsylvania | PA | 258,061
The Lodge, Inc. of Pennsylvania | PA | 161,860
The Philadelphia Veterans Multi-Service & Education Center | PA | 301,698
THE PROGRAM for Women and Families, Inc | PA | 110,408
The Salvation Army, a New York Corporation | PA | 95,485
The Salvation Army, a New York Corporation | PA | 183,193
The Salvation Army, a New York Corporation | PA | 60,375
The Salvation Army, a New York Corporation | PA | 203,440
The Salvation Army, a New York Corporation | PA | 99,806
The Salvation Army, a New York Corporation | PA | 159,570
The Salvation Army, a New York Corporation | PA | 286,812
The Salvation Army, a New York Corporation | PA | 207,198
The Salvation Army, a New York Corporation | PA | 181,941
The Salvation Army, a New York Corporation | PA | 278,869
The Salvation Army, a New York Corporation | PA | 86,135
The Salvation Army, a New York Corporation | PA | 70,024
Tioga County Housing Authority | PA | 62,640
Travelers Aid Society of Philadelphia | PA | 359,951
Travelers Aid Society of Philadelphia | PA | 350,162
Travelers Aid Society of Philadelphia | PA | 454,782
Travelers Aid Society of Philadelphia | PA | 131,428
Travelers Aid Society of Philadelphia | PA | 255,735
Turning Point Interfaith Mission | PA | 113,111
Turning Point Interfaith Mission | PA | 140,919
Turning Point Interfaith Mission | PA | 204,154
Union-Snyder Community Action Agency | PA | 113,506
United Christian Ministries | PA | 90,403
United Christian Ministries | PA | 87,959
United Neighborhood Centers of Northeastern Pennsylvania | PA | 136,437
United Neighborhood Centers of Northeastern Pennsylvania | PA | 59,556
United Neighborhood Centers of Northeastern Pennsylvania | PA | 135,954
United Neighborhood Centers of Northeastern Pennsylvania | PA | 216,269
United Neighborhood Centers of Northeastern Pennsylvania | PA | 213,919
United Neighborhood Centers of Northeastern Pennsylvania | PA | 169,913
Valley Housing Development Corporation | PA | 215,964
Valley Housing Development Corporation | PA | 120,626
Valley Housing Development Corporation | PA | 131,770
Valley Youth House Committee, Inc | PA | 468,880
Valley Youth House Committee, Inc | PA | 236,273
Valley Youth House Committee, Inc | PA | 371,604
Valley Youth House Committee, Inc | PA | 497,322
Victim Outreach Intervention Center | PA | 300,835
Victim Outreach Intervention Center | PA | 87,178
Volunteers of America | PA | 291,572
Volunteers of America Delaware Valley Inc | PA | 114,744
W.C. Atkinson Memorial Community Service Center, Inc | PA | 15,925
Warren-Forest Counties Economic Opportunity Council | PA | 61,675
Wesley House Community Corporation, Inc | PA | 26,199
Westmoreland Community Action | PA | 165,570
Westmoreland Community Action | PA | 466,388
Westmoreland Community Action | PA | 50,783
Westmoreland Community Action | PA | 40,950
Women Against Abuse, Inc | PA | 181,225
Women's Community Revitalization Project | PA | 288,230
Women's Resource Center | PA | 133,423
YMCA of Reading & Berks County | PA | 98,568
YMCA of York and York County | PA | 88,987
Young Women's Christian Association | PA | 45,919
YWCA OF GREATER HARRISBURG | PA | 58,729
YWCA OF GREATER HARRISBURG | PA | 96,199
YWCA OF GREATER HARRISBURG | PA | 78,071
YWCA of York | PA | 148,050
YWCA/Liberty House | PA | 227,244
Albergueelparaiso | PR | 221,718
Albergueelparaiso | PR | 283,970
Autonomous Municipality of Cidra | PR | 243,129
Autonomous Municipality of Cidra | PR | 80,136
Casa de Restauracion y Mas, Inc | PR | 463,863
Casa de Restauracion y Mas, Inc | PR | 139,933
CASA PROTEGIDA JULIA DE BURGOS, INC | PR | 405,460
Centro Deambulantes Cristo Pobre, Inc | PR | 188,188
Coalicion de Apoyo Continuo a Personas sin Hogar en San Juan | PR | 100,000
Coalicion de Apoyo Continuo a Personas sin Hogar en San Juan | PR | 516,705
Coalition of Guaynabo | PR | 202,491
Coalition Pro-Homeless of the Eastern Area of Puerto Rico | PR | 142,095
Corp. La Fondita de Jesus | PR | 894,537
Corp. La Fondita de Jesus | PR | 657,039
Corp. La Fondita de Jesus | PR | 463,000
Corporacion Milagros del Amor | PR | 201,122
Corporacion Milagros del Amor | PR | 159,018
COSSMA, Inc | PR | 148,137
COSSMA, Inc | PR | 67,452
Estancia Corazon, Inc | PR | 197,803
Estancia Corazon, Inc | PR | 99,855
Estancia Corazon, Inc | PR | 232,745
Estancia Corazon, Inc | PR | 288,179
Fundacion de Desarrollo Comunal de P.R. Inc | PR | 221,244
Fundacion de Desarrollo Comunal de P.R., Inc ``FUNDESCO'' | PR | 135,477
FUNDESCO—HANDS FOR WORK | PR | 154,795
Hogar del Buen Pastor, Inc | PR | 111,630
Hogar del Buen Pastor, Inc | PR | 237,609
Hogar Resurreccion, Inc | PR | 207,650
INSTITUTO PRE-VOCACIONAL E INDUSTRIAL DE PUERTO RICO, INC | PR | 149,964
Jayuya Municipality | PR | 258,000
La Perla de Gran Precio | PR | 118,738
La Perla de Gran Precio | PR | 145,637
La Tierra Prometida, Inc | PR | 267,578
Lucha Contra el SIDA, Inc | PR | 77,086
Lucha Contra el SIDA, Inc | PR | 180,963
Lucha Contra el SIDA, Inc | PR | 575,880
MHAASA | PR | 1,978,515
Municipality of Vega Alta | PR | 91,276
Municipality of Aguas Buenas | PR | 60,809
MUNICIPALITY OF AIBONITO | PR | 291,564
Municipality of Coamo | PR | 381,480
MUNICIPALITY OF ISABELA | PR | 261,000
Municipality of San German | PR | 81,144
Municipality of San Juan | PR | 300,354
Municipality of San Juan | PR | 298,510
Municipality of San Juan | PR | 314,286
Municipality of San Juan | PR | 474,120
Municipality of San Juan | PR | 330,939
MUNICIPALITY OF VEGA BAJA | PR | 153,417
MUNICIPALITY OF VEGA BAJA | PR | 240,219
Municipio de Carolina | PR | 308,569
MUNICIPIO DE HORMIGUEROS | PR | 41,568
Municipio de Loiza | PR | 77,160
Municipio de Naguabo | PR | 63,180
MUNICIPIO DE NARANJITO | PR | 88,816
PR Department of Housing | PR | 599,400
PR Department of Housing | PR | 486,360
Proyecto Amor Que Sana, Inc | PR | 309,825
Proyecto Matria, Inc | PR | 1,426,156
Shelter Plus Care Program Municipio de Cayey | PR | 229,260
Silo Misión Cristiana, Inc | PR | 203,761
Solo Por Hoy, Inc | PR | 224,820
Family Resources Community Action | RI | 32,428
newport county community mental health center | RI | 8,204
Rhode Island Housing and Mortgage Finance Corporation | RI | 178,087
Rhode Island Housing and Mortgage Finance Corporation | RI | 95,250
Rhode Island Housing and Mortgage Finance Corporation | RI | 637,951
Rhode Island Housing and Mortgage Finance Corporation | RI | 1,059,852
Rhode Island Housing and Mortgage Finance Corporation | RI | 26,517
Rhode Island Housing and Mortgage Finance Corporation | RI | 11,248
Rhode Island Housing and Mortgage Finance Corporation | RI | 37,474
Rhode Island Housing and Mortgage Finance Corporation | RI | 23,605
Rhode Island Housing and Mortgage Finance Corporation | RI | 149,797
Rhode Island Housing and Mortgage Finance Corporation | RI | 232,131
Rhode Island Housing and Mortgage Finance Corporation | RI | 47,482
Rhode Island Housing and Mortgage Finance Corporation | RI | 63,813
Rhode Island Housing and Mortgage Finance Corporation | RI | 253,752
Rhode Island Housing and Mortgage Finance Corporation | RI | 161,879
Rhode Island Housing and Mortgage Finance Corporation | RI | 32,800
Rhode Island Housing and Mortgage Finance Corporation | RI | 82,625
Rhode Island Housing and Mortgage Finance Corporation | RI | 190,474
Rhode Island Housing and Mortgage Finance Corporation | RI | 90,029
Rhode Island Housing and Mortgage Finance Corporation | RI | 64,692
Rhode Island Housing and Mortgage Finance Corporation | RI | 57,424
Rhode Island Housing and Mortgage Finance Corporation | RI | 126,393
Rhode Island Housing and Mortgage Finance Corporation | RI | 55,000
Rhode Island Housing and Mortgage Finance Corporation | RI | 32,340
Rhode Island Housing and Mortgage Finance Corporation | RI | 107,716
Rhode Island Housing and Mortgage Finance Corporation | RI | 120,220
Rhode Island Housing and Mortgage Finance Corporation | RI | 22,880
Rhode Island Housing and Mortgage Finance Corporation | RI | 88,334
Rhode Island Housing and Mortgage Finance Corporation | RI | 67,916
Rhode Island Housing and Mortgage Finance Corporation | RI | 26,705
Rhode Island Housing and Mortgage Finance Corporation | RI | 60,897
Rhode Island Housing and Mortgage Finance Corporation | RI | 117,959
Rhode Island Housing and Mortgage Finance Corporation | RI | 32,456
Rhode Island Housing and Mortgage Finance Corporation | RI | 24,712
Rhode Island Housing and Mortgage Finance Corporation | RI | 17,864
Rhode Island Housing and Mortgage Finance Corporation | RI | 71,332
Rhode Island Housing and Mortgage Finance Corporation | RI | 93,779
Rhode Island Housing and Mortgage Finance Corporation | RI | 166,666
Rhode Island Housing and Mortgage Finance Corporation | RI | 30,924
Rhode Island Housing and Mortgage Finance Corporation | RI | 78,000
Rhode Island Housing and Mortgage Finance Corporation | RI | 45,299
Rhode Island Housing and Mortgage Finance Corporation | RI | 125,517
Rhode Island Housing and Mortgage Finance Corporation | RI | 639,684
Rhode Island Housing and Mortgage Finance Corporation | RI | 129,639
The Providence Center | RI | 41,133
Washington Square Services Corporation | RI | 103,217
Any Length Recovery | SC | 78,746
Charleston County Human Services Commission | SC | 75,913
Crisis Ministries | SC | 71,598
Crisis Ministries | SC | 77,752
Crisis Ministries | SC | 442,143
Crisis Ministries | SC | 50,000
Crisis Ministries | SC | 113,506
Crisis Ministries | SC | 101,136
Crisis Ministries | SC | 73,336
Eastern Carolina Homelessness Organization | SC | 126,360
Family Services Inc | SC | 143,072
Florence Crittenton Programs of South Carolina | SC | 49,946
Greenville Area Interfaith Hospitality Network | SC | 21,775
Growing Home Southeast | SC | 26,250
Healing Properties, Inc | SC | 79,046
Home Alliance Inc | SC | 98,650
Home Alliance Inc | SC | 23,332
Home Alliance Inc | SC | 40,000
Home Alliance Inc | SC | 68,606
Homes of Hope, Inc | SC | 55,866
MEG's House Shelter for Abused Women and Children | SC | 159,563
MEG's House Shelter for Abused Women and Children | SC | 160,089
MEG's House Shelter for Abused Women and Children | SC | 223,358
Mental Health America of Aiken County | SC | 120,398
Myrtle Beach Housing Authority | SC | 215,064
Pee Dee Community Actions Agency—TH | SC | 179,098
Pee Dee Community Actions Agency (Dillon) | SC | 46,552
Pee Dee Community Actions Agency (Dillon) | SC | 154,478
Project Care, Inc | SC | 327,233
Richland County | SC | 40,000
Richland County | SC | 80,544
Sistercare Inc | SC | 279,410
South Carolina Department of Mental Health | SC | 218,640
South Carolina Department of Mental Health | SC | 69,168
South Carolina Department of Mental Health | SC | 229,080
South Carolina Department of Mental Health | SC | 487,500
South Carolina Department of Mental Health | SC | 235,632
Street Reach Ministries | SC | 117,921
Sunbelt Human Advancement Resources, Inc (SHARE) | SC | 721,300
The ACCESS Network, Inc | SC | 202,585
The ACCESS Network, Inc | SC | 52,090
The ACCESS Network, Inc | SC | 100,076
The Butterfly Foundation | SC | 159,564
The Butterfly Foundation | SC | 327,271
The Housing Authority of the City of Columbia, SC | SC | 208,656
The Housing Authority of the City of Columbia, SC | SC | 68,996
The Housing Authority of the City of Columbia, SC | SC | 144,825
The Housing Authority of the City of Columbia, SC | SC | 338,612
The Samaritan House of Orangeburg, Inc | SC | 101,812
Trinity Housing Corporation | SC | 80,316
United Way of Kershaw County | SC | 83,100
Upstate Homeless Coalition of South Carolina | SC | 158,818
Upstate Homeless Coalition of South Carolina | SC | 110,000
Upstate Homeless Coalition of South Carolina | SC | 133,875
Upstate Homeless Coalition of South Carolina | SC | 642,151
Upstate Homeless Coalition of South Carolina | SC | 184,305
Upstate Homeless Coalition of South Carolina | SC | 160,164
Wateree Community Actions, Inc | SC | 122,550
Williamsburg Enterprise Community Commission | SC | 128,041
Behavior Management Systems | SD | 67,248
Cornerstone Rescue Mission | SD | 73,704
Lewis & Clark Behavioral Health Services, Inc | SD | 126,978
Lutheran Social Services of South Dakota | SD | 102,381
Lutheran Social Services of South Dakota | SD | 87,836
Pennington County Housing and Redevelopment Commission | SD | 160,560
SD HMIS 2011 | SD | 40,443
Sioux Falls Housing & Redevelopment Commission | SD | 278,940
Sioux Falls Housing & Redevelopment Commission | SD | 149,700
South Dakota Statewide CoC | SD | 162,277
South Dakota Statewide CoC | SD | 319,373
Volunteers of America, Dakotas | SD | 62,172
AGAPE Child & Family Services, Inc | TN | 245,477
AGAPE Child & Family Services, Inc | TN | 193,040
Alpha Omega Veterans Services, Inc | TN | 93,424
Alpha Omega Veterans Services, Inc | TN | 165,900
Alpha Omega Veterans Services, Inc | TN | 142,158
Alpha Omega Veterans Services, Inc | TN | 106,888
Aphesis House | TN | 61,389
Appalachian Regional coalition on Homelessness | TN | 112,578
ASafeHarborHome, Inc | TN | 85,646
Beech Bluff United Pentecostal Church | TN | 72,775
Behavioral Health Initiatives, Inc | TN | 78,750
Buffalo Valley, Inc | TN | 71,375
Buffalo Valley, Inc | TN | 49,575
Buffalo Valley, Inc | TN | 72,836
Buffalo Valley, Inc | TN | 73,047
Buffalo Valley, Inc | TN | 445,651
Buffalo Valley, Inc | TN | 444,151
Buffalo Valley, Inc | TN | 131,539
Buffalo Valley, Inc | TN | 228,444
Buffalo Valley, Inc | TN | 24,850
Campus for Human Development | TN | 31,500
Campus for Human Development | TN | 132,370
Carey Counseling Center, Inc | TN | 61,595
Carey Counseling Center, Inc | TN | 17,150
Carey Counseling Center, Inc | TN | 25,107
Case Management Inc | TN | 13,537
Case Management Inc | TN | 87,173
Catholic Charities | TN | 135,899
Catholic Charities of East Tennessee, Inc | TN | 116,698
Catholic Charities of East TN | TN | 84,180
Catholic Charities, Inc | TN | 490,963
Catholic Charities, Inc | TN | 454,894
Catholic Charities, Inc | TN | 296,565
Chattanooga Church Ministries, Inc | TN | 94,827
Chattanooga Church Ministries, Inc | TN | 105,874
Chattanooga Church Ministries, Inc | TN | 90,873
Chattanooga Homeless Coalition | TN | 93,000
Chattanooga Homeless Coalition | TN | 100,558
Chattanooga Homeless Coalition | TN | 34,240
Chattanooga Housing Authority | TN | 218,556
Chattanooga Room in the Inn | TN | 45,648
Child & Family Tennessee | TN | 268,697
City of Chattanooga | TN | 176,520
City of Chattanooga | TN | 31,980
City of Clarksville | TN | 105,660
City of Memphis, Tennessee | TN | 300,960
City of Memphis, Tennessee | TN | 185,760
City of Memphis, Tennessee | TN | 124,704
Cocaine & Alcohol Awareness Program, Inc | TN | 168,748
Community Alliance for the Homeless | TN | 100,170
Community Alliance for the Homeless | TN | 37,572
Community Alliance for the Homeless | TN | 46,514
Community Health of East Tennessee | TN | 184,281
Comprehensive Counseling Network | TN | 217,500
Cumberland Regional Development Corp. | TN | 88,338
Cumberland Regional Development Corp. | TN | 57,580
Damascus Road, Inc | TN | 36,408
Damascus Road, Inc | TN | 65,352
Damascus Road, Inc | TN | 36,426
Damascus Road, Inc | TN | 49,257
Domestic Violence Program Inc | TN | 12,423
Domestic Violence Program Inc | TN | 30,766
Door of Hope, Inc | TN | 158,237
Fairview Housing Management Corp | TN | 117,759
Fayette Cares, Inc | TN | 38,369
Fortwood Center, Inc | TN | 79,852
GAP Community Development Resources, Inc | TN | 134,637
Genesis House, Inc | TN | 64,161
Greenhouse Ministries | TN | 39,183
Hardeman County Government | TN | 50,832
Hardin County Government | TN | 104,700
Helen Ross McNabb Center | TN | 61,209
Henry County, Tennessee | TN | 281,424
Homeless Law Project | TN | 22,011
Hope House Maury County Center Against Domestic Violence | TN | 74,212
HOPE Ministries | TN | 31,091
Housing Opportunities and People Enterprises, Inc | TN | 19,202
Interfaith Hospitality Network of Greater Johnson City | TN | 81,608
Jackson Area Council on Alcoholism and Drug Dependency | TN | 63,408
Jackson Housing Authority | TN | 116,688
Kingsport Housing & Redevelopment Authority | TN | 42,732
Kingsport Housing & Redevelopment Authority | TN | 503,880
Kingsport Housing & Redevelopment Authority | TN | 41,004
Kingsport Housing & Redevelopment Authority | TN | 41,613
Kingsport Housing & Redevelopment Authority | TN | 65,761
Knoxville HMIS | TN | 132,282
Knoxville-Knox County Community Action Committee | TN | 104,580
Knoxville-Knox County Community Action Committee | TN | 139,050
Knoxville-Knox County Community Action Committee | TN | 90,096
Legal Aid of East TN | TN | 16,870
Life of Victory International Christian Ministries | TN | 26,304
Marshall County | TN | 16,416
Matthew 25 | TN | 37,041
Memphis Family Shelter | TN | 197,886
Mending Hearts | TN | 40,008
Metropolitan Development & Housing Agency | TN | 1,570,152
Metropolitan Development & Housing Agency | TN | 58,161
Metropolitan Development & Housing Agency | TN | 54,852
Metropolitan Development & Housing Agency | TN | 41,508
Metropolitan Development & Housing Agency | TN | 76,404
Metropolitan Inter-Faith Association | TN | 497,674
Metropolitan Inter-Faith Association | TN | 145,621
Morristown/Tennessee Valley CoC | TN | 71,384
Morristown/Tennessee Valley CoC | TN | 99,300
Morristown/Tennessee Valley CoC | TN | 197,748
Murfreesboro Housing Authority | TN | 15,718
Murfreesboro Housing Authority | TN | 333,816
Murfreesboro Housing Authority | TN | 27,360
North Memphis Community Development Corporation | TN | 446,653
Operation Stand Down Nashville, Inc | TN | 50,000
Park Center | TN | 124,080
Partnership for Families, Children and Adults | TN | 27,978
Positively Living | TN | 70,204
Professional Care Services, Inc | TN | 9,000
Pump Springs Baptist Church | TN | 186,614
Quinco Community Mental Health Centers | TN | 68,595
Renewal House, Inc | TN | 60,443
Robertson County | TN | 30,372
Safe Haven Family Shelter | TN | 148,118
Safe Haven Family Shelter | TN | 56,910
Second Chance Ministry | TN | 18,637
Shelby County Government | TN | 228,782
SOUTHEAST TENNESSEE HUMAN RESOURCE AGENCY | TN | 286,452
SOUTHEAST TENNESSEE HUMAN RESOURCE AGENCY | TN | 549,435
SOUTHEAST TENNESSEE HUMAN RESOURCE AGENCY | TN | 213,120
T.A.M.B. of Jackson, Inc | TN | 29,172
T.A.M.B. of Jackson, Inc | TN | 39,549
Tennessee Homeless Solutions | TN | 45,017
Tennessee Homeless Solutions | TN | 55,956
The Council for Alcohol and Drug Abuse Services, Inc | TN | 211,254
The Journey Home | TN | 7,798
The Journey Home | TN | 48,301
The Mary Parrish Center | TN | 34,330
The Next Door, Inc | TN | 117,400
The Salvation Army | TN | 229,565
The Salvation Army | TN | 207,648
The Salvation Army | TN | 385,192
The Salvation Army, a Georgia Corporation | TN | 70,099
Town of Crossville Housing Authority | TN | 29,340
Town of Crossville Housing Authority | TN | 88,716
Town of Crossville Housing Authority | TN | 221,520
Town of Crossville Housing Authority | TN | 68,472
Town of Crossville Housing Authority | TN | 72,960
Urban Housing Solutions | TN | 262,784
Urban Housing Solutions | TN | 119,000
Urban Housing Solutions | TN | 229,830
Volunteer Behavioral Health Care System | TN | 80,000
Volunteer Ministry Center | TN | 50,000
Welcome Home Ministries | TN | 47,951
Wo/Men's Resource and Rape Assistance Program | TN | 72,976
YWCA of Nashville and Middle Tennessee | TN | 173,769
Abilene Hope Haven, Inc | TX | 68,013
ACH Child and Family Services | TX | 113,922
AIDS Foundation Houston, Inc | TX | 409,192
AIDS Foundation Houston, Inc | TX | 519,072
AIDS Foundation Houston, Inc | TX | 963,357
AIDS Foundation Houston, Inc | TX | 613,230
AIDS Foundation Houston, Inc | TX | 396,314
AIDS Services of Dallas | TX | 574,389
Alamo Area Resource | TX | 222,062
Alternative Building Concepts Group | TX | 56,883
Alternative Building Concepts Group | TX | 384,720
Arlington Life Shelter | TX | 83,686
Arlington Life Shelter | TX | 63,471
Austin Travis County MHMR Center | TX | 28,893
Austin Travis County MHMR Center | TX | 40,000
Austin Travis County MHMR Center | TX | 78,533
Austin Travis County MHMR Center | TX | 348,007
Bay Area Homeless Services | TX | 234,005
Bay Area Turning Point, Inc | TX | 107,210
Brighter Tomorrows | TX | 176,876
Bryan/College Station/Brazos Valley TCM | TX | 32,332
Bryan/College Station/Brazos Valley TCM | TX | 61,363
Bryan/College Station/Brazos Valley TCM | TX | 165,991
Buckner Children and Family Services, Inc | TX | 35,016
Career and Recovery Resources, Inc | TX | 117,110
Caritas of Austin | TX | 196,492
Caritas of Austin | TX | 303,712
Caritas of Austin | TX | 414,451
Caritas of Austin | TX | 198,885
Catholic Charities of the Archdiocese Galveston-Houston | TX | 183,655
Center Against Family Violence | TX | 82,929
Central Texas Youth Services Bureau | TX | 84,728
Centro San Vicente | TX | 139,998
Change HAPPENS! | TX | 88,293
Change HAPPENS! | TX | 120,750
City of Amarillo | TX | 206,564
City of Amarillo | TX | 356,676
City of Beaumont | TX | 123,972
City of Corpus Christi Project | TX | 181,142
City of Corpus Christi Project | TX | 122,673
City of Corpus Christi Project | TX | 160,255
City of Corpus Christi Project | TX | 134,971
City of Corpus Christi Project | TX | 142,720
City of Corpus Christi Project | TX | 142,569
City of Corpus Christi Project | TX | 128,394
CITY OF DALLAS | TX | 154,027
CITY OF DALLAS | TX | 86,280
CITY OF DALLAS | TX | 257,606
CITY OF DALLAS | TX | 458,760
CITY OF DALLAS | TX | 880,680
CITY OF DALLAS | TX | 374,016
CITY OF DALLAS | TX | 701,906
City of Longview | TX | 287,112
City of Waco | TX | 29,088
City of Waco | TX | 89,040
City of Waco | TX | 63,709
CitySquare (formerly Central Dallas Ministries) | TX | 504,983
CitySquare (formerly Central Dallas Ministries) | TX | 610,110
CitySquare (formerly Central Dallas Ministries) | TX | 185,117
Coalition for the Homeless of Houston/Harris County | TX | 167,709
Coalition for the Homeless of Houston/Harris County | TX | 185,480
Collin County Mental Health Mental Retardation Center | TX | 169,445
Community Enrichment Center, Inc | TX | 222,846
Community Partnership for the Homeless DBA Green Doors | TX | 65,985
Compassion Ministries of Waco, Inc | TX | 161,275
Cross Culture Experiences | TX | 181,996
Dallas County | TX | 242,532
Dallas Housing Authority | TX | 146,676
Dental Healh Programs, Inc dba Community Dental Care | TX | 146,632
Denton County Mental Health Mental Retardation Center | TX | 264,318
El Paso Coalition for the Homeless | TX | 107,902
El Paso Coalition for the Homeless | TX | 26,250
El Paso MHMR | TX | 176,761
El Paso MHMR | TX | 203,982
Families In Crisis, Inc | TX | 923,202
Family Abuse Center, Inc | TX | 81,656
Family Gateway, Inc | TX | 198,018
Family Gateway, Inc | TX | 150,701
Family Gateway, Inc | TX | 42,438
Family Services of Southeast Texas, Inc | TX | 150,977
Fort Bend County Women's Center | TX | 668,360
Fort Bend County Women's Center | TX | 394,932
Front Steps | TX | 94,668
Front Steps | TX | 60,174
Front Steps | TX | 198,885
Grayson County Juvenile Alternatives, Inc dba North Texas Youth Connection | TX | 675,865
Harmony House, Inc | TX | 133,571
Harmony House, Inc | TX | 358,470
Harmony House, Inc | TX | 315,443
Harris County Community Services Department | TX | 2,401,080
Harris County Community Services Department | TX | 593,352
Harris County Community Services Department | TX | 750,240
Harris County Community Services Department | TX | 125,040
Harris County Community Services Department | TX | 37,056
Harris County Community Services Department | TX | 473,172
Harris County Community Services Department | TX | 187,380
Harris County Community Services Department | TX | 293,460
Harris County Community Services Department | TX | 83,376
Harvest Life Foundation | TX | 196,407
Health Services of North Texas, Inc | TX | 243,812
HELP Development Corporation | TX | 439,456
Homeward bound Homeless Coalition | TX | 612,831
Homeward bound Homeless Coalition | TX | 91,925
HOPE, Inc | TX | 67,333
HOPE, Inc | TX | 33,873
Hopes Door | TX | 161,710
Hopes Door | TX | 69,345
Housing Authority of the City of Arlington | TX | 154,692
Housing Authority of the City of Arlington | TX | 54,744
Housing Authority of the City of Arlington | TX | 262,378
Housing Authority of the City of Austin | TX | 183,888
Housing Authority of the City of Austin | TX | 370,776
Housing Authority of the City of El Paso | TX | 100,620
Housing Authority of the City of Fort Worth | TX | 1,946,352
Housing Authority of the City of Fort Worth | TX | 2,237,604
Housing Authority of the City of Fort Worth | TX | 76,572
Housing Authority of Travis County | TX | 561,996
Housing Authority of Travis County | TX | 203,376
Housing Crisis Center | TX | 532,944
Housing Crisis Center | TX | 194,271
Housing Crisis Center | TX | 106,200
Housing Crisis Center | TX | 334,321
Housing Crisis Center | TX | 188,196
Houston Area Community Services, Inc | TX | 985,654
Houston Area Community Services, Inc | TX | 665,647
Houston Area Community Services, Inc | TX | 1,400,076
Houston Area Community Services, Inc | TX | 646,747
Houston Area Women's Center | TX | 79,194
Houston Area Women's Center | TX | 291,402
Houston Area Women's Center | TX | 610,858
Interfaith Housing Coalition | TX | 348,885
International AIDS Empowerment | TX | 43,898
Irving, Texas | TX | 98,484
La Posada Home, Inc | TX | 89,026
La Posada Home, Inc | TX | 53,544
Legal Aid of NorthWest Texas | TX | 142,932
Legal Aid of NorthWest Texas | TX | 53,941
LifeNet Community Behavioral Healthcare | TX | 1,318,381
Mental Health and Mental Retardation Authority of Harris County | TX | 350,446
Mental Heath and Mental Retardation of Tarrant County | TX | 295,780
Metro Dallas Homeless Alliance | TX | 169,395
Metrocare Services | TX | 280,240
Metrocare Services | TX | 413,004
Metrocare Services | TX | 792,229
MHMR of Tarrant County—Addiction Services | TX | 67,435
Mid-Coast Family Services | TX | 164,345
Montgomery County Emergency Assistance | TX | 27,331
Montgomery County Emergency Assistance | TX | 101,753
Montgomery County Homeless Coalition | TX | 47,050
Montrose Counseling Center, Inc | TX | 105,259
Neighborhood Development Corp | TX | 148,604
New Beginning Center | TX | 192,928
Nexus Recovery Center, Inc | TX | 853,102
Northwest Assistance Ministries | TX | 501,892
Northwest Assistance Ministries | TX | 300,730
Opportunity Center for the Homeless | TX | 161,091
Opportunity Center for the Homeless | TX | 171,919
Opportunity Center for the Homeless | TX | 78,721
Opportunity Center for the Homeless | TX | 132,870
Opportunity Center for the Homeless | TX | 115,135
Opportunity Center for the Homeless | TX | 108,551
Opportunity Center for the Homeless | TX | 250,734
Perpetual Help Home | TX | 33,111
Perpetual Help Home | TX | 92,983
Port Cities Rescue Mission Ministries | TX | 175,037
Presbyterian Night Shelter | TX | 225,040
Presbyterian Night Shelter | TX | 181,077
Presbyterian Night Shelter | TX | 712,008
Promise House Inc | TX | 269,737
Promise House Inc | TX | 220,986
Rainbow Days, Inc | TX | 257,237
Recovery Resource Council | TX | 234,831
Recovery Resource Council | TX | 169,404
Rescue Mission of El Paso, Inc | TX | 46,895
Sabine Valley Center | TX | 124,226
Sabine Valley Center | TX | 123,480
San Antonio Housing Authority | TX | 639,168
San Antonio Metropolitan Ministries Inc | TX | 583,218
San Antonio Metropolitan Ministries Inc | TX | 358,268
San Antonio Metropolitan Ministries Inc | TX | 104,596
San Antonio/Bexar County Projects | TX | 216,048
San Antonio/Bexar County Projects | TX | 392,021
San Antonio/Bexar County Projects | TX | 194,864
San Antonio/Bexar County Projects | TX | 268,738
San Antonio/Bexar County Projects | TX | 387,273
San Antonio/Bexar County Projects | TX | 429,597
San Antonio/Bexar County Projects | TX | 136,335
San Antonio/Bexar County Projects | TX | 79,199
San Antonio/Bexar County Projects | TX | 364,296
San Antonio/Bexar County Projects | TX | 93,954
San Antonio/Bexar County Projects | TX | 244,566
San Antonio/Bexar County Projects | TX | 614,811
San Antonio/Bexar County Projects | TX | 138,909
San Antonio/Bexar County Projects | TX | 171,729
San Antonio/Bexar County Projects | TX | 210,000
San Antonio/Bexar County Projects | TX | 352,562
San Antonio/Bexar County Projects | TX | 385,718
San Antonio/Bexar County Projects | TX | 25,211
San Antonio/Bexar County Projects | TX | 91,974
San Antonio/Bexar County Projects | TX | 131,250
Santa Maria Hostel, Inc | TX | 487,280
SEARCH | TX | 96,520
SEARCH | TX | 330,673
Shared Housing Center | TX | 93,390
Shared Housing Center | TX | 530,239
Shelter Agencies For Families in East Texas, Inc | TX | 480,924
Some Other Place, Inc | TX | 111,888
Southeast Texas Regional Planning Commission | TX | 23,008
Southern Territorial Headquarters of The Salvation Army, The | TX | 1,000,000
Southern Territorial Headquarters of The Salvation Army, The | TX | 349,188
Star of Hope Mission | TX | 1,041,806
Star of Hope Mission | TX | 207,406
Stop Turning Entering Prison Inc | TX | 174,888
Stragent Foundation | TX | 153,962
Tarrant County | TX | 21,815
Tarrant County | TX | 322,293
Tarrant County | TX | 145,435
Tarrant County | TX | 24,237
Tarrant County | TX | 166,404
Tarrant County | TX | 97,293
Tarrant County | TX | 50,680
Tarrant County | TX | 103,445
Tarrant County | TX | 1,063,427
Tarrant County | TX | 212,663
Tarrant County | TX | 356,805
Tarrant County | TX | 106,864
Tarrant County | TX | 85,617
Tarrant County | TX | 108,491
Tarrant County | TX | 124,665
Tarrant County | TX | 340,320
Tarrant County Homeless Coalition | TX | 276,849
Temenos Community Development Center | TX | 633,666
Texas ReEntry Services | TX | 104,482
Texas RioGrande Legal Aid, Inc | TX | 124,908
The Bridge Over Troubled Waters, Inc | TX | 932,248
The Children's Center, Inc | TX | 160,000
The Children's Center, Inc | TX | 85,285
The Children's Center, Inc | TX | 192,237
The Family Place | TX | 981,236
The Gulf Coast Center | TX | 216,499
The Gulf Coast Center | TX | 120,271
The Gulf Coast Center | TX | 525,537
The Gulf Coast Center | TX | 60,942
The Salvation Army—Galveston | TX | 457,676
The Salvation Army—Galveston | TX | 276,595
The Salvation Army a Georgia Corporation | TX | 390,671
The Salvation Army, a Georgia Corporation | TX | 137,777
The Salvation Army, A Georgia Corporation | TX | 538,081
The Women's Home | TX | 126,717
Travis County Domestic Violence and Sexual Assault Survival Center, d/b/a SafePlace | TX | 613,002
United States Veterans Initiative | TX | 489,977
United States Veterans Initiative | TX | 110,441
Vogel Alcove | TX | 166,441
Volunteers of America Texas, Inc | TX | 212,069
Wellsprings Village, Inc | TX | 77,293
Wheeler Avenue 5 C's | TX | 160,656
Williamson-Burnet County Opportunities, Inc | TX | 284,382
Women Opting for More Affordable Housing Now, Inc (WOMAN, Inc.) | TX | 104,168
Youth and Family Alliance dba LifeWorks | TX | 212,969
YWCA El Paso Del Norte Region | TX | 229,728
YWCA El Paso Del Norte Region | TX | 270,616
Bear River Association of Governments | UT | 49,564
Catholic Community Services of Utah | UT | 91,787
Cedar City Housing Authority | UT | 13,912
Center for Women and Children in Crisis | UT | 16,252
Center for Women and Children in Crisis | UT | 51,692
Community Action Services | UT | 228,653
Community Action Services | UT | 34,926
Davis Behavioral Health | UT | 104,036
DCCAV-Safe Harbor Transitional Housing | UT | 61,075
Family Connection Center | UT | 171,149
Family Support Center | UT | 32,844
Family Support Center | UT | 67,698
Family Support Center | UT | 13,003
Four Corners Community Behavioral Health, Inc | UT | 134,191
Golden Spike Rehab | UT | 35,056
Housing Authority of Salt Lake City | UT | 37,152
Housing Authority of Salt Lake City | UT | 342,576
Housing Authority of Salt Lake City | UT | 169,920
Housing Authority of the County of Salt Lake | UT | 127,008
Housing Authority of the County of Salt Lake | UT | 77,040
Housing Authority of the County of Salt Lake | UT | 772,728
Housing Authority of the County of Salt Lake | UT | 212,760
Housing Authority of Utah County | UT | 14,040
Housing Authority of Utah County | UT | 262,656
Housing Authority of Utah County | UT | 14,040
Iron County Care and Share | UT | 35,071
Mountainlands Community Housing Trust | UT | 124,913
Ogden Housing Authority | UT | 184,920
Papilion House, Inc | UT | 35,056
Papilion House, Inc | UT | 18,313
Provo City Housing Authority | UT | 21,379
Provo City Housing Authority | UT | 252,720
Salt Lake County Continuum of Care | UT | 95,104
Salt Lake County Continuum of Care | UT | 128,047
Southwest Behavioral Health Center | UT | 27,182
Southwest Behavioral Health Center | UT | 146,638
The Erin Kimball Memorial Foundation, Inc | UT | 75,091
The Road Home | UT | 394,940
The Road Home | UT | 15,000
The Road Home | UT | 603,628
The Road Home | UT | 555,506
The Road Home | UT | 111,209
The Road Home | UT | 25,495
The Road Home | UT | 36,850
Utah Department of Community and Culture | UT | 28,464
Utah Department of Community and Culture | UT | 44,181
Utah Department of Community and Culture | UT | 29,899
Utah Department of Community and Culture | UT | 25,675
Utah Department of Community and Culture | UT | 33,043
Utah Department of Community and Culture | UT | 156,389
Utah Department of Community and Culture | UT | 50,741
Valley Mental Health, Inc | UT | 52,545
Volunteers of America, Utah | UT | 99,750
Volunteers of America, Utah | UT | 106,753
Volunteers of America, Utah | UT | 155,774
Volunteers of America, Utah | UT | 118,696
West Valley City Housing Authority | UT | 192,600
Young Womens Christian Assn of Salt Lake City | UT | 155,989
Your Community Connection | UT | 67,023
AIDS Services Group | VA | 60,004
Alexandria Community Services Board | VA | 54,608
Alexandria Community Services Board | VA | 131,643
Alexandria Community Services Board | VA | 29,812
Alexandria Community Services Board | VA | 98,150
Arlington Alexandria Coalition for the Homeless | VA | 222,324
Arlington County Government | VA | 102,963
Arlington County Government | VA | 341,064
Arlington Street People's Assistance Network, INC | VA | 166,058
Arlington Street People's Assistance Network, INC | VA | 93,294
Arlington Street People's Assistance Network, INC | VA | 211,446
Arlington Street People's Assistance Network, INC | VA | 45,375
Arlington-Alexandria Coalition for the Homeless | VA | 143,238
Avalon: A Center for Women and Children | VA | 64,454
Barrett Haven Inc | VA | 144,913
CANDII, Inc | VA | 128,694
CANDII, Inc | VA | 272,097
CANDII, Inc | VA | 348,123
Chesapeake Community Services Board | VA | 12,768
Christian Relief Services Charities, Inc | VA | 120,676
Christian Relief Services Charities, Inc | VA | 135,673
Christian Relief Services Charities, Inc | VA | 80,713
Christian Relief Services Charities, Inc | VA | 76,220
Christian Relief Services of Virginia, Inc | VA | 216,780
Christian Relief Services of Virginia, Inc | VA | 291,788
City of Lynchburg | VA | 81,288
City of Portsmouth, Department of Behavioral Healthcare Services | VA | 457,188
City of Portsmouth, Department of Behavioral Healthcare Services | VA | 69,013
City of Richmond Department of Social Services | VA | 60,480
City of Richmond, Department of Social Services | VA | 964,092
Community Alternatives Management Group | VA | 111,014
Community Alternatives Management Group | VA | 366,954
Community Alternatives Management Group | VA | 79,049
Council of Community Services | VA | 17,457
Council of Community Services | VA | 80,232
County of Loudoun | VA | 64,386
County of Loudoun | VA | 106,429
Danville Redevelopment and Housing Authority | VA | 67,200
DHCD-BOS | VA | 26,250
DHCD-BOS | VA | 60,855
Emergency Shelter, Inc | VA | 544,806
Emergency Shelter, Inc | VA | 99,960
Emergency Shelter, Inc | VA | 199,500
FACETS | VA | 152,945
Fairfax County Department of Family Services | VA | 453,346
Fairfax County Department of Family Services | VA | 431,580
Fairfax County Department of Housing and Community Development | VA | 241,176
Fairfax County Department of Housing and Community Development | VA | 527,040
Fairfax County Department of Housing and Community Development | VA | 472,824
Fairfax County Department of Housing and Community Development | VA | 341,064
Fairfax-Falls Church Community Services Board | VA | 254,652
ForKids, inc | VA | 103,804
ForKids, inc | VA | 367,081
ForKids, inc | VA | 192,050
ForKids, inc | VA | 125,708
George Washington Regional Commission | VA | 59,305
Hampton-Newport News Community Services Board | VA | 119,422
Hampton-Newport News Community Services Board | VA | 57,446
Hampton-Newport News Community Services Board | VA | 287,796
Harrisonburg/Rockingham County 2011 CoC | VA | 42,000
Helping Overcome Poverty's Existence, Inc | VA | 83,818
Hilliard House | VA | 262,917
Homestretch Inc | VA | 150,727
Homeward | VA | 26,745
Homeward | VA | 15,802
Homeward | VA | 22,819
Judeo-Christian Outreach Center | VA | 56,247
Kurdish Human Rights Watch, Inc. (KHRW) | VA | 438,973
LINK of Hampton Roads, Inc | VA | 256,582
LINK of Hampton Roads, Inc | VA | 80,359
LINK of Hampton Roads, Inc | VA | 323,934
Lynchburg Community Action Group, Inc | VA | 44,665
Lynchburg Neighborhood Development Foundation | VA | 64,748
Micah Ecumenical Ministries | VA | 31,632
Micah Ecumenical Ministries | VA | 27,848
Miriam's House, Inc | VA | 21,357
Miriam's House, Inc | VA | 87,252
New Hope Housing, Inc | VA | 221,122
New Hope Housing, Inc | VA | 245,541
New Hope Housing, Inc | VA | 58,850
New Hope Housing, Inc | VA | 24,040
New Hope Housing, Inc | VA | 121,850
New Hope Housing, Inc | VA | 45,301
Newport News Redevelopment and Housing Authority | VA | 102,144
Norfolk Community Services Board | VA | 613,848
Norfolk Community Services Board | VA | 130,641
Northwestern Community Services | VA | 61,299
Northwestern Community Services | VA | 259,824
NOVACO Inc | VA | 111,492
OasisCommission of Social Ministryof Portsmouth/Chesapeake | VA | 250,069
Our House Families | VA | 109,798
Pathway Homes, Inc | VA | 153,386
Pathway Homes, Inc | VA | 314,906
Pathway Homes, Inc | VA | 157,788
Pathway Homes, Inc | VA | 153,657
People Incorporated of Virginia | VA | 24,751
Portsmouth Area Resources Coalition, Inc | VA | 53,550
Portsmouth Area Resources Coalition, Inc | VA | 122,421
Portsmouth Area Resources Coalition, Inc | VA | 45,123
Portsmouth Area Resources Coalition, Inc | VA | 104,832
Portsmouth Christian Outreach Ministries | VA | 79,309
Portsmouth Volunteers for the Homeless | VA | 55,650
Prince William County CoC | VA | 91,900
Prince William County CoC | VA | 36,230
Prince William County CoC | VA | 126,463
Prince William County CoC | VA | 141,156
Prince William County CoC | VA | 143,585
Prince William County CoC | VA | 134,032
Prince William County CoC | VA | 7,094
PRS, Inc | VA | 168,450
Rappahannock Refuge, Inc. T/A Hope House | VA | 57,918
Region Ten CSB | VA | 135,720
Region Ten CSB | VA | 146,160
Roanoke City/Salem Continuum of Care | VA | 177,924
Roanoke City/Salem Continuum of Care | VA | 137,669
Rush Lifetime Homes, Inc | VA | 51,100
Saint Columba Ecumenical Ministries | VA | 130,179
Samaritan House | VA | 36,887
Samaritan House | VA | 109,848
Sheltered Homes of Alexandria | VA | 89,288
Sheltered Homes of Alexandria | VA | 77,748
South River Development Corporation | VA | 39,933
St. Joseph's Villa | VA | 272,000
The Daily Planet, Inc | VA | 90,300
The Daily Planet, Inc | VA | 208,171
The Planning Council | VA | 54,090
The Planning Council | VA | 50,533
The Salvation Army, a Georgia Corporation | VA | 94,505
The Salvation Army, Tidewater Area Command | VA | 55,207
The Salvation Army, Tidewater Area Command | VA | 282,604
Thurman Brisben Homeless Shelter, Inc | VA | 36,804
Total Action Against Poverty | VA | 264,316
Total Action Against Poverty | VA | 26,074
Transitions Family Violence Services | VA | 137,852
Trust House | VA | 56,551
United Community Ministries, Inc | VA | 138,216
Urban League of Greater Richmond | VA | 70,350
Virginia Beach Community Development Corporation | VA | 4,620
Virginia Beach Community Development Corporation | VA | 75,084
Virginia Beach Community Development Corporation | VA | 371,406
Virginia Supportive Housing | VA | 316,763
Virginia Supportive Housing | VA | 276,180
Virginia Supportive Housing | VA | 330,739
Virginia Supportive Housing | VA | 48,466
Virginia Supportive Housing | VA | 39,860
Virginia Supportive Housing | VA | 94,470
Virginia Supportive Housing | VA | 67,007
Virginia Supportive Housing | VA | 322,022
Virginia Supportive Housing | VA | 25,000
Virginia Supportive Housing | VA | 69,237
Waynesboro Redevelopment and Housing Authority | VA | 40,054
Winchester/Shenandoah, Frederick, Warren Counties Project Applicant | VA | 59,201
YWCA of South Hampton Roads | VA | 38,516
YWCA of South Hampton Roads | VA | 96,882
Methodist Training & Outreach Center, Inc | VI | 168,352
Addison County Community Action Group | VT | 145,045
Brattleboro Housing Authority | VT | 199,728
Burlington Housing Authority | VT | 72,132
Burlington Housing Authority | VT | 72,132
Burlington Housing Authority | VT | 109,260
Burlington Housing Authority | VT | 76,536
Champlain Valley Office of Economic Opportunity | VT | 222,440
HowardCenter | VT | 181,146
HowardCenter | VT | 200,402
Vermont State Housing Authority | VT | 55,939
Vermont State Housing Authority | VT | 71,642
Vermont State Housing Authority | VT | 69,904
Vermont State Housing Authority | VT | 126,720
Vermont State Housing Authority | VT | 55,524
Vermont State Housing Authority | VT | 38,535
Vermont State Housing Authority | VT | 148,815
Vermont State Housing Authority | VT | 30,000
Vermont State Housing Authority | VT | 62,733
Vermont State Housing Authority | VT | 37,247
Vermont State Housing Authority | VT | 90,455
Vermont State Housing Authority | VT | 122,136
Vermont State Housing Authority | VT | 1,499,196
Vermont State Housing Authority | VT | 8,427
Archdiocesan Housing Authority | WA | 105,422
Archdiocesan Housing Authority | WA | 197,739
Auburn Youth Resources | WA | 123,286
Bellingham Housing Authority | WA | 222,552
Bellingham Housing Authority | WA | 865,788
Benton & Franklin Counties Department of Human Services | WA | 97,692
Benton Franklin Community Action Committee | WA | 180,369
Benton Franklin Community Action Committee | WA | 74,472
Benton Franklin Community Action Committee | WA | 125,704
Benton Franklin Community Action Committee | WA | 128,308
Blue Mountain Action Council | WA | 142,724
Building Changes | WA | 387,191
Catholic Community Services of Western Washington | WA | 110,000
Catholic Community Services of Western Washington | WA | 201,576
Child Care Resources | WA | 529,095
City of Bremerton | WA | 40,368
City of Bremerton | WA | 112,500
City of Bremerton | WA | 50,952
City of Seattle Human Services Department | WA | 168,153
City of Seattle Human Services Department | WA | 470,753
City of Seattle Human Services Department | WA | 79,906
City of Seattle Human Services Department | WA | 320,463
City of Seattle Human Services Department | WA | 294,978
City of Seattle Human Services Department | WA | 470,754
City of Seattle Human Services Department | WA | 57,278
City of Seattle Human Services Department | WA | 105,000
City of Seattle Human Services Department | WA | 696,732
City of Seattle Human Services Department | WA | 545,049
City of Seattle Human Services Department | WA | 121,545
City of Seattle Human Services Department | WA | 507,350
City of Seattle Human Services Department | WA | 25,422
City of Seattle Human Services Department | WA | 181,306
City of Seattle Human Services Department | WA | 838,688
City of Seattle Human Services Department | WA | 80,012
City of Seattle Human Services Department | WA | 492,048
City of Seattle Human Services Department | WA | 586,377
City of Seattle Human Services Department | WA | 279,551
City of Seattle Human Services Department | WA | 139,650
City of Seattle Human Services Department | WA | 27,395
City of Seattle Human Services Department | WA | 1,129,355
City of Seattle Human Services Department | WA | 462,500
City of Seattle Human Services Department | WA | 326,054
City of Seattle Human Services Department | WA | 183,540
City of Seattle Human Services Department | WA | 548,598
City of Seattle Human Services Department | WA | 114,450
City of Seattle Human Services Department | WA | 443,471
City of Seattle Human Services Department | WA | 81,370
City of Seattle Human Services Department | WA | 116,397
City of Seattle Human Services Department | WA | 517,251
City of Seattle Human Services Department | WA | 30,000
City of Spokane | WA | 88,698
City of Spokane | WA | 111,989
City of Spokane | WA | 106,003
City of Spokane | WA | 131,649
City of Spokane | WA | 394,236
City of Spokane | WA | 118,908
City of Spokane | WA | 14,917
City of Spokane | WA | 89,932
City of Spokane | WA | 67,164
City of Spokane | WA | 77,175
City of Spokane | WA | 38,215
City of Spokane | WA | 154,128
City of Spokane | WA | 85,723
City of Spokane | WA | 51,424
City of Spokane | WA | 27,739
City of Spokane | WA | 68,635
City of Spokane | WA | 42,621
City of Spokane | WA | 280,581
City of Spokane | WA | 187,365
City of Spokane | WA | 106,082
City of Spokane | WA | 27,799
City of Spokane | WA | 169,687
City of Spokane | WA | 44,028
City of Spokane | WA | 86,880
City of Spokane | WA | 56,251
City of Spokane | WA | 167,591
City of Spokane | WA | 38,802
City of Spokane | WA | 116,892
Columbia Gorge Housing Authority | WA | 36,828
Columbia River Mental Health Services | WA | 52,909
Columbia River Mental Health Services | WA | 123,064
Community Action Center | WA | 19,152
Community Psychiatric Clinic | WA | 75,171
Community Psychiatric Clinic | WA | 348,156
Community Services Northwest | WA | 91,700
Community Youth Services | WA | 151,516
Compass Health | WA | 57,259
Compass Health | WA | 41,393
Compass Health | WA | 34,600
Compass Housing Alliance | WA | 26,284
Council for the Homeless | WA | 72,697
Development Association of Goodwill Baptist Church | WA | 28,596
Development Association of Goodwill Baptist Church | WA | 56,642
El Centro de la Raza | WA | 17,603
Friends of Youth | WA | 123,062
HopeSource | WA | 46,346
Housing Authority City of Kelso | WA | 90,468
Housing Authority of Island County | WA | 37,848
Housing Authority of Snohomish County | WA | 2,733,912
Housing Authority of the City of Bremerton | WA | 136,450
Housing Authority of Thurston County | WA | 133,921
Housing Hope | WA | 80,315
Housing Hope | WA | 29,828
Joint City of Republic-Ferry County Housing Authority | WA | 36,316
Kent Youth and Family Services | WA | 38,134
King County Department of Community and Human Services | WA | 624,566
King County Department of Community and Human Services—Community Services Division | WA | 63,258
King County Department of Community and Human Services—Community Services Division | WA | 876,480
King County Department of Community and Human Services—Community Services Division | WA | 251,744
King County Department of Community and Human Services—Community Services Division | WA | 5,157,696
King County Department of Community and Human Services—Community Services Division | WA | 99,739
King County Department of Community and Human Services—Community Services Division | WA | 140,085
King County Department of Community and Human Services—Community Services Division | WA | 363,168
King County Department of Community and Human Services—Community Services Division | WA | 74,613
King County Department of Community and Human Services—Community Services Division | WA | 303,975
King County Department of Community and Human Services—Community Services Division | WA | 121,939
Lewis County | WA | 108,814
Low Income Housing Institute | WA | 31,500
Low Income Housing Institute | WA | 36,141
Low Income Housing Institute | WA | 398,285
Low Income Housing Institute | WA | 56,085
Lower Columbia CAP | WA | 30,219
Mason County Shelter | WA | 98,299
Multi-Service Center | WA | 26,724
Next Step Housing | WA | 46,835
Northwest Youth Services | WA | 261,785
Okanogan Behavioral HealthCare | WA | 52,637
Olympic Community Action Programs | WA | 135,599
Opportunity Council | WA | 140,868
Opportunity Council | WA | 218,879
Opportunity Council | WA | 47,174
Opportunity Council | WA | 84,130
Peninsula Housing Authority | WA | 132,854
Seattle Housing Authority | WA | 9,896
Second Step Housing | WA | 164,101
Second Step Housing | WA | 92,365
Second Step Housing | WA | 25,526
Serenity House of Clallam County | WA | 78,481
Serenity House of Clallam County | WA | 142,951
Serenity House of Clallam County | WA | 138,769
Share | WA | 61,267
Share | WA | 83,229
Share | WA | 25,896
Share | WA | 34,429
Skagit County Community Action | WA | 50,054
Snohomish County | WA | 161,634
Snohomish County | WA | 109,270
Snohomish County | WA | 180,671
Snohomish County | WA | 164,820
Snohomish County | WA | 23,609
Snohomish County | WA | 124,476
Snohomish County | WA | 43,636
Snohomish County | WA | 58,203
Snohomish County | WA | 70,369
Snohomish County | WA | 87,585
Snohomish County | WA | 75,435
Snohomish County | WA | 81,523
Snohomish County | WA | 175,513
Snohomish County | WA | 101,356
Snohomish County | WA | 163,659
Snohomish County | WA | 60,349
Snohomish County | WA | 35,931
Solid Ground of Washington | WA | 158,620
Spokane Neighborhood Action Programs | WA | 134,839
Spokane Neighborhood Action Programs | WA | 133,448
Sun Community Service | WA | 36,013
Tacoma Housing Authority | WA | 57,480
The Family Support Center of South Sound | WA | 54,810
The Salvation Army—Hickman House | WA | 77,838
The Salvation Army William Booth Center | WA | 253,988
Triumph Treatment Services | WA | 158,792
United Indians of All Tribes Foundation | WA | 343,565
Vancouver Housing Authority | WA | 135,696
Vietnam Veterans Leadership Program | WA | 23,579
WA—503 Tacoma/Lakewood/Pierce County CoC | WA | 45,150
WA—503 Tacoma/Lakewood/Pierce County CoC | WA | 59,885
WA—503 Tacoma/Lakewood/Pierce County CoC | WA | 167,339
WA—503 Tacoma/Lakewood/Pierce County CoC | WA | 143,477
WA—503 Tacoma/Lakewood/Pierce County CoC | WA | 34,701
WA—503 Tacoma/Lakewood/Pierce County CoC | WA | 29,512
WA—503 Tacoma/Lakewood/Pierce County CoC | WA | 162,335
WA—503 Tacoma/Lakewood/Pierce County CoC | WA | 348,601
WA—503 Tacoma/Lakewood/Pierce County CoC | WA | 66,539
WA—503 Tacoma/Lakewood/Pierce County CoC | WA | 89,527
WA—503 Tacoma/Lakewood/Pierce County CoC | WA | 34,106
WA—503 Tacoma/Lakewood/Pierce County CoC | WA | 136,799
WA—503 Tacoma/Lakewood/Pierce County CoC | WA | 542,485
WA—503 Tacoma/Lakewood/Pierce County CoC | WA | 111,377
WA—503 Tacoma/Lakewood/Pierce County CoC | WA | 173,616
WA—503 Tacoma/Lakewood/Pierce County CoC | WA | 130,878
WA—503 Tacoma/Lakewood/Pierce County CoC | WA | 32,444
WA—503 Tacoma/Lakewood/Pierce County CoC | WA | 24,741
WA—503 Tacoma/Lakewood/Pierce County CoC | WA | 89,040
WA—503 Tacoma/Lakewood/Pierce County CoC | WA | 375,341
WA—503 Tacoma/Lakewood/Pierce County CoC | WA | 165,201
WA—503 Tacoma/Lakewood/Pierce County CoC | WA | 24,324
WA—503 Tacoma/Lakewood/Pierce County CoC | WA | 36,902
WA—503 Tacoma/Lakewood/Pierce County CoC | WA | 94,031
Walla Walla County | WA | 66,101
Washington Gorge Action Programs | WA | 109,986
Washington State Department of Commerce | WA | 143,082
Womens Resource Center | WA | 210,000
Womens Resource Center | WA | 38,758
Yakima County | WA | 10,815
Yakima County | WA | 48,188
Yakima County | WA | 69,191
Yakima County | WA | 62,670
Yakima County | WA | 43,109
Yakima County | WA | 10,568
Yakima County | WA | 30,306
YouthCare | WA | 105,602
YouthCare | WA | 151,856
YWCA of Kitsap County | WA | 24,938
YWCA of Seattle-King County-Snohomish County | WA | 29,683
YWCA of Seattle-King County-Snohomish County | WA | 103,619
YWCA of Seattle-King County-Snohomish County | WA | 167,867
YWCA of Seattle-King County-Snohomish County | WA | 42,540
YWCA of Seattle-King County-Snohomish County | WA | 85,614
YWCA of Seattle-King County-Snohomish County | WA | 57,319
YWCA of Seattle-King County-Snohomish County | WA | 78,878
YWCA of Seattle-King County-Snohomish County | WA | 72,245
ADVOCAP, Inc | WI | 110,216
ADVOCAP, Inc | WI | 158,583
ADVOCAP, Inc | WI | 197,658
CAP Services, Inc | WI | 105,025
Catherine Marian Housing, Inc | WI | 55,053
Center for Veterans Issues, Ltd | WI | 132,021
Center for Veterans Issues, Ltd | WI | 972,205
Center for Veterans Issues, Ltd | WI | 415,911
Center for Veterans Issues, Ltd | WI | 94,831
Center for Veterans Issues, Ltd | WI | 170,568
Central Wisconsin Community Action Council, Inc | WI | 262,322
City of Appleton | WI | 177,763
City of Appleton | WI | 51,513
Community Action Coalition for South Central Wisconsin, Inc | WI | 127,223
Community Action Coalition for South Central Wisconsin, Inc | WI | 226,190
Community Action Coalition for South Central Wisconsin, Inc | WI | 165,020
Community Action Inc of Rock and Walworth Counties | WI | 517,583
Community Advocates, Inc | WI | 403,631
Community Advocates, Inc | WI | 428,544
Community Advocates, Inc | WI | 693,053
Community Advocates, Inc | WI | 120,514
Community Advocates, Inc | WI | 318,388
Community Development Partners, Inc | WI | 97,815
Community Development Partners, Inc | WI | 126,721
Couleecap, Inc | WI | 254,126
Couleecap, Inc | WI | 366,316
Dane County, WI | WI | 789,780
Family Services of Northeast Wisconsin | WI | 159,800
Forward Service Corporation | WI | 402,991
Grace Place Salvation Army | WI | 241,495
Guest House of Milwaukee, Inc | WI | 837,503
Guest House of Milwaukee, Inc | WI | 235,625
Guest House of Milwaukee, Inc | WI | 180,454
Guest House of Milwaukee, Inc | WI | 196,230
Health Care for the Homeless of Milwaukee, Inc | WI | 255,068
Health Care for the Homeless of Milwaukee, Inc | WI | 450,454
Hebron House of Hospitality, Inc | WI | 167,071
Hebron House of Hospitality, Inc | WI | 116,535
Homeless Assistance Leadership Organization, Inc | WI | 118,448
Homeless Assistance Leadership Organization, Inc | WI | 304,934
Homeless Assistance Leadership Organization, Inc | WI | 114,428
Homeless Assistance Leadership Organization, Inc | WI | 152,028
Hope House of Milwaukee, Inc | WI | 30,679
Hope House of Milwaukee, Inc | WI | 65,514
Hope House of Milwaukee, Inc | WI | 579,715
HOPES Center of Racine, Inc | WI | 51,969
Housing Initiatives Inc | WI | 11,659
Kenosha Human Development Services Inc | WI | 126,651
Kenosha Human Development Services Inc | WI | 141,095
Lakeshore CAP, Inc | WI | 117,663
Legal Action of WI, Inc | WI | 80,536
Legal Action of Wisconsin | WI | 111,300
Legal Action of Wisconsin, Inc | WI | 16,000
Meta House, Inc | WI | 130,385
Meta House, Inc | WI | 328,031
Meta House, Inc | WI | 121,092
Milwaukee County of | WI | 2,696,916
Milwaukee County of | WI | 419,979
My Home Your Home, Inc | WI | 183,547
NEWCAP, Inc | WI | 184,347
North Central Community Action Program, Inc | WI | 177,165
Northwest Wisconsin Community Services Agency Inc | WI | 113,670
Northwest Wisconsin Community Services Agency Inc | WI | 92,612
Porchlight, Inc | WI | 62,194
Porchlight, Inc | WI | 344,766
Porchlight, Inc | WI | 50,768
Porchlight, Inc | WI | 111,373
Porchlight, Inc | WI | 61,820
Porchlight, Inc | WI | 162,742
Racine Vocational Ministry | WI | 28,941
Richard's Place | WI | 112,555
Richard's Place | WI | 144,841
SAFE Haven of Racine, Inc | WI | 16,963
St. Aemilian-Lakeside, Inc | WI | 167,828
St. Catherine Residence, Inc | WI | 144,379
Starting Points, Inc | WI | 117,400
Starting Points, Inc | WI | 182,179
Starting Points, Inc | WI | 509,525
State of Wisconsin | WI | 238,908
State of Wisconsin | WI | 364,486
SWCAP | WI | 203,834
Tellurian UCAN, Inc | WI | 64,575
Tellurian UCAN, Inc | WI | 155,106
Tellurian UCAN, Inc | WI | 66,415
Tellurian UCAN, Inc | WI | 249,165
The Road Home Dane County | WI | 54,995
The Road Home Dane County | WI | 82,426
The Salvation Army | WI | 152,129
The Salvation Army | WI | 229,270
The Salvation Army | WI | 42,500
The Salvation Army | WI | 38,193
The Salvation Army | WI | 31,473
WALKER'S POINT YOUTH AND FAMILY CENTER | WI | 195,781
Walworth County Housing Authority | WI | 69,486
West Central Wisconsin Community Action Agency, Inc | WI | 434,523
Western Dairyland EOC, Inc | WI | 264,926
Women and Children's Horizons Inc | WI | 220,566
Women's Resource Center of Racine, Inc | WI | 19,066
YWCA Greater Milwaukee | WI | 116,549
YWCA of Madison, Inc | WI | 375,095
YWCA of the Coulee Region | WI | 73,322
Cabell-Huntington Coalition for the Homeless Projects | WV | 92,378
Cabell-Huntington Coalition for the Homeless Projects | WV | 211,811
Cabell-Huntington Coalition for the Homeless Projects | WV | 130,846
Caritas House, Inc | WV | 131,157
Charleston Housing—Kanawha Housing | WV | 120,240
Charleston Housing—Kanawha Housing | WV | 120,240
City of Charleston | WV | 99,144
Clarksburg Housing Authority | WV | 160,776
Community Action of South Eastern WV | WV | 52,710
Community Networks, Inc | WV | 241,380
Community Networks, Inc | WV | 76,756
Covenant House | WV | 109,500
Greenbrier County Housing Authority | WV | 67,716
Greenbrier County Housing Authority | WV | 51,983
Housing Authority of Mingo County | WV | 81,220
Huntington WV Housing Authority | WV | 59,880
Huntington WV Housing Authority | WV | 37,495
Huntington WV Housing Authority | WV | 38,274
Huntington WV Housing Authority | WV | 329,376
Huntington WV Housing Authority | WV | 23,952
Huntington WV Housing Authority | WV | 59,880
Huntington WV Housing Authority | WV | 322,260
Huntington WV Housing Authority | WV | 91,560
Huntington WV Housing Authority | WV | 29,940
Huntington WV Housing Authority | WV | 378,720
Kanawha Valley Collective, Inc | WV | 50,000
Kanawha Valley Collective, Inc | WV | 13,999
Mid-Ohio Valley Fellowship Home, Inc | WV | 9,838
North Central WV Community Action Association, Inc | WV | 55,653
North Central WV Community Action Association, Inc | WV | 55,582
Opportunity House, Inc | WV | 50,281
Parkersburg Housing Authority | WV | 143,400
Prestera Center for Mental Health Services | WV | 137,466
Religious Coalition for Community Renewal | WV | 72,513
Roark-Sullivan Lifeway Center | WV | 250,071
Southwestern Community Action Council | WV | 71,637
Stop Abusive Family Environments, Inc | WV | 135,799
Telamon Corporation | WV | 138,457
Telamon Corporation | WV | 158,036
Telamon Corporation | WV | 70,209
Telamon Corporation | WV | 155,011
West Virginia Coalition to End Homelessness—Balance of State | WV | 384,835
Westbrook Health Services, Inc | WV | 42,174
Westbrook Health Services, Inc | WV | 32,628
Westbrook Health Services, Inc | WV | 139,194
Wheeling/Weirton Area CoC | WV | 135,796
Wheeling/Weirton Area CoC | WV | 250,272
Wheeling/Weirton Area CoC | WV | 26,536
Wheeling/Weirton Area CoC | WV | 11,200
Worthington Mental Health Services, Inc | WV | 46,857
Young Women's Christian Association of Charleston, WV | WV | 44,691
Young Women's Christian Association of Charleston, WV | WV | 29,858
Young Women's Christian Association of Charleston, WV | WV | 62,697
YWCA of Charleston-Sojourner's Education/Job Readiness Center | WV | 174,126
Community Action Partnership of Natrona County | WY | 113,175
Council of Community Services | WY | 61,016
Self Help Center Inc | WY | 97,660
Wyoming Community Network | WY | 66,666
Total |  | 1,674,959,117

[FR Doc. 2012-27658 Filed 11-14-12; 8:45am]

BILLING CODE 4210-67-P